OFFICE OF PERSONNEL MANAGEMENT

SES Positions That Were Career Reserved During CY 2017

AGENCY: Office of Personnel Management.

ACTION: Notice.

SUMMARY: As required by section 3132(b)(4) of title 5, United States Code, this gives notice of all positions in the Senior Executive Service (SES) that were career reserved during calendar year 2017.

FOR FURTHER INFORMATION CONTACT: Phyllis Proctor, Senior Executive Resources Services, Senior Executive Services and Performance Management, Employee Services, 202-606-2246.

SUPPLEMENTARY INFORMATION: Below is a list of titles of SES positions that were career reserved at any time during calendar year 2017, regardless of whether those positions were still career reserved as of December 31, 2017. Section 3132(b)(4) of title 5, United States Code, requires that the head of each agency publish such lists by March 1 of the following year. The Office of Personnel Management is publishing a consolidated list for all agencies.

Positions That Were Career Reserved During Calendar Year 2017
Agency | Organization | Title
ADMINISTRATIVE CONFERENCE OF THE UNITED STATES | ADMINISTRATIVE CONFERENCE OF THE UNITED STATES | DIRECTOR OF FINANCE AND OPERATIONS. GENERAL COUNSEL. EXECUTIVE DIRECTOR.
|  | RESEARCH DIRECTOR.
ADVISORY COUNCIL ON HISTORIC PRESERVATION | OFFICE OF THE EXECUTIVE DIRECTOR | EXECUTIVE DIRECTOR.
DEPARTMENT OF AGRICULTURE | MIDWEST AREA OFFICE | DIRECTOR, NATIONAL CENTER FOR AGRICULTURE UTILIZATION. DIRECTOR, MIDWEST AREA. ASSOCIATE DIRECTOR, MIDWEST AREA (2).
| NORTHEAST AREA OFFICE | ASSOCIATE DIRECTOR, NORTHEAST AREA. DIRECTOR, EASTERN REGIONAL RESEARCH CENTER.
|  | DIRECTOR, BELTSVILLE AGRICULTURAL RESEARCH CENTER.
|  | DIRECTOR NORTHEAST AREA OFFICE.
|  | ASSOCIATE DIRECTOR, NORTHEAST AREA.
| OFFICE OF NATIONAL PROGRAMS | DEPUTY ADMINISTRATOR, ANIMAL PRODUCTION AND PROTECTION. DEPUTY ADMINISTRATOR FOR NATURAL RESOURCES AND SUSTAINABLE ARGICULTURE SYSTEMS.
|  | DEPUTY ADMINISTRATOR, NUTRITION, FOOD SAFETY AND QUALITY.
|  | ASSOCIATE ADMINISTRATOR, NATIONAL PROGRAMS.
|  | DEPUTY ADMINISTRATOR, CROP PRODUCTION AND PROTECTION.
| PACIFIC WEST AREA OFFICE | ASSOCIATE DIRECTOR, PACIFIC WEST AREA. DIRECTOR, WESTERN REGIONAL RESEARCH CENTER.
|  | ASSOCIATE DIRECTOR, PACIFIC WEST AREA OFFICE.
|  | DIRECTOR, PACIFIC WEST AREA OFFICE.
|  | DIRECTOR, WESTERN HUMAN NUTRITION RESEARCH CENTER.
| PLAINS AREA OFFICE | ASSOCIATE DIRECTOR, PLAINS AREA. DIRECTOR, PLAINS AREA.
|  | ASSOCIATE DIRECTOR, PLAINS AREA OFFICE.
|  | DIRECTOR, UNITED STATES MEAT ANIMAL RESEARCH CENTER.
| SOUTHEAST AREA OFFICE | DIRECTOR, SOUTHERN REGIONAL RESEARCH CENTER. ASSOCIATE DIRECTOR, SOUTHEAST AREA (2).
|  | DIRECTOR, SOUTH EAST AREA.
| PLANT PROTECTION AND QUARANTINE SERVICE | EXECUTIVE DIRECTOR, POLICY MANAGEMENT. EXECUTIVE DIRECTOR, WESTERN REGION, PLANT PROTECTION AND QUARANTINE.
|  | EXECUTIVE DIRECTOR, EASTERN REGION, PLANT PROTECTION AND QUARANTINE.
| VETERINARY SERVICES | DIRECTOR, WESTERN REGION, VETERINARY SERVICES. EXECUTIVE DIRECTOR, SCIENCE, TECHNOLOGY AND ANALYSIS SERVICE.
|  | EXECUTIVE DIRECTOR, SURVEILLANCE, PREPAREDNESS AND RESPONSE SERVICES, VETERINARY SERVICES.
|  | ASSOCIATE DEPUTY ADMINISTRATOR, NATIONAL ANIMAL HEALTH POLICY PROGRAMS.
| OFFICE OF ADVOCACY AND OUTREACH | DIRECTOR, OFFICE OF ADVOCACY AND OUTREACH.
| OFFICE OF HOMELAND SECURITY AND EMERGENCY COORDINATION | DEPUTY DIRECTOR OF HOMELAND SECURITY & EMERGENCY COORDINATION.
| OFFICE OF HUMAN RESOURCES MANAGEMENT | PROVOST, USDA VIRTUAL UNIVERSITY. EXECUTIVE DIRECTOR, EXECUTIVE RESOURCES MANAGEMENT DIVISION.
| OFFICE OF OPERATIONS | DEPUTY DIRECTOR OF OPERATIONS. DIRECTOR OFFICE OF OPERATIONS.
| PROCUREMENT AND PROPERTY MANAGEMENT | DEPUTY DIRECTOR, OFFICE OF PROCUREMENT AND PROPERTY MANAGEMENT. DIRECTOR, PROCUREMENT AND PROPERTY MANAGEMENT.
| FIELD UNITS | NORTHEAST AREA DIRECTOR, STATE AND PRIVATE FORESTRY. DIRECTOR, NORTHERN RESEARCH STATION.
|  | DIRECTOR, PACIFIC NORTHWEST RESEARCH STATION.
|  | DIRECTOR, PACIFIC SOUTHWEST FOREST AND RANGE EXPERIMINT STATION (VALLEJO).
|  | DIRECTOR, ROCKY MOUNTAIN FOREST AND RANGE EXPERIMINT STATION (FORT COLLINS).
|  | DIRECTOR, SOUTHERN RESEARCH STATION (ASHEVILLE).
|  | DIRECTOR, FOREST PRODUCTS LABORATORY (MADISON).
| INTERNATIONAL FOREST SYSTEM | DIRECTOR INTERNATIONAL INSTITUE OF TROPICAL FOREST (RIO PIEDRAS).
| NATIONAL FOREST SYSTEM | DIRECTOR, ECOSYSTEM MANAGEMENT COORINATION. DIRECTOR, LANDS MANAGEMENT STAFF.
|  | DIRECTOR, ENGINEERING.
|  | DIRECTOR, FOREST MANAGEMENT STAFF.
|  | DIRECTOR, RANGELAND MANAGEMENT.
|  | DIRECTOR, MINERALS AND GEOLOGY MANAGEMENT STAFF.
|  | DIRECTOR, WATER, FISH, WASTELAND, AIR AND RARE PLANTS.
| RESEARCH | DIRECTOR, SCIENCE POLICY, PLANNING, AND INFORMATION STAFF. DIRECTOR, SUSTAINABLE FOREST MANAGEMENT.
|  | DIRECTOR, RESOURCE USE SCIENCES.
|  | DIRECTOR, ENVIRONMENTAL SCIENCES.
| STATE AND PRIVATE FORESTRY | DIRECTOR COOPERATIVE FORESTRY. DIRECTOR, FOREST HEALTH PROTECTION.
|  | SENIOR ADVISOR TO THE DEPUTY CHIEF, STATE AND PRIVATE FORESTRY.
| ECONOMIC RESEARCH SERVICE | DIRECTOR, INFORMATION SERVICES DIVISION. DIRECTOR, RESOURCE AND RURAL ECONOMICS DIVISION.
|  | ADMINISTRATOR, ECONOMIC RESEARCH SERVICE.
|  | ASSOCIATE ADMINISTRATOR, ECONOMIC RECEARCH SERVICE.
|  | DIRECTOR, FOOD ECONOMICS DIVISION.
|  | DIRECTOR, MARKET AND TRADE ECONOMICS DIVISION.
| NATIONAL AGRICULTURAL STATISTICS SERVICE | DIRECTOR, WESTERN FIELD OPERATIONS. ASSOCIATE ADMINISTRATOR.
|  | ADMINISTRATOR, NATIONAL AGRICULTURAL STATISTICS SERVICE.
|  | DIRECTOR, NATIONAL OPERATIONS CENTER.
|  | DIRECTOR EASTERN FIELD OPERATIONS.
|  | DIRECTOR, STATISTICS DIVISION.
|  | DIRECTOR, CENSUS AND SURVEY DIVISION.
|  | DIRECTOR, INFORMATION TECHNOLOGY DIVISION.
|  | DIRECTOR, METHODOLOGY DIVISION.
| RURAL BUSINESS SERVICE | DEPUTY ADMINISTRATOR, BUSINESS PROGRAMS. DEPUTY ADMINISTRATOR, ENERGY PROGRAMS.
| RURAL HOUSING SERVICE | DEPUTY ADMINISTRATOR, CENTRALIZED SERVICING CENTER. CHIEF FINANCIAL OFFICER.
|  | DIRECTOR, RURAL HOUSING SERVICE.
|  | DEPUTY ADMINISTRATOR, MULTI-FAMILY HOUSING.
|  | DEPUTY ADMINISTRATOR FOR OPERATIONS AND MANAGEMENT.
|  | DIRECTOR, BUDGET DIVISION.
|  | DIRECTOR, HUMAN RESOURCES.
| NATIONAL FINANCE CENTER | DEPUTY DIRECTOR, NATIONAL FINANCE CENTER. DIRECTOR, INFORMATION TECHNOLOGY MANAGEMENT DIVISION.
|  | DIRECTOR, FINANCIAL SERVICES DIVISION.
| NATIONAL INSTITUE OF FOOD AND AGRICULTURE | DEPUTY DIRECTOR, INSTITUTE OF FOOD SAFETY AND NUTRITION. DEPUTY DIRECTOR, INSTITUTE OF BIOENERGY, CLIMATE, AND ENVIRONMENT.
|  | DEPUTY DIRECTOR, OFFICE OF INFORMATION TECHNOLOGY.
|  | DEPUTY DIRECTOR, OFFICE OF GRANTS AND FINANCIAL MANAGEMENT.
| OFFICE OF COMMUNICATIONS | DEPUTY DIRECTOR, CREATIVE DEVELOPMENT.
| OFFICE OF THE CHIEF ECONOMIST | CHAIRPERSON. DIRECTOR, OFFICE OF RISK ASSESSMENT AND COST-BENEFIT ANALYSIS.
|  | DEPUTY CHIEF ECONOMIST.
|  | DIRECTOR, OFFICE OF ENERGY POLICY AND NEW USES.
|  | DIRECTOR GLOBAL CHANGE PROGRAM OFFICE.
| OFFICE OF THE CHIEF FINANCIAL OFFICER | DEPUTY CHIEF FINANCIAL OFFICER. ASSOCIATE CHIEF FINANCIAL OFFICER FOR FINANCIAL POLICY AND PLANNING.
|  | ASSOCIATE CHIEF FINANCIAL OFFICER, FINANCIAL SYSTEMS PLANNING AND MANAGEMENT.
| OFFICE OF THE CHIEF INFORMATION OFFICER | DEPUTY CHIEF INFORMATION OFFICER FOR OPERATIONS AND INFRASTRUCTURE. ASSOCIATE CHIEF INFORMATION OFFICER, INTERNATIONAL TECHNOLOGY SERVICES.
| OFFICE OF THE GENERAL COUNSEL | ASSOCIATE GENERAL COUNSEL, GENERAL LAW AND RESEARCH DIVISION. ASSISTANT GENERAL COUNSEL, NATURAL RESOURCES AND ENVIRONMENT DIVISION.
| OFFICE OF THE UNDER SECRETARY FOR FOOD SAFETY | DEPUTY UNDER SECRETARY FOR FOOD SAFETY.
| OFFICE OF THE UNDER SECRETARY FOR RESEARCH, EDUCATION, AND ECONOMICS | DIRECTOR OFFICE OF THE USDA CHIEF SCIENTIST.
| FOOD SAFETY AND INSPECTION SERVICE | ASSISTANT ADMINISTRATOR, OFFICE OF DATA INTEGRATION AND FOOD PROTECTION. DEPUTY ASSISTANT ADMINISTRATOR, OFFICE OF DATA INTEGRATION AND FOOD PROGRAM.
|  | DEPUTY ADMINISTRATOR.
|  | ASSISTANT ADMINISTRATOR, OFFICE OF FIELD OPERATIONS.
|  | CHIEF FINANCIAL OFFICER.
|  | ASSISTANT ADMINISTRATOR, OFFICE OF MANAGEMENT.
|  | CHIEF INFORMATION OFFICER.
|  | INTERNATIONAL AFFAIRS LIAISON OFFICER.
|  | UNITED STATES MANAGER FOR CODEX.
|  | DEPUTY ASSISTANT ADMINISTRATOR, OFFICE OF MANAGEMENT.
|  | EXECUTIVE ASSOCIATE FOR REGULATORY OPERATIONS, OFFICE OF FIELD OPERATIONS.
|  | EXECUTIVE ASSOCIATE FOR PUBLIC HEALTH.
|  | ASSISTANT ADMINISTRATOR, OFFICE OF INVESTIGATION, ENFORCEMENT AND AUDITING.
|  | ASSISTANT ADMINISTRATOR, OFFICE OF PUBLIC AFFAIRS AND CONSUMER EDUCATION.
|  | EXECUTIVE ASSOCIATE FOR REGULATORY OPERATIONS, OFFICE OF FIELD OPERATIONS (2).
|  | EXECUTIVE ASSOCIATE FOR LABORATORY SERVICES, OFFICE OF PUBLIC HEALTH SCIENCE.
|  | ASSISTANT ADMINISTRATOR, OOEET.
|  | DEPUTY ASSISTANT ADMINISTRATOR, OFFICE OF FIELD OPERATIONS.
|  | DEPUTY ASSISTANT ADMINISTRATOR, OFFICE OF PUBLIC HEALTH SCIENCE.
|  | EXECUTIVE ASSOCIATE FOR REGULATORY OPERATIONS, OFFICE OF FIELD OPERATIONS.
|  | DEPUTY ASSISTANT ADMINISTRATOR, OFFICE OF INVESTIGATION, ENFORCEMENT AND AUDIT.
|  | ASSISTANT ADMINISTRATOR, OFFICE OF POLICY AND PROGRAM DEVELOPMENT.
|  | CHIEF OPERATING OFFICER.
|  | DEPUTY ASSISTANT ADMINISTRATOR, OFFICE OF POLICY AND PROGRAM DEVELOPMENT.
| FOOD AND NUTRITION SERVICE | ASSOCIATE ADMINISTRATOR FOR MANAGEMENT AND FINANCE. PROGRAM MANAGER (DEPUTY ADMINISTRATOR FOR MANAGEMENT).
|  | FINANCIAL MANAGER.
|  | PROGRAM MANAGER (ASSOCIATE ADMINISTRATOR FOR REGIONAL OPERATIONS AND SUPPORT).
| AGRICULTURAL MARKETING SERVICE | DEPUTY ADMINISTRATOR, TRANSPORTATION AND MARKETING PROGRAMS. DEPUTY ADMINISTRATOR, COTTON AND TOBACCO PROGRAMS.
|  | DEPUTY ADMINISTRATOR, INFORMATION TECHNOLOGY SERVICES.
|  | ASSOCIATE ADMINISTRATOR.
|  | DEPUTY ADMINISTRATOR, FAIR TRADE PRACTICES PROGRAM.
|  | DEPUTY ADMINISTRATOR FOR NATIONAL ORGANIC PROGRAMS.
|  | DEPUTY ADMINISTRATOR, COMPLIANCE AND ANALYSIS.
|  | DEPUTY ADMINISTRATOR, SPECIALTY CROPS.
|  | DEPUTY ADMINISTRATOR, DAIRY PROGRAMS.
|  | DEPUTY ADMINISTARTOR, LIVESTOCK AND SEED PROGRAMS.
|  | DEPUTY ADMINISTRATOR, SCIENCE AND TECHNOLOGY PROGRAMS.
| ANIMAL AND PLANT HEALTH INSPECTION SERVICE | ASSISTANT DEPUTY ADMINISTRATOR, EMERGENCY AND DOMESTIC PROGRAMS. EXECUTIVE DIRECTOR, CENTER FOR PLANT HEALTH SCIENCE AND TECHNOLOGY.
|  | ASSOCIATE DEPUTY ADMINISTRATOR, WILDLIFE SERVICES.
|  | DEPUTY ADMINISTRATOR FOR INTERNATIONAL SERVICES.
|  | DEPUTY ADMINISTRATOR, LEGISLATIVE AND PUBLIC AFFAIRS.
|  | ASSOCIATE DEPUTY ADMINISTRATOR, EMERGING AND INTERNATIONAL PROGRAMS.
|  | DIRECTOR, INFORMATION TECHNOLOGY DIVISION.
|  | DIRECTOR, INVESTIGATIVE AND ENFORCEMENT SERVICES.
|  | DIRECTOR, NATIONAL WILDLIFE RESEARCH CENTER.
|  | HUMAN RESOURCES OFFICER.
|  | DEPUTY ADMINISTRATOR, BIOTECHNOLOGY REGULATORY PROGRAMS.
|  | CHIEF FINANCIAL OFFICER.
|  | ASSOCIATE DEPUTY ADMINISTRATOR FOR ANIMAL CARE.
|  | DIRECTOR, NATIONAL IMPORT EXPORT SERVICE.
|  | ASSISTANT DEPUTY ADMINISTRATOR, NATIONAL IMPORT EXPORT SERVICES.
|  | CHIEF ADVISOR (GOVERNMENT, ACADEMIA AND INDUSTRY PARTNERSHIP).
|  | ASSOCIATE DEPUTY ADMINISTRATOR, SURVEILLANCE, PREPAREDNESS AND RESPONSE SERVICES.
|  | ASSOCIATE DEPUTY ADMINISTRATOR, VETERINARY SERVICES.
|  | DEPUTY ADMINISTRATOR, WILDLIFE SERVICES.
|  | DEPUTY ADMINISTRATOR, ANIMAL CARE.
|  | ASSOCIATE DEPUTY ADMINISTRATOR FOR MARKETING AND REGULATORY PROGRAMS—BUSNINESS SERVICES.
|  | DIRECTOR, EASTERN REGION, WILDLIFE SERVICES.
|  | EXECUTIVE DIRECTOR, WESTERN REGION, WILDLIFE SERVICES.
|  | ASSOCIATE DEPUTY ADMINISTRATOR, VETERINARY SERVICES.
|  | DEPUTY ADMINISTRATOR FOR MARKETING AND REGULATORY PROGRAMS—BUSINESS SERVICES.
| GRAIN INSPECTION, PACKERS AND STOCKYARDS ADMINISTRATION | DIRECTOR FIELD MANAGEMENT DIVISION.
| AGRICULTURAL RESEARCH SERVICE | DEPUTY ADMINISTRATOR FOR ADMINISTRATIVE AND FINANCIAL MANAGEMENT. ASSOCIATE DEPUTY ADMINISTRATOR FOR ADMINISTRATIVE AND FINANCIAL MANAGEMENT.
|  | CHIEF INFORMATION OFFICER.
|  | CHIEF FINANCIAL OFFICER.
|  | ASSOCIATE ADMINISTRATOR, RESEARCH OPERATIONS AND MANAGEMENT.
|  | ASSISTANT ADMINISTRATOR FOR TECHNOLOGY TRANSFER.
|  | DIRECTOR, OFFICE OF PEST MANAGEMENT POLICY.
| FARM SERVICE AGENCY | DIRECTOR, HUMAN RESOURCES DIVISION. DEPUTY DIRECTOR, OFFICE OF BUDGET AND FINANCE (2).
|  | ASSISTANT DEPUTY ADMINISTRATOR FARM PROGRAMS.
|  | DIRECTOR, BUSINESS AND PROGRAM INTEGRATION.
|  | DEPUTY ADMINISTRATOR FOR FARM LOAN PROGRAMS.
|  | DIRECTOR, OFFICE OF BUDGET AND FINANCE.
| FOREIGN AGRICULTURAL SERVICE | ASSOCIATE ADMINISTRATOR (CHIEF OPERATING OFFICER). DEPUTY ADMINISTRATOR, OFFICE OF GLOBAL ANALYSIS.
| RISK MANAGEMENT AGENCY | DEPUTY ADMINISTRATOR FOR PRODUCT MANAGEMENT. DEPUTY ADMINISTRATOR FOR INSURANCE SERVICES DIVISION.
| FOREST SERVICE | DIRECTOR, ACQUISITION MANAGEMENT. ASSOCIATE DEPUTY CHIEF FOR BUSINESS OPERATIONS.
|  | DEPUTY CHIEF, BUSINESS OPERATIONS.
|  | CHIEF FINANCIAL OFFICER.
|  | DIRECTOR, FIRE AND AVIATION MANAGEMENT.
|  | ASSOCIATE DEPUTY CHIEF, RESEARCH AND DEVELOPMENT.
|  | DIRECTOR, LAW ENFORCEMENT AND INVESTIGATIONS.
| NATURAL RESOURCES CONSERVATION SERVICE | DEPUTY CHIEF FOR STRATEGIC PLANNING AND ACCOUNTABILITY. CHIEF PROCUREMENT AND PROPERTY OFFICER.
|  | DIRECTOR, EASEMENT PROGRAMS DIVISION.
|  | ASSOCIATE CHIEF FOR OPERATIONS/CHIEF OPERATING OFFICER.
|  | DIRECTOR, CONSERVATION ENGINEERING DIVISION.
|  | DIRECTOR ECOLOGICAL SCIENCES DIVISION.
|  | DIRECTOR, SOIL SCIENCE DIVISION.
|  | DIRECTOR, RESOURCE ECONOMICS, ANALYSIS AND POLICY DIVISION.
|  | SPECIAL ASSISTANT TO CHIEF.
|  | HUMAN RESOURCES OFFICER.
|  | DEPUTY CHIEF FOR PROGRAMS.
|  | DIRECTOR, FINANCIAL ASSISTANCE PROGRAMS DIVISION.
|  | REGIONAL CONSERVATIONIST (NORTHEAST).
|  | CHIEF FINANCIAL OFFICER.
DEPARTMENT OF AGRICULTURE OFFICE OF THE INSPECTOR GENERAL | DEPARTMENT OF AGRICULTURE OFFICE OF THE INSPECTOR GENERAL | COUNSEL TO THE INSPECTOR GENERAL. DEPUTY INSPECTOR GENERAL.
| ASSISTANT INSPECTOR GENERAL FOR AUDIT | DEPUTY ASSISTANT INSPECTOR GENERAL FOR AUDIT. ASSISTANT INSPECTOR GENERAL FOR OFFICE OF DATA SCIENCES.
|  | DEPUTY ASSISTANT INSPECTOR GENERAL FOR AUDIT.
|  | ASSISTANT INSPECTOR GENERAL FOR AUDIT.
| ASSISTANT INSPECTOR GENERAL FOR INVESTIGATIONS | ASSISTANT INSPECTOR GENERAL FOR INVESTIGATIONS. DEPUTY ASSISTANT INSPECTOR GENERAL FOR INVESTIGATIONS.
| ASSISTANT INSPECTOR GENERAL FOR MANAGEMENT | ASSISTANT INSPECTOR GENERAL FOR MANAGEMENT.
AMERICAN BATTLE MONUMENTS COMMISSION | DIRECTOR, EUROPEAN REGION EXECUTIVE DIRECTOR | DIRECTOR, EUROPEAN REGION. DEPUTY SECRETARY.
ARCHITECTURAL AND TRANSPORTATION BARRIERS COMPLIANCE BOARD (UNITED STATES ACCESS BOARD) | ARCHITECTURAL AND TRANSPORTATION BARRIERS COMPLIANCE BOARD (UNITED STATES ACCESS BOARD) | EXECUTIVE DIRECTOR. DIRECTOR OFFICE OF TECHNICAL AND INFORMATION SERVICES.
BROADCASTING BOARD OF GOVERNORS | INTERNATIONAL BROADCASTING BUREAU | CHIEF EXECUTIVE OFFICER.
DEPARTMENT OF COMMERCE | CLIMATE PREDICTION CENTER | DIRECTOR, CLIMATE PREDICTION CENTER.
| NATIONAL CENTERS FOR ENVIRONMENTAL PREDICTION CENTRAL OPERATIONS | DIRECTOR, CENTRAL OPERATIONS.
| STORM PREDICTION CENTER | DIRECTOR, STORM PREDICTION CENTER.
| TROPICAL PREDICTION CENTER | DIRECTOR, NATIONAL HURRICANE CENTER.
| DEPUTY ASSISTANT SECRETARY FOR ANTI-DUMPING/COUNTERVAILING DUTY OPERATIONS | SENIOR DIRECTOR. SENIOR DIRECTOR, ANTI-DUMPING/COUNTERVAILING DUTY ENFORCEMENT OFFICE VII.
|  | ASSOCIATE DEPUTY ASSISTANT SECRETARY FOR ANTI-DUMPING/COUNTERVAILING DUTY OPERATIONS.
| DEPUTY ASSISTANT SECRETARY FOR TRADE, POLICY AND ANALYSIS | DIRECTOR, OFFICE OF STANDARDS AND INVESTMENT POLICY.
| ASSOCIATE DIRECTOR FOR INDUSTRY ACCOUNTS | ASSOCIATE DIRECTOR FOR INDUSTRY ACCOUNTS.
| ASSOCIATE DIRECTOR FOR INTERNATIONAL ECONOMICS | CHIEF, BALANCE OF PAYMENTS DIVISION. ASSOCIATE DIRECTOR FOR INTERNATIONAL ECONOMICS.
|  | CHIEF DIRECT INVESTMENT DIVISION.
| ASSOCIATE DIRECTOR FOR REGIONAL ECONOMICS | ASSOCIATE DIRECTOR FOR REGIONAL ECONOMICS.
| BUREAU OF ECONOMIC ANALYSIS | ASSOCIATE DIRECTOR FOR NATIONAL ECONOMIC ACCOUNTS. CHIEF NATIONAL INCOME AND WEALTH DIVISION.
| OFFICE OF THE DIRECTOR | DIRECTOR, BUREAU OF ECONOMIC ANALYSIS. DEPUTY DIRECTOR, BUREAU OF ECONOMIC ANALYSIS.
|  | CHIEF INNOVATION OFFICER.
|  | CHIEF ECONOMIST.
|  | CHIEF ADMINISTRATIVE OFFICER.
|  | CHIEF INFORMATION OFFICER.
| OFFICE OF THE ASSISTANT SECRETARY FOR EXPORT ENFORCEMENT | DEPUTY DIRECTOR, OFFICE OF EXPORT ENFORCEMENT. DIRECTOR OFFICE OF EXPORT ENFORCEMENT.
|  | DIRECTOR, OFFICE OF ENFORCEMENT ANALYSIS.
|  | DEPUTY ASSISTANT SECRETARY FOR EXPORT ENFORCEMENT.
| ASSOCIATE DIRECTOR FOR ADMINISTRATION AND CHIEF FINANCIAL OFFICER | CHIEF FINANCIAL OFFICER. CHIEF, FINANCE DIVISION. CHIEF ADMINISTRATIVE OFFICER.
|  | CHIEF, BUDGET DIVISION.
|  | CHIEF, HUMAN RESOURCES DIVISION.
|  | CHIEF, ACQUISITION DIVISION.
| ASSOCIATE DIRECTOR FOR ECONOMIC PROGRAMS | CHIEF, ECONOMIC INDICATORS DIVISION. CHIEF, ECONOMIC STATISTICAL METHODS AND RESEARCH DIVISION.
|  | CHIEF, ECONOMIC APPLICATIONS DIVISION.
|  | ASSOCIATE DIRECTOR FOR ECONOMIC PROGRAMS.
|  | ASSISTANT DIRECTOR FOR ECONOMIC PROGRAMS.
|  | CHIEF, ECONOMY-WIDE STATISTICS DIVISION.
|  | CHIEF, ECONOMIC MANAGEMENT DIVISION.
|  | CHIEF, INTERNATIONAL TRADE MANAGEMENT DIVISION.
|  | CHIEF, ECONOMIC REIMBURSABLE SURVEYS DIVISION.
| ASSOCIATE DIRECTOR FOR FIELD OPERATIONS | CHIEF NATIONAL PROCESSING CENTER. ASSOCIATE DIRECTOR FOR FIELD OPERATIONS.
|  | CHIEF, FIELD DIVISION.
|  | ASSISTANT DIRECTOR FOR FIELD OPERATIONS.
|  | CHIEF, OFFICE OF SURVEY AND CENSUS ANALYTICS.
| ASSOCIATE DIRECTOR FOR INFORMATION TECHNOLOGY AND CHIEF INFORMATION OFFICER | CHIEF, COMPUTER SERVICES DIVISION. CHIEF, OFFICE OF INFORMATION SECURITY. CHIEF, APPLICATION SERVICES DIVISION.
|  | ASSISTANT DIRECTOR FOR IT AND DEPUTY CHIEF INFORMATION OFFICER.
|  | CHIEF TECHNOLOGY OFFICER.
|  | ASSOCIATE DIRECTOR FOR INFORMATION TECHNOLOGY AND CHIEF INFORMATION OFFICER.
| OFFICE OF THE DIRECTOR | SENIOR ADVISOR FOR PROJECT MANAGEMENT. ASSOCIATE DIRECTOR FOR PERFORMANCE IMPROVEMENT.
|  | SENIOR ADVISOR FOR BUSINESS TRANSFORMATION.
| BUREAU OF INDUSTRY AND SECURITY | CHIEF FINANCIAL OFFICER AND DIRECTOR OF ADMINISTRATION. CHIEF INFORMATION OFFICER.
| ECONOMICS AND STATISTICS ADMINISTRATION | CHIEF FINANCIAL OFFICER AND DIRECTOR FOR ADMINISTRATION. DIRECTOR FOR POLICY AND PLANNING.
| MINORITY BUSINESS DEVELOPMENT AGENCY | ASSOCIATE DIRECTOR FOR MANAGEMENT.
| NATIONAL TECHNICAL INFORMATION SERVICE | DEPUTY DIRECTOR, NATIONAL TECHNICAL INFORMATION SERVICE.
| OFFICE OF THE INSPECTOR GENERAL | DEPUTY ASSISTANT INSPECTOR GENERAL FOR ECONOMIC AND STATISTICAL PROGRAM ASSESSMENT.
| DEPUTY ASSISTANT SECRETARY FOR CHINA | EXECUTIVE DIRECTOR FOR CHINA.
| OFFICE OF THE DEPUTY ASSISTANT SECRETARY | CHIEF FINANCIAL OFFICER AND CHIEF ADMINISTRATIVE OFFICER.
| ASSOCIATE DIRECTOR FOR DECENNIAL CENSUS | ASSOCIATE DIRECTOR FOR DECENNIAL CENSUS. CHIEF, DECENNIAL MANAGEMENT DIVISION.
|  | CHIEF, DECENNIAL STATISTICAL STUDIES DIVISION.
|  | CHIEF, DECENNIAL CONTRACTS EXECUTION OFFICE.
|  | CHIEF, DECENNIAL INFORMATION TECHNOLOGY DIVISION.
|  | CHIEF, DECENNIAL COMMUNICATIONS AND STAKEHOLDER RELATIONSHIPS.
|  | ASSISTANT DIRECTOR FOR DECENNIAL CENSUS PROGRAMS.
|  | CHIEF, AMERICAN COMMUNITY SURVEY OFFICE.
|  | CHIEF, GEOGRAPHY DIVISION.
| ASSOCIATE DIRECTOR FOR DEMOGRAPHIC PROGRAMS | ASSISTANT DIRECTOR FOR DEMOGRAPHIC PROGRAMS. ASSOCIATE DIRECTOR FOR DEMOGRAPHIC PROGRAMS.
|  | CHIEF, DEMOGRAPHIC STATISTICAL METHODS DIVISION.
|  | CHIEF, DEMOGRAPHIC SURVEYS DIVISION.
|  | CHIEF, POPULATION DIVISION.
|  | CHIEF, SOCIAL, ECONOMIC, AND HOUSING STATISTICS DIVISION.
| ASSOCIATE DIRECTOR FOR RESEARCH AND METHODOLOGY | CHIEF, CENTER FOR SURVEY MEASUREMENT. ASSISTANT DIRECTOR FOR RESEARCH AND METHODOLOGY.
|  | ASSOCIATE DIRECTOR FOR RESEARCH AND METHODOLOGY.
|  | CHIEF, CENTER FOR ECONOMIC STUDIES AND CHIEF ECONOMIST.
|  | CHIEF, STATISTICAL RESEARCH DIVISION.
|  | CHIEF, CENTER FOR ADMINISTRATIVE RECORDS RESEARCH AND APPLICATIONS.
|  | CHIEF, CENTER FOR ADAPTIVE DESIGN.
| ATLANTIC OCEAN AND METEOROLOGY LABORATORY | DIRECTOR, ATLANTIC OCEANOGRAPHIC AND METEOROLOGICAL.
| GEOPHYSICAL FLUID DYNAMICS LABORATORY | DIRECTOR, OFFICE OF GEOPHYSICAL FLUID DYNAMICS LABORATORY.
| GREAT LAKE ENVIRONMENTAL RESEARCH LABORATORY | DIRECTOR, OFFICE OF GREAT LAKES ENVIRONMENTAL RESEARCH LABORATORY.
| PACIFIC MARINE ENVIRONMENTAL RESEARCH LABORATORY | DIRECTOR, OFFICE OF PACIFIC MARINE ENVIRONMENTAL LABORATORY.
| BOULDER SITE MANAGEMENT OFFICE | BOULDER LABORATORIES SITE MANAGER.
| CENTER FOR NANOSCALE SCIENCE AND TECHNOLOGY | DIRECTOR, CENTER FOR NANOSCALE SCIENCE AND TECHNOLOGY. DEPUTY DIRECTOR, CENTER FOR NANOSCALE SCIENCE AND TECHNOLOGY.
| ENGINEERING LABORATORY | DEPUTY DIRECTOR ENGINEERING LABORATORY. DIRECTOR, SMART GRID AND CYBER-PHYSICAL SYSTEMS PROGAM OFFICE.
|  | DIRECTOR, ENGINEERING LABORATORY.
| HOLLINGS MANUFACTURING EXTENSION PARTNER SHIP PROGRAM | DEPUTY DIRECTOR, MANUFACTURING EXTENSION PARTNERSHIP PROGRAM. DIRECTOR, MANUFACTURING EXTENSION PARTNERSHIP PROGRAMS.
| INFORMATION TECHNOLOGY LABORATORY | DEPUTY DIRECTOR, INFORMATION TECHNOLOGY LABORATORY. DIRECTOR, INFORMATION TECHNOLOGY LABORATORY.
| MATERIAL MEASUREMENT LABORATORY | DIRECTOR, MATERIAL MEASUREMENT LABORATORY.
| NATIONAL INSTITUTE OF STANDARDS AND TECHNOLOGY CENTER FOR NEUTRON RESEARCH | DEPUTY DIRECTOR, NATIONAL INSTITUTE OF STANDARDS AND TECHNOLOGY CENTER FOR NEUTRON RESEARCH. DIRECTOR, NATIONAL INSTITUTE OF STANDARDS AND TECHNOLOGY CENTER FOR NEUTRON RESEARCH.
| OFFICE OF ACQUISITION AND AGREEMENTS MANAGEMENT | DIRECTOR, OFFICE OF ACQUISITION AND AGREEMENTS MANAGEMENT.
| OFFICE OF FACILITIES AND PROPERTY MANAGEMENT | CHIEF FACILITIES MANAGEMENT OFFICER.
| OFFICE OF FINANCIAL RESOURCE MANAGEMENT | CHIEF FINANCIAL OFFICER FOR NIST.
| OFFICE OF INFORMATION SYSTEMS MANAGEMENT | CHIEF INFORMATION OFFICER FOR NATIONAL INSTITUTE OF STANDARDS AND TECHNOLOGY.
| OFFICE OF SAFETY, HEALTH AND ENVIRONMENT | CHIEF SAFETY OFFICER.
| OFFICE OF THE UNDER SECRETARY OF COMMERCE FOR STANDARDS AND TECHNOLOGY | SENIOR SCIENCE ADVISOR. DIRECTOR, ADVANCED MANUFACTURING PROGRAM OFFICE. CHIEF SCIENTIST. SENIOR ADVISOR TO THE UNDER SECRETARY OF COMMERCE FOR STANDARDS AND TECHNOLOGY.
|  | CHIEF OF STAFF FOR NATIONAL INSTITUTE FOR STANDARDS AND TECHNOLOGY.
|  | ASSOCIATE DIRECTOR FOR INNOVATION AND INDUSTRY SERVICES.
|  | ASSOCIATE DIRECTOR FOR MANAGEMENT RESOURCES.
|  | ASSOCIATE DIRECTOR FOR LABORATORY PROGRAMS.
|  | DIRECTOR, COMMUNICATIONS TECHNOLOGY LABORATORY.
| PHYSICAL MEASUREMENT LABORATORY | DEPUTY DIRECTOR, PHYSICAL MEASUREMENT LABORATORY. DIRECTOR, PHYSICAL MEASUREMENT LABORATORY.
|  | SENIOR ADVISOR TO THE DIRECTOR, PHYSICAL MEASUREMENT LABORATORY.
| SPECIAL PROGRAMS OFFICE | DIRECTOR, SPECIAL PROGRAMS OFFICE. DEPUTY DIRECTOR, SPECIAL PROGRAMS OFFICE.
| STANDARDS COORDINATION OFFICE | DIRECTOR, STANDARDS COORDINATION OFFICE.
| OFFICE OF SCIENCE AND TECHNOLOGY | DIRECTOR, OFFICE OF SCIENCE AND TECHNOLOGY.
| REGIONAL OFFICES | SCIENCE AND RESEARCH DIRECTOR, NORTHEAST REGION. SCIENCE AND RESEARCH DIRECTOR, PACIFIC ISLAND REGION.
|  | SCIENCE AND RESEARCH DIRECTOR, SOUTHWEST REGION.
|  | SCIENCE AND RESEARCH DIRECTOR, NORTHWEST REGION.
|  | SCIENCE AND RESEARCH DIRECTOR, ALASKA REGION.
|  | SCIENCE AND RESEARCH DIRECTOR, SOUTHEAST REGION.
| CENTER FOR OPERATIONAL OCEANOGRAPHIC PRODUCTS AND SERVICES | DIRECTOR, CENTER FOR OPERATIONAL OCEANOGRAPHIC PRODUCTS AND SERVICES.
| NATIONAL OCEANIC AND ATMOSPHERIC ADMINISTRATION COASTAL SERVICES CENTER | DIRECTOR, NATIONAL CENTERS FOR COASTAL OCEAN SCIENCE.
| OFFICE OF NATIONAL GEODETIC SURVEY | DIRECTOR, OFFICE OF NATIONAL GEODTIC SURVEY.
| OFFICE OF RESPONSE AND RESTORATION | DIRECTOR, OFFICE OF RESPONSE AND RESTORATON.
| NATIONAL CENTERS FOR ENVIRONMENTAL PREDICTION | DIRECTOR, ENVIRONMENTAL MODELING CENTER. DIRECTOR, OCEAN PREDICTION CENTER.
|  | DIRECTOR, SPACE WEATHER PREDICTION CENTER.
|  | DIRECTOR, WEATHER PREDICTION CENTER.
|  | DIRECTOR, AVIATION WEATHER CENTER.
|  | DIRECTOR, NATIONAL CENTERS FOR ENVIRONMENTAL PREDICTION.
| OFFICE OF ASSISTANT ADMINISTRATOR SATELLITE, DATA INFORMATION SERVICE | DEPUTY ASSISTANT ADMINISTRATOR FOR SYSTEMS. DIRECTOR, OFFICE OF PROJECTS, PARTNERSHIPS AND ANALYSIS.
|  | DEPUTY DIRECTOR, NATIONAL CENTER FOR ENVIRONMENTAL INFORMATION.
|  | DIRECTOR, NATIONAL CENTER FOR ENVIRONMENTAL INFORMATION.
|  | SYSTEM PROGRAM DIRECTOR FOR GOES-R PROGRAM.
|  | DIRECTOR, JOINT POLAR SATELLITE SYSTEMS.
|  | DIRECTOR, OFFICE OF SYSTEMS ARCHITECTURE AND ADVANCED PLANNING.
|  | ASSISTANT CHIEF INFORMATION OFFICER FOR NATIONAL ENVIRONMENTAL SATELLITE, DATA, AND INFORTMATION SERVICE.
|  | CHIEF FINANCIAL OFFICER/CHIEF ADMINISTRATIVE OFFICER.
|  | DIRECTOR SATELLITE GROUND SERVICES.
| OFFICE OF ASSISTANT ADMINISTRATOR, OCEAN AND ATMOSPHERIC RESEARCH | CHIEF FINANCIAL OFFICER/CHIEF ADMINISTRATIVE OFFICER. DIRECTOR, OFFICE OF WEATHER AIR QUALITY.
|  | DEPUTY ASSISTANT ADMINISTRATOR FOR SCIENCE.
| OFFICE OF EDUCATION AND SUSTAINABLE DEVELOPMENT | DIRECTOR, OFFICE OF EDUCATION.
| OFFICE OF HABITAT CONSERVATION | DIRECTOR, OFFICE OF HABITAT CONSERVATION.
| OFFICE OF HIGH PERFORMANCE COMPUTING AND COMMUNICATIONS | DEPUTY CHIEF INFORMATION OFFICER. CHIEF DATA OFFICER. CHIEF INFORMATION OFFICER AND DIRECTOR FOR HIGH PERFORMANCE COMPUTING AND COMMUNICATIONS.
| OFFICE OF MARINE AND AVIATION OPERATIONS | DEPUTY ASSISTANT ADMINISTRATOR FOR PROGRAMS AND ADMINISTRATION.
| OFFICE OF OCEANIC EXPLORATION AND RESEARCH | DIRECTOR, OFFICE OF OCEAN EXPLORATION AND RESEARCH.
| OFFICE OF RESEARCH AND APPLICATIONS | DIRECTOR, CENTER FOR SATELLITE APPLICATIONS AND RESEARCH.
| OFFICE OF SATELLITE AND PRODUCT OPERATIONS | DEPUTY DIRECTOR, OFFICE OF SATELLITE AND PRODUCT OPERATIONS.
| OFFICE OF THE ASSISTANT ADMINISTRATOR FOR WEATHER SERVICES | CHIEF FINANCIAL OFFICER/CHIEF ADMINISTRATOR OFFICER. DIRECTOR, OFFICE OF PLANNING AND PROGRAMMING FOR SERVICE DELIVERY.
|  | CHIEF ENGINEER.
|  | CHIEF OPERATING OFFICER.
|  | DIRECTOR, OFFICE OF OBSERVATIONS.
|  | DIRECTOR, OFFICE OF SCIENCE AND TECHNOLOGY INTEGRATION.
|  | DIRECTOR, OFFICE OF FACILITIES.
|  | DIRECTOR, ANALYZE, FORECAST AND SUPPORT OFFICE.
|  | DIRECTOR, OFFICE OF CENTRAL PROCESSING.
|  | OFFICE OF ORGANIZATIONAL EXCELLENCE.
|  | DIRECTOR, OFFICE OF DISSEMINATION.
|  | DIRECTOR, OFFICE OF WATER PREDICTION.
|  | DEPUTY DIRECTOR, OFFICE OF WATER PREDICTION.
| OFFICE OF UNDER SECRETARY | DIRECTOR, BUDGET OFFICE. CHIEF ADMINISTRATIVE OFFICER.
|  | DIRECTOR, PROGRAM EVALUATION, PLANNING AND RISK MANAGEMENT OFFICE.
|  | DIRECTOR FOR WORKFORCE MANAGEMENT.
|  | DEPUTY DIRECTOR, ACQUISITION AND GRANTS OFFICE.
|  | DIRECTOR, ACQUISITION AND GRANTS OFFICE.
|  | DIRECTOR, FINANCE OFFICE/COMPTROLLER.
|  | CHIEF FINANCIAL OFFICER.
|  | DEPUTY DIRECTOR FOR WORKFORCE MANAGEMENT.
| FIRST RESPONDER NETWORK AUTHORITY | CHIEF TECHNOLOGY OFFICER, FIRST RESPONDER NETWORK AUTHORITY. CHIEF ADMINISTRATIVE OFFICER, FIRST RESPONDER NETWORK AUTHORITY.
|  | CHIEF INFORMATION OFFICER, FIRST RESPONDER NETWORK AUTHORITY.
|  | CHIEF FINANCIAL OFFICER, FIRST RESPONDER NETWORK AUTHORITY.
|  | CHIEF PROCUREMENT OFFICER.
| INSTITUTE FOR TELECOMMUNICATION SCIENCES | ASSOCIATE ADMINISTRATOR FOR TELECOMMUNICATION SCIENCES AND DIRECTOR, INSTITUTE FOR TELECOMMUNICATION SCIENCES.
| OFFICE OF INTERNATIONAL AFFAIRS | ASSOCIATE ADMINISTRATOR, OFFICE OF INTERNATIONAL AFFAIRS.
| OFFICE OF THE ASSISTANT SECRETARY FOR COMMUNICATIONS AND INFORMATION | CHIEF DIGITAL OFFICER. CHIEF INFORMATION OFFICER AND DEPUTY DIRECTOR OF ADMINISTRATION. CHIEF FINANCIAL OFFICER AND DIRECTOR OF ADMINISTRATION.
| ALASKA REGION | DIRECTOR, ALASKA REGION.
| CENTERAL REGION | DIRECTOR, CENTRAL REGION.
| EASTERN REGION | DIRECTOR, EASTERN REGION.
| SOUTHERN REGION | DIRECTOR, SOUTHERN REGION.
| WESTERN REGION | DIRECTOR, WESTERN REGION.
| NATIONAL MARINE FISHERIES SERVICE | DIRECTOR, OFFICE OF ENFORCEMENT. DEPUTY ASSISTANT ADMINISTRATOR FOR OPERATIONS.
|  | DIRECTOR, OFFICE OF SUSTAINABLE FISHERIES.
|  | CHIEF FINANCIAL OFFICER/CHIEF ADMINISTRATIVE OFFICER.
|  | DIRECTOR, SCIENTIFIC PROGRAMS AND CHIEF SCIENCE ADVISOR.
| NATIONAL OCEAN SERVICE | DEPUTY ASSISTANT ADMINISTRATOR FOR OCEAN SERVICE AND COASTAL ZONE MANAGEMENT. DIRECTOR, OFFICE OF COASTAL MANAGEMENT.
|  | DIRECTOR, INTEGRATED OCEAN OBSERVING SYSTEM.
|  | CHIEF FINANCIAL OFFICER/CHIEF ADMINISTRATIVE OFFICER.
| EARTH SYSTEM RESEARCH LABORATORY | DIRECTOR, CHEMICAL SCIENCE DIVISION. DIRECTOR, PHYSICAL SCIENCE DIVISION.
|  | DIRECTOR, GLOBAL MONITORING DIVISION.
|  | DIRECTOR, GLOBAL SYSTEMS DIVISION.
| OFFICE OF NATIONAL SEVERE STORMS LABORATORY | DIRECTOR, NATIONAL SEVERE STORMS LABORATORY.
| CLIMATE PROGRAM OFFICE | DIRECTOR, CLIMATE PROGRAM OFFICE.
| NATIONAL SEA GRANT COLLEGE PROGRAM | DIRECTOR, NATIONAL SEA GRANT COLLEGE PROGRAM.
| NATIONAL DATA BUOY CENTER | DIRECTOR, NATIONAL DATA BUOY CENTER.
| RADAR OPERATIONS CENTER | DIRECTOR, RADAR OPERATIONS CENTER.
| METEOROLOGICAL DEVELOPMENT LABORATORY | DIRECTOR, METEOROLOGICAL DEVELOPMENT LABORATORY.
| OFFICE OF THE CHIEF INFORMATION OFFICER | ASSISTANT CHIEF INFORMATION OFFICER FOR WEATHER SERVICE.
| OFFICE OF THE DEPUTY ASSISTANT SECRETARY FOR RESOURCE MANAGEMENT | DEPUTY ASSISTANT SECRETARY FOR RESOURCE MANAGEMENT.
| OFFICE OF THE DEPUTY CHIEF FINANCIAL OFFICER FOR FINANCIAL MANAGEMENT | DIRECTOR FOR FINANCIAL MANAGEMENT AND DEPUTY CHIEF FINANCIAL OFFICER. DIRECTOR, OS FINANCIAL MANAGEMENT.
|  | DIRECTOR, FINANCIAL REPORTING AND INTERNAL CONTROLS.
|  | DEPUTY DIRECTOR, OFFICE OF FINANCIAL MANAGEMENT SYSTEMS.
| GROUP DIRECTORS | GROUP DIRECTOR—2600 (5). GROUP DIRECTOR—2900.
|  | GROUP DIRECTOR—3600 (5).
|  | GROUP DIRECTOR—1600 (3).
|  | GROUP DIRECTOR—3700 (5).
|  | GROUP DIRECTOR—1700 (3).
|  | GROUP DIRECTOR—2800 (3).
|  | GROUP DIRECTOR—2400 (3).
|  | GROUP DIRECTOR—2100 (3).
| OFFICE OF ACQUISITION MANAGEMENT | DIRECTOR, OFFICE OF ACQUISITION MANAGEMENT. DEPUTY FOR ACQUISITION PROGRAM MANAGEMENT.
|  | DEPUTY FOR PROCUREMENT MANAGEMENT, POLICY AND PERFORMANCE EXCELLENCE.
| OFFICE OF FACILITIES AND ENVIRONMENTAL QUALITY | DEPUTY DIRECTOR FOR FACILITIES AND ENVIRONMENTAL QUALITY. DIRECTOR FOR FACILITIES AND ENVIRONMENTAL QUALITY.
| OFFICE OF HUMAN RESOURCES MANAGEMENT | DIRECTOR FOR HUMAN RESOURCES MANAGEMENT AND CHIEF HUMAN CAPITAL OFFICER. DEPUTY DIRECTOR FOR HUMAN RESOURCES MANAGEMENT AND DEPUTY CHIEF HUMAN CAPITAL OFFICER.
|  | DIRECTOR, HUMAN CAPITAL STRATEGY AND DIVERSITY.
|  | DIRECTOR, HUMAN CAPITAL CLIENT SERVICES.
| OFFICE OF SECURITY | DIRECTOR, OFFICE OF SECURITY. DEPUTY DIRECTOR, OFFICE OF SECURITY.
| OFFICE OF BUDGET | DIRECTOR OF THE OFFICE OF BUDGET.
| OFFICE OF THE CHIEF INFORMATION OFFICER | DIRECTOR OF CYBER SECURITY AND CHIEF INFORMATION SECURITY OFFICER. DEPUTY CHIEF INFORMATION OFFICER AND CHIEF TECHNOLOGY OFFICER.
|  | DEPUTY CHIEF INFORMATION OFFICER FOR POLICY AND BUSINESS MANAGEMENT.
| OFFICE OF THE INSPECTOR GENERAL | COUNSEL TO THE INSPECTOR GENERAL.
| OFFICE OF INSPECTIONS AND PROGRAM EVALUATION | ASSISTANT INSPECTOR GENERAL FOR INSPECTIONS AND PROGRAM EVALUATION.
| OFFICE OF INSPECTOR GENERAL | ASSISTANT INSPECTOR GENERAL FOR ADMINISTRATION. ASSISTANT INSPECTOR GENERAL FOR SYSTEMS EVALUATION.
| OFFICE OF INVESTIGATIONS | ASSISTANT INSPECTOR GENERAL FOR INVESTIGATIONS.
| OFFICE OF THE DEPUTY SECRETARY | DIRECTOR, HUMAN RESOURCES SERVICES, ENTERPRISE SERVICES. CHIEF FINANCIAL OFFICER AND DIRECTOR OF ADMINISTRATION.
|  | DEPUTY DIRECTOR FOR ENTERPRISE SERVICES FOR OPERATIONS.
| OFFICE OF THE GENERAL COUNSEL | CHIEF, CONTRACT LAW DIVISION. CHIEF, ETHICS DIVISION.
| OFFICE OF THE UNDER SECRETARY | CHIEF, FINANCIAL AND ADMINISTRATIVE OFFICER. DEPUTY CHIEF FINANCIAL AND ADMINISTRATIVE OFFICER.
|  | DEPUTY CHIEF INFORMATION OFFICER.
| BALDRIDGE PERFORMANCE EXCELLENCE PROGRAM | DIRECTOR, BALDRIGE PERFORMANCE EXCELLENCE PROGRAM.
| OFFICE OF POLICY AND INTERNATIONAL AFFAIRS | DEPUTY CHIEF POLICY OFFICER. DIRECTOR, GOVERNMENTAL AFFAIRS.
|  | DEPUTY CHIEF POLICY OFFICER FOR OPERATIONS.
| OFFICE OF THE CHIEF ADMINISTRATIVE OFFICER | DIRECTOR, OFFICE OF ADMINISTRATIVE SERVICES. DEPUTY CHIEF ADMINISTRATIVE OFFICER.
|  | DIRECTOR, HUMAN CAPITAL MANAGEMENT.
| OFFICE OF THE CHIEF FINANCIAL OFFICER | DIRECTOR, OFFICE OF PLANNING AND BUDGET. DIRECTOR, OFFICE OF FINANCE.
|  | DIRECTOR, OFFICE OF PROCUREMENT.
|  | DEPUTY CHIEF FINANCIAL OFFICER.
|  | CHIEF FINANCIAL OFFICER.
| OFFICE OF THE CHIEF INFORMATION OFFICER | DIRECTOR, APPLICATION ENGINEERING AND DEVELOPMENT. DIRECTOR, OFFICE OF PROGRAM ADMINISTRATION ORGANIZATION.
|  | DIRECTOR, OFFICE OF INFORMATION MANAGEMENT SERVICES.
|  | DIRECTOR, OFFICE OF POLICY AND GOVERNANCE.
|  | DIRECTOR OF ORGANIZATIONAL POLICY AND GOVERANCE.
|  | CHIEF TECHNOLOGY OFFICER.
|  | DEPUTY CHIEF INFORMATION OFFICER.
|  | DIRECTOR, OFFICE OF INFRASTRUCTURE ENGINEERING AND OPERATIONS.
| OFFICE OF THE COMMISSIONER FOR PATENTS | DEPUTY DIRECTOR, PATENT TRAINING ACADEMY. PROGRAM DIRECTOR, INTERNATIONAL PATENT COOPERATION.
|  | DEPUTY COMMISSIONER FOR PATENT QUALITY.
|  | DIRECTOR, OFFICE OF PATENT QUALITY ASSURANCE.
|  | DEPUTY COMMISSIONER FOR PATENT EXAMINATION POLICY.
|  | DIRECTOR, OFFICE OF PATENT LEGAL ADMINISTRATION.
|  | DIRECTOR, OFFICE OF CENTRAL REEXAMINATION UNIT.
|  | ASSOCIATE COMMISSIONER FOR PATENT INFORMATION MANAGEMENT.
|  | DEPUTY COMMISSIONER FOR PATENT ADMINISTRATION.
|  | ASSISTANT DEPUTY COMMISSIONER FOR PATENTS (3).
|  | ASSISTANT DEPUTY COMMISSIONER FOR PATENTS OPERATIONS (2).
|  | ASSOCIATE COMMISSIONER FOR PATENT EXAMINATION POLICY.
|  | ASSOCIATE COMMISSIONER FOR PATENT RESOURCES AND PLANNING.
|  | ASSOCIATE COMMISSIONER FOR PATENT QUALITY.
|  | ASSOCIATE COMMISSIONER FOR INNOVATION AND DEVELOPMENT.
|  | DIRECTOR, OFFICE OF PATENT TRAINING.
|  | DEPUTY COMMISSIONER FOR PATENT OPERATIONS.
|  | DEPUTY COMMISSIONER FOR INTERNATIONAL PATENT COOPERATION.
| OFFICE OF THE COMMISSIONER FOR TRADEMARKS | DEPUTY COMMISSIONER FOR TRADEMARK OPERATIONS. GROUP DIRECTOR, TRADEMARK LAW OFFICES.
|  | DEPUTY COMMISSIONER FOR TRADEMARK ADMINISTRATION.
|  | DEPUTY COMMISSIONER FOR TRADEMARK EXAMINATION POLICY.
|  | GROUP DIRECTOR, TRADEMARK LAW OFFICES (2).
| OFFICE OF THE GENERAL COUNSEL | DEPUTY GENERAL COUNSEL FOR ENROLLMENT AND DISCIPLINE. DEPUTY GENERAL COUNSEL FOR GENERAL LAW.
|  | DEPUTY SOLICITOR AND ASSISTANT GENERAL COUNSEL FOR INTELLECTUAL PROPERY LAW.
|  | DEPUTY GENERAL COUNSEL FOR INTELLECTUAL PROPERTY LAW AND SOLICITOR.
| OFFICE OF THE UNDER SECRETARY | VICE CHIEF ADMINISTRATIVE PATENT JUDGE. PATENT TRIAL AND APPEAL BOARD EXECUTIVE.
|  | REGIONAL DIRECTOR—DETROIT.
|  | DEPUTY CHIEF ADMINISTRATIVE TRADEMARK JUDGE.
|  | DIRECTOR, OFFICE OF EQUAL EMPLOYMENT OPPORTUNITY AND DIVERSITY.
|  | REGIONAL DIRECTOR—DENVER.
|  | DEPUTY CHIEF ADMINISTRATIVE PATENT JUDGE.
|  | CHIEF ADMINISTRATIVE PATENT JUDGE.
|  | VICE CHIEF ADMINISTRATIVE PATENT JUDGE (3).
|  | VICE CHIEF ADMINISTRATIVE PATENT JUDGE FOR ENGAGEMENT.
|  | REGIONAL DIRECTOR—DALLAS.
|  | REGIONAL DIRECTOR—SAN JOSE.
|  | CHIEF, TRADEMARK TRIAL AND APPEAL BOARD.
DEPARTMENT OF COMMERCE OFFICE OF THE INSPECTOR GENERAL | OFFICE OF INSPECTOR GENERAL OFFICE OF ECONOMIC AND STATISTICAL PROGRAM ASSESSMENT | DEPUTY INSPECTOR GENERAL. ASSISTANT INSPECTOR GENERAL FOR ECONOMIC AND STATISTICAL PROGRAM ASSESSMENT.
| OFFICE OF PROGRAM ASSESSMENT | ASSISTANT INSPECTOR GENERAL FOR ADMINISTRATION.
| OFFICE OF SYSTEMS ACQUISITIONS AND INFORMATION TECHNOLOGY SECURITY | ASSISTANT INSPECTOR GENERAL FOR SYSTEMS ACQUISITIONS AND INFORMATION TECHNOLOGY SECURITY.
| OFFICE OF AUDIT AND EVALUATION | ASSISTANT INSPECTOR GENERAL FOR AUDITS. PRINCIPAL ASSISTANT INSPECTOR GENERAL FOR AUDIT AND EVALUATION.
|  | ASSISTANT INSPECTOR GENERAL FOR ACQUISITION AND SPECIAL PROGRAM AUDITS.
| OFFICE OF COUNSEL | COUNSEL TO THE INSPECTOR GENERAL.
| OFFICE OF INVESTIGATIONS | ASSISTANT INSPECTOR GENERAL FOR INVESTIGATIONS.
COMMITTEE FOR PURCHASE FROM PEOPLE WHO ARE BLIND OR SEVERELY DISABLED | COMMITTEE FOR PURCHASE FROM PEOPLE WHO ARE BLIND OR SEVERELY DISABLED | EXECUTIVE DIRECTOR.
CONSUMER PRODUCT SAFETY COMMISSION | OFFICE OF EXECUTIVE DIRECTOR | ASSISTANT EXECUTIVE DIRECTOR FOR INFORMATION AND TECH SERVICES. DEPUTY EXECUTIVE DIRECTOR FOR OPERATIONS SUPPORT.
|  | ASSISTANT EXECUTIVE DIRECTOR FOR COMPLIANCE AND FIELD OPERATIONS.
OFFICE OF EXECUTIVE DIRECTOR | OFFICE OF HAZARD IDENTIFICATION AND REDUCTION | DEPUTY ASSISTANT EXECUTIVE DIRECTOR FOR HAZARD IDENTIFICATION AND REDUCTION. ASSISTANT EXECUTIVE DIRECTOR FOR HAZARD IDENTIFICATION AND REDUCTION.
|  | ASSOCIATE EXECUTIVE DIRECTOR FOR ENGINEERING SCIENCES.
|  | ASSOCIATE EXECUTIVE DIRECTOR FOR EPIDEMIOLOGY.
|  | ASSOCIATE EXECUTIVE DIRECTOR FOR ECONOMIC ANALYSIS.
| OFFICE OF IMPORT SURVEILLANCE | DIRECTOR, OFFICE OF IMPORT SURVEILLANCE. DIRECTOR, OFFICE OF IMPORT SURVEILLANCE.
COURT SERVICES AND OFFENDER SUPERVISION AGENCY FOR THE DISTRICT OF COLUMBIA | COURT SERVICES AND OFFENDER SUPERVISION AGENCY FOR THE DISTRICT OF COLUMBIA | ASSOCIATE DIRECTOR, LEGISLATIVE, INTERGOVERNMENTAL AND PUBLIC AFFAIRS. DEPUTY DIRECTOR. ASSOCIATE DIRECTOR FOR HUMAN RESOURCES.
|  | ASSOCIATE DIRECTOR FOR ADMINISTRATION.
|  | CHIEF INFORMATION OFFICER.
|  | ASSOCIATE DIRECTOR FOR COMMUNITY SUPERVISION.
|  | ASSOCIATE DIRECTOR FOR COMMUNITY JUSTICE PROGRAMS.
|  | MANAGEMENT AND PROGRAM ANALYSIS OFFICER CHIEF OF STAFF.
|  | ASSOCIATE DIRECTOR FOR RESEARCH AND EVALUATION.
|  | CHIEF FINANCIAL OFFICER.
| PRETRIAL SERVICES AGENCY | DIRECTOR. ASSOCIATE DIRECTOR FOR MANAGEMENT AND ADMINISTRATION.
|  | ASSOCIATE DIRECTOR FOR OPERATIONS.
|  | DEPUTY DIRECTOR.
OFFICE OF THE SECRETARY OF DEFENSE | OFFICE OF THE SECRETARY OF DEFENSE | SENIOR ADVISOR TO THE DIRECTOR, DEFEMSE JI,AM RESOURCES ACTIVITY.
| REGIONAL MANAGERS | ASSISTANT DIRECTOR, INTEGRITY AND QUALITY ASSURANCE.
| PENTAGON FORCE PROTECTION AGENCY | DIRECTOR, PENTAGON FORCE PROTECTION AGENCY. PRINCIPAL DEPUTY DIRECTOR, PENTAGON FORCE PROTECTION AGENCY.
|  | ASSISTANT DIRECTOR, LAW ENFORCEMENT.
| WASHINGTON HEADQUARTERS SERVICES | DEPUTY DIRECTOR, DEFENSE FACILITIES DIRECTORATE. DEPUTY DIRECTOR, HUMAN RESOURCES DIRECTORATE.
|  | DIRECTOR, POLICY, PLANS AND REQUIREMENTS.
|  | DIRECTOR, ACQUISITION DIRECTORATE.
|  | DIRECTOR, FACILITIES SERVICES DIRECTORATE.
|  | DIRECTOR, DEPARTMENT OF DEFENSE CONSOLIDATED ADJUDICATIONS FACILITY.
|  | PRINCIPAL ASSISTANT RESPONSIBLE FOR CONTRACTING.
|  | DIRECTOR, HUMAN RESOURCES DIRECTORATE.
| DEFENSE ADVANCED RESEARCH PROJECTS AGENCY | DIRECTOR, TACTICAL TECHNOLOGY OFFICE. DEPUTY DIRECTOR, DEFENSE ADVANCED RESEARCH PROJECTS AGENCY.
|  | SPECIAL ASSISTANT FOR PROCUREMENT POLICY STRATEGY.
|  | DIRECTOR, STRATEGIC RESOURCES.
|  | DIRECTOR, CONTRACTS MANAGEMENT OFFICE.
|  | GENERAL COUNSEL.
|  | DIRECTOR, SUPPORT SERVICES OFFICE.
| DEFENSE COMMISSARY AGENCY | DIRECTOR.
| DEFENSE CONTRACT AUDIT AGENCY | DIRECTOR, DEFENSE CONTRACT AUDIT AGENCY. DEPUTY REGIONAL DIRECTOR, EASTERN REGION.
|  | DEPUTY REGIONAL DIRECTOR, CENTRAL.
|  | DEPUTY REGIONAL DIRECTOR, WESTERN REGION.
|  | ASSISTANT DIRECTOR, HUMAN CAPITAL AND RESOURCE MANAGEMENT.
|  | DIRECTOR, FIELD DETACHMENT.
|  | CORPORATE AUDIT DIRECTOR (2).
|  | CORPORATE AUDIT DIRECTOR (D).
|  | CORPORATE AUDIT DIRECTOR (C).
|  | DEPUTY DIRECTOR, DEFENSE CONTRACT AUDIT AGENCY.
|  | ASSISTANT DIRECTOR, OPERATIONS.
|  | ASSISTANT DIRECTOR, POLICY AND PLANS.
|  | REGIONAL DIRECTOR, EASTERN.
|  | REGIONAL DIRECTOR, CENTRAL.
|  | REGIONAL DIRECTOR, WESTERN.
|  | REGIONAL DIRECTOR, MID-ATLANTIC.
|  | DIRECTOR, FIELD DETACHMENT.
| DEFENSE CONTRACT MANAGEMENT AGENCY | DEPUTY DIRECTOR, DEFENSE CONTRACT MANAGEMENT AGENCY. EXECUTIVE DIRECTOR, QUALITY ASSURANCE.
|  | CHIEF OPERATIONS OFFICER.
|  | EXECUTIVE DIRECTOR, CONTRACTS.
|  | DEPUTY EXECUTIVE DIRECTOR, PORTFOLIO MANAGEMENT AND INTEGRATION.
|  | DEPUTY GENERAL COUNSEL.
|  | EXECUTIVE DIRECTOR, TECHNICAL DIRECTORATE.
|  | EXECUTIVE DIRECTOR, COST AND PRICING CENTER.
|  | GENERAL COUNSEL.
|  | EXECUTIVE DIRECTOR, FINANCIAL AND BUSINESS OPERATIONS AND COMPTROLLER.
| DEFENSE HUMAN RESOURCES ACTIVITY | DEPUTY DIRECTOR, DEFENSE MANPOWER DATA CENTER. CHIEF ACTUARY, DEFENSE HUMAN RESOURCES ACTIVITY.
|  | DEPUTY DIRECTOR, DEFENSE HUMAN RESOURCES ACTIVITY.
| DEFENSE INFORMATION SYSTEMS AGENCY | CHIEF TECHNOLOGY OFFICER. PRINCIPAL DIRECTOR, OPERATIONS DIRECTOR.
|  | DIRECTOR FOR NETWORK SERVICES.
|  | DIRECTOR, ENTERPRISE ENGINEERING.
|  | WORKFORCE MANAGEMENT EXECUTIVE.
|  | SERVICES EXECUTIVE.
|  | CHIEF INFORMATION ASSURANCE EXECUTIVE AND PROGRAM EXECUTIVE OFFICER FOR MISSION ASSURANCE AND NETWORK OPERATIONS.
|  | CYBER SECURITY, RISK MANAGEMENT AND AUTHORIZING OFFICIAL EXECUTIVE.
|  | DIRECTOR, DEFENSE SPECTRUM ORGANIZATION.
|  | PROCUREMENT SERVICES EXECUTIVE AND HEAD OF CONTRACTING ACTIVITY.
|  | COMPONENT ACQUISITION EXECUTIVE.
|  | CYBER DEVELOPMENT EXECUTIVE.
|  | VICE DIRECTOR, DEVELOPMENT AND BUSINESS CENTER.
|  | VICE DIRECTOR, CENTER FOR OPERATIONS.
|  | RISK MANAGEMENT EXECUTIVE.
|  | OPERATIONS EXECUTIVE.
|  | DIRECTOR, DEVELOPMENT AND BUSINESS CENTER.
|  | CYBER SECURITY RISK MANAGEMENT AND AUTHORIZING OFFICIAL EXECUTIVE.
|  | NATIONAL LEADERSHIP COMMAND CAPABILITIES EXECUTIVE.
|  | DEPUTY DIRECTOR, JOINT SERVICE PROVIDER.
|  | DIRECTOR, CENTER FOR OPERATIONS (2).
|  | EXECUTIVE DEPUTY DIRECTOR.
|  | SERVICES DEVELOPMENT EXECUTIVE.
|  | INFRASTRUCTURE EXECUTIVE.
|  | DIRECTOR, PERSONNEL SECURITY PROGRAM.
|  | VICE DIRECTOR, RMC/DEPUTY COMPTROLLER.
|  | VICE PROCUREMENT SERVICES EXECUTIVE/DEPUTY CHIEF, DEFENSE IT CONTRACTING ORG.
|  | DIRECTOR, DEPARTMENT OF DEFENSE INFORMATION NETWORK READINESS AND SECURITY INSPECTIONS.
|  | DEPUTY CHIEF FINANCIAL EXECUTIVE/COMPTROLLER.
|  | CONGRESSIONAL LIAISON OFFICER.
|  | CHIEF FINANCIAL EXECUTIVE/COMPTROLLER.
| DEFENSE LOGISTICS AGENCY | DEPUTY COMMANDER, DEFENSE LOGISTICS AGENCY ENERGY. EXECUTIVE DIRECTOR, TROOP SUPPORT CONTRACTING AND ACQUISITION MANAGEMENT.
|  | DIRECTOR, DEFENSE LOGISTICS AGENCY DISPOSITION SERVICES.
|  | EXECUTIVE DIRECTOR, OPERATIONS AND SUSTAINMENT.
|  | DEPUTY DIRECTOR, DEFENSE LOGISTICS AGENCY ACQUISITION.
|  | CHIEF OF STAFF.
|  | EXECUTIVE DIRECTOR, CONTRACTING AND ACQUISITION MANAGEMENT.
|  | DIRECTOR, DEFENSE LOGISTICS AGENCY ACQUISITION (J-7).
|  | EXECUTIVE DIRECTOR OPERATIONS AND SUSTAINMENT.
|  | VICE DIRECTOR, DEFENSE LOGISTICS AGENCY.
|  | PROGRAM EXECUTIVE OFFICER, DEFENSE LOGISTICS AGENCY INFORMATION OPERATIONS.
|  | EXECUTIVE DIRECTOR, JOINT CONTINGENCY ACQUISITION SUPPORT OFFICE.
|  | DEPUTY DIRECTOR, INFORMATION OPERATIONS/CHIEF TECHNICAL OFFICER.
|  | DIRECTOR, DEFENSE LOGISTICS AGENCY FINANCE.
|  | EXECUTIVE DIRECTOR, SUPPORT—POLICY AND STRATEGIC PROGRAMS.
|  | DEPUTY COMMANDER, DEFENSE LOGISTICS AGENCY LAND AND MARITIME.
|  | DEPUTY COMMANDER, DLA AVIATION.
|  | DEPUTY COMMANDER, DEFENSE LOGISTICS AGENCY TROOP SUPPORT.
|  | DEPUTY GENERAL COUNSEL, DEFENSE LOGISTICS AGENCY.
|  | DEPUTY COMMANDER, DEFENSE LOGISTICS AGENCY DISTRIBUTION.
|  | DEPUTY DIRECTOR, DEFENSE LOGISTICS AGENCY FINANCE.
|  | EXECUTIVE DIRECTOR, AVIATION CONTRACTING AND ACQUISITION MANAGEMENT.
|  | DIRECTOR, DEFENSE LOGISTICS AGENCY INFORMATION OPERATION.
|  | DIRECTOR, DEFENSE LOGISTICS AGENCY HUMAN RESOURCES.
|  | GENERAL COUNSEL.
| DEFENSE THREAT REDUCTION AGENCY | DIRECTOR, INFORMATION OPERATIONS DIRECTORATE. DIRECTOR, TREATIES AND PARTNERSHIPS DEPARTMENT.
|  | DIRECTOR, CHIEF SCIENTIST AND INNOVATION DEPARTMENT.
|  | DIRECTOR, COOPERATIVE THREAT REDUCTION DEPARTMENT.
|  | DIRECTOR, CHEMICAL AND BIOLOGICAL TECHNOLOGIES DEPARTMENT.
|  | GENERAL COUNSEL.
|  | DIRECTOR, ACQUISITION, FINANCE AND LOGISTICS DIRECTORATE.
|  | EXECUTIVE DIRECTOR.
|  | DIRECTOR, OPERATIONS, READINESS AND EXERCISES DIRECTORATE.
|  | DIRECTOR, COUNTER WEAPONS OF MASS DESTRUCTION TECHNOLOGIES DEPARTMENT.
|  | DIRECTOR, INTELLIGENCE, PLANS AND RESOURCE INTEGRATION DIRECTORATE.
|  | DIRECTOR, RESEARCH AND DEVELOPMENT DIRECTORATE.
|  | DIRECTOR, NUCLEAR TECHNOLOGIES DEPARTMENT.
|  | DIRECTOR, BASIC AND APPLIED SCIENCES DEPARTMENT.
| DIRECTOR, OPERATIONAL TEST AND EVALUATION | DEPUTY DIRECTOR FOR LIVE FIRE TEST AND EVALUATION.
| MISSILE DEFENSE AGENCY | DIRECTOR, CONTRACTING. DIRECTOR FOR ACQUISITION.
|  | DEPUTY PROGRAM DIRECTOR, BC.
|  | PROGRAM DIRECTOR FOR BATTLE MANAGEMENT, COMMAND AND CONTROL.
|  | DEPUTY PROGRAM DIRECTOR, AEGIS BALLISTIC MISSILE DEFENSE.
|  | PROGRAM DIRECTOR, GROUND-BASED MIDCOURSE DEFENSE.
|  | DEPUTY FOR ENGINEERING.
|  | DIRECTOR FOR OPERATIONS.
|  | DEPUTY PROGRAM MANAGER FOR ASSESSMENT AND INTEGRATIONS, BMDS.
|  | DIRECTOR FOR ADVANCED TECHNOLOGY.
|  | CHIEF ENGINEER.
|  | DIRECTOR FOR SYSTEMS ENGINEERING AND INTEGRATION.
|  | PROGRAM DIRECTOR, TARGETS AND COUNTERMEASURES.
| OFFICE OF THE DEPARTMENT OF DEFENSE CHIEF INFORMATION OFFICER | JOINT FORCE HEADQUARTERS DEPARTMENT OF DEFENSE INFORMATION NETWORK EXECUTIVE.
| OFFICE OF THE GENERAL COUNSEL | DIRECTOR, OFFICE OF LITIGATION. DIRECTOR, DEFENSE OFFICE OF HEARINGS AND APPEALS.
| OFFICE OF THE JOINT CHIEFS OF STAFF | EXECUTIVE DIRECTOR. VICE DEPUTY DIRECTOR, REGIONAL OPERATIONS AND FORCE MANAGEMENT.
|  | VICE DIRECTOR, C4 CYBER.
|  | VICE DIRECTOR, MANPOWER AND PERSONNEL.
|  | ASSISTANT DEPUTY DIRECTOR FOR COMMAND AND CONTROL.
|  | VICE DIRECTOR, JOINT FORCE DEVELOPMENT.
| OFFICE OF THE UNDER SECRETARY OF DEFENSE (ACQUISITION, TECHNOLOGY, AND LOGISTICS) | DIRECTOR, ACQUISITION RESOURCES AND ANALYSIS. PRINCIPAL DEPUTY, ACQUISITION RESOURCES AND ANALYSIS. DIRECTOR FOR ADMINISTRATION.
|  | DIRECTOR, DEFENSE PROCUREMENT AND ACQUISITION POLICY.
|  | DEPUTY DIRECTOR, TREATY COMPLIANCE AND HOMELAND DEFENSE.
|  | DEPUTY DIRECTOR, OSD STUDIES AND FEDERALLY FUNDED RESEARCH AND DEVELOPMENT CENTER MANAGEMENT.
|  | DEPUTY DIRECTOR, ACQUISITION TECHNOLOGY.
|  | PRINCIPAL DEPUTY DIRECTOR, ADMINISTRATION.
|  | DEPUTY DIRECTOR, ENTERPRISE INFORMATION.
|  | DEPUTY DIRECTOR FOR PROGRAM DEVELOPMENT AND IMPLEMENTATION.
| OFFICE OF THE UNDER SECRETARY OF DEFENSE (COMPTROLLER) | DEPUTY CHIEF FINANCIAL OFFICER.
| OFFICE OF THE UNDER SECRETARY OF DEFENSE (PERSONNEL AND READINESS) | CHIEF OF STAFF.
| OFFICE OF THE UNDER SECRETARY OF DEFENSE (POLICY) | SPECIAL ASSISTANT (CAREER BROADENING).
| OFFICE OF THE DEPUTY CHIEF MANAGEMENT OFFICER | DIRECTOR, MANAGEMENT AND REQUIREMENTS ANALYSIS DIVISION. DIRECTOR, POLICY AND DECISION SUPPORT DIVISION.
|  | DIRECTOR OF ADMINISTRATION.
|  | DIRECTOR, ENTERPRISE PERFORMANCE DIVISION.
|  | DIRECTOR, OVERSIGHT AND COMPLIANCE.
|  | DOD SENIOR INTELLIGENCE OVERSIGHT OFFICIAL AND DEPUTY DIRECTOR, OVERSIGHT AND COMPLIANCE.
|  | DIRECTOR, MANAGEMENT POLICY AND ANALYSIS DIRECTORATE.
|  | DIRECTOR, PLANNING, PERFORMANCE AND ASSESSMENT DIRECTORATE.
| ASSISTANT SECRETARY OF DEFENSE (ACQUISITION) | DEPUTY DIRECTOR, CONTRACT POLICY AND INTERNATIONAL CONTRACTING. DEPUTY DIRECTOR, ASSESSMENTS AND SUPPORT.
|  | DEPUTY DIRECTOR, NAVAL WARFARE.
|  | PRINCIPAL DEPUTY ASSISTANT SECRETARY OF DEFENSE (ACQUISITION).
|  | TECHNICAL DIRECTOR, FORCE DEVELOPMENT.
|  | DEPUTY DIRECTOR, DEFENSE ACQUISITION REGULATIONS SYSTEM.
|  | DEPUTY DIRECTOR, PROGRAM ACQUISITION AND STRATEGIC SOURCING.
| ASSISTANT TO THE SECRETARY OF DEFENSE FOR NUCLEAR AND CHEMICAL AND BIOLOGICAL DEFENSE PROGRAMS | DEPUTY ASSISTANT SECRETARY OF DEFENSE (NUCLEAR MATTERS).
| OFFICE OF THE DIRECTOR OF DEFENSE RESEARCH AND ENGINEERING | PRINCIPAL DEPUTY ASSISTANT SECRETARY OF DEFENSE (RESEARCH AND ENGINEERING)/DIRECTOR, PLANS AND PROGRAMS. DIRECTOR, HUMAN PERFORMANCE, TRAINING AND BIOSYSTEMS.
|  | DEPUTY DIRECTOR, INFORMATION SYSTEMS AND CYBER TECHNOLOGIES.
|  | DIRECTOR, SPACE AND SENSOR TECHNOLOGY.
|  | DIRECTOR FOR WEAPONS SYSTEMS.
DEPARTMENT OF THE AIR FORCE | DEPARTMENT OF THE AIR FORCE | DEPUTY DIRECTOR OF LOGISTICS. DEPUTY DIRECTOR LEGISLATIVE LIAISON.
|  | DIRECTOR OF COMMUNICATIONS.
|  | DIRECTOR, INSTALLATION, LOGISTICS AND MISSION SUPPORT.
|  | DEPUTY DIRECTOR, STRATEGIC PLANNING.
|  | DEPUTY DIRECTOR, SECURITY, SPECIAL PROGRAM OVERSIGHT, AND INFORMATION PROTECTION.
|  | DIRECTOR, SPACE SECURITY AND DEFENSE PROGRAM.
|  | DIRECTOR, CYBER CAPABILITIES AND COMPLIANCE.
|  | DIRECTOR, DIVERSITY AND INCLUSION.
|  | AIR FORCE PROGRAM EXECUTIVE OFFICER FOR COMBAT AND MISSION SUPPORT.
|  | DEPUTY DIRECTOR, INFORMATION DOMINANCE.
|  | DIRECTOR, LOGISTICS, ENGINEERING AND FORCE PROTECTION.
|  | DEPUTY DIRECTOR OF OPERATIONS.
|  | DIRECTOR OF POLICY, PROGRAMS AND STRATEGY, INTERNATIONAL AFFAIRS.
|  | ASSOCIATE DEPUTY ASSISTANT SECRETARY FOR PROGRAMS.
|  | DEPUTY ASSISTANT SECRETARY (LOGISTICS).
|  | CHIEF INFORMATION OFFICER AND DEPUTY DIRECTOR, PLANS AND INTEGRATION.
|  | DIRECTOR, DIVERSITY AND INCLUSION.
|  | DEPUTY DIRECTOR, STRATEGY, CONCEPTS AND ASSESSMENTS.
|  | EXECUTIVE DIRECTOR, AIR NATIONAL GUARD.
|  | EXECUTIVE DIRECTOR.
|  | DIRECTOR, HEADQUARTERS AIR FORCE INFORMATION MANAGEMENT.
|  | DEPUTY DIRECTOR OF POLICY, PROGRAMS AND STRATEGY, INTERNATIONAL AFFAIRS.
|  | DEPUTY DIRECTOR, SECURITY FORCES.
|  | DIRECTOR, CIVILIAN FORCE MANAGEMENT.
|  | DEPUTY DIRECTOR OF LOGISTICS.
| AERONAUTICAL SYSTEMS CENTER | PROGRAM EXECUTIVE OFFICER FOR AGILE COMBAT SUPPORT. EXECUTIVE DIRECTOR, AIR FORCE LIFE CYCLE MANAGEMENT CENTER.
|  | PROGRAM EXECUTIVE OFFICER, MOBILITY AIRCRAFT.
| AIR FORCE FLIGHT TEST CENTER | EXECUTIVE DIRECTOR, AIR FORCE TEST CENTER.
| AIR FORCE MATERIEL COMMAND LAW OFFICE | DIRECTOR, AIR FORCE MATERIEL COMMAND LAW OFFICE. COMMAND COUNSEL.
| AIR FORCE OFFICE OF SCIENTIFIC RESEARCH | DIRECTOR, AIR FORCE OFFICE OF SCIENTIFIC RESEARCH.
| AIR FORCE RESEARCH LABORATORY | EXECUTIVE DIRECTOR, AIR FORCE RESEARCH LABORATORY. DIRECTOR, PLANS AND PROGRAMS.
|  | DIRECTOR, MATERIELS AND MANUFACTURING.
|  | DIRECTOR, AEROSPACE SYSTEMS.
| AIR LOGISTICS CENTER, OGDEN | DIRECTOR OF CONTRACTING. DIRECTOR, ENGINEERING AND TECHNICAL MANAGEMENT.
| AIR LOGISTICS CENTER, OKLAHOMA CITY | DIRECTOR OF LOGISTICS, AIR FORCE SUSTAINMENT CENTER. DIRECTOR, 448TH SUPPLY CHAIN MANAGEMENT WING.
|  | DIRECTOR OF CONTRACTING.
|  | DIRECTOR OF ENGINEERING AND TECHNICAL MANAGEMENT.
| AIR LOGISTICS CENTER, WARNER ROBINS | DIRECTOR OF CONTRACTING.
| ELECTRONIC SYSTEMS CENTER | DIRECTOR, ENGINEERING AND TECHNICAL MANAGEMENT. PROGRAM EXECUTIVE OFFICER, BATTLE MANAGEMENT.
| ENGINEERING AND TECHNICAL MANAGEMENT | DIRECTOR, ENGINEERING AND TECHNICAL MANAGEMENT.
| FINANCIAL MANAGEMENT AND COMPTROLLER | DEPUTY DIRECTOR, FINANCIAL MANAGEMENT.
| LOGISTICS | DEPUTY DIRECTOR, LOGISTICS, INSTALLATIONS AND MISSION SUPPORT.
| DIRECTED ENERGY DIRECTORATE | DIRECTOR, DIRECTED ENERGY.
| HUMAN EFFECTIVENESS DIRECTORATE | DIRECTOR, HUMAN EFFECTIVENESS DIRECTORATE.
| INFORMATION DIRECTORATE | DIRECTOR OF CONTRACTING.
| SENSORS DIRECTORATE | DIRECTOR SENSORS.
| SPACE AND MISSLE SYSTEMS CENTER | DIRECTOR, MILITARY SATELLITE COMMUNICATIONS DIRECTORATE. DIRECTOR, LAUNCH ENTERPRISE.
| AIR FORCE AUDIT AGENCY (FIELD OPERATING AGENCY) | ASSISTANT AUDITOR GENERAL, ACQUISTION, LOGISTICS AND FINANCIAL AUDITS. ASSISTANT AUDITOR GENERAL, OPERATIONS AND SUPPORT AUDITS.
| AIR COMBAT COMMAND | DIRECTOR, ACQUISITION MANAGEMENT AND INTEGRATION CENTER. DEPUTY DIRECTOR OF LOGISTICS, ENGINEERING, AND FORCE PROTECTION.
|  | DEPUTY DIRECTOR, REQUIREMENTS.
| AIR EDUCATION AND TRAINING COMMAND | DIRECTOR, INTERNATIONAL TRAINING AND EDUCATION. DIRECTOR, LOGISTICS, INSTALLATIONS AND MISSION SUPPORT.
| AIR FORCE MATERIEL COMMAND | DIRECTOR, FINANCIAL MANAGEMENT. PROGRAM EXECUTIVE OFFICER FOR BUSINESS ENTERPRISE SYSTEMS.
|  | DIRECTOR, INSTALLATION SUPPORT.
|  | DIRECTOR OF CONTRACTING.
|  | DIRECTOR, FINANCIAL MANAGEMENT AND COMPTROLLER.
|  | DIRECTOR, ENGINEERING AND TECHNICAL MANAGEMENT.
|  | DIRECTOR OF ENGINEERING AND TECHNICAL MANAGEMENT, F-35 LIGHTNING II JOINT PROGRAM OFFICE.
|  | DIRECTOR, ENGINEERING AND TECHNICAL MANAGEMENT.
|  | DIRECTOR OF PROPULSION.
|  | DIRECTOR OF CONTRACTING (2).
|  | EXECUTIVE DIRECTOR, AIR FORCE MATERIEL COMMAND.
|  | EXECUTIVE DIRECTOR.
|  | DIRECTOR, HYBRID PRODUCT SUPPORT INTEGRATOR TRANSITION OPERATIONS.
|  | DIRECTOR, RESOURCES.
|  | DEPUTY DIRECTOR, AIR, SPACE AND CYBERSPACE OPERATIONS.
|  | EXECUTIVE DIRECTOR, AIR FORCE INSTALLATION AND MISSION SUPPORT CENTER.
|  | DIRECTOR OF LOGISTICS AND LOGISTICS SERVICES.
|  | DIRECTOR, ENGINEERING AND TECHNICAL MANAGEMENT.
|  | EXECUTIVE DIRECTOR, AIR FORCE SUSTAINMENT CENTER.
|  | DIRECTOR, AIR FORCE CIVIL ENGINEER CENTER.
|  | DIRECTOR, MANPOWER, PERSONNEL AND SERVICES.
|  | DIRECTOR, NATIONAL MUSEUM OF THE UNITED STATES AIR FORCE.
|  | EXECUTIVE DIRECTOR, AIR FORCE NUCLEAR WEAPONS CENTER.
|  | DEPUTY DIRECTOR, STRATEGIC PLANS, PROGRAMS, REQUIREMENTS AND ANALYSES.
|  | DIRECTOR INSTALLATIONS.
| AIR FORCE RESERVE COMMAND | DIRECTOR OF STAFF.
| AIR FORCE SPACE COMMAND | EXECUTIVE DIRECTOR, AIR FORCE SPACE COMMAND.
| AIR FORCE SPECIAL OPERATIONS COMMAND | EXECUTIVE DIRECTOR AIR FORCE SPECIAL OPERATIONS COMMAND. DEPUTY CHIEF FINANCIAL OFFICER.
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE.
| JOINT STAFF | DIRECTOR, JOINT INFORMATION OPERATIONS WARFARE CENTER.
| OFFICE OF ASSISTANT SECRETARY AIR FORCE FOR ACQUISITION | ASSOCIATE DEPUTY ASSISTANT SECRETARY (ACQUISITION INTEGRATION). DIRECTOR, INFORMATION DOMINANCE PROGRAMS.
|  | ASSOCIATE DEPUTY ASSISTANT SECRETARY OF THE AIR FORCE FOR SCIENCE, TECHNOLOGY AND ENGINEERING.
|  | DEPUTY ASSISTANT SECRETARY (SCIENCE, TECHNOLOGY AND ENGINEERING).
|  | DEPUTY ASSISTANT SECRETARY (ACQUISITION INTEGRATION).
|  | DIRECTOR OF CONTRACTING, AIR FORCE RAPID CAPABILITIES OFFICE.
|  | DIRECTOR OF CONTRACTING (SPECIAL ACCESS PROGRAMS).
| OFFICE OF ASSISTANT SECRETARY AIR FORCE FOR FINANCIAL MANAGEMENT AND COMPTROLLER | CHIEF INFORMATION OFFICER.
| OFFICE OF ASSISTANT SECRETARY AIR FORCE, INSTALLATIONS, ENVIRONMENT, AND ENERGY | DEPUTY ASSISTANT SECRETARY (ENERGY).
| OFFICE OF ASSISTANT SECRETARY OF THE AIR FORCE FOR MANPOWER AND RESERVE AFFAIRS | DEPUTY ASSISTANT SECRETARY FOR RESERVE AFFAIRS.
| OFFICE OF THE CHIEF OF STAFF | DEPUTY DIRECTOR OF STAFF, HEADQUARTERS UNITED STATES AIR FORCE.
| OFFICE OF THE GENERAL COUNSEL | PRINCIPAL DEPUTY GENERAL COUNSEL. DEPUTY GENERAL COUNSEL (INTELLIGENCE, INTERNATIONAL AND MILITARY AFFAIRS).
|  | DEPUTY GENERAL COUNSEL (INSTALLATIONS, ENERGY AND ENVIRONMENT).
| OFFICE OF THE SECRETARY | DEPUTY DIRECTOR, AIR FORCE REVIEW BOARDS AGENCY. DIRECTOR, AIR FORCE RAPID CAPABILITIES OFFICE.
|  | DEPUTY DIRECTOR, AIR FORCE RAPID CAPABILITIES OFFICE.
| UNITED STATES CENTRAL COMMAND | DIRECTOR OF RESOURCES, REQUIREMENTS, BUDGET AND ASSESSMENT. DEPUTY DIRECTOR OF LOGISTICS AND ENGINEERING.
|  | DEPUTY DIRECTOR OF OPERATIONS INTERAGENCY ACTION GROUP.
| UNITED STATES NORTHERN COMMAND | DEPUTY COMMANDER, JOINT FORCES HEADQUARTERS—NATIONAL CAPITAL REGION. DIRECTOR OF INTERAGENCY.
|  | DIRECTOR, JOINT EXERCISES AND TRAINING.
|  | DIRECTOR, PROGRAMS AND RESOURCES.
|  | NORTHCOM, DEPUTY DIRECTOR OF OPERATIONS FOR SPECIAL ACTIVITIES.
| UNITED STATES SPECIAL OPERATIONS COMMAND | DIRECTOR, PLANS, POLICY AND STRATEGY. DIRECTOR FOR ACQUISITION.
|  | DEPUTY CHIEF OF STAFF.
|  | PRESIDENT, JOINT SPECIAL OPERATIONS UNIVERSITY.
|  | DIRECTOR AND CHIEF INFOMATION OFFICER FOR SPECIAL OPERATIONS NETWORKS AND COMMUNICATIONS CENTER.
|  | CHIEF FINANCIAL OFFICER.
|  | DEPUTY DIRECTOR, CENTER FOR SPECIAL OPERATIONS ACQUISITION AND LOGISTICS.
| UNITED STATES STRATEGIC COMMAND | DIRECTOR, COMMAND, CONTROL, COMMUNICATIONS AND COMPUTER SYSTEMS. TECHNICAL DIRECTOR, JOINT WARFARE ANALYSIS CENTER.
|  | DIRECTOR, JOINT EXCERCISES AND TRAINING.
|  | ASSOCIATE DIRECTOR, CAPABILITY AND RESOURCE.
|  | DIRECTOR, GLOBAL INNOVATION STRATEGY CENTER.
|  | DEPUTY DIRECTOR, PLANS AND POLICY, USSTRATCOM.
|  | DIRECTOR, CAPABILITY AND RESOURCE INTEGRATION, USSTRATCOM C2 FAC MGMT PMO.
|  | DEPUTY DIRECTOR, CAPABILITY AND RESOURCE INTEGRATION.
|  | DEPUTY DIRECTOR, PLANS AND POLICY.
|  | DEPUTY DIRECTOR, CAPABILITY DEVELOPMENTAL GROUP COMMAND ACQUISITION EXEC.
| UNITED STATES TRANSPORTATION COMMAND | DIRECTOR, PROGRAM ANALYSIS AND FINANCIAL MANAGEMENT. EXECUTIVE DIRECTOR AND DEPUTY CHIEF INFORMATION OFFICER.
|  | DEPUTY DIRECTOR, STRATEGY, CAPABILITIES, POLICY AND LOGISTICS.
|  | EXECUTIVE DIRECTOR.
|  | DEPUTY DIRECTOR, ACQUISITION.
|  | DIRECTOR, ACQUISTION.
| CIVIL ENGINEER | DEPUTY DIRECTOR OF CIVIL ENGINEERS.
| RESOURCES | DIRECTOR OF RESOURCE INTEGRATION.
| AIR FORCE PERSONNEL CENTER (FIELD OPERATING AGENCY) | DIRECTOR OF PERSONNEL OPERATIONS. EXECUTIVE DIRECTOR, AIR FORCE PERSONNEL CENTER.
| DIRECTORATE OF SPACE AND NUCLEAR DETERRENCE | ASSOCIATE ASSISTANT CHIEF OF STAFF STRATEGIC DETERRENCE AND NUCLEAR INTEGRATION. DEPUTY ASSISTANT CHIEF OF STAFF, STRATEGIC DETERRENCE AND NUCLEAR INTEGRATION.
| OFFICE DEPUTY ASSISTANT SECRETARY CONTRACTING | ASSOCIATE DEPUTY ASSISTANT SECRETARY (CONTRACTING).
| OFFICE DEPUTY ASSISTANT SECRETARY SCIENCE, TECHNOLOGY AND ENGINEERING | SPECIAL ASSISTANT TO THE DEPUTY ASSISTANT SECRETARY SCIENCE, TECHNOLOGY AND ENGINEERING.
| OFFICE DEPUTY ASSISTANT SECRETARY BUDGET | ASSOCIATE DEPUTY ASSISTANT SECRETARY FOR BUDGET. DIRECTOR, BUDGET INVESTMENT.
| OFFICE DEPUTY ASSISTANT SECRETARY COST AND ECONOMICS | DEPUTY ASSISTANT SECRETARY (COST AND ECONOMICS). ASSOCIATE DEPUTY ASSISTANT SECRETARY (COST AND ECONOMICS).
| OFFICE DEPUTY ASSISTANT SECRETARY FINANCIAL OPERATIONS | ASSOCIATE DEPUTY ASSISTANT SECRETARY (FINANCIAL OPERATIONS). DEPUTY ASSISTANT SECRETARY (FINANCIAL OPERATIONS).
| OFFICE DEPUTY ASSISTANT SECRETARY INSTALLATIONS | DEPUTY ASSISTANT SECRETARY (INSTALLATIONS).
| AIR FORCE REVIEW BOARDS AGENCY (AIR FORCE REVIEW BOARDS AGENCY)—FIELD OPERATING AGENCY | DEPUTY FOR AIR FORCE REVIEW BOARDS.
| AIR FORCE OFFICE OF SAFETY AND AIR FORCE SAFETY CENTER (FIELD OPERATING AGENCY) | DEPUTY CHIEF OF SAFETY.
| AIR FORCE OPERATIONAL TEST AND EVALUATION CENTER (DIRECT REPORTING UNIT) | EXECUTIVE DIRECTOR, AIR FORCE OPERATIONAL TEST AND EVALUATION CENTER.
| AIR FORCE STUDIES AND ANALYSES AGENCY (DIRECT REPORTING UNIT) | DIRECTOR, AIR FORCE STUDIES AND ANALYSES, ASSESSMENTS AND LESSONS LEARNED. PRINCIPLE DEPUTY DIRECTOR, STUDIES AND ANALYSES, ASSESSMENTS AND LESSONS LEARNED.
| DEPUTY CHIEF OF STAFF, AIR AND SPACE OPERATIONS | DEPUTY DIRECTOR, OPERATIONS AND READINESS. DIRECTOR OF WEATHER.
|  | ASSOCIATE DEPUTY CHIEF OF STAFF OPERATIONS, PLANS AND REQUIREMENTS.
|  | DEPUTY DIRECTOR OF OPERATIONAL REQUIREMENTS.
| DEPUTY CHIEF OF STAFF, PERSONNEL | DEPUTY DIRECTOR, MANPOWER, ORGANIZATION AND RESOURCES. DEPUTY DIRECTOR OF SERVICES.
|  | ASSISTANT DEPUTY CHIEF OF STAFF MANPOWER AND PERSONNEL.
|  | DIRECTOR, PLANS AND INTEGRATION.
|  | DEPUTY DIRECTOR, MILITARY FORCE MANAGEMENT.
|  | DIRECTOR, FORCE DEVELOPMENT.
| DEPUTY CHIEF OF STAFF, PLANS AND PROGRAMS | ASSISTANT DEPUTY CHIEF OF STAFF, STRATEGIC PLANS AND REQUIREMENTS. DEPUTY DIRECTOR OF STRATEGIC PLANNING.
| JUDGE ADVOCATE GENERAL | DIRECTOR, ADMINISTRATIVE LAW.
| TEST AND EVALUATION | DIRECTOR, TEST AND EVALUATION. DEPUTY DIRECTOR, TEST AND EVALUATION.
| AIR FORCE OFFICE OF SPECIAL INVESTIGATIONS (FIELD OPERATING AGENCY) | EXECUTIVE DIRECTOR, DEFENSE CYBER CRIME CENTER.
| AUDITOR GENERAL | AUDITOR GENERAL OF THE AIR FORCE. ASSISTANT AUDITOR GENERAL, FIELD OFFICES DIRECTORATE.
| OFFICE OF ADMINISTRATIVE ASSISTANT TO THE SECRETARY | EXECUTIVE DIRECTOR, OFFICE OF SPECIAL INVESTIGATIONS. ADMINISTRATIVE ASSISTANT.
|  | DEPUTY ADMINISTRATIVE ASSISTANT.
|  | DIRECTOR SECURITY, SPECIAL PROGRAM OVERSIGHT AND INFORMATION PROTECTION.
| OFFICE OF PUBLIC AFFAIRS | DEPUTY DIRECTOR, PUBLIC AFFAIRS.
| OFFICE OF SMALL AND DISADVANTAGED BUSINESS UTILIZATION | DIRECTOR, OFFICE OF SMALL AND DISADVANTAGED BUSINESS UTILIZATION.
| OFFICE OF THE UNDER SECRETARY | ASSOCIATE DEPUTY UNDER SECRETARY OF THE AIR FORCE (SPACE) AND DEPUTY DIRECTOR PRINCIPAL DEPARTMENT OF DEFENSE SPACE ADVISOR STAFF.
DEPARTMENT OF THE ARMY | OFFICE, CHIEF OF PUBLIC AFFAIRS | PRINCIPAL DEPUTY CHIEF OF PUBLIC AFFAIR.
| ARMY AUDIT AGENCY | DEPUTY AUDITOR GENERAL, MANPOWER AND TRAINING AUDITS. DEPUTY AUDITOR GENERAL, FINANCIAL MANAGEMENT AUDITS.
|  | PRINCIPAL DEPUTY AUDITOR GENERAL.
|  | DEPUTY AUDITOR GENERAL, ACQUISITION AND LOGISTICS AUDITS.
|  | THE AUDITOR GENERAL.
|  | DEPUTY AUDITOR GENERAL, INSTALLATION, ENERGY AND ENVIRONMENT AUDITS.
| CHIEF INFORMATION OFFICER/G-6 | DIRECTOR, CYBERSECURITY. DIRECTOR FOR ARMY ARCHITECTURE INTEGRATION CELL.
|  | DIRECTOR, GOVERNANCE, ACQUISITION/CHIEF KNOWLEDGE OFFICER.
|  | DEPUTY CHIEF INFORMATION OFFICER/G-6.
| HEADQUARTERS, UNITED STATES ARMY, EUROPE | DEPUTY CHIEF OF STAFF, G-1. DEPUTY CHIEF OF STAFF G-8.
| HEADQUARTERS, UNITED STATES ARMY, PACIFIC | STRATEGIC EFFECTS DIRECTOR TO COMMANDER, US ARMY PACIFIC. ASSISTANT CHIEF OF STAFF, G-8.
| JOINT SPECIAL OPERATIONS COMMAND | EXECUTIVE DIRECTOR FOR RESOURCES, SUPPORT, AND INTEGRATION.
| MILITARY SURFACE DEPLOYMENT DISTRIBUTION COMMAND | DEPUTY TO THE COMMANDER, SURFACE DEPLOYMENT AND DISTRIBUTION COMMAND. DIRECTOR, TRANSPORTATION ENGINEERING AGENCY/DIRECTOR JOINT DISTRIBUTION PROCESS ANALYSIS CENTER.
| NATIONAL GUARD BUREAU | CHIEF FINANCIAL OFFICER.
| OFFICE ADMINSTRATIVE ASSISTANT TO THE SECRETARY OF ARMY | ADMINISTRATIVE ASSISTANT TO THE SECRETARY OF THE ARMY. DEPUTY ADMINISTRATIVE ASSISTANT TO THE SECRETARY OF THE ARMY/DIRECTOR FOR SHARED SERVICES.
|  | EXECUTIVE ADVISOR TO THE ADMINISTRATIVE ASSISTANT TO THE SECRETARY OF THE ARMY.
|  | EXECUTIVE DIRECTOR, U.S. ARMY HEADQUARTERS SERVICES.
| OFFICE ASSISTANT SECRETARY ARMY (ACQUISITION, LOGISTICS AND TECHNOLOGY) | DEPUTY ASSISTANT SECRETARY OF THE ARMY FOR DEFENSE EXPORTS AND COOPERATION. DEPUTY ASSISTANT SECRETARY FOR RESEARCH AND TECHNOLOGY/CHIEF SCIENTIST.
|  | DEPUTY ASSISTANT SECRETARY OF THE ARMY (POLICY AND PROCUREMENT).
|  | DEPUTY ASSISTANT SECRETARY OF THE ARMY FOR PLANS, PROGRAMS AND RESOURCES.
|  | DEPUTY ASSISTANT SECRETARY OF THE ARMY (ACQUISITION POLICY AND LOGISTICS), ASSISTANT SECRETARY OF THE ARMY (ACQUISITION, LOGISTICS AND TECHNOLOGY).
|  | EXECUTIVE DIRECTOR FOR ACQUISITION SERVICES, ASSISTANT SECRETARY ARMY (ACQUISITION, LOGISTICS AND TECHNOLOGY).
|  | EXECUTIVE DIRECTOR, RAPID CAPABILITIES OFFICE.
|  | DIRECTOR FOR RESEARCH AND TECHNOLOGY.
|  | DIRECTOR, SYSTEM OF SYSTEM ENGINEERING INTEGRATION.
|  | SPECIAL ASSISTANT TO THE ASSISTANT SECRETARY OF ARMY (ACQUISITION, LOGISTICS AND TECHNOLOGY).
| OFFICE ASSISTANT SECRETARY ARMY (CIVIL WORKS) | SPECIAL ADVISOR TO ASA (CIVIL WORKS). DEPUTY ASSISTANT SECRETARY OF THE ARMY (MANAGEMENT AND BUDGET).
| OFFICE ASSISTANT SECRETARY ARMY (FINANCIAL MANAGEMENT AND COMPTROLLER) | DIRECTOR OF INVESTMENT. DEPUTY ASSISTANT SECRETARY OF THE ARMY (FINANCIAL OPERATIONS). DEPUTY ASSISTANT SECRETARY OF THE ARMY (COST AND ECONOMICS).
|  | DEPUTY TO THE COMMANDER FOR FINANCIAL MANAGEMENT OPERATIONS.
|  | DIRECTOR, MILITARY PERSONNEL AND FACILITIES.
|  | DIRECTOR, FINANCIAL INFORMATION MANAGEMENT.
|  | DEPUTY DIRECTOR AND SENIOR ADVISOR FOR ARMY BUDGET (DDSA (BUDGET)).
|  | DIRECTOR FOR ACCOUNTABILITY AND AUDIT READINESS.
|  | DIRECTOR, PROGRAMS AND STRATEGY.
|  | DIRECTOR OF MANAGEMENT AND CONTROL.
| OFFICE ASSISTANT SECRETARY ARMY (INSTALLATIONS, ENERGY AND ENVIRONMENT) | DEPUTY ASSISTANT SECRETARY OF THE ARMY (ENVIRONMENT, SAFETY AND OCCUPATIONAL HEALTH). SPECIAL ADVISOR TO ASSISTANT SECRETARY ARMY (INSTALLATIONS, ENERGY AND ENVIRONMENT).
|  | DEPUTY ASSISTANT SECRETARY OF ARMY (STRATEGIC INTEGRATION).
| OFFICE ASSISTANT SECRETARY ARMY (MANPOWER AND RESERVE AFFAIRS) | DEPUTY ASSISTANT SECRETARY OF THE ARMY (DIVERSITY AND LEADERSHIP). DEPUTY ASSISTANT SECRETARY OF ARMY FOR MARKETING/DIRECTOR, ARMY MARKETING RESEARCH GROUP.
|  | DEPUTY ASSISTANT SECRETARY OF THE ARMY (ARMY REVIEW BOARDS AGENCY).
|  | DEPUTY ASSISTANT SECRETARY OF THE ARMY (MILITARY PERSONNEL/QUALITY OF LIFE).
|  | DEPUTY ASSISTANT SECRETARY OF THE ARMY (CIVILIAN PERSONNEL)/DIRECTOR CIVILIAN SENIOR LEADER MANAGEMENT OFFICE).
|  | DEPUTY ASSISTANT SECRETARY OF THE ARMY (PLANS AND RESOURCES).
| OFFICE OF THE SURGEON GENERAL | DEPUTY CHIEF OF STAFF/ASSISTANT SURGEON GENERAL, FORCE MANAGEMENT. CHIEF OF STAFF.
| OFFICE, ASSISTANT CHIEF OF STAFF FOR INSTALLATION MANAGEMENT | DIRECTOR INSTALLATION SERVICES. DIRECTOR OF RESOURCE INTEGRATION. CHIEF INFORMATION TECHNOLOGY OFFICER, OFFICE OF THE ASSISTANT CHIEF OF STAFF FOR INSTALLATION MANAGEMENT.
|  | DEPUTY ASSISTANT CHIEF OF STAFF FOR INSTALLATION MANAGEMENT.
| OFFICE, DEPUTY CHIEF OF STAFF, G-4 | DIRECTOR, LOGISTICS INFORMATION MANAGEMENT. DIRECTOR FOR MAINTENANCE POLICY, PROGRAMS AND PROCESSES.
|  | DIRECTOR OF RESOURCE MANAGEMENT.
|  | ASSISTANT DEPUTY CHIEF OF STAFF, G-4.
|  | DIRECTOR, LOGISITICS INNOVATION AGENCY.
|  | DIRECTOR FOR SUPPLY POLICY.
| OFFICE, DEPUTY CHIEF OF STAFF, G-1 | DIRECTOR FOR MANPRINT DIRECTORATE. DIRECTOR, PLANS AND RESOURCES.
|  | DIRECTOR, ARMY RESILIENCY DIRECTORATE, OFFICE, DEPUTY CHIEF OF STAFF, G-1.
|  | DIRECTOR, MILITARY HUMAN RESOURCES INTEGRATION.
|  | DIRECTOR, SEXUAL HARASSMENT/ASSAULT RESPONSE AND PREVENTION.
|  | SPECIAL ADVISOR TO DEPUTY CHIEF OF STAFF, G-1 HEADQUARTERS DEPARTMENT OF THE ARMY.
|  | ASSISTANT DEPUTY CHIEF OF STAFF, G-1.
|  | DIRECTOR, CIVILIAN TALENT MANAGEMENT/DEPUTY DIRECTOR ARMY TALENT MANAGEMENT TASK FORCE.
| OFFICE, DEPUTY CHIEF OF STAFF, G-3 | DEPUTY DIRECTOR FOR FORCE MANAGEMENT. DEPUTY DIRECTOR OF TRAINING AND TTPEG CO-CHAIR.
|  | DEPUTY DIRECTOR FOR CYBER (G-3/5/7).
|  | DEPUTY DIRECTOR FOR PLANS AND POLICY.
|  | ASSISTANT DEPUTY CHIEF OF STAFF FOR OPERATIONS (G-3/5/7).
| OFFICE, DEPUTY CHIEF OF STAFF, G-8 | DIRECTOR, RESOURCES/DEPUTY DIRECTOR, FORCE DEVELOPMENT. ASSISTANT DEPUTY CHIEF OF STAFF, G-8.
| U.S. ARMY SPECIAL OPERATIONS COMMAND | DEPUTY TO THE COMMANDING GENERAL, UNITED STATES ARMY JOHN F. KENNEDY SPECIAL WARFARE CENTER AND SCHOOL. DEPUTY TO THE COMMANDING GENERAL.
| UNITED STATES ARMY TRAINING AND DOCTRINE COMMAND | DEPUTY TO THE COMMANDING GENERAL MANUEVER SUPPORT/DIRECTOR, CAPABILITIES DEVELOPMENT AND INTEGRATION. DEPUTY TO THE COMMANDING GENERAL, SIGNAL CENTER OF EXCELLENCE.
|  | DEPUTY TO THE COMMANDING GENERAL, MANEUVER CENTER OF EXCELLENCE AND DIRECTOR, CAPABILITIES DEVELOPMENT AND INTEGRATION.
|  | DEPUTY TO THE COMMANDING GENERAL FIRES/DIRECTOR, CAPABILITIES, DEVELOPMENT AND INTEGRATION.
|  | DEPUTY CHIEF OF STAFF, G-8, TRADOC.
|  | DIRECTOR OF TRANSFORMATION, CYBER CENTER OF EXCELLENCE.
|  | DEPUTY DIRECTOR/CHIEF OF STAFF, ARMY CAPABILITIES INTEGRATION CENTER.
|  | DEPUTY TO THE COMMANDING GENERAL, ARMY AVIATION CENTER OF EXCELLENCE/DIRECTOR, CAPABILITIES DEVELOPMENT AND INTEGRATION.
|  | DEPUTY CHIEF OF STAFF, G-6 TRADOC.
|  | DEPUTY TO THE COMMANDING GENERAL, COMBINED ARMS SUPPORT COMMAND.
|  | DEPUTY CHIEF OF STAFF, G-3/5/7, TRADOC.
|  | DEPUTY CHIEF OF STAFF, G-1/4 (PERSONNEL AND LOGISTICS).
|  | PRESIDENT, ARMY LOGISTICS UNIVERSITY.
|  | DEPUTY TO THE COMMANDING GENERAL, COMBINED ARMS CENTER.
|  | ASSISTANT DEPUTY CHIEF OF STAFF, G-3/5/7 AND THE DEPUTY, G-3/5 FOR OPERATIONS AND PLANS, UNITED STATES ARMY TRAINING AND DOCTRINE COMMAND.
| UNITED STATES AFRICA COMMAND | DEPUTY DIRECTOR OF RESOURCES (J1/J8). DIRECTOR OF RESOURCES (J1/J8), AFRICA COMMAND.
|  | DEPUTY DIRECTOR OF PROGRAM, (J5), UNITED STATES AFRICA COMMAND.
| UNITED STATES ARMY CORPS OF ENGINEERS | DIRECTOR, RESEARCH AND DEVELOPMENT AND DIRECTOR, ENGINEERING RESEARCH AND DEVELOPMENT CENTER. DIRECTOR, INFORMATION TECHNOLOGY LABORATORY.
|  | CHIEF MILITARY PROGRAMS INTEGRATION DIVISION.
|  | DIRECTOR, CONTINGENCY OPERATIONS/CHIEF, HOMELAND SECURITY OFFICE.
|  | DIRECTOR OF CONTRACTING.
|  | DIRECTOR OF HUMAN RESOURCES.
|  | DIRECTOR, REAL ESTATE.
|  | DIRECTOR OF RESOURCE MANAGEMENT.
|  | DIRECTOR FOR CORPORATE INFORMATION.
| UNITED STATES ARMY CYBER COMMAND/SECOND ARMY | DEPUTY TO COMMANDER, ARMY CYBER COMMAND/2ND ARMY. DIRECTOR, ADVANCED CONCEPTS, TECHNOLOGY AND CAPABILTIES.
| UNITED STATES ARMY FORCES COMMAND | DEPUTY CHIEF OF STAFF FOR RESOURCE MANAGEMENT. ASSISTANT DEPUTY CHIEF OF STAFF, G-6.
|  | ASSISTANT DEPUTY CHIEF OF STAFF FOR OPERATIONS, G-3/5/7.
|  | DEPUTY CHIEF OF STAFF, G-1.
|  | ASSISTANT DEPUTY CHIEF OF STAFF FOR LOGISTICS.
| UNITED STATES ARMY MATERIEL COMMAND | DEPUTY CHIEF OF STAFF FOR LOGISTICS, G-4. ASSISTANT DEPUTY CHIEF OF STAFF, G-3/4 FOR LOGISTICS INTEGRATION.
|  | DEPUTY, G-3/4 FOR CURRENT OPERATIONS.
|  | CHIEF TECHNOLOGY OFFICER.
|  | DEPUTY CHIEF OF STAFF FOR CORPORATE INFORMATION/CHIEF INFORMATION OFFICER.
| UNITED STATES ARMY NORTH | DEPUTY TO THE COMMANDING GENERAL, ARMY NORTH.
| UNITED STATES ARMY SPACE AND MISSILE DEFENSE COMMAND | DIRECTOR, PROGRAMS AND TECHNOLOGY. DEPUTY TO THE COMMANDER, UNITED STATES ARMY SPACE AND MISSILE DEFENSE COMMAND/ARMY FORCES STRATCOM.
|  | DIRECTOR, CAPABILITY DEV INTEGRATION DIRECTORATE, SPACE AND MISSILE DEFENSE COMMAND.
|  | DIRECTOR, FUTURE WARFARE CENTER.
|  | DIRECTOR , SPACE AND MISSILE DEFENSE TECHNICAL CENTER.
|  | DIRECTOR, CAPABILITY DEVELOPMENT INTEGRATION DIRECTORATE (CDID).
| UNITED STATES EUROPEAN COMMAND | DIRECTOR, RUSSIA STRATEGIC INITIATIVE. DIRECTOR, INTERAGENCY PARTNERING, (J9).
| UNITED STATES FORCES KOREA | DEPUTY DIRECTOR FOR TRANSFORMATION AND RESTATIONING. DIRECTOR FOR FORCES, RESOURCES AND ASSESSMENTS (J8).
| UNITED STATES SOUTHERN COMMAND | DIRECTOR FOR PARTNERING. DEPUTY DIRECTOR OF OPERATIONS, J3.
|  | DIRECTOR, J8 (RESOURCES AND ASSESSMENTS DIRECTORATE).
|  | DEPUTY DIRECTOR STRATEGY AND POLICY.
| ARMY CENTER OF MILITARY HISTORY (HEADQUARTERS DEPARTMENT OF THE ARMY FIELD OPERATING AGENCY AND STAFF SUPPORT AGENCY) | DIRECTOR, UNITED STATES ARMY CENTER OF MILITARY HISTORY/CHIEF OF MILITARY HISTORY.
| ARMY ACQUISITION EXECUTIVE | JOINT PROFESSIONAL EMPLOYER ORGANIZATION FOR CHEMICAL AND BIOLOGICAL DEFENSE. PROGRAM EXECUTIVE OFFICER, ASSEMBLED CHEMICAL WEAPONS ALTERNATIVE.
|  | PROGRAM EXECUTIVE OFFICER MISSILES AND SPACE.
|  | PROGRAM EXECUTIVE OFFICER—COMMAND CONTROL AND COMMUNICATIONS TACTICAL.
|  | PROGRAM EXECUTIVE OFFICER—AMMUNITION.
|  | DEPUTY JOINT PROGRAM EXECUTIVE OFFICER FOR CHEMICAL AND BIOLOGICAL DEFENSE.
|  | DEPUTY PROGRAM EXECUTIVE OFFICER, COMMAND CONTROL AND COMMUNICATIONS TACTICAL.
|  | DEPUTY PROGRAM EXECUTIVE OFFICER FOR AVIATION.
|  | DEPUTY PROGRAM EXECUTIVE OFFICER FOR SOLDIER.
|  | DEPUTY PROGRAM EXECUTIVE OFFICER, ENTERPRISE INFORMATION SYSTEMS.
|  | PROGRAM EXECUTIVE OFFICER, COMBAT SUPPORT AND COMBAT SERVICE SUPPORT.
|  | DEPUTY PROGRAM EXECUTIVE OFFICER, INTELLIGENCE, ELECTRONIC WARFARE AND SENSORS.
|  | DEPUTY PROGRAM EXECUTIVE OFFICER, COMBAT SUPPORT AND COMBAT SERVICE SUPPORT.
|  | DEPUTY PROGRAM EXECTUIVE OFFICER GROUND COMBAT SYSTEMS.
|  | DEPUTY PROGRAM EXECUTIVE OFFICER, (SIMULATION, TRAINING AND INSTRUMENTATION).
| OFFICE OF THE INSPECTOR GENERAL | PRINCIPAL DIRECTOR TO THE INSPECTOR GENERAL (INSPECTIONS).
| UNITED STATES ARMY NATIONAL MILITARY CEMETERIES | SUPERINTENDENT, ARLINGTON NATIONAL CEMETERY. EXECUTIVE DIRECTOR OF THE ARMY NATIONAL CENETERIES PROGRAM.
| UNITED STATES ARMY MEDICAL RESEARCH AND MATERIEL COMMAND | PRINCIPAL ASSISTANT FOR ACQUISITION.
| UNITED STATES ARMY MEDICAL DEPARTMENT CENTER AND SCHOOL | DEPUTY TO THE COMMANDING GENERAL.
| OFFICE DEPUTY UNDER SECRETARY OF ARMY | DIRECTOR, BUSINESS TRANSFORMATION DIRECTORATE. ASSISTANT TO THE DUSA/DIRECTOR OF TEST AND EVALUATION.
|  | SPECIAL ADVISOR TO DUSA.
| OFFICE OF BUSINESS TRANSFORMATION | DEPUTY CHIEF MANAGEMENT OFFICER. DIRECTOR, BUSINESS TRANSFORMATION DIRECTORATE.
|  | DEPUTY DIRECTOR, OFFICE OF BUSINESS TRANSFORMATION, OFFICE OF THE UNDER SECRETARY OF THE ARMY.
| UNITED STATES ARMY INSTALLATION MANAGEMENT COMMAND | EXECUTIVE DIRECTOR/DIRECTOR OF SERVICES. REGIONAL DIRECTOR (EUROPE). REGIONAL DIRECTOR (PACIFIC). DIRECTOR OF FACILITIES AND LOGISTICS.
|  | DIRECTOR INSTALLATION MANAGEMENT COMMAND SUPPORT (READINESS).
|  | DIRECTOR, PLANS, OPERATIONS & TRAIINING, G-3/5/7, INSTALLATION MANAGEMENT COMMAND.
|  | DIRECTOR, SUSTAINMENT (IMCOM).
|  | EXECUTIVE DPUTY TO COMMANDING GENERAL, INSTALLATION MANAGEMENT COMMAND.
|  | DIRECTOR INSTALLATION MANAGEMENT COMMAND SUPPORT (TRAINING).
|  | REGIONAL DIRECTOR (CENTRAL).
|  | REGIONAL DIRECTOR (ATLANTIC).
|  | DIRECTOR, FAMILY, MORALE, WELFARE AND RECREATION DIRECTORATE, G-9, INSTALLATION MANAGEMENT COMMAND.
|  | DIRECTOR, HUMAN RESOURCES (IMCOM).
| OFFICE, CHIEF ARMY RESERVE | ASSISTANT CHIEF OF THE ARMY RESERVE. DIRECTOR, HUMAN CAPITAL (OFFICE, CHIEF ARMY RESERVE).
|  | CHIEF EXECUTIVE OFFICER.
|  | DIRECTOR OF RESOURCE MANAGEMENT AND MATERIAL.
|  | DIRECTOR, G-1 (PERSONNEL AND HUMAN CAPITAL).
| UNITED STATES ARMY TEST AND EVALUATION COMMAND | EXECUTIVE DIRECTOR, OPERATIONAL TEST COMMAND. EXECUTIVE DIRECTOR—WHITE SANDS.
|  | DIRECTOR, ARMY EVALUATION CENTER.
|  | DIRECTOR, BALLISTIC MISSILE EVALUATION DIRECTORATE, ARMY EVALUATION CENTER.
| ARMY RESEARCH INSTITUTE (DEPUTY CHIEF OF STAFF FOR PERSONNEL, FIELD OPERATING AGENCY) | DIRECTOR, UNITED STATES ARMY RESEARCH INSTITUTE AND CHIEF PSYCHOLOGIST.
| U.S. ARMY EDGEWOOD CHEMICAL BIOLOGICAL CENTER | DIRECTOR FOR PROGRAMS INTEGRATION. DIRECTOR, EDGEWOOD CHEMICAL BIOLOGICAL CENTER.
|  | DIRECTOR, RESEARCH AND TECHNOLOGY DIRECTORATE.
|  | DIRECTOR, ENGINEERING DIRECTORATE.
| TANK-AUTOMOTIVE RESEARCH, DEVELOPMENT AND ENGINEERING CENTER | DIRECTOR FOR SYSTEMS INTEGRATION AND ENGINEERING. DIRECTOR, TANK-AUTOMOTIVE RESEARCH, DEVELOPMENT AND ENGINEERING CENTER.
|  | DIRECTOR, RESEARCH, TECHNOLOGY DEVELOPMENT AND INTEGRATION.
| UNITED STATES ARMY ARMAMENT RESEARCH, DEVELOPMENT AND ENGINEERING CENTER | EXECUTIVE DIRECTOR, WEAPONS AND SOFTWARE ENGINEER CENTER. EXECUTIVE DIRECTOR, MUNITONS ENGINEERING TECHNOLOGY CENTER, ARDEC.
|  | EXECUTIVE DIRECTOR, ENTERPRISE AND SYSTEMS INTEGRATION CENTER.
|  | DIRECTOR FOR ARMAMENT RESEARCH, DEVELOPMENT AND ENGINEERING.
| COMMUNICATIONS ELECTRONICS COMMAND RESEARCH, DEVELOPMENT AND ENGINEERING CENTER | DIRECTOR, COMMUNICATIONS-ELECTRONICS RESEARCH, DEVELOPMENT AND ENGINEERING CENTER. DIRECTOR—NIGHT VISION/ELECTROMAGNETICS SENSORS DIRECTORATE.
|  | DIRECTOR, SPACE AND TERRESTRIAL COMMITTEE DIRECTORATE.
|  | DIRECTOR, INTELLIGENCE AND INFORMATION WARFARE DIRECTORATE.
|  | DIRECTOR, COMMAND POWER AND INTEGRATION DIRECTORATE.
| TRAINING AND DOCTRINE COMMAND ANALYSIS CENTER | DIRECTOR OF OPERATIONS. DIRECTOR, TRAINING AND DOCTRINE COMMAND ANALYSIS CENTER.
|  | DIRECTOR OF OPERATIONS.
| AVIATION AND MISSILE RESEARCH DEVELOPMENT AND ENGINEERING CENTER | DIRECTOR FOR SYSTEMS SIMULATION, SOFTWARE, AND INTEGRATION. DIRECTOR FOR ENGINEERING.
|  | DIRECTOR FOR AVIATION AND MISSILE RESEARCH, DEVELOPMENT AND ENGINEERING CENTER.
|  | DIRECTOR FOR AVIATION DEVELOPMENT.
| AVIATION ENGINEERING DIRECTORATE | DIRECTOR FOR WEAPONS DEVELOPMENT AND INTEGRATION. DIRECTOR OF AVIATION ENGINEERING.
| COLD REGIONS RESEARCH AND ENGINEERING LABORATORY HANOVER, NEW HAMSHIRE | DIRECTOR, COLD REGIONS RESEARCH AND ENGINEERING LABORATORY.
| CONSTRUCTION ENGINEERING RESEARCH LABORATORY CHAMPAIGN, ILLINOIS | DIRECTOR, CONSTRUCTION ENGINEERING RESEARCH LABORATORIES.
| DIRECTORATE OF CIVIL WORKS | CHIEF, PROGRAMS MANAGEMENT DIVISION. DIRECTOR OF CIVIL WORKS.
|  | CHIEF, OPERATIONS DIVISION AND REGULATORY COMMUNITY OF PRACTICE.
|  | CHIEF, ENGINEERING AND CONSTRUCTION DIVISION.
|  | CHIEF, PLANNING AND POLICY DIVISION/COMMUNITY OF PRACTICE.
| DIRECTORATE OF MILITARY PROGRAMS | CHIEF, INTERAGENCY AND INTERNATIONAL SERVICES DIVISION. CHIEF, INSTALLATION SUPPORT COMMUNITY OF PRACTICE.
|  | DIRECTOR OF MILITARY PROGRAMS.
|  | CHIEF, ENVIRONMENTAL COMMUNITY OF PRACTICE.
| DIRECTORATE OF RESEARCH AND DEVELOPMENT | DEPUTY DIRECTOR OF RESEARCH AND DEVELOPMENT.
| DIRECTORS OF ENGINEERING AND TECHNICAL SERVICES | REGIONAL BUSINESS DIRECTOR, (MISSISSIPPI VALLEY DIVISION). REGIONAL BUSINESS DIRECTOR, (SOUTH ATLANTIC DIVISION).
|  | REGIONAL BUSINESS DIRECTOR, (NORTHWESTERN DIVISION).
|  | REGIONAL BUSINESS DIRECTOR (GREAT LAKES, OHIO RIVER DIVISION).
|  | REGIONAL BUSINESS DIRECTOR, (NORTH ATLANTIC DIVISION).
|  | REGIONAL BUSINESS DIRECTOR, (PACIFIC OCEAN DIVISION).
|  | REGIONAL BUSINESS DIRECTOR, (SOUTHWESTERN DIVISION).
|  | REGIONAL BUSINESS DIRECTOR, (SOUTH PACIFIC DIVISION).
| DIRECTORS OF PROGRAMS MANAGEMENT | DIVISION PROGRAMS DIRECTOR, (SOUTH ATLANTIC DIVISION). DIVISION PROGRAMS DIRECTOR.
|  | DIVISION PROGRAMS DIRECTOR, (PACIFIC OCEAN DIVISION).
|  | DIVISION PROGRAMS DIRECTOR, (SOUTHWESTERN DIVISION).
|  | DIVISION PROGRAMS DIRECTOR, (GREAT LAKE AND OHIO RIVER DIVISION).
|  | DIVISION PROGRAMS DIRECTOR, (NORTHWESTERN DIVISION).
|  | DIVISION PROGRAMS DIRECTOR, (NORTH ATLANTIC DIVISION).
|  | DIVISION PROGRAMS DIRECTOR, (SOUTH PACIFIC DIVISION).
|  | DIVISION PROGRAMS DIRECTOR, TRANSATLANTIC DIVISION.
| ENGINEER RESEARCH AND DEVELOPMENT CENTER | DEPUTY DIRECTOR, ENGINEER RESEARCH AND DEVELOPMENT CENTER. DIRECTOR, COASTAL AND HYDRAULICS LABORATORY.
|  | DIRECTOR,GEOTECHNICAL AND STRUCTURES LABORATORY.
|  | DIRECTOR, ENVIRONMENTAL LABORATORY.
| ENGINEER TOPOGRAPHIC LABORATORIES, CENTER OF ENGINEERS | DIRECTOR, ARMY GEOSPATIAL CENTER.
| UNITED STATES ARMY NETWORK ENTERPRISE TECHNOLOGY COMMAND/9TH ARMY SIGNAL COMMAND | DEPUTY TO COMMANDER/SENIOR TECHNICAL DIRECTOR/CHIEF ENGINEER.
| OFFICE DEPUTY COMMANDING GENERAL | EXECUTIVE DEPUTY TO THE COMMANDING GENERAL.
| OFFICE OF DEPUTY CHIEF OF STAFF FOR LOGISTICS AND OPERATIONS | PRINCIPAL DEPUTY, G-3 FOR OPERATIONS AND LOGISTICS.
| OFFICE OF DEPUTY CHIEF OF STAFF FOR PERSONNEL | DEPUTY CHIEF OF STAFF FOR PERSONNEL.
| OFFICE OF THE DEPUTY CHIEF OF STAFF FOR RESOURCE MANAGEMENT | DEPUTY CHIEF OF STAFF FOR RESOURCE MANAGEMENT. ASSISTANT DEPUTY CHIEF OF STAFF FOR RESOURCE MANAGEMENT, G-8/EXECUTIVE DIRECTOR FOR BUSINESS.
| RESEARCH, DEVELOPMENT AND ENGINEERING COMMAND | DEPUTY DIRECTOR, RESEARCH, DEVELOPMENT AND ENGINEERING COMMAND.
| TANK-AUTOMOTIVE AND ARMAMENTS COMMAND (TANK-AUTOMOTIVE AND ARMAMENTS COMMAND) | DEPUTY TO THE COMMANDER. DIRECTOR, INTEGRATED LOGISTICS SUPPORT CENTER.
| UNITED STATES ARMY COMMUNICATIONS ELECTRONICS COMMAND | DIRECTOR, SOFTWARE ENGINEERING DIRECTORATE. DEPUTY TO THE COMMANDING GENERAL/DIRECTOR LOGISTICS AND READINESS CENTER.
|  | DIRECTOR, COMMUNICATIONS-ELECTRONICS LIFE CYCLE MGMT CMD LOGISTICS & READINESS CTR.
| UNITED STATES ARMY JOINT MUNITIONS COMMAND | DEPUTY TO THE COMMANDER, JOINT MUNITIONS COMMAND. EXECUTIVE DIRECTOR FOR AMMUNITION.
| UNITED STATES ARMY MATERIEL SYSTEMS ANALYSIS ACTIVITY | TECHNICAL DIRECTOR. DIRECTOR, ARMY MATERIEL SYSTEMS ANALYSIS ACTIVITY.
| UNITED STATES ARMY AVIATION AND MISSILE COMMAND (ARMY MATERIEL COMMAND) | DIRECTOR FOR TEST MEASUREMENT DIAGNOSTIC EQUIPMENT ACTIVITY. ARMY AVIATION AND MISSILE COMMAND DIRECTOR, SPECIAL PROGRAMS (AVIATION).
|  | DEPUTY TO THE COMMANDER.
|  | EXECUTIVE DIRECTOR, AVIATION AND MISSILE COMMAND LOGISTICS CENTER.
| UNITED STATES ARMY CONTRACTING COMMAND | EXECUTIVE DIRECTOR, ARMY CONTRACTING COMMAND—ROCK ISLAND. DEPUTY TO THE COMMANDER, UNITED STATES ARMY EXPEDITIONARY CONTRACTING COMMAND.
|  | DEPUTY TO THE COMMANDER, MISSION INSTALLATION CONTRACTING COMMAND.
|  | DEPUTY TO THE COMMANDING GENERAL, ARMY CONTRACTING COMMAND.
|  | EXECUTIVE DIRECTOR, ARMY CONTRACTING COMMAND -WARREN.
|  | EXECUTIVE DIRECTOR, ARMY CONTRACTING COMMAND—REDSTONE, ATLANTA.
|  | EXECUTIVE DIRECTOR, ARMY CONTRACTING COMMAND—ABERDEEN.
| UNITED STATES ARMY RESEARCH LABORATORY | DIRECTOR, UNITED STATES ARMY RESEARCH LABORATORY.
| UNITED STATES ARMY SECURITY ASSISTANCE COMMAND | DEPUTY TO THE COMMANDING GENERAL.
| UNITED STATES ARMY SUSTAINMENT COMMAND | EXECUTIVE DIRECTOR FOR FIELD SUPPORT. DEPUTY TO THE COMMANDER.
|  | EXECUTIVE DIRECTOR FOR LOGCAP.
| ARMY RESEARCH OFFICE | DIRECTOR, ARMY RESEARCH OFFICE.
| HUMAN RESEARCH AND ENGINEERING DIRECTORATE (ARMY RESEARCH LABORATORY) | DIRECTOR, COMPUTATIONAL AND INFORMATION SCIENCES DIRECTORATE. DIRECTOR, HUMAN DIMENSION SIMULATIONS AND TRAINING DIRECTORATE.
| SENSORS AND ELECTRON DEVICES DIRECTORATE (ARMY RESEARCH LABORATORY) | DIRECTOR, SENSORS AND ELECTRON DEVICES DIRECTORATE.
| SURVIVABILITY/LETHALITY ANALYSIS DIRECTORATE (ARMY RESEARCH LABORATORY) | DIRECTOR, SURVIVABILITY/LETHALITY ANALYSIS DIRECTORATE.
| WEAPONS AND MATERIEL RESEARCH DIRECTOARATE (ARMY RESEARCH LABORATORY) | DIRECTOR, WEAPONS AND MATERIALS RESEARCH DIRECTORATE.
| NATICK SOLDIER CENTER | DIRECTOR, NATICK SOLDIER RESEARCH AND DEVELOPMENT ENGINEERING CENTER.
DEPARTMENT OF THE NAVY | BUREAU OF MEDICINE AND SURGERY | EXECUTIVE DIRECTOR, BUREAU OF MEDICINE AND SURGERY. DEPUTY CHIEF, TOTAL FORCE.
|  | DIRECTOR, BUSINESS OPERATIONS/COMPTROLLER.
| COMMANDER, NAVY INSTALLATIONS COMMAND | DIRECTOR, TOTAL FORCE MANPOWER. DIRECTOR, STRATEGY AND FUTURE REQUIREMENTS.
|  | DIRECTOR OF OPERATIONS.
|  | DEPUTY COMMANDER.
|  | COUNSEL, COMMANDER NAVY INSTALLATIONS COMMAND.
|  | COMPTROLLER.
| COMMANDER, SUBMARINE FORCES | EXECUTIVE DIRECTOR, SUBMARINE FORCES.
| MILITARY SEALIFT COMMAND | DIRECTOR, MILITARY SEALIFT COMMAND MANPOWER AND PERSONNEL. DIRECTOR, GOVERNMENT OPERATIONS NFAF AND SPECIAL MISSION SHIPS.
|  | EXECUTIVE DIRECTOR.
|  | DIRECTOR, CONTRACTOR OPERATED SHIPS.
| NAVAL AIR SYSTEMS COMMAND HEADQUARTERS | DIRECTOR, AIR ANTI-SUBMARINE WARFARE, ASSAULT AND SPECIAL MISSION PROGRAMS CONTRACTS DEPARTMENT. DEPUTY COUNSEL, OFFICE OF COUNSEL.
|  | DIRECTOR, PROPULSION AND POWER.
|  | DIRECTOR, DESIGN INTERFACE AND MAINTAINANCE PLANNING.
|  | DIRECTOR, AVIATION READINESS AND RESOURCE ANALYSIS.
|  | DIRECTOR, STRIKE WEAPONS, UNMANNED AVIATION, NAVAL AIR PROGRAMS CONTRACTS DEPARTMENT.
|  | DIRECTOR, INDUSTRIAL OPERATIONS.
|  | DIRECTOR, AIR PLATFORM SYSTEMS,.
|  | F-35 PRODUCT SUPPORT MANAGER.
|  | COUNSEL, NAVAL AIR SYSTEMS COMMAND.
|  | DIRECTOR, COST ESTIMATING AND ANALYSIS.
|  | DIRECTOR OF CONTRACTS, F-35 JSF.
|  | DIRECTOR, AVIATION READINESS AND RESOURCE ANALYSIS.
|  | CHIEF MANAGEMENT OFFICER.
|  | DIRECTOR, AVIONICS, SENSORS, AND ELECTRONIC WARFARE.
|  | ASSISTANT COMMANDER FOR CONTRACTS.
|  | COMPTROLLER.
|  | DIRECTOR, SYSTEMS ENGINEERING DEPARTMENT.
|  | DIRECTOR, AIR VEHICLES AND UNMANNED AIR VEHICLES.
|  | DIRECTOR, LOGISTICS MANAGEMENT INTEGRATION.
|  | DIRECTOR, TACTICAL AIRCRAFT AND MISSILES CONTRACTS DEPARTMENT.
|  | ASSISTANT COMMANDER FOR ACQUISITION PROCESSES AND EXECUTION.
|  | DEPUTY ASSISTANT COMMANDER FOR RESEARCH AND ENGINEERING.
|  | DEPUTY COMMANDER, NAVAL AIR SYSTEMS COMMAND.
|  | DEPUTY ASSISTANT COMMANDER FOR LOGISTICS AND INDUSTRIAL OPERATIONS.
|  | ASSISTANT COMMANDER, CORPORATE OPERATIONS AND TOTAL FORCE.
| NAVAL METEOROLOGY AND OCEANOGRAPHY COMMUNICATIONS, STENNIS SPACE CENTER, MISSISSIPPI | TECHNICAL/DEPUTY DIRECTOR.
| NAVY CYBER FORCES | DEPUTY COMMANDER.
| OFFICE OF COMMANDER, UNITED STATES FLEET FORCES COMMAND | DEPUTY CHIEF OF STAFF, PERSONNEL DEVELOPMENT AND ALLOCATION. DEPUTY CHIEF OF STAFF, FLEET INSTALLATION AND ENVIRONMENT.
|  | EXECUTIVE DIRECTOR, NAVY WARFARE DEVELOPMENT COMMAND.
|  | DIRECTOR, COMMAND, CONTROL, COMMUNICATIONS, COMPUTER, COMBAT SYSTEMS, INTELLIGENCE AND STRATEGIC/COMMAND INFORMATION OFFICER.
|  | DEPUTY DIRECTOR, MARITIME OPERATIONS.
| OFFICE OF THE COMMANDER, UNITED STATES PACIFIC COMMAND | CHIEF INFORMATION OFFICER. DIRECTOR FOR FORCES RESOURCES AND ASSESSMENT.
|  | DIRECTOR, PACIFIC OUTREACH DIRECTORATE.
| OFFICE OF THE COMMANDER, UNITED STATES PACIFIC FLEET | EXECUTIVE DIRECTOR, NAVAL AIR FORCES. DEPUTY FOR NAVAL MINE AND ANTI-SUBMARINE WARFARE COMMAND.
|  | EXECUTIVE DIRECTOR, NAVAL SURFACE FORCES.
|  | EXECUTIVE DIRECTOR, PACIFIC FLEET PLANS AND POLICY.
|  | EXECUTIVE DIRECTOR FOR COMMUNICATIONS AND INFORMATION SYSTEMS AND CIO.
|  | CHIEF OF STAFF.
|  | EXECUTIVE DIRECTOR, TOTAL FORCE MANAGEMENT.
| CHIEF OF NAVAL OPERATIONS | HEAD, CAMPAIGN ANALYSIS BRANCH. DEPUTY COMMANDER.
|  | DIRECTOR OF STRATEGY.
|  | DIRECTOR, NAVAL SAFETY CENTER.
|  | DIRECTOR, STRATEGIC MOBILITY & COMBAT LOGISTICS DIVISION.
|  | VICE DIRECTOR, NAVY STAFF.
|  | DIRECTOR OF FINANCE/COMPTROLLER.
|  | DIRECTOR, DIGITAL WARFARE OFFICE.
|  | DEPUTY CHIEF OF NAVY RESERVE.
|  | DEPUTY DIRECTOR FOR STRATEGY AND POLICY.
|  | DEPUTY DIRECTOR, ENERGY AND ENVIRONMENTAL READINESS (N45B).
|  | ASSISTANT DEPUTY CHIEF OF NAVAL OPERATIONS, FLEET READINESS AND LOGISTICS.
|  | DIRECTOR, NAVAL HISTORY AND HERITAGE COMMAND.
|  | DEPUTY DIRECTOR, PROGRAM DIVISION (N80B).
|  | DEPUTY DIRECTOR, AIR WARFARE.
|  | ASSISTANT DEPUTY CHIEF OF NAVAL OPERATIONS (MANPOWER, PERSONNEL, TRAINING AND EDUCATION).
|  | DIRECTOR, SPECIAL PROGRAMS DIVISION (N89).
|  | DEPUTY DIRECTOR, UNMANNED WARFARE.
|  | DEPUTY DIRECTOR, UNDERSEA WARFARE DIVISION.
|  | DEPUTY DIRECTOR, SURFACE WARFARE DIVISION.
|  | DEPUTY DIRECTOR, EXPEDITIONARY WARFARE DIVISION.
|  | DIRECTOR, SPECIAL PROGRAMS.
|  | DIRECTOR, STRATEGIC MOBILITY AND COMBAT LOGISTICS DIVISION.
|  | ASSISTANT DEPUTY CHIEF OF NAVAL OPERATIONS, WARFARE SYSTEMS.
|  | ASSISTANT DEPUTY CHIEF OF NAVAL OPERATIONS (RESOURCES, WARFARE REQUIREMENTS AND ASSESSMENTS) N8B.
|  | FINANCIAL MANAGER AND CHIEF RESOURCES OFFICER FOR MANPOWER, PERSONNEL, TRAINING AND EDUCATION.
|  | ASSISTANT DEPUTY CHIEF OF NAVAL OPERATIONS FOR INFORMATION DOMINANCE (N2/N6).
| MARINE CORPS SYSTEMS COMMAND | DEPUTY TO THE COMMANDER FOR RESOURCE MANAGEMENT. CHIEF ENGINEER, MARINE CORPS SYSTEMS COMMAND.
|  | EXECUTIVE DIRECTOR.
| NAVAL FACILITIES ENGINEERING COMMAND | DEPUTY COMMANDER, ACQUISITION. COUNSEL, NAVAL FACILITIES ENGINEERING COMMAND.
|  | EXECUTIVE DIRECTOR.
|  | COMPTROLLER.
|  | DIRECTOR OF PUBLIC WORKS.
|  | CHIEF ENGINEER.
|  | DIRECTOR OF ENVIRONMENT.
|  | DIRECTOR OF ASSEST MANAGEMENT.
|  | ASSISTANT COMMANDER/CHIEF MANAGEMENT OFFICER.
|  | COMPTROLLER.
| NAVAL SEA SYSTEMS COMMAND | SPECIAL ASSISTANT (KNOWLEDGE TRANSFER). DIRECTOR FOR MARINE ENGINEERING.
|  | DIVISION TECHNICAL DIRECTOR, NAVAL SURFACE WARFARE CENTER, CORONA DIVISION.
|  | DIVISION TECHNICAL DIRECTOR, NAVAL SURFACE WARFARE CENTER, PHILADELPHIA DIVISION.
|  | EXECUTIVE DIRECTOR FOR COMMANDER, NAVY REGIONAL MAINTENANCE CENTERS.
|  | DIRECTOR, INTEGRATED WARFARE SYSTEMS ENGINEERING GROUP.
|  | DIRECTOR FOR SHIP INTEGRITY AND PERFORMANCE ENGINEERING.
|  | EXECUTIVE DIRECTOR, ACQUISITION AND COMMONALITY.
|  | DIVISION TECHNICAL DIRECTOR, NAVAL SURFACE WARFARE CENTER PORT HUENEME DIVISION.
|  | EXECUTIVE DIRECTOR, NAVAL SURFACE AND UNDERSEA WARFARE CENTERS.
|  | NUCLEAR ENGINEERING AND PLANNING MANAGER.
|  | DEPUTY FOR WEAPONS SAFETY.
|  | DEPUTY COMMANDER, CORPORATE OPERATIONS DIRECTORATE.
|  | EXECUTIVE DIRECTOR FOR LOGISTICS MAINTENANCE AND INDUSTRIAL OPERATIONS DIRECTORATE.
|  | EXECUTIVE DIRECTOR, UNDERSEA WARFARE DIRECTORATE.
|  | DIRECTOR, REACTOR PLANT COMPONENTS AND AUXILIARY EQUIPMENT DIVISION.
|  | DIRECTOR, SURFACE SHIP SYSTEMS DIVISION.
|  | DIRECTOR, REACTOR SAFETY AND ANALYSIS DIVISION.
|  | DIRECTOR FOR SUBMARINE/SUBMERSIBLE DESIGN AND SYSTEMS ENGINEERING.
|  | PROGRAM MANAGER FOR COMMISSIONED SUBMARINES.
|  | DIRECTOR, OFFICE OF RESOURCE MANAGEMENT.
|  | DIRECTOR OF RADIOLOGICAL CONTROLS.
|  | DIRECTOR FOR ADVANCED UNDERSEA INTEGRATION.
|  | EXECUTIVE DIRECTOR.
|  | EXECUTIVE DIRECTOR, SURFACE WARFARE DIRECTORATE.
|  | DIRECTOR, NUCLEAR COMPONENTS DIVISION.
|  | COUNSEL, NAVAL SEA SYSTEMS COMMAND.
|  | DIRECTOR FOR CONTRACTS.
|  | DIRECTOR, REACTOR MATERIALS DIVISION.
|  | DIRECTOR FOR SURFACE SHIP DESIGN AND SYSTEMS ENGINEERING.
|  | DIRECTOR, COST ENGINEERING AND INDUSTRIAL ANALYSIS.
|  | DIRECTOR, SHIPBUILDING CONTRACTS DIVISION.
|  | ASSISTANT DEPUTY COMMANDER FOR INDUSTRIAL OPERATIONS.
|  | DIRECTOR, REACTOR REFUELING DIVISION.
|  | DEPUTY COMMANDER/COMPTROLLER.
|  | DIRECTOR, UNDERSEA SYSTEMS CONTRACTS DIVISION.
|  | HEAD, ADVANCED REACTOR BRANCH.
|  | DIRECTOR FOR AIRCRAFT CARRIER DESIGN AND SYSTEMS ENGINEERING.
|  | EXECUTIVE DIRECTOR, SHIP DESIGN, AND ENGINEERING DIRECTORATE.
|  | DEPUTY DIRECTOR FOR ADVANCED SUBMARINE REACTOR SERVICING AND SPENT FUEL MANAGEMENT.
|  | DEPUTY COUNSEL, NAVAL SEA SYSTEMS COMMAND.
|  | DIRECTOR, SURFACE SYSTEMS CONTRACTS DIVISION.
|  | DEPUTY DIRECTOR, ADVANCED AIRCRAFT CARRIER SYSTEM DIVISION.
|  | DIRECTOR, FLEET READINESS DIVISION.
| NAVAL SUPPLY SYSTEMS COMMAND HEADQUARTERS | ASSISTANT COMMANDER FOR SUPPLY CHAIN MANAGEMENT (SCM) POLICY AND PERFORMANCE. ASSISTANT COMMANDER FOR CONTRACTING MANAGEMENT.
|  | DEPUTY COMMANDER, ACQUISITION, NAVAL SUPPLY SYSTEMS COMMAND.
|  | DEPUTY COMMANDER FOR FINANCIAL MANAGEMENT/COMPTROLLER.
|  | COUNSEL, NAVAL SUPPLY SYSTEMS COMMAND.
|  | DEPUTY COMMANDER, CORPORATE OPERATIONS.
|  | EXECUTIVE DIRECTOR, OFFICE OF SPECIAL PROJECTS.
|  | VICE COMMANDER.
|  | LEAD LOGISTICIAN/ENTERPRISE RESOURCE PLANNING PROGRAM MANAGER.
| OFFICE OF NAVAL RESEARCH | DIRECTOR FOR AEROSPACE SCIENCE RESEARCH DIVISION. DIRECTOR, OCEAN, ATMOSPHERE AND SPACE SCIENCE AND TECHNOLOGY PROCESSES AND PREDICTION DIVISION.
|  | DIRECTOR, ELECTRONICS, SENSORS, AND NETWORKS RESEARCH DIVISION.
|  | DIRECTOR, SHIP SYSTEMS AND ENGINEERING DIVISION.
|  | DIRECTOR, HUMAN & BIOENGINEERED SYSTEMS DIVISION.
|  | DIRECTOR, CONTRACTS, GRANTS AND ACQUISITIONS.
|  | COMPTROLLER.
|  | HEAD, AIR WARFARE AND WEAPONS SCIENCE AND TECHNOLOGY DEPARTMENT.
|  | DIRECTOR, HYBRID COMPLEX WARFARE SCIENCE AND TECHNOLOGY DIVISION.
|  | DIRECTOR, MATHEMATICS COMPUTER AND INFORMATION SCIENCES DIVISION.
|  | HEAD, COMMAND, CONTROL, COMMUNICATIONS, INTELLIGENCE, SURVEILLANCE, AND RECONNAISSANCE (C4ISR) SCIENCE AND TECHNOLOGY DEPARTMENT.
|  | DIRECTOR OF INNOVATION.
|  | HEAD, EXPEDITIONARY WARFARE AND COMBATING TERRORISM SCIENCE AND TECHNOLOGY DEPARTMENT.
|  | PATENT COUNSEL OF THE NAVY.
|  | COUNSEL, OFFICE OF NAVAL RESEARCH.
|  | EXECUTIVE DIRECTOR.
|  | HEAD, WARFIGHTER PERFORMANCE SCIENCE AND TECHNOLOGY DEPARTMENT.
|  | HEAD, OCEAN, BATTLESPACE SENSING SCIENCE AND TECHNOLOGY DEPARTMENT.
|  | HEAD, SEA WARFARE AND WEAPONS SCIENCE AND TECHNOLOGY DEPARTMENT.
|  | DIRECTOR, UNDERSEA WEAPONS AND NAVAL MATERIALS SCIENCE AND TECHNOLOGY DIVISION.
| OFFICE OF THE SECRETARY | SPECIAL ASSISTANT. DEPUTY ASSISTANT FOR ADMINISTRATION.
|  | DIRECTOR, SEXUAL ASSAULT PREVENTION AND RESPONSE.
|  | ASSISTANT FOR ADMINISTRATION.
| SPACE AND NAVAL WARFARE SYSTEMS COMMAND | ASSISTANT COMMANDER FOR NAVY CYBER IMPLEMENTATION. DIRECTOR CORPORATE OPERATIONS/COMMAND INFORMATION OFFICER.
|  | EXECUTIVE DIRECTOR, FLEET READINESS DIRECTORATE.
|  | EXECUTIVE DIRECTOR.
|  | ASSISTANT CHIEF ENGINEER FOR MISSION ENGINEERING.
|  | ASSISTANT CHIEF ENGINEER FOR CERTIFICATION AND MISSION ASSURANCE.
|  | DIRECTOR, CONTRACTS.
|  | DIRECTOR, READINESS/LOGISTICS DIRECTORATE.
|  | DEPUTY CHIEF ENGINEER.
|  | ASSISTANT CHIEF ENGINEER FOR MISSION ARCHITECTURE AND SYSTEMS ENGINEERING.
| UNITED STATES MARINE CORPS HEADQUARTERS OFFICE | ASSISTANT DEPUTY COMMANDANT FOR MANPOWER AND RESERVE AFFAIRS. DEPUTY DIRECTOR, MANPOWER PLANS AND POLICY DIVISION.
|  | DIRECTOR, OFFICE OF MARINE CORPS COMMUNICATION.
|  | ASSISTANT DEPUTY COMMANDANT, RESOURCES (PERSONNEL & READINESS).
|  | DIRECTOR, PROGRAM ANALYSIS AND EVALUATION DIVISION.
|  | DEPUTY COUNSEL FOR THE COMMANDANT OF THE MARINE CORPS.
|  | ASSISTANT DEPUTY COMMANDANT FOR PLANS POLICIES AND OPERATIONS (SECURITY).
|  | EXECUTIVE DIRECTOR, MARINE CORPS INSTALLATIONS COMMAND.
|  | DIRECTOR, MANPOWER PLANS AND POLICY DIVISION.
|  | ASSISTANT DEPUTY COMMANDANT, INSTALLATIONS AND LOGISTICS (E-BUSINESS AND CONTRACTS).
|  | COUNSEL FOR THE COMMANDANT.
|  | ASSISTANT DEPUTY COMMANDANT, INSTALLATIONS AND LOGISTICS.
|  | ASSISTANT DEPUTY COMMANDANT FOR PROGRAMS AND RESOURCES/FISCAL DIRECTOR OF THE MARINE CORPS.
|  | ASSISTANT DEPUTY COMMANDANT FOR MANPOWER AND RESERVE AFFAIRS.
|  | ASSISTANT DEPUTY COMMANDANT FOR AVIATION (SUSTAINMENT).
| MARINE CORPS COMBAT DEVELOPMENT COMMAND; QUANTICO, VIRGINIA | EXECUTIVE DEPUTY TRAINING AND EDUCATION COMMAND.
| NAVAL AIR WARFARE CENTER AIRCRAFT DIVISION | DIRECTOR, FLIGHT TEST ENGINEERING. DIRECTOR, BATTLESPACE SIMULATION.
|  | DEPUTY ASSISTANT COMMANDER FOR TEST AND EVALUATION/EXECUTIVE DIRECTOR NAVAL AIR WARFARE CENTER AIRCRAFT DIVISION/DIRECTOR, TEST AND EVALUATION NAWCAD.
|  | DIRECTOR, AIRCRAFT LAUNCH AND RECOVERY EQUIPMENT/SUPPORT EQUIPMENT.
|  | DIRECTOR, INTEGRATED STYSTEMS EVALUATION EXPERIMENTATION AND TEST DEPARTMENT.
| NAVAL AIR WARFARE CENTER TRAINING SYSTEMS DIVISION | DIRECTOR, HUMAN SYSTEMS DEPARTMENT.
| NAVAL AIR WARFARE CENTER WEAPONS DIVISION, CHINA LAKE, CALIFORNIA | DIRECTOR, SOFTWARE ENGINEERING. DIRECTOR, RANGE DEPARTMENT. DIRECTOR, ELECTRONIC WARFARE/COMBAT SYSTEMS.
|  | DIRECTOR, WEAPONS AND ENERGETICS DEPARTMENT.
|  | EXECUTIVE DIRECTOR, NAVAL AIR WARFARE CENTER WEAPONS DIVISION/DIRECTOR, RESEARCH ENGINEERING.
| NAVAL SHIPYARDS | NUCLEAR ENGINEERING AND PLANNING MANAGER; PORTSMOUTH NAVAL SHIPYARD. NAVAL SHIPYARD NUCLEAR ENGINEERING AND PLANNING MANAGER, NORFOLK NAVAL SHIPYARD.
|  | NUCLEAR ENGINEERING AND PLANNING MANAGER, PUGET SOUND NAVAL SHIPYARD.
| NAVAL SURFACE WARFARE CENTER | DIVISION TECHNICAL DIRECTOR, NAVAL SURFACE WARFARE CENTER DAHLGREN DIVISION.
| NAVAL SURFACE WARFARE CENTER, CARDEROCK DIVISION | DIVISION TECNICAL DIRECTOR, NAVAL SURFACE WARFARE CENTER, CARDEROCK DIVISION.
| NAVAL SURFACE WARFARE CENTER, CRANE DIVISION | DIVISION TECHNICAL DIRECTOR, NAVAL SURFACE WARFARE CENTER, CRANE DIVISION.
| NAVAL SURFACE WARFARE CENTER, DAHLGREN DIVISION | DIVISION TECHNICAL DIRECTOR, NAVAL SURFACE WARFARE CENTER PANAMA CITY DIVISION.
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION.
| NAVAL UNDERSEA WARFARE CENTER DIVISION, KEYPORT, WASHINGTON | DIVISION TECHNICAL DIRECTOR, NAVAL UNDERSEA WARFARE CENTER DIVISION KEYPORT.
| NAVAL UNDERSEA WARFARE CENTER DIVISION, NEWPORT, RHODE ISLAND | DIVISION TECHNICAL DIRECTOR, NAVAL UNDERSEA WARFARE CENTER DIVISION NEWPORT.
| FLEET AND INDUSTRIAL SUPPLY CENTERS | VICE COMMANDER, GLOBAL LOGISTICS SUPPORT.
| NAVY SUPPLY INFORMATION SYSTEMS ACTIVITY | DIRECTOR OF FINANCE/COMPTROLLER.
| WEAPON SYSTEMS SUPPORT | VICE COMMANDER, NAVY SUPPLY WEAPON SYSTEMS SUPPORT.
| NAVAL RESEARCH LABORATORY | SUPERINTENDENT, TACTICAL ELECTRONIC WARFARE DIVISION. ASSOCIATE DIRECTOR OF RESEARCH FOR BUSINESS OPERATIONS.
|  | ASSOCIATE DIRECTOR OF RESEARCH FOR OCEAN AND ATMOSPHERIC SCIENCE AND TECHNOLOGY.
|  | ASSOCIATE DIRECTOR OF RESEARCH FOR SYSTEMS.
|  | SUPERINTENDENT, SPACE SYSTEMS DEVELOPMENT DEPARTMENT.
|  | DIRECTOR, NAVAL CENTER FOR SPACE TECHNOLOGY.
|  | SUPERINTENDENT, MARINE METEROLOGY DIVISION.
|  | SUPERINTENDENT, OPTICAL SCIENCES DIVISION.
|  | SUPERINTENDENT, ACOUSTICS DIVISION.
|  | SUPERINTENDENT, MARINE GEOSCIENCES DIVISION.
|  | SUPERINTENDENT, OCEANOGRAPHY DIVISION.
|  | SUPERINTENDENT, SPACECRAFT ENGINEERING DEPARTMENT.
|  | SUPERINTENDENT, SPACE SCIENCES DIVISION.
|  | SUPERINTENDENT,PLASMA PHYSICS DIVISION.
|  | SUPERINTENDENT, ELECTRONICS SCIENCE AND TECHNOLOGY DIVISION.
|  | SUPERINTENDENT, RADAR DIVISION.
|  | SUPERINTENDENT, REMOTE SENSING DIVISION.
|  | SUPERINTENDANT, INFORMATION TECHNOLOGY DIVISION.
|  | SUPERINTENDENT, MATERIAL SCIENCE AND TECHNOLOGY DIVISION.
|  | DIRECTOR OF RESEARCH.
|  | ASSOCIATE DIRECTOR OF RESEARCH FOR MATERIAL SCIENCE AND COMPONENT TECHNOLOGY.
| OFFICE OF CIVILIAN HUMAN RESOURCES | DIRECTOR, OFFICE OF CIVILIAN HUMAN RESOURCES. DIRECTOR, HUMAN RESOURCES SYSTEMS AND ANALYTICS.
|  | DIRECTOR, HUMAN RESOURCES OPERATIONS.
|  | DIRECTOR, HUMAN RESOURCES POLICY AND PROGRAMS DEPARTMENT.
| PROGRAM EXECUTIVE OFFICERS | DEPUTY PROGRAM EXEUCTIVE OFFICER FOR UNMANNED AVIATION PROGRAMS. DIRECTOR, PRODUCTION DEPLOYMENT AND FLEET READINESS.
|  | DIRECTOR FOR ABOVE WATER SENSORS DIRECTORATE.
|  | EXECUTIVE DIRECTOR, COMBATANTS, PROGRAM EXECUTIVE OFFICERS SHIPS.
|  | EXECUTIVE DIRECTOR, PROGRAM EXECUTIVE OFFICERS FOR AIRCRAFT CARRIERS.
|  | DEPUTY PROGRAM EXECUTIVE OFFICERS FOR STRIKE WEAPONS.
|  | DEPUTY PROGRAM EXECUTIVE OFFICERS FOR TACTICAL AIR PROGRAMS.
|  | EXECUTIVE DIRECTOR, PROGRAM EXECUTIVE OFFICERS FOR INTEGRATED WARFARE SYSTEMS.
|  | EXECUTIVE DIRECTOR, PROGRAM EXECUTIVE OFFICE SUBMARINES.
|  | EXECUTIVE DIRECTOR, PROGRAM EXECUTIVE OFFICE FOR SPACE SYSTEMS.
|  | EXECUTIVE DIRECTOR FOR COMMAND, CONTROL, COMMUNICATIONS, COMPUTERS AND INTELLIGENCE (C4I).
|  | EXECUTIVE DIRECTOR, PROGRAM EXECUTIVE OFFICE, LITTORAL COMBAT SHIPS.
|  | PROGRAM EXECUTIVE OFFICER (ENTERPRISE INFORMATION SYSTEMS).
|  | DIRECTOR, DEVELOPMENT AND INTEGRATION.
|  | DEPUTY PROGRAM EXECUTIVE OFFICERS, AIR ASSAULT AND SPECIAL MISSION.
|  | EXECUTIVE DIRECTOR, AMPHIBIOUS, AUXILIARY AND SEALIFT SHIPS, PROGRAM EXECUTIVE OFFICERS SHIPS.
| STRATEGIC SYSTEMS PROGRAMS | BRANCH HEAD REENTRY SYSTEMS BRANCH. TECHNICAL PLANS AND PAYLOADS INTEGRATION OFFICER.
|  | HEAD, RESOURCES BRANCH (COMPTROLLER) AND DEPUTY DIRECTOR, PLANS AND PROGRAM DIVISION.
|  | ASSISTANT FOR MISSILE ENGINEERING SYSTEMS.
|  | ASSISTANT FOR SYSTEMS INTEGRATION AND COMPATIBILITY.
|  | ASSISTANT FOR SHIPBOARD SYSTEMS.
|  | ASSISTANT FOR MISSILE PRODUCTION, ASSEMBLY AND OPERATIONS.
|  | DIRECTOR, PLANS AND PROGRAMS DIVISION.
|  | CHIEF ENGINEER.
|  | DIRECTOR, INTEGRATED NUCLEAR WEAPONS SAFETY AND SECURITY.
|  | COUNSEL, STRATEGIC SYSTEMS PROGRMAS.
| NAVAL CRIMINAL INVESTIGATIVE SERVICE | CRIMINAL INVESTIGATOR, EXECUTIVE ASSISTANT DIRECTOR FOR CRIMINAL OPERATIONS. CRIMINAL INVESTIGATOR, EXECUTIVE ASSISTANT DIRECTOR FOR ATLANTIC OPERATIONS.
|  | DIRECTOR, NAVAL CRIMINAL INVESTIGATIVE SERVICE.
|  | CRIMINAL INVESTIGATOR, EXECUTIVE ASSISTANT DIRECTOR FOR PACIFIC OPERATIONS.
|  | CRIMINAL INVESTIGATOR, EXECUTIVE ASSISTANT DIRECTOR FOR GLOBAL OPERATIONS.
|  | CRMINIAL INVESTIGATOR, EXECUTIVE ASSISTANT DIRECTOR FOR MANAGEMENT AND ADMINISTRATION.
|  | CRIMINAL INVESTIGATOR, DEPUTY DIRECTOR, NAVAL CRIMINIAL INVESTIGATIVE SERVICE.
| OFFICE OF THE ASSISTANT SECRETARY OF NAVY (ENERGY, INSTALLATIONS AND ENVIRONMENT) | ASSISTANT GENERAL COUNSEL (ENERGY, INSTALLATIONS AND ENVIRONMENT). DEPUTY ASSISTANT SECRETARY OF THE NAVY.
| OFFICE OF THE ASSISTANT SECRETARY OF NAVY (FINANCIAL MANAGEMENT AND COMPTROLLER) | DEPUTY ASSISTANT SECRETARY OF THE NAVY FOR FINANCIAL OPERATIONS. ASSOCIATE DIRECTOR, OFFICE OF BUDGET/FISCAL MANAGEMENT DIVISION.
|  | ASSISTANT GENERAL COUNSEL (FINANCIAL MANAGEMENT AND COMPTROLLER).
|  | DIRECTOR, INVESTMENT AND DEVELOPMENT DIVISION.
|  | DIRECTOR, BUDGET AND POLICY AND PROCEDURES DIVISION.
|  | SPECIAL ASSISTANT.
|  | DEPUTY ASSISTANT SECRETARY OF THE NAVY (FINANCIAL POLICY AND SYSTEMS).
|  | DIRECTOR, POLICY AND PROCEDURES.
|  | DEPUTY ASSISTANT SECRETARY OF THE NAVY FOR COST AND ECONOMICS.
|  | PRINCIPAL DEPUTY ASSISTANT SECRETARY OF THE NAVY FINANCIAL MANGEMENT AND COMPTROLLER.
|  | DIRECTOR, CIVILIAN RESOURCES AND BUSINESS AFFAIRS DIVISION.
| OFFICE OF THE ASSISTANT SECRETARY OF NAVY (MANPOWER AND RESERVE AFFAIRS) | DEPUTY ASSISTANT SECRETARY OF THE NAVY (RESERVE AFFAIRS AND TOTAL FORCE INTEGRATION). PRINCIPAL DEPUTY MANPOWER AND RESERVE AFFAIRS. DEPUTY ASSISTANT SECRETARY OF THE NAVY (CIVILIAN HUMAN RESOURES).
|  | ASSISTANT GENERAL COUNSEL (MANPOWER AND RESERVE AFFAIRS).
| OFFICE OF THE ASSISTANT SECRETARY OF THE NAVY (RESEARCH, DEVELOPMENT AND ACQUISITION) | PROGRAM EXECUTIVE OFFICER, LAND SYSTEMS MARINE CORPS. DEPUTY FOR TEST AND EVALUATION. DEPUTY ASSISTANT SECRETARY OF THE NAVY (COMMAND, CONTROL, COMMUNICATIONS, COMPUTERS AND INTELLIGENCE) SPACE).
|  | EXECUTIVE DIRECTOR, F-35, JOINT PROGRAM OFFICE.
|  | DEPUTY ASSISTANT SECRETARY OF THE NAVY (SHIPS).
|  | PROGRAM EXECUTIVE OFFICER FOR DEFENSE HEALTHCARE MANAGEMENT SYSTEMS.
|  | CHIEF OF STAFF/POLICY.
|  | PRINCIPAL CIVILIAN DEPUTY ASSISTANT SECRETARY OF THE NAVY (ACQUISITION WORKFORCE).
|  | ASSISTANT GENERAL COUNSEL (RESEARCH, DEVELOPMENT AND ACQUISITION).
|  | EXECUTIVE DIRECTOR, DEPUTY ASSISTANT SECRETARY OF THE NAVY (ACQUISITION AND PROCUREMENT).
|  | DEPUTY ASSISTANT SECRETARY OF THE NAVY (MANAGEMENT AND BUDGET).
|  | EXECUTIVE DIRECTOR, NAVY INTERNATIONAL PROGRAMS OFFICE.
| OFFICE OF THE GENERAL COUNSEL | COUNSEL, MILITARY SEALIFT COMMAND. ASSISTANT GENERAL COUNSEL (INTELLIGENCE LAW).
|  | SPECIAL COUNSEL FOR LITIGATION.
|  | ASSISTANT GENERAL COUNSEL (ACQUISITION INTEGRITY).
| OFFICE OF THE NAVAL INSPECTOR GENERAL | DEPUTY NAVAL INSPECTOR GENERAL. DEPUTY INSPECTOR GENERAL OF THE MARINE CORPS.
| OFFICE OF THE AUDITOR GENERAL | DEPUTY OF BUSINESS OPERATIONS/OFFICE OF BUSINESS TRANSFORMATION. PRINCIPAL DIRECTOR DEPUTY UNDER SECRETARY OF THE NAVY (POLICY).
|  | CHIEF INFORMATION OFFICER.
|  | SENIOR DIRECTOR FOR SECURITY.
|  | SENIOR DIRECTOR, INTEGRATION SUPPORT DIRECTORATE.
|  | SENIOR DIRECTOR (POLICY AND STRATEGY).
|  | DEPUTY DIRECTOR, INTEGRATION SUPPORT DIRECTORATE.
|  | SENIOR DIRECTOR FOR SECURITY.
| SPACE AND NAVAL WARFARE SYSTEMS CENTER | ASSISTANT AUDITOR GENERAL OF THE NAVY FOR RESEARCH DEVELOPMENT AND ACQUISITION. DEPUTY AUDITOR GENERAL OF THE NAVY.
|  | ASSISTANT AUDITOR GENERAL FOR INSTALLATION AND ENVIRONMENT AUDITS.
|  | ASSISTANT AUDITOR GENERAL FOR MANPOWER AND RESERVE AFFAIRS AUDITS.
|  | AUDITOR GENERAL OF THE NAVY.
|  | ASSISTANT AUDITOR GENERAL FOR MANPOWER & RESERVE AFFAIRS.
|  | ASSISTANT AUDITOR GENERAL FOR FINANCIAL MANAGEMENT AND COMPTROLLER AUDITS.
| SPACE AND NAVAL WARFARE SYSTEMS COMMAND | COUNSEL, SPACE AND NAVAL WARFARE SYSTEMS COMMAND. COMPTROLLER/BUSINESS RESOURCE MANAGER.
|  | DIRECTOR, SCIENCE AND TECHNOLOGY.
|  | EXECUTIVE DIRECTOR.
| SPACE AND NAVAL WARFARE SYSTEMS CENTER, CHARLESTON | EXECUTIVE DIRECTOR.
OFFICE OF THE SECRETARY OF DEFENSE OFFICE OF THE INSPECTOR GENERAL | DEPARTMENT OF DEFENSE PAYMENTS AND ACCOUNTING OPERATIONS | ASSISTANT INSPECTOR GENERAL FOR CONTRACT MANAGEMENT AND PAYMENTS.
| FINANCIAL MANAGEMENT AND REPORTING | ASSISTANT INSPECTOR GENERAL FOR FINANCIAL MANAGEMENT AND REPORTING.
| OFFICE OF THE PRINCIPAL DEPUTY INSPECTOR GENERAL FOR AUDITING | PRINCIPAL ASSISTANT INSPECTOR GENERAL FOR AUDITING.
| READINESS, OPERATIONS AND SUPPORT | ASSISTANT INSPECTOR GENERAL FOR READINESS AND CYBER OPERATIONS.
| DEFENSE CRIMINAL INVESTIGATIVE SERVICE | ASSISTANT INSPECTOR GENERAL FOR INVESTIGATIONS.
| AUDIT POLICY AND OVERSIGHT | ASSISTANT INSPECTOR GENERAL FOR AUDIT POLICY AND OVERSIGHT.
| INVESTIGATIVE POLICY AND OVERSIGHT | ASSISTANT INSPECTOR GENERAL FOR INVESTIGATIVE POLICY AND OVERSIGHT.
| DEPUTY INSPECTOR GENERAL FOR ADMINISTRATIVE INVESTIGATIONS | DEPUTY INSPECTOR GENERAL ADMINISTRATIVE INVESTIGATIONS.
| DEPUTY INSPECTOR GENERAL FOR AUDITING | DEPUTY INSPECTOR GENERAL FOR AUDITING. ASSISTANT INSPECTOR GENERAL FOR ACQUISITION AND SUSTAINMENT MANAGEMENT.
| DEPUTY INSPECTOR GENERAL FOR INTELLIGENCE AND SPECIAL PROGRAM ASSESSMENTS | DEPUTY INSPECTOR GENERAL FOR INTELLIGENCE AND SPECIAL PROGRAM ASSESSMENTS.
| DEPUTY INSPECTOR GENERAL FOR INVESTIGATIONS | DEPUTY INSPECTOR GENERAL FOR INVESTIGATIONS. DEPUTY DIRECTOR DEFENSE CRIMINAL INVESTIGATIVE SERVICE.
| DEPUTY INSPECTOR GENERAL FOR POLICY AND OVERSIGHT | DEPUTY INSPECTOR GENERAL FOR POLICY AND OVERSIGHT.
| DEPUTY INSPECTOR GENERAL FOR SPECIAL PLANS AND OPERATIONS | DEPUTY INSPECTOR GENERAL FOR SPECIAL PLANS AND OPERATIONS.
| OFFICE OF THE GENERAL COUNSEL | GENERAL COUNSEL.
| OFFICE OF THE INSPECTOR GENERAL | ASSISTANT INSPECTOR GENERAL FOR INVESTIGATIONS/DEPUTY DIRECTOR DEFENSE CRIMINAL INVESTIGATIVE SERVICE. DEPUTY CHIEF OF STAFF.
|  | DEPUTY INSPECTOR GENERAL FOR OVERSEAS CONTINGENCY OPERATIONS.
|  | PRINCIPAL DEPUTY INSPECTOR GENERAL.
DEFENSE NUCLEAR FACILITIES SAFETY BOARD | DEFENSE NUCLEAR FACILITIES SAFETY BOARD | TECHNICAL DIRECTOR. DEPUTY TECHNICAL DIRECTOR.
|  | DEPUTY GENERAL COUNSEL.
|  | DEPUTY GENERAL MANAGER.
|  | ASSOCIATE TECHNICAL DIRECTOR FOR ENGINEERING PERFORMANCE.
|  | ASSOCIATE TECHNICAL DIRECTOR FOR NUCLEAR FACILITY DESIGN AND INFRASTRUCTURE.
|  | ASSOCIATE TECHNICAL DIRECTOR FOR NUCLEAR MATERIALS PROCESSING AND STABILIZATION.
|  | ASSOCIATE TECHNICAL DIRECTOR FOR NUCLEAR PROGRAMS & ANALYSIS.
|  | ASSOCIATE TECHNICAL DIRECTOR FOR NUCLEAR WEAPON PROGRAMS.
DEPARTMENT OF EDUCATION | FEDERAL STUDENT AID | CHIEF FINANCIAL OFFICER.
| INSTITUTE OF EDUCATION SCIENCES | ASSOCIATE COMMISSIONER, ASSESSMENTS DIVISION.
| OFFICE FOR CIVIL RIGHTS | ENFORCEMENT DIRECTOR (3). DEPUTY ASSISTANT SECRETARY FOR ENFORCEMENT.
| OFFICE OF MANAGEMENT | DEPUTY DIRECTOR OF HUMAN RESOURCES. CHAIRPERSON, EDUCATION APPEAL BOARD.
|  | DIRECTOR OF HUMAN RESOURCES.
|  | DIRECTOR OF SECURITY, FACILITIES AND LOGISTICAL SERVICES.
| OFFICE OF THE CHIEF FINANCIAL OFFICER | DIRECTOR, CONTRACTS AND ACQUISITIONS MANAGEMENT. DEPUTY CHIEF ACQUISITION OFFICER AND SENIOR PROCUREMENT EXECUTIVE.
|  | DEPUTY CHIEF FINANCIAL OFFICER, FINANCIAL MANAGEMENT.
|  | DIRECTOR, FINANCIAL IMPROVEMENT AND POST AUDIT OPERATIONS.
| OFFICE OF THE CHIEF INFORMATION OFFICER | DIRECTOR, INFORMATION ASSURANCE SERVICES AND CHIEF INFORMATION SECURITY OFFICER. CHIEF INFORMATION OFFICER.
| OFFICE OF THE GENERAL COUNSEL | ASSISTANT GENERAL COUNSEL FOR EDUCTIONAL EQUITY. ASSISTANT GENERAL COUNSEL FOR BUSINESS AND ADMINISTRATION LAW.
|  | ASSISTANT GENERAL COUNSEL, DIVISION OF POSTSECONDARY EDUCATION ASSISTANT GENERAL COUNSEL, Division of POSTSECONDARY EDUCATION.
DEPARTMENT OF EDUCATION OFFICE OF THE INSPECTOR GENERAL | OFFICE OF THE INSPECTOR GENERAL | DEPUTY ASSISTANT INSPECTOR GENERAL FOR INVESTIGATION SERVICES. COUNSEL TO THE INSPECTOR GENERAL.
|  | DEPUTY INSPECTOR GENERAL.
|  | DEPUTY ASSISTANT INSPECTOR GENERAL FOR AUDIT SERVICES.
|  | ASSISTANT INSPECTOR GENERAL FOR INVESTIGATION SERVICES.
|  | ASSISTANT INSPECTOR GENERAL FOR INFORMATION TECHNOLOGY AUDITS AND COMPUTER CRIME INVESTIGATIONS.
|  | ASSISTANT INSPECTOR GENERAL FOR MANAGEMENT SERVICES.
|  | ASSISTANT INSPECTOR GENERAL FOR AUDIT SERVICES.
DEPARTMENT OF ENERGY | ENVIRONMENTAL MANAGEMENT CONSOLIDATED BUSINESS CENTER | CHIEF COUNSEL.
| SAVANNAH RIVER OPERATIONS OFFICE | ASSOCIATE DEPUTY MANAGER.
| ADVANCED RESEARCH PROJECTS AGENCY—ENERGY | CHIEF COUNSEL.
| ASSISTANT SECRETARY FOR CONGRESSIONAL AND INTERGOVERNMENTAL AFFAIRS | CHIEF OPERATIONS OFFICER.
| ASSISTANT SECRETARY FOR ENERGY EFFICIENCY AND RENEWABLE ENERGY | DIRECTOR FOR PROCUREMENT SERVICES DIVISION.
| ASSISTANT SECRETARY FOR ENVIRONMENTAL MANAGEMENT | DIRECTOR, SPECIAL PROJECTS OFFICE. SITE MANAGER, OAK RIDGE. SENIOR ADVISOR FOR INTERNATIONAL MORTALITY DATABASE ON DISKETTE (IMDP).
|  | SENIOR PROJECT MANAGEMENT ADVISOR.
|  | SENIOR MANAGEMENT ANALYST ADVISOR.
|  | DIRECTOR FOR REGULATORY, INTERGOVERNMENTAL AND STAKEHOLDER ENGAGEMENT.
|  | SENIOR LIAISON ADVISOR FOR FIELD OPERATIONS.
|  | SENIOR LABORATORY ADVISOR.
| ASSISTANT SECRETARY FOR FOSSIL ENERGY | CHIEF INFORMATION OFFICER AND CHIEF SECURITY OFFICER. DIRECTOR, OFFICE OF STRATEGIC PLANNING AND GLOBAL ENGAGEMENT.
|  | EXECUTIVE DIRECTOR, RESEARCH AND INNOVATIONS.
|  | EXECUTIVE DIRECTOR, TECHNOLOGY DEVELOPMENT AND INTEGRATION.
|  | DEPUTY DIRECTOR AND CHIEF RESEARCH OFFICER.
|  | DEPUTY DIRECTOR, LABORATORY OPERATIONS AND CHIEF OPERATING OFFICER.
|  | DEPUTY DIRECTOR, SCIENCE AND TECHNOLOGY STRATEGIC PLANS AND PROGRAMS.
|  | EXECUTIVE DIRECTOR, OFFICE OF FINANCE, ACQUISITION AND CHIEF FINANCIAL OFFICER.
|  | CHIEF COUNSEL.
|  | DEPUTY EXECUTIVE DIRECTOR, TECHNOLOGY DEVELOPMENT AND INTEGRATION.
|  | PROJECT MANAGER, STRATEGIC PETROLEUM RESERVE.
|  | DIRECTOR, OFFICE OF RESEARCH.
| ASSISTANT SECRETARY FOR INTERNATIONAL AFFAIRS | DIRECTOR, OFFICE OF EUROPEAN AND EURASIAN AFFAIRS. DIRECTOR, OFFICE OF AFRICAN AND MIDDLE EASTERN AFFAIRS.
|  | DEPUTY ASSISTANT SECRETARY FOR ASIA AND THE AMERICAS.
|  | DEPUTY ASSISTANT SECRETARY FOR MIDDLE EAST, AFRICA AND EURASIA.
|  | DIRECTOR, OFFICE OF EAST ASIAN AFFAIRS.
| ASSISTANT SECRETARY FOR NUCLEAR ENERGY | ASSOCIATE DEPUTY ASSISTANT SECRETARY FOR NUCLEAR FACILITY OPERATIONS. DEPUTY MANAGER FOR OPERATIONS SUPPORT.
|  | ASSOCIATE PRINCIPAL DEPUTY ASSISTANT SECRETARY, OFFICE OF NUCLEAR ENERGY.
|  | DIRECTOR, OFFICE OF INNOVATIVE NUCLEAR RESEARCH.
|  | CHIEF OPERATING OFFICER.
|  | DIRECTOR, OFFICE OF USED NUCLEAR FUEL DISPOSITION RESEARCH AND DEVELOPMENT.
|  | ASSOCIATE DEPUTY ASSISTANT SECRETARY FOR NUCLEAR REACTOR TECHNOLOGIES.
|  | DIRECTOR, OFFICE OF LIGHT WATER REACTOR DEPLOYMENT.
|  | DIRECTOR, OFFICE OF ADVANCED REACTOR TECHNOLOGIES.
|  | DEPUTY DIRECTOR, OFFICE OF ADVANCED REACTOR CONCEPTS.
| ASSOCIATE UNDER SECRETARY FOR ENVIRONMENT, HEALTH, SAFETY AND SECURITY | CHIEF OPERATING OFFICER. DEPUTY ASSOCIATE UNDER SECRETARY FOR SECURITY. SENIOR ADVISOR. DIRECTOR, OFFICE OF ENVIRONMENTAL PROTECTION SUSTAINIABILITY.
|  | DIRECTOR, OFFICE OF NUCLEAR SAFETY.
| CHICAGO OFFICE | DEPUTY MANAGER, CHICAGO OFFICE. MANAGER, CHICAGO OFFICE.
|  | ASSISTANT MANAGER, ACQUISITION AND ASSISTANCE.
|  | CHIEF FINANCIAL OFFICER.
| IDAHO OPERATIONS OFFICE | DEPUTY MANAGER FOR IDAHO CLEANUP PROJECT. DEPUTY MANAGER FOR ADMINISTRATIVE SUPPORT, CHIEF FINANCIAL OFFICER.
|  | MANAGER, IDAHO OPERATIONS OFFICE.
|  | CHIEF COUNSEL.
|  | ASSOCIATE DEPUTY MANAGER, IDAHO.
| LOAN PROGRAMS OFFICE | CHIEF COUNSEL. DIRECTOR, RISK MANAGEMENT.
|  | DIRECTOR, PORTFOLIO MANAGEMENT DIVISION.
| OAK RIDGE OFFICE | SITE MANAGER, OAK RIDGE NATIONAL LABORATORY SITE OFFICE. SITE MANAGER, THOMAS JEFFERSON NATIONAL ACCELERATOR FACILITY.
|  | CHIEF FINANCIAL OFFICER.
|  | ASSISTANT MANAGER FOR ADMINISTRATION.
|  | CHIEF COUNSEL.
| OFFICE OF ENTERPRISE ASSESSMENTS | DIRECTOR, OFFICE OF ENVIRONMENT, SAFETY AND HEALTH ASSESSMENTS. DEPUTY DIRECTOR, OFFICE OF INDEPENDENT ENTERPRISE ASSESSMENTS.
|  | DEPUTY DIRECTOR, OFFICE OF ENVIRONMENT, SAFETY AND HEALTH ASSESSMENTS.
|  | DIRECTOR, OFFICE OF SECURITY ASSESSMENTS.
| OFFICE OF GENERAL COUNSEL | ASSISTANT GENERAL COUNSEL FOR TECHNOLOGY TRANSFER AND INTELLECTUAL PROPERTY. DEPUTY GENERAL COUNSEL.
|  | ASSISTANT GENERAL COUNSEL FOR GENERAL LAW.
|  | DEPUTY GENERAL COUNSEL FOR TRANSACTIONS, TECHNOLOGY, AND CONTRACTOR HUMAN RESOURCES.
|  | ASSISTANT GENERAL COUNSEL FOR PROCUREMENT AND FINANCIAL ASSISTANCE.
|  | ASSISTANT GENERAL COUNSEL FOR ENFORCEMENT.
| OFFICE OF HEARINGS AND APPEALS | DIRECTOR, HEARINGS AND APPEALS (CHIEF ADMINISTRATIVE JUDGE). DEPUTY DIRECTOR, HEARINGS AND APPEALS (DEPUTY CHIEF ADMINISTRATIVE JUDGE).
| OFFICE OF INTELLIGENCE AND COUNTERINTELLIGENCE | DEPUTY DIRECTOR FOR INTELLIGENCE ANALYSIS. DEPUTY DIRECTOR FOR COUNTERINTELLIGENCE.
|  | DIRECTOR, OFFICE OF INTELLIGENCE AND COUNTERINTELLIGENCE.
|  | PRINCIPAL DEPUTY DIRECTOR, OFFICE OF INTELLIGENCE AND COUNTERINTELLIGENCE.
| OFFICE OF POLICY | DEPUTY DIRECTOR FOR ENERGY FINANCE INCENTIVES AND PROGRAM ANALYSIS. CHIEF OPERATING OFFICER.
|  | DEPUTY ASSISTANT SECRETARY FOR POLICY ANALYSIS.
| OFFICE OF SCIENCE | SITE OFFICE MANAGER, ARGONNE. SITE OFFICE MANAGER, FERMI.
|  | DIRECTOR OFFICE OF SCIENTIFIC AND TECHNICAL INFORMATION.
|  | SITE OFFICE MANAGER, PRINCETON.
|  | SITE OFFICE MANAGER, BROOKHAVEN.
|  | MANAGER.
|  | DIRECTOR, OFFICE OF WORKFORCE MANAGEMENT.
|  | BERKELEY/SLAC SITE OFFICE MANAGER.
|  | CHIEF COUNSEL.
| RICHLAND OPERATIONS OFFICE | CHIEF COUNSEL.
| UNITED STATES ENERGY INFORMATION ADMINISTRATION | SENIOR ADVISOR (2). DIRECTOR, OFFICE OF INFORMATION TECHNOLOGY (CHIEF INFORMATION OFFICER).
|  | DIRECTOR, OFFICE OF PETROLEUM AND BIOFUELS STATISTICS.
|  | ASSISTANT ADMINISTRATOR FOR ENERGY STATISTICS.
|  | DIRECTOR, OFFICE OF SURVEY DEVELOPMENT AND STATISTICAL INTEGRATION.
|  | DIRECTOR, OFFICE OF ELECTRICITY, COAL, NUCLEAR AND RENEWABLE.
|  | DIRECTOR, OFFICE OF ELECTRICITY, RENEWABLES AND URANIUM STATISTICS.
|  | DIRECTOR, OFFICE OF ENERGY MARKETS AND FINANCIAL ANALYSIS.
|  | DIRECTOR, OFFICE OF ENERGY CONSUMPTION AND EFFICIENCY ANALYSIS.
|  | DIRECTOR, OFFICE OF PETROLEUM GAS AND BIOFUELS ANALYSIS.
|  | DIRECTOR, OFFICE OF INTEGRATED AND INTERNATIONAL ENERGY ANALYSIS.
|  | ASSISTANT ADMINISTRATOR FOR COMMUNICATIONS.
|  | ASSISTANT ADMINISTRATOR FOR RESOURCES AND TECHNOLOGY MANAGEMENT.
|  | ASSISTANT ADMINISTRATOR FOR ENERGY ANALYSIS.
|  | DIRECTOR, OFFICE OF OIL, GAS AND COAL SUPPLY STATISTICS.
|  | DEPUTY ADMINISTRATOR, ENERGY INFORMATION ADMINISTRATION.
| ASSOCIATE ADMINISTRATOR FOR ACQUISITION AND PROJECT MANAGEMENT | DIRECTOR, OFFICE OF ENTERPRISE PROJECT MANAGEMENT. ASSOCIATE ADMINISTRATOR FOR ACQUISITION AND PROJECT MANAGEMENT.
|  | DIRECTOR, ACQUISITION MANAGEMENT.
|  | DEPUTY DIRECTOR, ACQUISITION MANAGEMENT.
|  | FEDERAL PROJECT DIRECTOR (URANIUM PROCESSING FACILITY).
|  | DEPUTY ASSOCIATE ADMINISTRATOR FOR ACQUISITION AND PROJECT MANAGEMENT.
| ASSOCIATE ADMINISTRATOR FOR DEFENSE NUCLEAR SECURITY | DIRECTOR OFFICE OF SECURITY OPERATIONS AND PROGRAMMATIC PLANNING.
| DEPUTY ADMINISTRATOR FOR DEFENSE NUCLEAR NONPROLIFERATION | ASSOCIATE ASSISTANT DEPUTY ADMINISTRATOR, OFFICE OF NONPROLIFERATION AND ARMS CONTROL.
|  | ASSOCIATE ASSISTANT DEPUTY ADMINISTRATOR FOR DEFENSE NUCLEAR NONPROLIFERATION RESEARCH & DEVELOPMENT.
|  | CHIEF SCIENCE AND TECHNOLOGY OFFICER.
|  | SENIOR PROGRAM ADVISOR.
|  | ASSISTANT DEPUTY ADMINISTRATOR FOR NONPROLIFERATION RESEARCH AND DEVELOPMENT.
|  | ASSOCIATE ASSISTANT DEPUTY ADMINISTATOR ADMINISTRATOR FOR DEFENSE NUCLEAR NONPROLIFERATION RESEARCH AND DEVELOPMENT.
|  | CHIEF OF STAFF AND OPERATIONS.
|  | ASSOCIATE ASSISTANT DEPUTY ADMINISTATOR MATERIEL MANAGEMENT AND MINIMIZATION.
| DEPUTY ADMINISTRATOR FOR DEFENSE PROGRAMS | URANIUM PROGRAM MANAGER. PROGRAM EXECUTIVE OFFICER FOR LIFE EXTENSION PROGRAMS.
|  | MANAGER, KANSAS CITY SITE OFFICE.
|  | MANAGER, SAVANNAH RIVER SITE OFFICE.
|  | DEPUTY MANAGER, LOS ALAMOS SITE OFFICE.
|  | ASSISTANT DEPUTY ADMINISTRATOR FOR STOCKPILE MANAGEMENT.
|  | ASSISTANT DEPUTY ADMINISTRATOR FOR RESEARCH DEVELOPMENT, TEST AND EVALUATION.
|  | PRINCIPAL ASSISTANT DEPUTY ADMINISTRATOR FOR DEFENSE PROGRAM.
|  | ASSISTANT DEPUTY ADMINISTRATOR FOR MAJOR MODERNIZATION PROGRAMS.
|  | MANAGER, NATIONAL NUCLEAR SECURITY ADMINISTRATION PRODUCTION OFFICE.
|  | DIRECTOR, OFFICE OF INERTIAL CONFINEMENT FUSION.
|  | ASSISTANT DEPUTY ADMINISTRATOR FOR SYSTEMS ENGINEERING INTEGRATION.
|  | MANAGER, NEVADA FIELD OFFICE.
|  | DEPUTY MANAGER, NEVADA SITE OFFICE.
|  | MANAGER, LOS ALAMOS SITE OFFICE.
|  | DEPUTY ADMINISTRATOR FOR DEFENSE PROGRAMS.
| DEPUTY ADMINISTRATOR FOR NAVAL REACTORS | DIRECTOR, NUCLEAR TECHNOLOGY DIVISION. DEPUTY DIRECTOR, NUCLEAR TECHNOLOGY DIVISION.
|  | SENIOR NAVAL REACTORS REPRESENTATIVE (GROTON, CONNECTICUT).
|  | DIRECTOR, ACQUISITION DIVISION.
|  | DIRECTOR, GOVERNMENTAL AFFAIRS.
|  | PROGRAM MANAGER, VIRGINIA CLASS SUBMARINE AND UNITED STATES/UNITED KINGDOM TECHNOLOGY EXCHANGE.
|  | SENIOR NAVAL REACTOS REPRESENTATIVE (PUGET SOUND NAVAL SHIP).
|  | PROGRAM MANAGER, ADVANCED TECHNOLOGY DEVELOPMENT.
|  | DIRECTOR, REGULATORY AFFAIRS.
|  | PROGRAM MANAGER, NEW SHIP DESIGN.
|  | SENIOR NAVAL REACTORS REPRESENTATIVE (NEWPORT NEWS, VIRGINIA).
|  | DEPUTY DIRECTOR, NUCLEAR TECHNOLOGY DIVISION.
|  | DIRECTOR, INFORMATION TECHNOLOGY MANAGEMENT.
|  | ASSISTANT MANAGER FOR OPERATIONS.
|  | PROGRAM MANAGER FOR SURFACE SHIP NUCLEAR PROPULSION.
|  | MANAGER, NAVAL REACTORS LABORATORY FIELD OFFICE.
|  | SENIOR NAVAL REACTORS REPRESENTATIVE.
|  | DIRECTOR, REACTOR ENGINEERING DIVISION.
|  | DIRECTOR, COMMISSIONED SUBMARINE SYSTEMS DIVISION.
|  | DEPUTY DIRECTOR, ADVANCED SUBMARINE SYSTEMS DIVISION.
|  | PROGRAM MANAGER, PROTOTYPE AND MOORED TRAINING SHIP OPERATIONS AND INACTIVATION PROGRAM.
|  | DEPUTY DIRECTOR FOR NAVAL REACTORS.
|  | DIRECTOR, ADVANCED SUBMARINE SYSTEMS DIVISION.
|  | DIRECTOR, INSTRUMENTATION AND CONTROL DIVISION.
| NATIONAL NUCLEAR SECURITY ADMINISTRATION FIELD SITE OFFICES | URANIUM PROGRAM MANAGER. SENIOR POLICY ADVISOR. DEPUTY MANAGER, SANDIA FIELD OFFICE.
| OFFICE OF MANAGEMENT AND BUDGET | DIRECTOR, OFFICE OF HUMAN RESOURCES. ASSOCIATE ADMINISTRATOR FOR MANAGEMENT AND BUDGET.
| OFFICE OF THE GENERAL COUNSEL | GENERAL COUNSEL.
| OFFICE OF PROJECT MANAGEMENT OVERSIGHT AND ASSESSMENT | DEPUTY DIRECTOR, OFFICE OF PROJECT MANAGEMENT OVERSIGHT AND ASSESSMENTS. DIRECTOR, OFFICE OF PROJECT ASSESSMENTS.
|  | DIRECTOR, OFFICE OF PROJECT MANAGEMENT OVERSIGHT AND ASSESSMENTS.
| ASSISTANT SECRETARY FOR ELECTRICITY DELIVERY AND ENERGY RELIABILITY | DEPUTY ASSISTANT SECRETARY FOR CYBERSECURITY EMERGING THREATS RESEARCH.
| OFFICE OF MANAGEMENT | DIRECTOR, SUSTAINABILITY PERFORMANCE OFFICE. DIRECTOR, OFFICE OF HEADQUARTERS PROCUREMENT SERVICES.
|  | DIRECTOR.
|  | DIRECTOR, OFFICE OF POLICY.
|  | DIRECTOR, OFFICE OF ADMINISTRATION.
|  | DIRECTOR, OFFICE OF MANAGEMENT.
| OFFICE OF THE CHIEF FINANCIAL OFFICER | DIRECTOR, OFFICE OF CORPORATE INFORMATION SYSTEMS. SENIOR ADVISOR.
|  | ASSISTANT DIRECTOR, FINANCIAL POLICY AND INTERNAL CONTROLS.
|  | DIRECTOR, OFFICE OF FINANCE AND OVERSIGHT.
|  | DEPUTY DIRECTOR, OFFICE OF FINANCE AND ACCOUNTING.
|  | ASSISTANT DEPUTY CHIEF FINANCIAL OFFICER, FINANCIAL SYSTEM INTEGRATION.
|  | DEPUTY DIRECTOR, BUDGET ANALYSIS AND COORDINATION.
|  | DEPUTY CHIEF FINANCIAL OFFICER.
|  | DIRECTOR, OFFICE OF BUDGET.
|  | DEPUTY DIRECTOR, BUDGET OPERATIONS.
| OFFICE OF THE CHIEF HUMAN CAPITAL OFFICER | DIRECTOR, CORPORATE HUMAN RESOURCES OPERATIONS. DIRECTOR, OFFICE OF TALENT MANAGEMENT.
|  | DIRECTOR, HUMAN CAPITAL POLICY AND ACCOUNTABILITY.
|  | DIRECTOR, HUMAN RESOURCES SHARED SERVICE CENTER, SCIENCE AND ENERGY.
|  | DIRECTOR, HUMAN RESOURCES SHARED SERVICE CENTER FOR MANAGEMENT AND PERFORMANCE.
|  | DIRECTOR, OFFICE OF HUMAN CAPITAL MANAGEMENT.
|  | DIRECTOR, OFFICE OF STRATEGY, ANALYSIS, AND PROJECT MANAGEMENT.
|  | DEPUTY CHIEF, HUMAN CAPITAL OFFICER.
|  | DIRECTOR, OFFICE OF CORPORATE EXECUTIVE MANAGEMENT.
| OFFICE OF THE CHIEF INFORMATION OFFICER | CHIEF PRIVACY OFFICER.
| NATIONAL NUCLEAR SECURITY ADMINISTRATION | ASSOCIATE DEPUTY ADMINISTRATOR FOR SECURE TRANSPORTATION. DIRECTOR, OFFICE OF ADVANCED SIMULATION AND COMPUTING AND INSTITUTIONAL RESEARCH AND DEVELOPMENT PROGRAMS.
|  | DIRECTOR, OFFICE OF ADVANCED SIMULATION AND COMPUTING AND INSTITUTIONAL RESEARCH AND DEVELOPMENT PROGRAMS.
|  | DIRECTOR, OFFICE OF EXPERIMENTAL SCIENCES.
|  | ASSOCIATE ASSISTANT DEPUTY ADMNISTRATOR FOR MATERIEL MANAGEMENT AND MINIMIZATION.
|  | DEPUTY ASSOCIATE ADMINISTRATOR FOR EMERGENCY MANAGEMENT AND PREPAREDNESS.
|  | DEPUTY ASSOCIATE ADMINISTRATOR FOR EXTERNAL AFFAIRS.
|  | DEPUTY GENERAL COUNSEL FOR GENERAL LAW AND LITIGATION.
|  | DIRECTOR, OFFICE OF EMPLOYEE EMPOWERMENT.
|  | DIRECTOR, REGULATORY AFFAIRS.
|  | DIRECTOR, MANAGEMENT AND ADMINISTRATION.
|  | DEPUTY MANAGER, LIVERMORE FIELD OFFICE.
|  | FEDERAL PROJECT DIRECTOR, CHEMISTRY AND METALLURGY RESEARCH REPLACEMENT FACILITY.
|  | DEPUTY ASSOCIATE ADMINISTRATOR FOR ENTERPRISE STEWARDSHIP.
|  | DIRECTOR, OFFICE OF NUCLEAR INCIDENT RESPONSE.
|  | DEPUTY ASSOCIATE ADMINISTRATOR FOR SAFETY.
|  | CHIEF OF STAFF AND ASSOCIATE PRINCIPAL DEPUTY ADMINISTRATOR.
|  | DIRECTOR, OFFICE OF POLICY.
|  | ASSISTANT DEPUTY ADMINISTRATOR, OFFICE OF GLOBAL MATERIEL SECURITY.
|  | ASSOCIATE DEPUTY ADMINISTRATOR, OFFICE OF MATERIEL MANAGEMENT AND MINIMIZATION.
|  | ASSOCIATE ASSISTANT DEPUTY ADMINISTRATOR, OFFICE OF GLOBAL MATERIEL SECURITY.
|  | MANAGER, SANDIA FIELD OFFICE.
|  | MANAGER, LIVERMORE FIELD OFFICE.
|  | DIRECTOR, OFFICE OF COST ESTIMATING AND PROGRAM EVALUATION.
|  | ASSISTANT DEPUTY ADMINISTRATOR FOR STRATEGIC PARTNERSHIP PROGRAMS.
|  | ASSOCIATE ADMINISTRATOR FOR INFORMATION MANAGEMENT AND CHIEF INFORMATION OFFICER.
|  | DEPUTY DIRECTOR, INSTRUMENTATION AND CONTROL DIVISION.
|  | CHIEF SCIENTIST.
| BONNEVILLE POWER ADMINISTRATION | EXECUTIVE VICE PRESIDENT, BUSINESS TRANSFORMATION. VICE PRESIDENT, TRANSMISSION SYSTEM OPERATIONS.
|  | VICE PRESIDENT, ENERGY EFFICIENCY.
|  | GENERAL COUNSEL/EXECUTIVE VICE PRESIDENT.
|  | VICE PRESIDENT, BULK MARKETING.
|  | EXECUTIVE VICE PRESIDENT AND CHIEF FINANCIAL OFFICER.
|  | VICE PRESIDENT FOR GENERATION ASSET MANAGEMENT.
|  | VICE PRESIDENT, ENVIRONMENT, FISH AND WILDLIFE.
|  | VICE PRESIDENT, NORTHWEST REQUIREMENTS MARKETING.
|  | VICE PRESIDENT FOR TRANSMISSION FIELD SERVICES.
|  | VICE PRESIDENT, PLANNING AND ASSET MANAGEMENT.
|  | VICE PRESIDENT FOR ENGINEERING AND TECHNICAL SERVICES.
|  | SENIOR VICE PRESIDENT FOR POWER SERVICES.
|  | VICE PRESIDENT, TRANSMISSION MARKETING AND SALES.
|  | EXECUTIVE VICE PRESIDEN, INFORMATION TECHNOLOGY AND CHIEF INFORMATION OFFICER.
|  | SENIOR VICE PRESIDENT, TRANSMISSION SERVICES.
|  | CHIEF OPERATING OFFICER.
|  | DEPUTY ADMINISTRATOR.
| SOUTHWESTERN POWER ADMINISTRATION | DEPUTY ADMINISTRATOR, OFFICE OF POWER DELIVERY.
| WESTERN AREA POWER ADMINISTRATION | REGIONAL MANAGER, ROCKY MOUNTAIN REGION. TRANSMISSION INFRASTRUCTURE PROGRAM MANAGER.
|  | DESERT SOUTHWEST REGIONAL MANAGER.
|  | CHIEF INFORMATION OFFICER.
|  | CHIEF OPERATING OFFICER.
|  | CHIEF FINANCIAL OFFICER.
|  | REGIONAL MANAGER, SIERRA NEVADA REGION.
|  | REGIONAL MANAGER, UPPER GREAT PLAINS REGION.
|  | REGIONAL MANAGER, ROCKY MOUNTAIN REGION.
|  | GENERAL COUNSEL.
DEPARTMENT OF ENERGY OFFICE OF THE INSPECTOR GENERAL | DEPARTMENT OF ENERGY OFFICE OF THE INSPECTOR GENERAL | ASSISTANT INSPECTOR GENERAL FOR INVESTIGATIONS. DEPUTY INSPECTOR GENERAL FOR INVESTIGATIONS.
|  | COUNSEL TO THE INSPECTOR GENERAL.
|  | ASSISTANT INSPECTOR GENERAL MANAGEMENT AND ADMINISTRATION.
|  | ASSISTANT INSPECTOR GENERAL FOR AUDITS AND INSPECTIONS—EAST.
|  | DEPUTY ASSISTANT INSPECTOR GENERAL FOR AUDITS AND INSPECTIONS—WEST.
|  | PRINCIPAL DEPUTY INSPECTOR GENERAL.
|  | ASSISTANT INSPECTOR GENERAL FOR AUDITS AND ADMINISTRATION.
|  | ASSISTANT INSPECTOR GENERAL FOR AUDITS AND INSPECTIONS—WEST.
|  | DEPUTY ASSISTANT INSPECTOR GENERAL FOR AUDITS—CENTRAL.
|  | DEPUTY ASSISTANT INSPECTOR GENERAL FOR AUDITS AND INSPECTIONS—EAST.
|  | DEPUTY INSPECTOR GENERAL FOR AUDITS AND INSPECTIONS.
ENVIRONMENTAL PROTECTION AGENCY | OFFICE OF ADMINISTRATIVE AND EXECUTIVE SERVICES | DIRECTOR, OFFICE OF ADMINISTRATIVE AND EXECUTIVE SERVICES.
| OFFICE OF ENVIRONMENTAL INFORMATION | DIRECTOR, OFFICE OF DIGITAL SERVICES AND TECHNICAL ARCHITECTURE.
| OFFICE OF THE ASSISTANT ADMINISTRATOR FOR RESEARCH AND DEVELOPMENT | DIRECTOR, OFFICE OF SCIENCE INFORMATION MANAGEMENT. DEPUTY DIRECTOR FOR MANAGEMENT OFFICE OF SCIENCE INFORMATION MANAGEMENT.
|  | DIRECTOR, ENVIRONMENTAL TECHNOLOGY INNOVATION CLUSTER PROGRAM.
| OFFICE OF THE CHIEF FINANCIAL OFFICER | DEPUTY CHIEF FINANCIAL OFFICER. ASSOCIATE CHIEF FINANCIAL OFFICER.
| NATIONAL CENTER FOR ENVIRONMENTAL ASSESSMENT—CINCINNATI, OHIO | DIRECTOR, NATIONAL CENTER FOR ENVIRONMENTAL ASSESSMENT.
| NATIONAL CENTER FOR ENVIRONMENTAL ASSESSMENT—WASHINGTON, DISTRICT OF COLUMBIA | DIRECTOR, NATIONAL CENTER FOR ENVIRONMENTAL ASSESSMENT.
| NATIONAL CENTER FOR ENVIRONMENTAL RESEARCH | DEPUTY DIRECTOR FOR MANAGEMENT.
| GULF ECOLOGY DIVISION | DIRECTOR, GULF ECOLOGY DIVISION.
| MID-CONTINENT ECOLOGY DIVISION | DIRECTOR, MID-CONTINENT ECOLOGY DIVISION.
| WESTERN ECOLOGY DIVISION | DIRECTOR, WESTERN ECOLOGY DIVISION.
| AIR AND ENERGY MANAGEMENT DIVISION | DIRECTOR, AIR AND ENERGY MANAGEMENT DIVISION.
| ENVIRONMENTAL APPEALS BOARD | ENVIRONMENTAL APPEALS JUDGE (4).
| OFFICE OF ACQUISITION MANAGEMENT | DIRECTOR, OFFICE OF ACQUISITION MANAGEMENT (2). DEPUTY DIRECTOR, OFFICE OF ACQUISITION MANAGEMENT.
| OFFICE OF ADMINISTRATION | DIRECTOR, SAFETY AND SUSTAINABILITY DIVISION. DIRECTOR, FACILITIES MANAGEMENT AND SERVICES DIVISION.
|  | DIRECTOR, OFFICE OF ADMINISTRATION.
|  | DEPUTY DIRECTOR, OFFICE OF ADMINISTRATION.
| OFFICE OF ADMINISTRATION AND RESOURCES MANAGEMENT—CINCINNATI OHIO | DIRECTOR, OFFICE OF ADMINISTRATION AND RESOURCES MANAGEMENT.
| OFFICE OF ADMINISTRATION AND RESOURCES MANAGEMENT—RESEARCH TRIANGLE PARK, NORTH CAROLINA | DIRECTOR, OFFICE OF ADMINISTRATION AND RESOURCES MANAGEMENT.
| OFFICE OF GRANTS AND DEBARMENT | DIRECTOR, OFFICE OF GRANTS AND DEBARMENT. DEPUTY DIRECTOR, OFFICE OF GRANTS AND DEBARMENT.
| OFFICE OF HUMAN RESOURCES | DIRECTOR, OFFICE OF HUMAN RESOURCES. DEPUTY DIRECTOR, OFFICE OF HUMAN RESOURCES.
|  | DIRECTOR, EXECUTIVE RESOURCES DIVISION.
| OFFICE OF POLICY AND RESOURCE MANAGEMENT | DIRECTOR, OFFICE OF POLICY AND RESOURCE MANAGEMENT.
| OFFICE OF AIR QUALITY PLANNING AND STANDARDS | DIRECTOR, AIR QUALITY POLICY DIVISION. DIRECTOR, HEALTH AND ENVIRONMENTAL IMPACTS DIVISION.
|  | ASSOCIATE OFFICE DIRECTOR FOR PROGRAM INTEGRATION AND INTERNATIONAL AIR QUALITY ISSUES.
|  | DIRECTOR, SECTOR POLICIES AND PROGRAMS DIVISION.
|  | DIRECTOR, OUTREACH AND INFORMATION DIVISION.
|  | DIRECTOR, AIR QUALITY ASSESSMENT DIVISION.
| OFFICE OF ATMOSPHERIC PROGRAMS | DIRECTOR, CLIMATE CHANGE DIVISION. DIRECTOR, CLEAN AIR MARKETS DIVISION.
|  | DIRECTOR, CLIMATE PROTECTION PARTNERSHIP DIVISION.
| OFFICE OF RADIATION AND INDOOR AIR | DIRECTOR, RADIATION PROTECTION DIVISION. DIRECTOR, INDOOR ENVIRONMENTS DIVISION.
| OFFICE OF TRANSPORTATION AND AIR QUALITY | DIRECTOR, TESTING AND ADVANCED TECHNOLOGY DIVISION. DIRECTOR, TRANSPORTATION AND CLIMATE DIVISION.
|  | DIRECTOR, ASSESSMENT AND STANDARDS DIVISION.
|  | DIRECTOR, COMPLIANCE DIVISION.
| OFFICE OF PESTICIDE PROGRAMS | DIRECTOR, FIELD AND EXTERNAL AFFAIRS DIVISION. DIRECTOR, ANTIMICROBIALS DIVISION.
|  | DIRECTOR, BIOPESTICIDES AND POLLUTION PREVENTION DIVISION.
|  | DIRECTOR, HEALTH EFFECTS DIVISION.
|  | DIRECTOR, ENVIRONMENTAL FATE AND EFFECTS DIVISION.
|  | DIRECTOR, PESTICIDES RE-EVALUATION DIVISION.
|  | DIRECTOR, BIOLOGICAL AND ECONOMIC ANALYSIS DIVISION.
|  | DIRECTOR, REGISTRATION DIVISION.
|  | DIRECTOR, INFORMATION TECHNOLOGY AND RESOURCES MANAGEMENT DIVISION.
| OFFICE OF POLLUTION PREVENTION AND TOXICS | DIRECTOR, CHEMISTRY, ECONOMICS AND SUSTAINABLE STRATEGIES DIVISION. DIRECTOR, RISK ASSESSMENT DIVISION.
|  | DIRECTOR, INFORMATION MANAGEMENT DIVISION.
|  | DIRECTOR, CHEMICAL CONTROL DIVISION.
|  | DIRECTOR, NATIONAL PROGRAM CHEMICALS DIVISION.
|  | DIRECTOR, TOXICS RELEASE INVENTORY DIVISION.
|  | DIRECTOR, ENVIRONMENTAL ASSISTANCE DIVISION.
| OFFICE OF PROGRAM MANAGEMENT OPERATIONS | ASSOCIATE ASSISTANT ADMINISTRATOR (MANAGEMENT).
| FEDERAL FACILITIES ENFORCEMENT OFFICE | DIRECTOR, FEDERAL FACILITIES ENFORCEMENT OFFICE.
| OFFICE OF CIVIL ENFORCEMENT | DEPUTY DIRECTOR, OFFICE OF CIVIL ENFORCEMENT. DIRECTOR, WATER ENFORCEMENT DIVISION.
|  | DIRECTOR, AIR ENFORCEMENT DIVISION.
|  | DIRECTOR, OFFICE OF CIVIL ENFORCEMENT.
| OFFICE OF COMPLIANCE | DEPUTY DIRECTOR, OFFICE OF COMPLIANCE. DIRECTOR, OFFICE OF COMPLIANCE.
|  | DIRECTOR, MONITORING ASSISTANCE AND MEDIA PROGRAMS DIVISION.
|  | DIRECTOR, ENFORCEMENT TARGETING AND DATA DIVISION.
|  | DIRECTOR, NATIONAL ENFORCEMENT TRAINING INSTITUTE.
| OFFICE OF CRIMINAL ENFORCEMENT, FORENSICS AND TRAINING | DIRECTOR, OFFICE OF CRIMINAL ENFORCEMENT, FORENSICS AND TRAINING. DIRECTOR, NATIONAL ENFORCEMENT INVESTIGATIONS CENTER.
|  | DEPUTY DIRECTOR, OFFICE OF CRIMINAL ENFORCEMENT, FORENSICS AND TRAINING.
|  | DIRECTOR, CRIMINAL INVESTIGATION DIVISION.
| OFFICE OF ENVIRONMENTAL JUSTICE | DIRECTOR, OFFICE OF ENVIRONMENTAL JUSTICE.
| OFFICE OF FEDERAL ACTIVITIES | DIRECTOR, INTERNATIONAL COMPLIANCE ASSURANCE DIVISION.
| OFFICE OF SITE REMEDIATION ENFORCEMENT | DIRECTOR, OFFICE OF SITE REMEDIATION ENFORCEMENT. DEPUTY DIRECTOR, OFFICE OF SITE REMEDIATION ENFORCEMENT.
| OFFICE OF RESOURCE CONSERVATION AND RECOVERY | DIRECTOR, MATERIELS RECOVERY AND WASTE MANAGEMENT DIVISION. DIRECTOR, PROGRAM IMPLEMENTATION AND INFORMATION DIVISION.
|  | DIRECTOR, RESOURCE CONSERVATION AND SUSTAINABILITY DIVISION.
| OFFICE OF SUPERFUND REMEDIATION AND TECHNOLOGY INNOVATION | DIRECTOR, TECHNOLOGY INNOVATION AND FIELD SERVICES DIVISION. DIRECTOR, ASSESSMENT AND REMEDIATION DIVISION.
|  | DIRECTOR, RESOURCES MANAGEMENT DIVISION.
| NATIONAL CENTER FOR ENVIRONMENTAL ASSESSMENT | DEPUTY DIRECTOR FOR MANAGEMENT.
| NATIONAL EXPOSURE RESEARCH LABORATORY | DIRECTOR, NATIONAL EXPOSURE RESEARCH LABORATORY. DEPUTY DIRECTOR FOR MANAGEMENT.
| NATIONAL HEALTH AND ENVIRONMENTAL EFFECTS RESEARCH LABORATORY | ASSOCIATE DIRECTOR FOR ECOLOGY. DEPUTY DIRECTOR FOR MANAGEMENT. DIRECTOR, NATIONAL HEALTH AND ENVIRONMENTAL EFFECTS RESEARCH LABORATORY.
| NATIONAL HOMELAND SECURITY RESEARCH CENTER | DEPUTY DIRECTOR FOR MANAGEMENT, NATIONAL HOMELAND SECURITY RESEARCH CENTER. DIRECTOR, NATIONAL HOMELAND SECURITY RESEARCH CENTER.
| NATIONAL RISK MANAGEMENT RESEARCH LABORATORY | DIRECTOR, NATIONAL RISK MANAGEMENT RESEARCH LABORATORY. DEPUTY DIRECTOR FOR MANAGEMENT.
| OFFICE OF ADMINISTRATIVE AND RESEARCH SUPPORT | DIRECTOR, OFFICE OF ADMINISTRATIVE AND RESEARCH SUPPORT. DEPUTY DIRECTOR, OFFICE OF ADMINISTRATIVE AND RESEARCH SUPPORT.
| OFFICE OF PROGRAM ACCOUNTABILITY AND RESOURCE MANAGEMENT | DIRECTOR, OFFICE OF PROGRAM ACCOUNTABILITY AND RESOURCE MANAGEMENT.
| OFFICE OF THE SCIENCE ADVISOR | DIRECTOR, OFFICE OF THE SCIENCE ADVISOR.
| OFFICE OF GROUND WATER AND DRINKING WATER | DIRECTOR, DRINKING WATER PROTECTION DIVISION. DIRECTOR, STANDARDS AND RISK MANAGEMENT DIVISION.
| OFFICE OF SCIENCE AND TECHNOLOGY | DIRECTOR, ENGINEERING AND ANALYSIS DIVISION. DIRECTOR, STANDARDS AND HEALTH PROTECTION DIVISION.
|  | DIRECTOR, HEALTH AND ECOLOGICAL CRITERIA DIVISION.
| OFFICE OF WASTE WATER MANAGEMENT | DIRECTOR, WATER PERMITS DIVISION. DIRECTOR, WATER INFRASTRUCTURE DIVISION.
| OFFICE OF WETLANDS, OCEANS AND WATERSHEDS | DIRECTOR, OCEANS, WETLANDS AND COMMUNITIES DIVISION. DIRECTOR, WATERSHED RESTORATION, ASSESSMENT AND PROTECTION DIVISION.
| OFFICE OF BUDGET | DIRECTOR, OFFICE OF BUDGET.
| OFFICE OF PLANNING, ANALYSIS AND ACCOUNTABILITY | DIRECTOR, OFFICE OF PLANNING, ANALYSIS AND ACCOUNTABILITY.
| OFFICE OF TECHNOLOGY SOLUTIONS | DIRECTOR, OFFICE OF TECHNOLOGY SOLUTIONS.
| OFFICE OF THE CONTROLLER | DEPUTY CONTROLLER. CONTROLLER.
| OFFICE OF DEPUTY GENERAL COUNSEL | DIRECTOR, RESOURCES MANAGEMENT OFFICE.
| OFFICE OF REGIONAL COUNSEL, REGION 1—BOSTON, MASSACHUSETTS | REGIONAL COUNSEL.
| OFFICE OF REGIONAL COUNSEL, REGION 10—SEATTLE, WASHINGTON | REGIONAL COUNSEL.
| OFFICE OF REGIONAL COUNSEL, REGION 2—NEW YORK, NEW YORK | REGIONAL COUNSEL.
| OFFICE OF REGIONAL COUNSEL, REGION 3—PHILADELPHIA, PENNSYLVANIA | REGIONAL COUNSEL.
| OFFICE OF REGIONAL COUNSEL, REGION 4—ATLANTA, GEORGIA | REGIONAL COUNSEL.
| OFFICE OF REGIONAL COUNSEL, REGION 5—CHICAGO, ILLINOIS | REGIONAL COUNSEL.
| OFFICE OF REGIONAL COUNSEL, REGION 6—DALLAS, TEXAS | REGIONAL COUNSEL.
| OFFICE OF REGIONAL COUNSEL, REGION 7—LENEXA, KANSAS | REGIONAL COUNSEL.
| OFFICE OF REGIONAL COUNSEL, REGION 8—DENVER, COLORADO | REGIONAL COUNSEL.
| OFFICE OF REGIONAL COUNSEL, REGION 9—SAN FRANCISCO, CALIFORNIA | REGIONAL COUNSEL.
| REGIONAL OFFICES, REGION 1—BOSTON, MASSACHUSETTS | DIRECTOR, OFFICE OF ECOSYSTEM PROTECTION. DIRECTOR, OFFICE OF SITE REMEDIATION RESTORATION.
|  | DIRECTOR, OFFICE OF ENVIRONMENTAL STEWARDSHIP.
|  | ASSISTANT REGIONAL ADMINISTRATOR FOR ADMINISTRATION AND RESOURCES MANAGEMENT.
| REGIONAL OFFICES, REGION 10—SEATTLE, WASHINGTON | ASSISTANT REGIONAL ADMINISTRATOR FOR MANAGEMENT PROGRAMS. DIRECTOR, OFFICE OF ENVIRONMENTAL CLEANUP.
|  | DIRECTOR, OFFICE OF ENVIRONMENTAL REVIEW AND ASSESSMENT.
|  | DIRECTOR, OFFICE OF WATER AND WATERSHEDS.
|  | DIRECTOR, OFFICE OF AIR AND WASTE.
|  | DIRECTOR, OFFICE OF COMPLIANCE AND ENFORCEMENT.
| REGIONAL OFFICES, REGION 2—NEW YORK, NEW YORK | DIRECTOR, ENFORCEMENT AND COMPLIANCE ASSISTANCE DIVISION. DIRECTOR, CLEAN AIR AND SUSTAINABILITY DIVISION.
|  | DIRECTOR, CLEAN WATER DIVISION.
|  | DIRECTOR, OFFICE OF EMERGENCY AND REMEDIAL RESPONSE.
|  | ASSISTANT REGIONAL ADMINISTRATOR FOR POLICY AND MANAGEMENT.
|  | DIRECTOR, CARIBBEAN ENVIRONMENTAL PROTECTION DIVISION.
|  | DIRECTOR, DIVISION OF ENVIRONMENTAL SCIENCE AND ASSESSMENT.
| REGIONAL OFFICES , REGION 3—PHILADELPHIA, PENNSYLVANIA | DIRECTOR, WATER PROTECTION DIVISION. DIRECTOR, ENVIRONMENTAL ASSESSMENT AND INNOVATION DIVISION.
|  | ASSISTANT REGIONAL ADMINISTRATOR FOR POLICY AND MANAGEMENT.
|  | DIRECTOR, AIR PROTECTION DIVISION.
|  | DIRECTOR, LAND AND CHEMICALS DIVISION.
|  | DIRECTOR, CHESAPEAKE BAY PROGRAM OFFICE.
|  | DIRECTOR, HAZARDOUS SITE CLEANUP DIVISION.
| REGIONAL OFFICES, REGION 4—ATLANTA, GEORGIA | DIRECTOR, RESOURCE CONSERVATION AND RECOVERY ACT DIVISION. DIRECTOR, SUPERFUND DIVISION.
|  | ASSISTANT REGIONAL ADMINISTRATOR FOR POLICY AND MANAGEMENT.
|  | DIRECTOR, WATER PROTECTION DIVISION.
|  | DIRECTOR, AIR, PESTICIDES AND TOXICS MANAGEMENT DIVISION.
|  | DIRECTOR, SCIENCE AND ECOSYSTEM SUPPORT DIVISION.
|  | DIRECTOR, GULF OF MEXICO PROGRAM.
| REGIONAL OFFICES, REGION 5—CHICAGO, ILLINOIS | DIRECTOR, GREAT LAKES NATIONAL PROGRAM OFFICE. DIRECTOR, WATER DIVISION.
|  | ASSISTANT REGIONAL ADMINISTRATOR FOR RESOURCES MANAGEMENT.
|  | DIRECTOR, LAND AND CHEMICALS DIVISION.
|  | DIRECTOR, SUPERFUND DIVISION.
|  | DIRECTOR, AIR AND RADIATION DIVISION.
| REGIONAL OFFICES, REGION 6—DALLAS, TEXAS | ASSISTANT REGIONAL ADMINISTRATOR FOR MANAGEMENT. DIRECTOR, COMPLIANCE ASSURANCE AND ENFORCEMENT DIVISION.
|  | DIRECTOR, SUPERFUND DIVISION.
|  | DIRECTOR, WATER DIVISION.
|  | DIRECTOR, MULTIMEDIA PLANNING AND PERMITTING DIVISION.
| REGIONAL OFFICES, REGION 7—LENEXA, KANSAS | ASSISTANT REGIONAL ADMINISTRATOR FOR POLICY AND MANAGEMENT. DIRECTOR, ENVIRONMENTAL SERVICES DIVISION.
|  | DIRECTOR, SUPERFUND DIVISION.
|  | DIRECTOR, AIR AND WASTE MANAGEMENT DIVISION.
|  | DIRECTOR, WATER, WETLANDS AND PESTICIDES DIVISON.
| REGIONAL OFFICES, REGION 8—DENVER, COLORADO | ASSISTANT REGIONAL ADMINISTRATOR FOR WATER PROTECTION. ASSISTANT REGIONAL ADMINISTRATOR FOR ECOSYSTEMS PROTECTION AND REMEDIATION.
|  | ASSISTANT REGIONAL ADMINISTRATOR FOR PARTNERSHIPS AND REGULATORY ASSISTANCE.
|  | ASSISTANT REGIONAL ADMINISTRATOR FOR TECHNICAL AND MANAGEMENT SERVICES.
| REGIONAL OFFICES, REGION 9—SAN FRANCISCO, CALIFORNIA | DIRECTOR, ENFORCEMENT DIVISION. ASSISTANT REGIONAL ADMINISTRATOR FOR ENVIRONMENTAL MANAGEMENT.
|  | DIRECTOR, LAND DIVISION.
|  | DIRECTOR, WATER DIVISION.
|  | DIRECTOR, AIR DIVISION.
|  | DIRECTOR, SUPERFUND DIVISION.
ENVIRONMENTAL PROTECTION AGENCY OFFICE OF THE INSPECTOR GENERAL | ENVIRONMENTAL PROTECTION AGENCY OFFICE OF THE INSPECTOR GENERAL | COUNSEL TO THE INSPECTOR GENERAL. ASSISTANT INSPECTOR GENERAL FOR MANAGEMENT. ASSISTANT INSPECTOR GENERAL FOR INVESTIGATIONS.
|  | ASSISTANT INSPECTOR GENERAL FOR PROGRAM EVALUATION.
|  | DEPUTY INSPECTOR GENERAL.
|  | ASSISTANT INSPECTOR GENERAL FOR AUDIT AND EVALUATION.
EQUAL EMPLOYMENT OPPORTUNITY COMMISSION | OFFICE OF FIELD PROGRAMS | NATIONAL SYSTEMIC INVESTIGATIONS EXECUTIVE ADVISOR. NATIONAL LEGAL/ENFORCEMENT EXECUTIVE ADVISOR.
|  | DISTRICT DIRECTOR (NEW YORK).
|  | DISTRICT DIRECTOR (ATLANTA).
|  | DISTRICT DIRECTOR (HOUSTON).
|  | DISTRICT DIRECTOR (SAN FRANCISCO).
|  | DISTRICT DIRECTOR (DALLAS).
|  | DISTRICT DIRECTOR (CHICAGO).
|  | DISTRICT DIRECTOR (ST LOUIS).
|  | DISTRICT DIRECTOR (MIAMI).
|  | DISTRICT DIRECTOR (INDIANAPOLIS).
|  | DISTRICT DIRECTOR (MEMPHIS).
|  | DISTRICT DIRECTOR (LOS ANGELES).
|  | DISTRICT DIRECTOR (BIRMINGHAM).
|  | DISTRICT DIRECTOR (PHOENIX).
|  | DISTRICT DIRECTOR (CHARLOTTE).
|  | NATIONAL MEDIATION EXECUTIVE ADVISOR.
|  | DISTRICT DIRECTOR (PHILADELPHIA).
| OFFICE OF THE INSPECTOR GENERAL | INSPECTOR GENERAL.
| FIELD COORDINATION PROGRAMS | DIRECTOR, FIELD COORDINATION PROGRAMS.
| FIELD MANAGEMENT PROGRAMS | DIRECTOR FIELD MANAGEMENT PROGRAMS.
FEDERAL COMMUNICATIONS COMMISSION | MEDIA BUREAU OFFICE OF INSPECTOR GENERAL | CHIEF, VIDEO DIVISION, MEDIA BUREAU. INSPECTOR GENERAL.
FEDERAL ENERGY REGULATORY COMMISSION | OFFICE OF ADMINISTRATIVE LITIGATION | DIRECTOR, LEGAL DIVISION. DIRECTOR, TECHNICAL DIVISION.
| OFFICE OF ENERGY PROJECTS | DIRECTOR OF DAM SAFETY AND INSPECTION.
| OFFICE OF ENFORCEMENT | CHIEF ACCOUNTANT AND DIRECTOR, DIVISION OF FINANCIAL REGULATIONS.
FEDERAL LABOR RELATIONS AUTHORITY | FEDERAL SERVICE IMPASSES PANEL | EXECUTIVE DIRECTOR, FEDERAL SERVICE IMPASSES PANEL.
| OFFICE OF MEMBER | CHIEF COUNSEL (2).
| OFFICE OF THE CHAIRMAN | SENIOR ADVISOR. CHIEF COUNSEL.
|  | DIRECTOR, POLICY AND PERFORMANCE MANAGEMENT.
|  | SOLICITOR.
| OFFICE OF THE EXECUTIVE DIRECTOR | EXECUTIVE DIRECTOR.
| OFFICE OF THE GENERAL COUNSEL | DEPUTY GENERAL COUNSEL (2).
| OFFICE OF THE CHAIRMAN | INSPECTOR GENERAL.
| OFFICE OF THE GENERAL COUNSEL | REGIONAL DIRECTOR-WASHINGTON, DISTRICT OF COLUMBIA. REGIONAL DIRECTOR, DENVER.
|  | REGIONAL DIRECTOR, SAN FRANCISCO.
|  | REGIONAL DIRECTOR, CHICAGO ILLINOIS.
|  | REGIONAL DIRECTOR—DALLAS.
|  | REGIONAL DIRECTOR—ATLANTA.
|  | REGIONAL DIRECTOR—BOSTON.
FEDERAL LABOR RELATIONS AUTHORITY OFFICE OF INSPECTOR GENERAL |  | INSPECTOR GENERAL.
FEDERAL MARITIME COMMISSION | OFFICE OF CONSUMER AFFAIRS AND DISPUTE RESOLUTION SERVICES | DIRECTOR, OFFICE OF CONSUMER AFFAIRS AND DISPUTE RESOLUTION SERVICES.
| OFFICE OF THE MANAGING DIRECTOR | DEPUTY MANAGING DIRECTOR. DIRECTOR, STRATEGIC PLANNING AND REGULATORY REVIEW.
| BUREAU OF CERTIFICATION AND LICENSING | DIRECTOR, BUREAU OF CERTIFICATION AND LICENSING.
| BUREAU OF ENFORCEMENT | DIRECTOR, BUREAU OF ENFORCEMENT.
| BUREAU OF TRADE ANALYSIS | DIRECTOR, BUREAU OF TRADE ANALYSIS.
| OFFICE OF THE INSPECTOR GENERAL | INSPECTOR GENERAL.
| OFFICE OF THE SECRETARY | SECRETARY.
FEDERAL MEDIATION AND CONCILIATION SERVICE | OFFICE OF THE DIRECTOR | DEPUTY DIRECTOR OF NATIONAL PROGRAMS AND INITIATIVES.
FEDERAL RETIREMENT THRIFT INVESTMENT BOARD |  | DIRECTOR OF RESOURCE MANAGEMENT. DIRECTOR OF COMMUNICATIONS AND EDUCATION.
|  | SENIOR ADVISOR FOR UNIFORMED SERVICES.
|  | DIRECTOR OF PARTICIPANT OPERATIONS AND POLICY.
|  | CHIEF FINANCIAL OFFICER.
|  | DIRECTOR OF ENTERPRISE RISK MANAGEMENT.
|  | CHIEF TECHNOLOGY OFFICER.
|  | CHIEF OPERATING OFFICER.
FEDERAL TRADE COMMISSION | BUREAU OF COMPETITION | DEPUTY DIRECTOR, BUREAU OF COMPETITION.
| BUREAU OF CONSUMER PROTECTION | DEPUTY DIRECTOR, BUREAU OF CONSUMER PROTECTION.
| OFFICE OF EXECUTIVE DIRECTOR | CHIEF INFORMATION OFFICER. DEPUTY EXECUTIVE DIRECTOR.
FEDERAL TRADE COMMISSION OFFICE OF THE INSPECTOR GENERAL |  | INSPECTOR GENERAL.
GENERAL SERVICES ADMINISTRATION | TECHNOLOGY TRANSFORMATION SERVICES | DIRECTOR, PUBLIC EXPERIENCE PORTFOLIO.
| FEDERAL ACQUISITION SERVICE | ASSISTANT COMMISSIONER FOR GENERAL SUPPLIES AND SERVICES CATEGORIES.
|  | DIRECTOR, TELECOMMUNICATIONS SERVICES.
|  | DIRECTOR OF TRAVEL, EMPLOYEE RELOCATION, AND TRANSPORTATION.
|  | ASSISTANT COMMISSIONER FOR INFORMATION TECHNOLOGY CATEGORY.
|  | DEPUTY ASSISTANT COMMISSIONER FOR ACQUISITION.
|  | DIRECTOR, FEDERAL SYSTEMS INTEGRATION AND MANAGEMENT CENTER.
|  | DIRECTOR, INFORMATION TECHNOLOGY SERVICES.
|  | ASSISTANT COMMISSIONER FOR SYSTEMS MANAGEMENT.
|  | DEPUTY ASSISTANT COMMISSIONER FOR CATEGORY MANAGEMENT.
|  | DIRECTOR OF SUPPLY CHAIN MANAGEMENT.
|  | DIRECTOR OF FLEET MANAGEMENT.
|  | ASSISTANT COMMISSIONER FOR ENTERPRISE STRATEGY MANAGEMENT.
|  | DIRECTOR, INFORMATION TECHNOLOGY SCHEDULE CONTRACT OPERATIONS.
|  | ASSISTANT COMMISSIONER FOR POLICY AND COMPLIANCE.
|  | ASSISTANT COMMISSIONER FOR ASSISTED ACQUISITION SERVICES.
|  | ASSISTANT COMMISSIONER FOR CUSTOMER AND STAKEHOLDER ENGAGEMENT.
|  | ASSISTANT COMMISSIONER FOR TRAVEL, TRANSPORTATION & LOGISTICS CATEGORIES.
|  | DEPUTY ASSISTANT COMMISSIONER FOR INFORMATION TECHNOLOGY CATEGORY.
| OFFICE OF GOVERNMENTWIDE POLICY | DEPUTY ASSOCIATE ADMINISTRATOR FOR ASSET AND TRANSPORTATION MANAGEMENT.
|  | DIRECTOR OF FEDERAL HIGH-PERFORMANCE GREEN BUILDINGS.
|  | DIRECTOR OF GENERAL SERVICES ACQUISITION POLICY, INTEGRITY AND WORKFORCE.
|  | DEPUTY CHIEF ACQUISITION OFFICER AND SENIOR PROCUREMENT EXECUTIVE.
|  | DIRECTOR OF GOVERNMENTWIDE ACQUISITION POLICY.
|  | DIRECTOR OF THE FEDERAL ACQUISITION INSTITUTE.
|  | PRINCIPAL DEPUTY FOR ASSET AND TRANSPORTATION MANAGEMENT.
|  | DIRECTOR, UNIFIED SHARED SERVICES MANAGEMENT.
|  | DEPUTY ASSOCIATE ADMINISTRATOR FOR INFORMATION, INTEGRITY AND ACCESS.
| OFFICE OF GENERAL SERVICES ADMINISTRATION INFORMATION TECHNOLOGY | ASSOCIATE CHIEF INFORMATION OFFICER FOR GOVERNMENTWIDE AND ENTERPRISE SOLUTIONS. DEPUTY ASSOCIATE CHIEF INFORMATION OFFICER.
|  | ASSOCIATE CHIEF INFORMATION OFFICER FOR CORPORATE INFORMATION TECHNOLOGY SERVICES.
|  | ASSOCIATE CHIEF INFORMATION OFFICER FOR PUBLIC BUILDINGS INFORMATION TECHNOLOGY SERVICES.
|  | CHIEF INFORMATION SECURITY OFFICER.
|  | ASSOCIATE CHIEF INFORMATION OFFICER FOR ENTERPRISE INFRASTRUCTURE.
|  | ASSOCIATE CHIEF INFORMATION OFFICER FOR ENTERPRISE PLANNING AND GOVERNANCE.
|  | ASSOCIATE CHIEF INFORMATION OFFICER FOR ACQUISITION INFORMATION TECHNOLOGY SERVICES.
| OFFICE OF HUMAN RESOURCES MANAGEMENT | CHIEF HUMAN CAPITAL OFFICER. DEPUTY CHIEF HUMAN CAPITAL OFFICER.
| OFFICE OF MISSION ASSURANCE | PRINCIPAL DEPUTY ASSOCIATE ADMINISTRATOR FOR MISSION ASSURANCE.
|  | ASSOCIATE ADMINISTRATOR FOR MISSION ASSURANCE.
| OFFICE OF THE ADMINISTRATOR | DIRECTOR, PRESIDENTIAL TRANSITION.
| OFFICE OF THE CHIEF FINANCIAL OFFICER | DEPUTY CHIEF FINANCIAL OFFICER. DIRECTOR OF BUDGET.
|  | DIRECTOR OF FINANCIAL MANAGEMENT.
|  | CHIEF FINANCIAL OFFICER.
|  | DIRECTOR OF REGIONAL FINANCIAL SERVICES.
|  | DIRECTOR, OFFICE OF ANALYTICS, PLANNING AND PERFORMANCE.
| PUBLIC BUILDINGS SERVICE | ASSISTANT COMMISSIONER FOR LEASING. ASSISTANT COMMISSIONER FOR ACQUISITION MANAGEMENT.
|  | ASSISTANT COMMISSIONER FOR PROJECT DELIVERY.
|  | ASSISTANT COMMISSIONER FOR REAL PROPERTY ASSET MANAGEMENT.
|  | CHIEF ARCHITECT.
|  | DEPUTY ASSISTANT COMMISSIONER FOR REAL PROPERTY ASSET MANAGEMENT.
|  | ASSISTANT COMMISSIONER FOR FACILITIES MANAGEMENT AND SERVICES PROGRAMS.
|  | ASSISTANT COMMISSIONER FOR REAL PROPERTY UTILIZATION AND DISPOSAL.
| REGIONAL ADMINISTRATORS, GREAT LAKES REGION | REGIONAL COMMISSIONER FOR FEDERAL ACQUISITION SERVICE. REGIONAL COMMISSIONER FOR PUBLIC BUILDINGS SERVICE.
| REGIONAL ADMINISTRATORS, GREATER SOUTHWEST REGION | REGIONAL COMMISSIONER FOR PUBLIC BUILDINGS SERVICE. REGIONAL COMMISSIONER FOR FEDERAL ACQUISITION SERVICE (2).
| REGIONAL ADMINISTRATORS, MID-ATLANTIC REGION | REGIONAL COMMISSIONER FOR FEDERAL ACQUISITION SERVICE. REGIONAL COMMISSIONER FOR PUBLIC BUILDINGS SERVICE.
| REGIONAL ADMINISTRATORS, NATIONAL CAPITAL REGION | DIRECTOR OF FACILITIES MANAGEMENT AND SERVICES PROGRAM. REGIONAL COMMISSIONER FOR FEDERAL ACQUISITION SERVICE.
|  | REGIONAL COMMISSIONER FOR PUBLIC BUILDINGS SERVICE.
|  | DIRECTOR OF PORTFOLIO MANAGEMENT AND REAL ESTATE.
|  | DEPUTY DIRECTOR OF PORTFOLIO MANAGEMENT AND LEASING.
|  | DIRECTOR OF PROJECT DELIVERY.
| REGIONAL ADMINISTRATORS, NEW ENGLAND REGION | REGIONAL COMMISSIONER FOR PUBLIC BUILDINGS SERVICE.
| REGIONAL ADMINISTRATORS, NORTHEAST AND CARIBBEAN REGION | REGIONAL COMMISSIONER FOR FEDERAL ACQUISITION SERVICE. REGIONAL COMMISSIONER FOR PUBLIC BUILDINGS SERVICE.
| REGIONAL ADMINISTRATORS, NORTHWEST/ARCTIC REGION | REGIONAL COMMISSIONER FOR PUBLIC BUILDINGS SERVICE. REGIONAL COMMISSIONER FOR FEDERAL ACQUISITION SERVICE.
| REGIONAL ADMINISTRATORS, PACIFIC RIM REGION | REGIONAL COMMISSIONER FOR PUBLIC BUILDINGS SERVICE. REGIONAL COMMISSIONER FOR FEDERAL ACQUISITION SERVICE.
| REGIONAL ADMINISTRATORS, ROCKY MOUNTAIN REGION | REGIONAL COMMISSIONER FOR FEDERAL ACQUISITION SERVICE. REGIONAL COMMISSIONER FOR PUBLIC BUILDINGS SERVICE.
| REGIONAL ADMINISTRATORS, SOUTHEAST SUNBELT REGION | REGIONAL COMMISSIONER FOR FEDERAL ACQUISITION SERVICE. REGIONAL COMMISSIONER FOR PUBLIC BUILDINGS SERVICE.
| REGIONAL ADMINISTRATORS, THE HEARTLAND REGION | REGIONAL COMMISSIONER FOR PUBLIC BUILDINGS SERVICE. REGIONAL COMMISSIONER FOR FEDERAL ACQUISITION SERVICE.
GENERAL SERVICES ADMINISTRATION OFFICE OF THE INSPECTOR GENERAL |  | ASSISTANT INSPECTOR GENERAL FOR INSPECTIONS. DEPUTY ASSISTANT INSPECTOR GENERAL FOR REAL PROPERTY AUDITS.
|  | DEPUTY INSPECTOR GENERAL.
|  | ASSISTANT INSPECTOR GENERAL FOR AUDITING.
|  | DEPUTY ASSISTANT INSPECTOR GENERAL FOR ACQUISITION PROGRAMS AUDITS.
|  | COUNSEL TO THE INSPECTOR GENERAL.
|  | ASSISTANT INSPECTOR GENERAL FOR INVESTIGATIONS.
|  | DEPUTY ASSISTANT INSPECTOR GENERAL FOR INVESTIGATIONS.
|  | ASSISTANT INSPECTOR GENERAL FOR ADMINISTRATION.
|  | ASSOCIATE INSPECTOR GENERAL.
GULF COAST ECOSYSTEM RESTORATION COUNCIL |  | DEPUTY EXECUTIVE DIRECTOR AND DIRECTOR OF PROGRAMS.
DEPARTMENT OF HEALTH AND HUMAN SERVICES | OFFICE OF PROGRAM SUPPORT NATIONAL INSTITUTE FOR OCCUPATIONAL SAFETY AND HEALTH | DIRECTOR OFFICE OF FINANCIAL MANAGEMENT. DEPUTY DIRECTOR FOR MANAGEMENT.
| CENTER FOR MEDICARE | DIRECTOR, MEDICARE CONTRACTOR MANAGEMENT GROUP.
| OFFICE OF THE ACTUARY | DIRECTOR, PARTS C AND D ACTUARIAL GROUP.
|  | DIRECTOR, OFFICE OF THE ACTUARY (CHIEF ACTUARY).
|  | DIRECTOR, MEDICARE AND MEDICAID COST ESTIMATES GROUP.
|  | DIRECTOR, NATIONAL HEALTH STATISTICS GROUP.
| OFFICE OF ACQUISITIONS AND GRANTS MANAGEMENT | DIRECTOR, OFFICE OF ACQUISITIONS AND GRANTS MANAGEMENT.
|  | DEPUTY DIRECTOR, OFFICE OF ACQUISITION AND GRANTS MANAGEMENT.
| OFFICE OF FINANCIAL MANAGEMENT | DIRECTOR OFFICE OF FINANCIAL MANAGEMENT.
|  | DEPUTY DIRECTOR OFFICE OF FINANCIAL MANAGEMENT.
|  | DIRECTOR, ACCOUNTING MANAGEMENT GROUP.
|  | DIRECTOR, FINANCIAL SERVICES GROUP.
| OFFICE OF INFORMATION TECHNOLOGY | DEPUTY DIRECTOR, OFFICE OF TECHNOLOGY SOLUTIONS.
|  | DIRECTOR, OFFICE OF TECHNOLOGY SOLUTIONS.
| AGENCY FOR HEALTHCARE RESEARCH AND QUALITY | EXECUTIVE OFFICER.
| CENTERS FOR DISEASE CONTROL AND PREVENTION | DIRECTOR, INFORMATION TECHNOLOGY SERVICES OFFICE. DIRECTOR, DIVISION OF EMERGENCY OPERATIONS.
|  | CHIEF OPERATING OFFICER.
|  | BUDGET OFFICER.
|  | DIRECTOR, OFFICE OF FINANCE AND ACCOUNTING.
|  | DIRECTOR OFFICE OF GRANTS SERVICES.
|  | DIRECTOR, PROCUREMENT AND GRANTS OFFICE.
|  | ISSUES ANALYSIS AND COORDINATION OFFICER.
|  | DIRECTOR, CENTERS FOR DISEASE CONTROL AND PREVENTION, WASHINGTON OFFICE.
|  | CHIEF INFORMATION SECURITY OFFICER.
|  | DIRECTOR, CENTER FOR GLOBAL HEALTH (2).
|  | DEPUTY DIRECTOR, CENTER FOR GLOBAL HEALTH (2).
|  | DIRECTOR, BUILDINGS AND FACILITIES OFFICE.
|  | CHIEF FINANCIAL OFFICER.
|  | DEPUTY CHIEF FINANCIAL OFFICER.
|  | CHIEF INFORMATION OFFICER.
| NATIONAL INSTITUTES OF HEALTH | DIRECTOR, OFFICE OF ACQUISITION AND LEGISTICS MANAGEMENT.
|  | DIRECTOR, OFFICE OF RESEARCH INFORMATION SYSTEMS.
|  | ASSOCIATE DIRECTOR FOR MANAGEMENT (3).
| OFFICE OF THE ASSISTANT SECRETARY FOR ADMINISTRATION | DIRECTOR, OFFICE OF PANDEMICS AND EMERGING THREATS.
| OFFICE OF THE ASSISTANT SECRETARY FOR HEALTH | DIRECTOR, OFFICE OF RESEARCH INTEGRITY.
| OFFICE OF THE ASSISTANT SECRETARY FOR PLANNING AND EVALUATION | ASSOCIATE DEPUTY ASSISTANT SECRETARY FOR PLANNING AND EVALUATION (HEALTH SERVICES POLICY).
| OFFICE OF THE GENERAL COUNSEL | DEPUTY ASSOCIATE GENERAL COUNSEL FOR ETHICS ADVICE & POLICY (ALTERNATE DESIGNATED AGENCY ETHICS OFFICIAL).
| OFFICE OF THE INSPECTOR GENERAL | DEPUTY INSPECTOR GENERAL FOR MANAGEMENT AND POLICY.
|  | PRINCIPAL DEPUTY INSPECTOR GENERAL.
|  | DEPUTY INSPECTOR GENERAL FOR LEGAL AFFAIRS.
| CENTER FOR BIOLOGICS EVALUATION AND RESEARCH | DIRECTOR, OFFICE OF COMPLIANCE AND BIOLOGICS QUALITY.
| CENTER FOR DEVICES AND RADIOLOGICAL HEALTH | DIRECTOR OFFICE OF COMPLIANCE.
| CENTER FOR DRUG EVALUATION AND RESEARCH | ASSOCIATE DIRECTOR FOR MANAGEMENT. DIRECTOR, OFFICE OF COMPLIANCE.
| CENTER FOR FOOD SAFETY AND APPLIED NUTRITION | DIRECTOR, OFFICE OF REGULATIONS AND POLICY.
| CENTER FOR VETERINARY MEDICINE | DIRECTOR, OFFICE OF SURVEILLANCE AND COMPLIANCE.
| OFFICE OF MANAGEMENT | DIRECTOR, OFFICE OF ACQUISITIONS AND GRANTS SERVICES.
| OFFICE OF REGULATORY AFFAIRS | ASSOCIATE COMMISSIONER FOR REGULATORY AFFAIRS.
|  | DIRECTOR OFFICE OF CRIMINAL INVESTIGATIONS.
| OFFICE OF THE COMMISSIONER | ASSISTANT COMMISSIONER FOR GLOBAL REGULATORY OPERATIONS.
| CENTER FOR INFORMATION TECHNOLOGY | DIRECTOR, DIVISION OF COMPUTER SYSTEM SERVICES. DIRECTOR, CENTER FOR INFORMATION TECHNOLOGY AND CHIEF INFORMATION OFFICER.
|  | DIRECTOR, OFFICE OF INFORMATION TECHNOLOGY SERVICES MANAGEMENT.
| NATIONAL CANCER INSTITUTE | DEPUTY DIRECTOR FOR MANAGEMENT.
| NATIONAL CENTER FOR ADVANCING TRANSLATIONAL SCIENCES | ASSOCIATE DIRECTOR FOR ADMINISTRATION.
| NATIONAL HEART, LUNG AND BLOOD INSTITUTE | ASSOCIATE DIRECTOR FOR ADMINISTRATIVE MANAGEMENT.
| NATIONAL HUMAN GENOME RESEARCH INSTITUTE | ASSOCIATE DIRECTOR FOR MANAGEMENT. DIRECTOR, OFFICE OF POPULATION GENOMICS.
| NATIONAL INSTITUTE OF ARTHRITIS AND MUSCULOSKELETAL AND SKIN DISEASES | ASSOCIATE DIRECTOR FOR MANAGEMENT AND OPERATIONS.
| NATIONAL INSTITUTE OF DENTAL AND CRANIOFACIAL RESEARCH | ASSOCIATE DIRECTOR FOR MANAGEMENT.
| NATIONAL INSTITUTE OF DIABETES AND DIGESTIVE AND KIDNEY DISEASES | ASSOCIATE DIRECTOR FOR MANAGEMENT.
| NATIONAL INSTITUTE OF MENTAL HEALTH | ASSOCIATE DIRECTOR FOR MANAGEMENT.
| NATIONAL INSTITUTE ON AGING | DIRECTOR OF MANAGEMENT.
| NATIONAL INSTITUTE ON ALCOHOL ABUSE AND ALCOHOLISM | ASSOCIATE DIRECTOR FOR ADMINISTRATION.
| NATIONAL INSTITUTE ON DRUG ABUSE | ASSOCIATE DIRECTOR FOR MANAGEMENT.
| NATIONAL INSTITUTES OF CHILD HEALTH AND HUMAN DEVELOPMENT | ASSOCIATE DIRECTOR FOR ADMINISTRATION.
| NATIONAL INSTITUTES OF GENERAL MEDICAL SCIENCES | ASSOCIATE DIRECTOR FOR MANAGEMENT.
| NATIONAL INSTITUTES OF HEALTH CLINICAL CENTER | CHIEF OPERATING OFFICER. CHIEF FINANCIAL OFFICER.
| NATIONAL INSTITUTES OF NEUROLOGICAL DISORDERS AND STROKE | DEPUTY DIRECTOR FOR MANAGEMENT.
| NATIONAL INSTITUTES ON DEAFNESS AND OTHER COMMUNICATION DISORDERS | ASSOCIATE DIRECTOR FOR ADMINISTRATION.
| NATIONAL LIBRARY OF MEDICINE | DIRECTOR, INFORMATION SYSTEMS. ASSOCIATE DIRECTOR FOR LIBARY OPERATIONS.
|  | ASSOCIATE DIRECTOR FOR EXTRAMURAL PROGRAMS.
|  | ASSOCIATE DIRECTOR FOR ADMINISTRATIVE MANAGEMENT.
|  | DEPUTY DIRECTOR, NATIONAL LIBRARY OF MEDICINE.
| OFFICE OF THE DIRECTOR | DIRECTOR, OFFICE OF FINANCIAL MANAGEMENT.
|  | DIRECTOR, OFFICE OF STRATEGIC PLANNING AND MANAGEMENT OPERATIONS.
|  | SENIOR POLICY OFFICER (ETHICS).
|  | DIRECTOR, OFFICE OF RESEARCH FACILITIES DEVELOPMENT AND OPERATIONS.
|  | ASSOCIATE DIRECTOR FOR SECURITY AND EMERGENCY RESPONSE.
|  | ERA PROGRAM MANAGER.
|  | DEPUTY DIRECTOR, DIVISION OF PROGRAM COORDINATION, PLANNING, AND STRATEGIC INITIATIVES.
|  | DIRECTOR, OFFICE OF POLICY FOR EXTRAMURAL RESEARCH ADMINISTRATION.
| OFFICE OF THE DEPUTY ASSISTANT SECRETARY FOR INFORMATION RESOURCES MANAGEMENT | DEPUTY CHIEF INFORMATION OFFICER.
| PROGRAM SUPPORT CENTER | DIRECTOR, INFORMATION SYSTEMS MANAGEMENT SERVICE.
| OFFICE OF THE DEPUTY ASSISTANT SECRETARY FOR FINANCE | ASSOCIATE DEPUTY ASSISTANT SECRETARY, FINANCE.
| OFFICE OPERATIONS | DIRECTOR, OFFICE OF SAFETY, SECURITY AND CRISIS MANAGEMENT.
|  | DIRECTOR, OFFICE OF HUMAN RESOURCES.
|  | DIRECTOR, DIVISION OF ETHICS AND INTEGRITY.
|  | DIRECTOR, OFFICE OF FINANCIAL MANAGEMENT/CHIEF FINANCIAL OFFICER.
|  | DIRECTOR, OFFICE OF BUDGET.
| OFFICE OF SECURITY AND STRATEGIC INFORMATION | ASSOCIATE DIRECTOR FOR STRATEGIC INFORMATION.
|  | DIRECTOR, INTELLIGENCE AND COUNTERINTELLIGENCE.
|  | ASSOCIATE DIRECTOR FOR PERSONNEL AND CLASSIFIED INFORMATION SECURITY.
| ASSOCIATE GENERAL COUNSEL DIVISIONS | DEPUTY ASSOCIATE GENERAL COUNSEL, BUSINESS AND ADMINISTRATIVE LAW DIVISION.
|  | ASSOCIATE GENERAL COUNSEL, GENERAL LAW DIVISION.
|  | DEPUTY ASSOCIATE GENERAL COUNSEL FOR CLAIMS AND EMPLOYMENT LAW.
| OFFICE OF THE DEPUTY INSPECTOR GENERAL FOR AUDIT SERVICES | ASSISTANT INSPECTOR GENERAL FOR MEDICARE AND MEDICAID SERVICE AUDITS. ASSISTANT INSPECTOR GENERAL FOR FINANCIAL MANAGEMENT AND REGIONAL OPERATIONS.
|  | ASSISTANT INSPECTOR GENERAL FOR GRANTS AND INTERNAL ACTIVITIES.
|  | DEPUTY INSPECTOR GENERAL FOR AUDIT SERVICES.
|  | ASSISTANT INSPECTOR GENERAL FOR AUDIT MANAGEMENT AND POLICY.
| OFFICE OF THE DEPUTY INSPECTOR GENERAL FOR EVALUATION AND INSPECTIONS | DEPUTY INSPECTOR GENERAL FOR EVALUATION AND INSPECTIONS.
| OFFICE OF THE DEPUTY INSPECTOR GENERAL FOR INVESTIGATIONS | ASSISTANT INSPECTOR GENERAL FOR INVESTIGATIONS (2). ASSISTANT INSPECTOR GENERAL FOR INVESTIGATIVE OPERATIONS.
|  | DEPUTY INSPECTOR GENERAL FOR INVESTIGATIONS.
| OFFICE OF THE ASSISTANT SECRETARY FOR FINANCIAL RESOURCES | DIRECTOR, OFFICE OF SMALL AND DISADVANTAGED BUSINESS UTILIZATION.
| OFFICE OF FINANCIAL MANAGEMENT SERVICE | DIRECTOR, FINANCIAL MANAGEMENT SERVICE.
| CENTER FOR MENTAL HEALTH SERVICES | DIRECTOR CENTER FOR MENTAL HEALTH SERVICES.
|  | DIRECTOR DIVISION OF STATE AND COMMUNITY SYSTEMS DEVELOPMENT.
| OFFICE OF POLICY, PLANNING, AND BUDGET | ASSOCIATE ADMINISTRATOR FOR POLICY AND PROGRAMS COORDINATOR.
DEPARTMENT OF HEALTH AND HUMAN SERVICES OFFICE OF THE INSPECTOR GENERAL | DEPARTMENT OF HEALTH AND HUMAN SERVICES OFFICE OF THE INSPECTOR GENERAL | CHIEF OF STAFF. PRINCIPAL DEPUTY INSPECTOR GENERAL.
| OFFICE OF AUDIT SERVICES | ASSISTANT INSPECTOR GENERAL FOR AUDIT SERVICES.
|  | ASSISTANT INSPECTOR GENERAL FOR FINANCIAL MANAGEMENT AND REGIONAL OPERATIONS.
|  | ASSISTANT INSPECTOR GENERAL FOR MEDICARE AND MEDICAID SERVICE AUDITS.
|  | DEPUTY INSPECTOR GENERAL FOR AUDIT SERVICES.
| OFFICE OF COUNSEL TO THE INSPECTOR GENERAL | ASSISTANT INSPECTOR GENERAL FOR LEGAL AFFAIRS (2). CHIEF COUNSEL TO THE INSPECTOR GENERAL.
| OFFICE OF EVALUATION AND INSPECTIONS | ASSISTANT INSPECTOR GENERAL FOR EVALUATION AND INSPECTIONS (2).
|  | DEPUTY INSPECTOR GENERAL FOR EVALUATION AND INSPECTIONS.
| OFFICE OF INVESTIGATIONS | ASSISTANT INSPECTOR GENERAL FOR INVESTIGATIONS (3).
|  | DEPUTY INSPECTOR GENERAL FOR INVESTIGATIONS.
| OFFICE OF MANAGEMENT AND POLICY | ASSISTANT INSPECTOR GENERAL FOR INFORMATION TECHNOLOGY (CHIEF INFORMATION OFFICER).
|  | ASSISTANT INSPECTOR GENERAL (CHIEF DATA OFFICER).
|  | DEPUTY INSPECTOR GENERAL FOR MANAGEMENT AND POLICY.
|  | ASSISTANT INSPECTOR GENERAL FOR MANAGEMENT AND POLICY.
DEPARTMENT OF HOMELAND SECURITY | ASSISTANT SECRETARY FOR HEALTH AFFAIRS AND CHIEF MEDICAL OFFICER | PRINCIPAL DEPUTY ASSISTANT SECRETARY FOR HEALTH AFFAIRS. DEPUTY DIRECTOR, HEALTH THREATS RESILIENCE.
|  | DEPUTY DIRECTOR, WORKFORCE HEALTH AND MEDICAL SUPPORT.
|  | DEPUTY ASSISTANT SECRETARY FOR HEALTH THREATS RESILIENCE.
| DOMESTIC NUCLEAR DETECTION OFFICE | CHIEF OF STAFF. ASSISTANT DIRECTOR, ARCHITECTURE AND PLANS DIRECTORATE.
|  | ASSISTANT DIRECTOR, PRODUCT ACQUISITION AND DEPLOYMENT DIRECTORATE.
|  | ASSISTANT DIRECTOR, NATIONAL TECHNICAL NUCLEAR FORENSICS CENTER.
|  | ASSISTANT DIRECTOR, TRANSFORMATIONAL AND APPLIED RESEARCH DIRECTORATE.
|  | DEPUTY DIRECTOR.
|  | ASSISTANT DIRECTOR, ASSESSMENTS DIRECTORATE.
|  | ASSISTANT DIRECTOR, OPERATIONS SUPPORT DIRECTORATE.
| FEDERAL EMERGENCY MANAGEMENT AGENCY | DEPUTY ASSISTANT ADMINISTRATOR, GRANTS PROGRAM. ASSISTANT ADMINISTRATOR FOR FINANCIAL MANAGEMENT.
|  | DIRECTOR, TECHNOLOGICAL HAZARDS DIVISION.
|  | DEPUTY ASSOCIATE ADMINISTRATOR FOR POLICY, PROGRAM ANALYSIS AND INTERNATIONAL AFFAIRS.
|  | CHIEF ADMINISTRATIVE OFFICER.
|  | DIRECTOR, NATIONAL PREPAREDNESS ASSESSMENT DIVISION.
|  | DEPUTY ASSISTANT ADMINISTRATOR, FIELD OPERATIONS DIRECTORATE.
|  | DIRECTOR, EMERGENCY COMMUNICATION DIVISION.
|  | DEPUTY PRINCIPAL LEGAL ADVISOR FOR MANAGEMENT.
|  | CHIEF LEARNING OFFICER.
|  | CHIEF TECHNOLOGY OFFICER.
|  | CHIEF SECURITY OFFICER.
|  | ASSISTANT ADMINISTRATOR FOR MITIGATION.
|  | DEPUTY REGIONAL ADMINISTRATOR, REGION IV, ATLANTA.
|  | DEPUTY ASSISTANT ADMINISTRATOR, NATIONAL PREPAREDNESS DIRECTORATE.
|  | DEPUTY REGIONAL ADMINISTRATOR, REGION VI, DALLAS.
|  | ASSISTANT ADMINISTRATOR, FUND MANAGEMENT.
|  | DEPUTY CHIEF ADMINISTRATIVE OFFICER.
|  | DIRECTOR, NATIONAL TRAINING AND EDUCATION.
|  | DEPUTY ASSISTANT ADMINISTRATOR FOR RISK MANAGEMENT.
|  | DEPUTY REGIONAL ADMINISTRATOR, REGION 1 BOSTON).
|  | DEPUTY REGIONAL ADMINISTRATOR, REGION II NEW YORK.
|  | DEPUTY REGIONAL ADMINISTRATOR, REGION III PHILADELPHIA.
|  | DEPUTY REGIONAL ADMINISTRATOR, REGION V CHICAGO.
|  | DEPUTY REGIONAL ADMINISTRATOR, REGION VII KANSAS.
|  | DEPUTY REGIONAL ADMINISTRATOR, (REGION VIII DENVER).
|  | DEPUTY REGIONAL ADMINISTRATOR, REGION IX SAN FRANCISCO.
|  | DEPUTY REGIONAL ADMINISTRATOR, REGION X SEATTLE.
|  | DEPUTY ASSISTANT ADMINISTRATOR FOR INSURANCE.
|  | DEPUTY CHIEF, COMPONENT HUMAN CAPITAL OFFICER.
|  | PLANNING DIVISION DIRECTOR, OFFICE OF RESPONSE AND RECOVERY.
|  | DEPUTY ASSOCIATE ADMINISTRATOR FOR MISSION SUPPORT.
|  | CHIEF FINANCIAL OFFICER.
|  | DIRECTOR, NATIONAL EXERCISE DIVISION.
|  | DEPUTY ASSISTANT ADMINISTRATOR FOR FINANCIAL SYSTEMS MODERNIZATION.
|  | CHIEF COMPONENT PROCUREMENT OFFICER.
|  | SUPERINTENDENT, CENTER FOR DOMESTIC PREPAREDNESS.
|  | DEPUTY CHIEF COUNSEL.
|  | DEPUTY CHIEF COMPONENT PROCUREMENT OFFICER.
|  | DEPUTY ASSISTANT ADMINISTRATOR FOR MITIGATION.
|  | ASSISTANT ADMINISTRATOR, FIELD OPERATIONS DIRECTORATE.
|  | DEPUTY ASSISTANT ADMINISTRATOR FOR RESPONSE.
|  | DEPUTY CHIEF INFORMATION OFFICER (DISASTER OPERATIONS), MISSION SUPPPORT DIRECTORATE.
|  | DIRECTOR, OPERATIONAL COORDINATION.
|  | DEPUTY DIRECTOR, EXTERNAL AFFAIRS.
|  | DEPUTY CHIEF FINANCIAL OFFICER.
|  | DEPUTY ASSISTANT ADMINISTRATOR, FEDERAL INSURANCE AND MITIGATION ADMINISTRATION.
|  | DIRECTOR, GRANTS MANAGEMENT DIVISION.
|  | DEPUTY CHIEF COUNSEL FOR GENERAL LAW.
|  | ASSISTANT ADMINISTRATOR FOR RISK MANAGEMENT.
|  | ASSISTANT ADMINISTRATOR FOR INSURANCE.
| FEDERAL LAW ENFORCEMENT TRAINING CENTER | ASSISTANT DIRECTOR (CHIEF FINANCIAL OFFICER). ASSISTANT DIRECTOR (MISSION AND READINESS SUPPORT DIRECTORATE).
|  | ASSISTANT DIRECTOR FOR TRAINING RESEARCH AND INNOVATION DIRECTORATE.
|  | ASSISTANT DIRECTOR (CHIEF INFORMATION OFFICER DIRECTORATE).
|  | ASSISTANT DIRECTOR (REGIONAL AND INTERNATIONAL TRAINING DIRECTORATE).
|  | CHIEF COUNSEL.
|  | DIRECTOR, FEDERAL LAW ENFORCEMENT TRAINING CENTER.
|  | DEPUTY DIRECTOR.
|  | ASSISTANT DIRECTOR (CENTRALIZED TRAINING MANAGEMENT DIRECTORATE).
|  | ASSISTANT DIRECTOR (GLYNCO TRAINING DIRECTORATE).
|  | ASSISTANT DIRECTOR (WASHINGTON OPERATIONS).
| OFFICE OF THE ASSISTANT SECRETARY FOR POLICY | DEPARTMENT OF HOMELAND SECURITY ATTACHE TO CENTRAL AMERICA. DEPUTY ASSISTANT SECRETARY FOR AMERICAS POLICY.
|  | DEPUTY ASSISTANT SECRETARY FOR UNITY OF EFFORT INTEGRATION.
|  | DEPUTY ASSISTANT SECRETARY FOR IMMIGRATION STATISTICS.
|  | DEPUTY ASSISTANT SECRETARY FOR CYBER POLICY.
| OFFICE OF THE GENERAL COUNSEL | DEPUTY ASSOCIATE GENERAL COUNSEL FOR ACQUISITION AND PROCUREMENT. CHIEF OF STAFF/MANAGING COUNSEL.
|  | DEPUTY ASSOCIATE GENERAL COUNSEL FOR GENERAL LAW.
|  | LEGAL ADVISOR OF ETHICS/ALTERNATE DESIGNATED AGENCY ETHICS OFFICIAL.
| OFFICE OF THE SECRETARY | DEPARTMENT OF HOMELAND SECURITY ADVISOR TO THE DEPARTMENT OF DEFENSE.
|  | SENIOR DEPARTMENT OF HOMELAND SECURITY ADVISOR TO THE COMMANDER, UNITED STATES NORTHERN COMMAND/NORTH AMERICAN AEROSPACE DEFENSE COMMAND.
| OFFICE OF THE UNDER SECRETARY FOR INTELLIGENCE AND ANALYSIS | DIRECTOR, HUMAN CAPITAL DIVISION. CHIEF OF STAFF. DIRECTOR, CYBER DIVISION.
|  | DIRECTOR, COLLECTION REQUIREMENTS DIVISION.
|  | DIRECTOR, BORDER SECURITY DIVISION.
|  | PRINCIPAL DEPUTY UNDER SECRETARY FOR INTELLIGENCE AND ANALYSIS.
| OFFICE OF THE UNDER SECRETARY FOR MANAGEMENT | CHIEF, PARTNER ENGAGEMENT.
| OFFICE OF THE UNDER SECRETARY FOR NATIONAL PROTECTION AND PROGRAMS DIRECTORATE | DEPUTY DIRECTOR, NETWORK SECURITY DEPLOYMENT. DEPUTY DIRECTOR CYBER THREAT DETECTION AND ANALYSIS. DIRECTOR, INFRASTUCTURE SECURITY COMPLIANCE.
|  | DEPUTY DIRECTOR, INFRASTRUCTURE SECURITY COMPLIANCE.
|  | NATIONAL PROTECTION AND PROGRAMS DIRECTORATE CHIEF INFORMATION OFFICER.
|  | DIRECTOR, OFFICE OF CYBER AND INFRASTRUCTURE ANALYSIS.
|  | DIRECTOR, OFFICE OF COMPLIANCE AND SECURITY.
|  | DIRECTOR, HUMAN RESOURCES MANAGEMENT.
|  | DEPUTY DIRECTOR, OFFICE OF EMERGENCY COMMUNICATIONS.
|  | SENIOR COUNSELOR TO THE UNDER SECRETARY FOR NATIONAL PROTECTION AND PROGRAMS DIRECTORATE.
|  | ASSISTANT DIRECTOR, OFFICE OF TRAINING AND CAREER DEVELOPMENT, FEDERAL PROTECTIVE SERVICE.
|  | DIRECTOR, STRATEGY, PLANS AND POLICY.
|  | PRINCIPAL DEPUTY DIRECTOR, FEDERAL PROTECTIVE SERVICE.
|  | ASSISTANT DIRECTOR OF OPERATIONS, FEDERAL PROTECTIVE SERVICES.
|  | ASSISTANT DIRECTOR OF FIELD OPERATIONS (WEST), FEDERAL PROTECTIVE SERVICES.
|  | ASSISTANT DIRECTOR OF FIELD OPERATIONS (CENTRAL), FEDERAL PROTECTIVE SERVICES.
|  | PRINCIPAL DEPUTY DIRECTOR, NATIONAL CYBERSECURITY AND COMMUNICATIONS INTEGRATION CENTER.
|  | DIRECTOR, NETWORK SECURITY DEPLOYMENT.
|  | DIRECTOR, NATIONAL CYBERSECURITY AND COMMUNICATIONS INTEGRATION CENTER.
|  | DIRECTOR OF ADMINISTRATION.
|  | CHIEF FINANCIAL OFFICER.
|  | CHIEF TECHNOLOGY OFFICER, CYBER SECURITY AND COMMUNICATIONS.
|  | DEPUTY ASSISTANT SECRETARY FOR INFRASTRUCTURE PROTECTION.
|  | DIRECTOR MISSION INTEGRATION.
|  | ASSISTANT DIRECTOR, OFFICE OF RESOURCE MANAGEMENT, FEDERAL PROTECTIVE SERVICE.
|  | DEPUTY DIRECTOR, OFFICE OF CYBER AND INFRASTRUCTURE ANALYSIS.
|  | COMPONENT ACQUSITION EXECUTIVE.
|  | DEPUTY DIRECTOR, TECHNOLOGY AND INNOVATION (CHIEF TECHNOLOGY OFFICER).
|  | SENIOR ADVISOR, OFFICE OF INFRASTRUCTURE PROTECTION.
|  | ASSISTANT DIRECTOR, FUTURES IDENTITY.
|  | DIRECTOR, FEDERAL PROTECTIVE SERVICE.
|  | DIRECTOR, PROTECTIVE SECURITY COORDINATION.
|  | DEPUTY DIRECTOR, OFFICE OF BIOMETRIC IDENTITY MANAGEMENT.
|  | DEPUTY DIRECTOR OF MANAGEMENT (BUSINESS SERVICE DELIVERY LEAD).
|  | DIRECTOR, NATIONAL INFRASTRUCTURE COORDINATING CENTER.
|  | DIRECTOR, FEDERAL NETWORK RESILIENCE.
|  | DIRECTOR, OFFICE OF EMERGENCY COMMUNICATIONS.
|  | ASSISTANT DIRECTOR PROTECTIVE SECURITY OFFICER OVERSIGHT.
|  | DIRECTOR OF MANAGEMENT.
|  | ASSISTANT DIRECTOR FOR FIELD OPERATIONS (EAST), FEDERAL PROTECTIVE SERVICE.
|  | DEPUTY ASSISTANT SECRETARY FOR CYBERSECURITY AND COMMUNICATION.
|  | DIRECTOR, SECTOR OUTREACH AND PROGRAMS DIVISION.
|  | DEPUTY DIRECTOR FOR OPERATIONS, NATIONAL CYBERSECURITY AND COMMUNICATIONS INTEGRATION CENTER.
|  | DIRECTOR, STAKEHOLDER ENGAGEMENT AND CYBER INFRASTRUCTURE RESILIENCE DIVISION.
| OFFICE OF THE UNDER SECRETARY FOR SCIENCE AND TECHNOLOGY | DIRECTOR, CHEMICAL BIOLOGICAL DEFENSE DIVISION. SENIOR ADVISOR TO THE DEPUTY UNDER SECRETARY FOR SCIENCE AND TECHNOLOGY.
|  | DIRECTOR, BORDERS AND MARITIME SECURITY DIVISION.
|  | CHIEF SCIENTIST.
|  | EXECUTIVE DIRECTOR, NATIONAL BIO AND AGRO-DEFENSE FACILITY.
|  | DIRECTOR, CYBER SECURITY DIVISION.
|  | DIRECTOR, OFFICE FOR INTEROPERABILITY AND COMPATIBILITY.
|  | DIRECTOR, EXPLOSIVES DIVISION.
|  | DIRECTOR, INFRASTRUCTURE PROTECTION AND DISASTER MANAGEMENT DIVISION.
|  | DIRECTOR, FINANCE AND BUDGET DIVISION/SCIENTIFIC AND TECHNICAL CHIEF FINANCIAL OFFICER.
|  | DEPUTY DIRECTOR, HOMELAND SECURITY ADVANCED RESEARCH PROJECTS AGENCY.
| UNITED STATES CITIZENSHIP AND IMMIGRATION SERVICES | CHIEF, OFFICE OF SECURITY AND INTEGRITY. ASSOCIATE DIRECTOR, IMMIGRATION RECORDS AND IDENTITY SERVICES DIVISION.
|  | DEPUTY ASSOCIATE DIRECTOR, REFUGEE, ASYLUM, AND INTERNATIONAL OPERATIONS.
|  | ASSOCIATE DIRECTOR, SERVICE CENTER OPERATIONS.
|  | CHIEF, INTAKE AND DOCUMENT PRODUCTION.
|  | ASSOCIATE DIRECTOR, OFFICE OF MANAGEMENT.
|  | ASSOCIATE DIRECTOR, FRAUD DETECTION AND NATIONAL SECURITY.
|  | DEPUTY ASSOCIATE DIRECTOR, CUSTOMER SERVICE AND PUBLIC ENGAGEMENT.
|  | CENTRAL REGIONAL DIRECTOR (DALLAS, TEXAS).
|  | WESTERN REGIONAL DIRECTOR (LAGUNA NIGUEL, CALIFORNIA).
|  | NORTHEAST REGIONAL DIRECTOR (BURLINGTON, VERMONT).
|  | CHIEF FINANCIAL OFFICER.
|  | DISTRICT DIRECTOR, FIELD SERVICES, MIAMI, FLORIDA.
|  | DEPUTY ASSOCIATE DIRECTOR, OFFICE OF FIELD OPERATIONS.
|  | DIRECTOR, OFFICE OF REFUGEE AFFAIRS.
|  | CHIEF, ASYLUM DIVISION.
|  | DISTRICT DIRECTOR, FIELD SERVICES, NEW YORK CITY, NEW YORK.
|  | DEPUTY ASSOCIATE DIRECTOR, IMMIGRATION RECORDS AND IDENTITY SERVICES DIVISION.
|  | DEPUTY CHIEF INFORMATION OFFICER.
|  | DEPUTY GENERAL COUNSEL.
|  | ASSOCIATE DIRECTOR, REFUGEE, ASYLUM AND INTERNATIONAL OPERATIONS.
|  | DEPUTY ASSOCIATE DIRECTOR, FRAUD DETECTION AND NATIONAL SECURITY.
|  | CHIEF, HUMAN CAPITAL AND TRAINING.
|  | CHIEF, OFFICE OF CONTRACTING.
|  | DISTRICT DIRECTOR, FIELD SERVICES, DALLAS, TEXAS.
|  | CHIEF DATA OFFICER.
|  | DEPUTY CHIEF FINANCIAL OFFICER.
|  | DEPUTY CHIEF INFORMATION OFFICE FOR OPERATIONS.
|  | CHIEF TECHNOLOGY OFFICER.
|  | DEPUTY ASSOCIATE DIRECTOR, SERVICE CENTER OPERATIONS.
|  | CHIEF, IMMIGRANT INVESTOR PROGRAM.
|  | DEPUTY DIRECTOR, POTOMAC SERVICE CENTER.
|  | DIRECTOR, POTOMAC SERVICE CENTER.
|  | DEPUTY CHIEF COUNSEL FOR FIELD MANAGEMENT.
|  | ASSOCIATE DIRECTOR, CUSTOMER SERVICE AND PUBLIC ENGAGEMENT.
|  | DEPUTY CHIEF OFFICE OF SECURITY AND INTEGRITY.
|  | CHIEF, OFFICE OF ADMINISTRATION.
|  | DIRECTOR, NATIONAL BENEFITS CENTER.
|  | DEPUTY ASSOCIATE DIRECTOR, OFFICE OF MANAGEMENT.
|  | DEPUTY ASSOCIATE DIRECTOR, EXTERNAL AFFAIRS DIRECTORATE.
|  | DEPUTY DIRECTOR, NATIONAL BENEFITS CENTER.
|  | DIRECTOR, NATIONAL RECORDS CENTER.
|  | DEPUTY DIRECTOR, SERVICE CENTER, LAGUNA NIGUEL, CALIFORNIA.
|  | DEPUTY DIRECTOR, SERVICE CENTER, DALLAS, TEXAS.
|  | CHIEF, INTERNATIONAL OPERATIONS.
|  | DEPUTY DIRECTOR, SERVICE CENTER, LINCOLN, NEBRASKA.
|  | DEPUTY DIRECTOR, SERVICE CENTER, SAINT ALBANS, VERMONT.
|  | ASSOCIATE DIRECTOR, FIELD OPERATIONS.
|  | CHIEF, ADMINISTRATIVE APPEALS.
|  | CHIEF, VERIFICATION DIVISION.
|  | DISTRICT DIRECTOR, FIELD SERVICES, BOSTON, MASSACHUSETTS.
|  | DISTRICT DIRECTOR, FIELD SERVICES, CHICAGO, ILLINOIS.
|  | DEPUTY CHIEF, PROGRAMS, INNOVATION, AND INITIATIVES.
|  | CHIEF, PERFORMANCE AND QUALITY.
|  | CHIEF INFORMATION OFFICER.
|  | DISTRICT DIRECTOR, FIELD SERVICES, LOS ANGELES CALIFORNIA.
|  | DISTRICT DIRECTOR, FIELD SERVICES, SAN FRANCISCO CALIFORNIA.
|  | REGIONAL DIRECTOR, SOUTHEAST REGION.
|  | DIRECTOR, SERVICE CENTER, LINCOLN, NEBRASKA.
|  | DIRECTOR, SERVICE CENTER, LAGUNA NIGUEL, CALIFORNIA.
|  | DIRECTOR, SERVICE CENTER, DALLAS, TEXAS.
|  | DIRECTOR, VERMONT SERVICE CENTER, SAINT ALBANS, VERMONT.
|  | DISTRICT DIRECTOR, FIELD SERVICES, TAMPA, FLORIDA.
|  | DISTRICT DIRECTOR, FIELD SERVICES, NEWARK, NEW JERSEY.
|  | DISTRICT DIRECTOR, FIELD SERVICES, ATLANTA, GEORGIA.
| UNITED STATES CUSTOMS AND BORDER PROTECTION | EXECUTIVE DIRECTOR, INTELLIGENCE OPERATIONS. EXECUTIVE DIRECTOR, INVESTIGATIVE OPERATIONS.
|  | ASSISTANT COMMISSIONER, INTERNATIONAL AFFAIRS.
|  | EXECUTIVE DIRECTOR, PRIVACY AND DIVERSITY.
|  | EXECUTIVE ASSISTANT COMMISSIONER, OPERATIONS SUPPORT.
|  | EXECUTIVE DIRECTOR, BORDER ENFORCEMENT AND MANAGEMENT SYSTEMS.
|  | ASSOCIATE CHIEF COUNSEL (TUCSON).
|  | DIRECTOR, FIELD OPERATIONS (BALTIMORE).
|  | PORT DIRECTOR, BUFFALO.
|  | PORT DIRECTOR, CALEXICO, CALIFORNIA.
|  | PORT DIRECTOR, NOGALES, ARIZONA.
|  | SENIOR INTELLIGENCE ADVISOR.
|  | DIRECTOR, JOINT TASK FORCE WEST COMMANDER (JOINT FORCES COMMAND) LAREDO, TEXAS.
|  | DIRECTOR, LEADERSHIP DEVELOPMENT CENTER.
|  | DIRECTOR, NATIONAL TARGETING CENTER (CARGO).
|  | DEPUTY JOINT FIELD COMMANDER, EAST.
|  | DIRECTOR, COUNTER NETWORK.
|  | CHIEF PATROL AGENT (DETROIT).
|  | DIRECTOR, FIELD OPERATIONS (PRECLEARANCE).
|  | CHIEF PATROL AGENT (BIG BEND).
|  | DIRECTOR, NATIONAL TARGETING CENTER (PASSENGER).
|  | ASSISTANT COMMISSIONER, OFFICE OF INTELLIGENCE.
|  | EXECUTIVE DIRECTOR, PROGRAMMING.
|  | EXECUTIVE DIRECTOR, COMMERCIAL TARGETING AND ENFORCEMENT.
|  | EXECUTIVE DIRECTOR, TALENT MANAGEMENT.
|  | EXECUTIVE DIRECTOR, TRAINING, SAFETY AND STANDARDS.
|  | EXECUTIVE DIRECTOR, NATIONAL AIR SECURITY OPERATIONS, AIR AND MARINE.
|  | EXECUTIVE DIRECTOR, PASSENGER SYSTEMS PROGRAM OFFICE.
|  | DIRECTOR OF OPERATIONS, SOUTHWEST BORDER, ALBUQUERQUE, NEW MEXICO, OFFICE OF CUSTOMS AND BORDER PROTECTION AIR AND MARINE.
|  | DIRECTOR, AIR AND MARINE OPERATIONS CENTER, RIVERSIDE, OFFICE OF CUSTOMS AND BORDER PROTECTION AIR AND MARINE.
|  | DIRECTOR OF OPERATIONS, SOUTHEASTERN REGION, MIAMI, FLORIDA, OFFICE OF CUSTOMS AND BORDER PROTECTION AIR AND MARINE.
|  | EXECUTIVE DIRECTOR, ACQUISITION MANAGEMENT.
|  | EXECUTIVE DIRECTOR, AUTOMATED COMMERCIAL ENVIRONMENT BUSINESS OFFICE.
|  | DEPUTY ASSISTANT COMMISSIONER, INTERNATIONAL AFFAIRS.
|  | DIRECTOR OF OPERATIONS, NORTHERN REGION, WASHINGTON DISTRICT OF COLUMBIA, CUSTOMS AND BORDER PROTECTION AIR AND MARINE OPERATIONS.
|  | EXECUTIVE DIRECTOR, PROGRAM MANAGEMENT OFFICE.
|  | DEPUTY CHIEF PATROL AGENT, SAN DIEGO.
|  | CHIEF PATROL AGENT, EL CENTRO, CALIFORNIA.
|  | DEPUTY CHIEF PATROL AGENT, TUCSON.
|  | PORT DIRECTOR, SAN YSIDRO.
|  | DEPUTY ASSISTANT COMMISSIONER, OFFICE OF ACQUISITION.
|  | EXECUTIVE DIRECTOR, ADMISSIBILITY AND PASSENGER PROGRAMS.
|  | DEPUTY CHIEF, LAW ENFORCEMENT OPERATIONAL PROGRAMS, OFFICE OF BORDER PATROL.
|  | EXECUTIVE DIRECTOR, CARGO SYSTEMS.
|  | EXECUTIVE DIRECTOR, FIELD SUPPORT.
|  | EXECUTIVE DIRECTOR, TARGETING AND ANALYSIS SYSTEMS.
|  | CHIEF PATROL AGENT, YUMA, ARIZONA.
|  | EXECUTIVE DIRECTOR, ENTERPRISE DATA MANAGEMENT AND ENGINEERING.
|  | DEPUTY ASSISTANT COMMISSIONER, OFFICE OF PROFESSIONAL RESPONSIBILITY.
|  | DEPUTY CHIEF, LAW ENFORCEMENT OPERATIONS, OFFICE OF BORDER PATROL.
|  | EXECUTIVE DIRECTOR, MISSION SUPPORT, OFFICE OF CUSTOMS AND BORDER PROTECTION AIR AND MARINE.
|  | EXECUTIVE ASSISTANT COMMISSIONER, ENTERPRISE SERVICES.
|  | EXECUTIVE DIRECTOR, TRADE POLICY AND PROGRAMS.
|  | EXECUTIVE DIRECTOR, OPERATIONS, AIR AND MARINE.
|  | CHIEF, STRATEGIC PLANNING AND ANALYSES.
|  | DEPUTY ASSISTANT COMMISSIONER, OFFICE OF INTELLIGENCE.
|  | PORT DIRECTOR, LAREDO.
|  | EXECUTIVE DIRECTOR, FINANCIAL OPERATIONS.
|  | EXECUTIVE DIRECTOR, PLANNING, PROGRAM ANALYSIS, AND EVALUATION.
|  | EXECUTIVE DIRECTOR, AGRICULTURE PROGRAMS AND TRADE LIAISON.
|  | EXECUTIVE DIRECTOR, MISSION SUPPORT.
|  | DEPUTY EXECUTIVE ASSISTANT COMMISSIONER, OPERATIONS SUPPORT.
|  | CHIEF PATROL AGENT, RIO GRANDE VALLEY.
|  | EXECUTIVE DIRECTOR, PROCUREMENT.
|  | EXECUTIVE DIRECTOR, MISSION READINESS OPERATIONS DIRECTORATE.
|  | EXECUTIVE DIRECTOR, ENTERPRISE NETWORKS AND TECHNOLOGY SUPPORT.
|  | CHIEF, LAW ENFORCEMENT OPERATIONS, OFFICE OF BORDER PATROL.
|  | DIRECTOR, FIELD OPERATIONS (ATLANTA).
|  | EXECUTIVE DIRECTOR, CARGO AND CONVEYANCE SECURITY.
|  | DEPUTY DIRECTOR, POLICY AND PLANNING.
|  | EXECUTIVE ASSISTANT COMMISSIONER, AIR AND MARINE.
|  | CHIEF PATROL AGENT (DEL RIO).
|  | ASSISTANT COMMISSIONER, OFFICE OF PROFESSIONAL RESPONSIBILITY.
|  | DEPUTY EXECUTIVE ASSISTANT COMMISSIONER, OFFICE OF TRADE.
|  | EXECUTIVE DIRECTOR, NATIONAL TARGETING CENTER.
|  | PORT DIRECTOR, SAN FRANCISCO.
|  | DIRECTOR, FIELD OPERATIONS (TUCSON).
|  | DIRECTOR, FIELD OPERATIONS (BOSTON).
|  | EXECUTIVE DIRECTOR, CYBERSECURITY OPERATIONS AND POLICY.
|  | DIRECTOR, FIELD OPERATIONS (SAN JUAN).
|  | EXECUTIVE DIRECTOR, CUSTOMS AND BORDER PROTECTION (CBP) BASIC TRAINING.
|  | CHIEF, PATROL AGENT (TUCSON).
|  | PORT DIRECTOR, LOS ANGELES/LONG BEACH SEAPORT.
|  | PORT DIRECTOR (EL PASO).
|  | DEPUTY ASSISTANT COMMISSIONER, INFORMATION AND TECHNOLOGY.
|  | PORT DIRECTOR, LOS ANGELES AIRPORT.
|  | ASSISTANT COMMISSIONER, INFORMATION AND TECHNOLOGY.
|  | EXECUTIVE DIRECTOR, LABORATORIES AND SCIENTIFIC SERVICES.
|  | EXECUTIVE ASSISTANT COMMISSIONER, FIELD OPERATIONS.
|  | DEPUTY EXECUTIVE ASSISTANT COMMISSIONER, FIELD OPERATIONS.
|  | DEPUTY CHIEF (DEPUTY EXECUTIVE ASSISTANT COMMISSIONER), BORDER PATROL.
|  | EXECUTIVE DIRECTOR, OPERATIONS.
|  | DIRECTOR, FIELD OPERATIONS (SEATTLE).
|  | DIRECTOR, FIELD OPERATIONS (DETROIT).
|  | DIRECTOR, FIELD OPERATIONS (BUFFALO).
|  | DEPUTY ASSISTANT COMMISSIONER, OFFICE OF TRAINING AND DEVELOPMENT.
|  | DIRECTOR, FIELD OPERATIONS (NEW YORK).
|  | CHIEF ACCOUNTABILITY OFFICER.
|  | PORT DIRECTOR, NEWARK.
|  | PORT DIRECTOR, MIAMI INTERNATIONAL AIRPORT.
|  | DIRECTOR, FIELD OPERATIONS (MIAMI).
|  | DIRECTOR, FIELD OPERATIONS (CHICAGO).
|  | DEPUTY COMMISSIONER.
|  | ASSISTANT COMMISSIONER, HUMAN RESOURCES MANAGEMENT.
|  | DEPUTY ASSISTANT COMMISSIONER, HUMAN RESOURCES MANAGEMENT.
|  | EXECUTIVE DIRECTOR, HUMAN RESOURCES POLICY AND PROGRAMS.
|  | ASSISTANT COMMISSIONER, FACILITIES AND ASSET MANAGMENT, CHIEF READINESS SUPPORT OFFICER.
|  | ASSISTANT COMMISSIONER, TRAINING AND DEVELOPMENT.
|  | EXECUTIVE ASSISTANT COMMISSIONER, OFFICE OF TRADE.
|  | EXECUTIVE DIRECTOR, REGULATORY AUDIT.
|  | EXECUTIVE DIRECTOR, REGLUATIONS AND RULINGS.
|  | ASSISTANT COMMISSIONER, FINANCE, CHIEF FINANCIAL OFFICER.
|  | EXECUTIVE DIRECTOR, BUDGET.
|  | DEPUTY CHIEF PATROL AGENT, RIO GRANDE VALLEY.
|  | ASSISTANT COMMISSIONER, ACQUISITION, CHIEF ACQUISITION OFFICER.
|  | DEPUTY CHIEF PATROL AGENT, EL PASO.
|  | PORT DIRECTOR, JOHN F. KENNEDY AIRPORT.
|  | EXECUTIVE DIRECTOR, PLANNING, PROGRAM ANALYSIS AND EVALUATION.
|  | DEPUTY CHIEF COUNSEL.
|  | DIRECTOR, FIELD OPERATIONS (LOS ANGELES).
|  | DIRECTOR, FIELD OPERATIONS (HOUSTON).
|  | DIRECTOR, FIELD OPERATIONS (LAREDO).
|  | DIRECTOR, FIELD OPERATIONS (SAN DIEGO).
|  | DEPUTY EXECUTIVE ASSISTANT COMMISSIONER, AIR AND MARINE.
|  | CHIEF (EXECUTIVE ASSISTANT COMMISSIONER), UNITED STATES BORDER PATROL.
|  | CHIEF PATROL AGENT, LAREDO.
|  | DIRECTOR, FIELD OPERATIONS (SAN FRANCISCO).
|  | CHIEF PATROL AGENT (EL PASO).
|  | CHIEF PATROL AGENT, SAN DIEGO.
|  | EXECUTIVE DIRECTOR, WIRELESS SYSTEMS PROGRAM.
|  | DIRECTOR, FIELD OPERATIONS (EL PASO).
|  | ASSOCIATE CHIEF COUNSEL—ENFORCEMENT.
|  | ASSOCIATE CHIEF COUNSEL—TRADE AND FINANCE.
|  | ASSOCIATE CHIEF COUNSEL FOR ETHICS, LABOR, AND EMPLOYMENT.
|  | ASSOCIATE CHIEF COUNSEL—SOUTHEAST.
|  | ASSOCIATE CHIEF COUNSEL—NEW YORK.
|  | ASSOCIATE CHIEF COUNSEL—CHICAGO.
|  | ASSOCIATE CHIEF COUNSEL—HOUSTON.
|  | ASSOCIATE CHIEF COUNSEL—LOS ANGELES.
|  | DEPUTY ASSISTANT COMMISSIONER, FINANCE.
|  | EXECUTIVE DIRECTOR, INTELLIGENCE AND ANALYSIS.
| UNITED STATES IMMIGRATION AND CUSTOMS ENFORCEMENT | DEPUTY ASSISTANT DIRECTOR, MISSION SUPPORT. ASSISTANT DIRECTOR, MISSION SUPPORT. DIRECTOR OF ENFORCEMENT AND LITIGATION.
|  | DIRECTOR, OFFICE OF ENFORCEMENT AND REMOVAL OPERATIONS.
|  | SPECIAL AGENT IN CHARGE (SEATTLE).
|  | DEPUTY ASSISTANT DIRECTOR, INVESTIGATIONS (ILLICIT TRADE, TRAVEL, AND FINANCE).
|  | ASSISTANT DIRECTOR, INTERNATIONAL OPERATIONS.
|  | DIRECTOR, INTELLIGENCE, HOMELAND SECURITY INVESTIGATIONS.
|  | FIELD OFFICE DIRECTOR, OFFICE OF ENFORCEMENT AND REMOVAL, SEATTLE, ENFORCEMENT AND REMOVAL OPERATIONS.
|  | SPECIAL AGENT IN CHARGE, CHICAGO.
|  | SPECIAL AGENT IN CHARGE, PHOENIX.
|  | SPECIAL AGENT IN CHARGE, EL PASO.
|  | DEPUTY ASSISTANT DIRECTOR, OFFICE OF INVESTIGATIONS (WEST).
|  | DEPUTY ASSISTANT DIRECTOR, FIELD OPERATIONS (INTERNATIONAL), OFFICE OF ENFORCEMENT AND REMOVAL OPERATIONS.
|  | DEPUTY ASSISTANT DIRECTOR, OFFICE OF ENFORCEMENT AND REMOVAL OPERATIONS, FIELD OPERATIONS.
|  | CHIEF COUNSEL, MIAMI.
|  | CHIEF COUNSEL FOR LOS ANGELES.
|  | ASSISTANT DIRECTOR, ENFORCEMENT DIVISION, OFFICE OF ENFORCEMENT AND REMOVAL OPERATIONS.
|  | DIRECTOR, OFFICE OF PROCUREMENT.
|  | DEPUTY CHIEF FINANCIAL OFFICER.
|  | ASSISTANT DIRECTOR, ENFORCEMENT AND REMOVAL OPERATIONS, FIELD OPERATIONS.
|  | ASSISTANT DIRECTOR, INFORMATION GOVERNANCE.
|  | ASSISTANT DIRECTOR, ENFORCEMENT AND REMOVAL OPERATIONS, REPATRIATION DIVISION.
|  | DIRECTOR, FINANCIAL MANAGEMENT.
|  | DEPUTY ASSISTANT DIRECTOR, OFFICE OF PROFESSIONAL RESPONSIBILITY.
|  | DIVISION DIRECTOR FOR INVESTIGATIONS, OFFICE OF PROFESSIONAL RESPONSIBILITY.
|  | DIRECTOR, OFFICE OF TRAINING AND DEVELOPMENT.
|  | FIELD OFFICE DIRECTOR, OFFICE OF ENFORCEMENT AND REMOVAL OPERATIONS, SAN DIEGO, CALIFORNIA.
|  | FIELD OFFICE DIRECTOR, OFFICE OF ENFORCEMENT AND REMOVAL OPERATIONS, SAN ANTONIO, TEXAS.
|  | ASSISTANT DIRECTOR, OPERATIONS SUPPORT, OFFICE OF ENFORCEMENT AND REMOVAL OPERATIONS.
|  | ASSISTANT DIRECTOR, ENFORCEMENT AND REMOVAL OPERATIONS, CUSTODY OPERATIONS DIVISION.
|  | DIRECTOR, OFFICE OF HOMELAND SECURITY INVESTIGATIONS.
|  | DEPUTY EXECUTIVE ASSOCIATE DIRECTOR, MANAGEMENT AND ADMINISTRATION.
|  | CHIEF FINANCIAL OFFICER.
|  | DEPUTY ASSISTANT DIRECTOR, OFFICE OF INVESTIGATIONS (EAST).
|  | ASSISTANT DIRECTOR, DIVERSITY AND CIVIL RIGHTS.
|  | DEPUTY ASSISTANT DIRECTOR, CRITICAL INFRASTRUCTURE, PROTECTION, AND FRAUD.
|  | DIRECTOR, BUDGET AND PROGRAM PERFORMANCE.
|  | CHIEF INFORMATION OFFICER.
|  | DEPUTY PRINCIPAL LEGAL ADVISOR.
|  | SPECIAL AGENT IN CHARGE, ATLANTA.
|  | SPECIAL AGENT IN CHARGE, WASHINGTON, DISTRICT OF COLUMBIA.
|  | DEPUTY ASSISTANT DIRECTOR, INTERNATIONAL OPERATIONS.
|  | DEPUTY DIRECTOR, INTERNATIONAL CRIMINAL POLICE ORGANIZATION (INTERPOL).
|  | EXECUTIVE DIRECTOR, MANAGEMENT AND ADMINISTRATION.
|  | SPECIAL AGENT IN CHARGE, HOUSTON.
|  | SPECIAL AGENT IN CHARGE, LOS ANGELES.
|  | SPECIAL AGENT IN CHARGE, NEW ORLEANS.
|  | SPECIAL AGENT IN CHARGE, SAN ANTONIO.
|  | SPECIAL AGENT IN CHARGE, SAN DIEGO.
|  | ASSISTANT DIRECTOR, OFFICE OF PROFESSIONAL RESPONSIBILITY.
|  | SPECIAL AGENT IN CHARGE, DALLAS.
|  | SPECIAL AGENT IN CHARGE, SAN FRANCISCO CALIFORNIA.
|  | FIELD OFFICE DIRECTOR, OFFICE OF ENFORCEMENT AND REMOVAL, SAN FRANCISCO, CALIFORNIA.
|  | SPECIAL AGENT IN CHARGE (MIAMI).
|  | FIELD OFFICE DIRECTOR, OFFICE OF ENFORCEMENT AND REMOVAL OPERATIONS, PHILADELPHIA, PENNSYLVANIA.
|  | SENIOR MANAGEMENT COUNSEL, INTERNATIONAL OPERATIONS.
|  | ASSISTANT DIRECTOR, HUMAN RESOURCES MANAGEMENT.
|  | DEPUTY ASSISTANT SECRETARY FOR IMMIGRATION AND CUSTOMS ENFORCEMENT.
|  | DEPUTY CHIEF HUMAN CAPITAL OFFICER FOR STRATEGY AND SERVICES.
|  | ASSISTANT DIRECTOR, NATIONAL SECURITY INVESTIGATIONS.
|  | SPECIAL AGENT IN CHARGE (NEW YORK).
|  | DEPUTY DIRECTOR, OFFICE OF HOMELAND SECURITY INVESTIGATIONS.
|  | FIELD OFFICE DIRECTOR, OFFICE OF ENFORCEMENT AND REMOVAL, DALLAS, TEXAS.
|  | FIELD OFFICE DIRECTOR, OFFICE OF ENFORCEMENT AND REMOVAL, ST. PAUL, MINNESOTA.
|  | SPECIAL AGENT IN CHARGE, BALTIMORE.
|  | ASSISTANT DIRECTOR, OFFICE OF VICTIMS OF IMMIGRATION CRIMES ENGAGEMENT (VOICE).
|  | CHIEF COUNSEL, CHICAGO.
|  | CHIEF COUNSEL, SAN ANTONIO.
|  | FIELD OFFICE DIRECTOR, OFFICE OF ENFORCEMENT AND REMOVAL, DENVER, COLORADA.
|  | FIELD OFFICE DIRECTOR, OFFICE OF ENFORCEMENT AND REMOVAL, BUFFALO, NEW YORK.
|  | FIELD OFFICE DIRECTOR, OFFICE OF ENFORCEMENT AND REMOVAL, BOSTON, MASSACHUSETTS.
|  | DEPUTY ASSISTANT EXECUTIVE DIRECTOR, LAW ENFORCEMENT INFORMATION SHARING INITIATIVE.
|  | CHIEF COUNSEL, PHOENIX.
|  | ASSISTANT DIRECTOR, OFFICE OF INVESTIGATIONS.
|  | ASSISTANT DIRECTOR FOR DETENTION OVERSIGHT AND INSPECTIONS.
|  | DEPUTY ASSISTANT DIRECTOR, DOMESTIC OPERATIONS.
|  | FIELD OFFICE DIRECTOR, OFFICE OF ENFORCEMENT AND REMOVAL OPERATIONS, PHOENIX, ARIZONA.
|  | FIELD OFFICE DIRECTOR, OFFICE OF ENFORCEMENT AND REMOVAL OPERATIONS, LOS ANGELES, CALIFORNIA.
|  | FIELD OFFICE DIRECTOR, OFFICE OF OFFICE OF ENFORCEMENT AND REMOVAL OPERATIONS, NEW YORK.
|  | SPECIAL AGENT IN CHARGE, SAINT PAUL, MINNESOTA.
|  | SPECIAL AGENT IN CHARGE, TAMPA, FLORIDA.
|  | SPECIAL AGENT IN CHARGE, NEWARK, NEW JERSEY.
|  | SPECIAL AGENT IN CHARGE, BOSTON, MASSACHUSETTS.
|  | SPECIAL AGENT IN CHARGE, PHILADELPHIA, PENNSYLVANIA.
|  | SPECIAL AGENT IN CHARGE, BUFFALO, NEW YORK.
|  | FIELD OFFICE DIRECTOR, OFFICE OF ENFORCEMENT AND REMOVAL, EL PASO, TEXAS.
|  | FIELD OFFICE DIRECTOR, OFFICE OF ENFORCEMENT AND REMOVAL, ALTANTA, GEORGIA.
|  | FIELD OFFICE DIRECTOR, OFFICE OF ENFORCEMENT AND REMOVAL, CHICAGO, ILLINOIS.
|  | FIELD OFFICE DIRECTOR, OFFICE OF ENFORCEMENT AND REMOVAL, HOUSTON, TEXAS.
|  | ASSISTANT DIRECTOR, INTELLECTUAL PROPERTY RIGHTS CENTER.
|  | SPECIAL AGENT IN CHARGE, DENVER.
|  | SPECIAL AGENT IN CHARGE, SAN JUAN, PUERTO RICO.
|  | DIRECTOR, FEDERAL EXPORT ENFORCEMENT COORDINATION CENTER.
|  | DIRECTOR, FACILITIES AND ASSET ADMINISTRATION.
|  | COMPONENT ACQUSITION EXECUTIVE.
|  | ASSISTANT DIRECTOR, HOMELAND SECURITY INVESTIGATIVE PROGRAMS.
|  | FIELD OFFICE DIRECTOR, OFFICE OF ENFORCEMENT AND REMOVAL OPERATIONS, MIAMI, FLORIDA.
|  | FIELD OFFICE DIRECTOR, OFFICE OF ENFORCEMENT AND REMOVAL, NEW ORLEANS, LOUISIANA.
|  | DEPUTY ASSISTANT DIRECTOR, STUDENT AND EXCHANGE VISITOR PROGRAM.
|  | ASSISTANT DIRECTOR, UNITED STATES IMMIGRATION AND CUSTOMS ENFORCEMENT SERVICES HEALTH CORPS.
|  | EXECUTIVE DIRECTOR, LAW ENFORCEMENT INFORMATION SHARING INITIATIVE.
|  | DEPUTY CHIEF HUMAN CAPITAL OFFICER FOR OPERATIONS.
|  | SPECIAL AGENT IN CHARGE, DETROIT.
|  | DEPUTY CHIEF INFORMATION OFFICER.
|  | CHIEF COUNSEL, NEW YORK.
|  | DEPUTY PRINCIPAL LEGAL ADVISOR FOR FIELD OPERATIONS.
|  | DEPUTY PRINCIPAL LEGAL ADVISOR FOR GENERAL AND ADMINISTRATIVE LAW.
|  | DEPUTY DIRECTOR, ENFORCEMENT AND REMOVAL OPERATIONS.
|  | DEPUTY ASSISTANT DIRECTOR, CYBER DIVISION.
|  | ASSISTANT DIRECTOR, ENFORCEMENT AND REMOVAL OPERATIONS, LAW ENFORCEMENT SYSTEMS AND ANALYSIS DIVISION.
|  | ASSISTANT DIRECTOR, OFFICE OF INVESTIGATIONS (DOMESTIC OPERATIONS).
| UNITED STATES COAST GUARD | DEPUTY ASSISTANT COMMANDANT FOR INTELLIGENCE. DEPUTY CHIEF INFORMATION OFFICER.
|  | DEPUTY ASSISTANT COMMANDANT FOR RESOURCES AND DEPUTY CHIEF FINANCIAL OFFICER.
|  | CHIEF INFORMATION OFFICER AND DEPUTY ASSISTANT COMMANDANT FOR C4IT.
|  | DEPUTY ASSISTANT COMMANDANT FOR HUMAN RESOURCES.
|  | DIRECTOR, INCIDENT MANAGEMENT AND PREPAREDNESS POLICY.
|  | DIRECTOR OF FINANCIAL OPERATIONS/COMPTROLLER.
|  | DIRECTOR, NATIONAL POLLUTION FUNDS CENTER.
|  | HEAD OF CONTRACTING ACTIVITY.
|  | DEPUTY ASSISTANT COMMANDANT FOR ACQUISITION/DIRECTOR OF ACQUISITION SERVICES.
|  | DIRECTOR, COAST GUARD INVESTIGATIVE SERVICE.
|  | ASSISTANT JUDGE ADVOCATE GENERAL FOR ACQUISITION AND LITIGATION.
|  | DIRECTOR, MARINE TRANSPORTATION SYSTEM MANAGEMENT.
| UNITED STATES SECRET SERVICE | SPECIAL AGENT IN CHARGE—SAN FRANCISCO FIELD OFFICE.
|  | SPECIAL AGENT IN CHARGE—DALLAS FIELD OFFICE.
|  | DEPUTY ASSISTANT DIRECTOR, OFFICE OF HUMAN RESOURCES.
|  | SPECIAL AGENT IN CHARGE—DIGNITARY PROTECTIVE DIVISION.
|  | DEPUTY CHIEF, OFFICE OF STRATEGIC PLANNING AND POLICY.
|  | DEPUTY SPECIAL AGENT IN CHARGE—PRESIDENTIAL PROTECTIVE DIVISION.
|  | CHIEF, OFFICE OF STRATEGIC PLANNING AND POLICY.
|  | DEPUTY ASSISTANT DIRECTOR, OFFICE OF INVESTIGATIONS.
|  | SPECIAL AGENT IN CHARGE—HOUSTON FIELD OFFICE.
|  | DEPUTY ASSISTANT DIRECTOR, OFFICE OF TRAINING.
|  | DEPUTY ASSISTANT DIRECTOR, TECHNICAL DEVELOPMENT AND MISSION SUPPORT.
|  | DEPUTY SPECIAL AGENT IN CHARGE—OPERATIONAL.
|  | CHIEF INFORMATION OFFICER.
|  | DEPUTY SPECIAL AGENT IN CHARGE—VICE PRESIDENTIAL PROTECTIVE DIVISION.
|  | SPECIAL AGENT IN CHARGE—ATLANTA FIELD OFFICE.
|  | SPECIAL AGENT IN CHARGE—HONOLULU FIELD OFFICE.
|  | DEPUTY SPECIAL AGENT IN CHARGE—NEW YORK FIELD OFFICE.
|  | DEPUTY ASSISTANT DIRECTOR, OFFICE OF PROFESSIONAL RESPONSIBILITY.
|  | DEPUTY ASSISTANT DIRECTOR, OFFICE OF INVESTIGATIONS.
|  | DIRECTOR, UNITED STATES SECRET SERVICE.
|  | DEPUTY ASSISTANT DIRECTOR, OFFICE OF INTEGRITY.
|  | DEPUTY DIRECTOR, UNITED STATES SECRET SERVICE.
|  | DEPUTY ASSISTANT DIRECTOR, OFFICE OF PROTECTIVE OPERATIONS.
|  | DEPUTY ASSISTANT DIRECTOR, OFFICE OF PROTECTIVE OPERATIONS.
|  | ASSISTANT DIRECTOR, OFFICE OF TRAINING.
|  | CHIEF OPERATING OFFICER.
|  | DIRECTOR OF COMMUNICATIONS (MEDIA AFFAIRS).
|  | COMPONENT ACQUISITION EXECUTIVE.
|  | DEPUTY ASSISTANT DIRECTOR, OFFICE OF HUMAN RESOURCES.
|  | SPECIAL AGENT IN CHARGE—PARIS FIELD OFFICE.
|  | SPECIAL AGENT IN CHARGE—MIAMI FIELD OFFICE.
|  | DEPUTY CHIEF COUNSEL/PRINCIPAL ETHICS OFFICIAL.
|  | ASSISTANT DIRECTOR, OFFICE OF STRATEGIC INTELLIGENCE AND INFORMATION.
|  | DEPUTY ASSISTANT DIRECTOR, STRATEGIC INTELLIGENCE AND INFORMATION.
|  | ASSISTANT DIRECTOR—OFFICE OF INTERGOVERNMENTAL AND LEGISLATIVE AFFAIRS.
|  | SPECIAL AGENT IN CHARGE, PROTECTIVE INTELLIGENCE AND ASSESSMENT DIVISION.
|  | EQUITY AND EMPLOYEE SUPPORT SERVICES EXECUTIVE.
|  | SPECIAL AGENT IN CHARGE—CRIMINAL INVESTIGATIVE DIVISION.
|  | SPECIAL AGENT IN CHARGE—ROWLEY TRAINING CENTER.
|  | SPECIAL AGENT IN CHARGE—ROME FIELD OFFICE.
|  | DEPUTY ASSISTANT DIRECTOR—OFFICE OF INVESTIGATIONS.
|  | SPECIAL AGENT IN CHARGE, CHICAGO FIELD OFFICE.
|  | DEPUTY ASSISTANT DIRECTOR, OFFICE OF INTERGOVERNMENTAL AND LEGISLATIVE AFFAIRS.
|  | CHIEF FINANCIAL OFFICER.
|  | DEPUTY ASSISTANT DIRECTOR, OFFICE OF PROTECTIVE OPERATIONS.
|  | SPECIAL AGENT IN CHARGE—PHILADELPHIA FIELD OFFICE.
|  | SPECIAL AGENT IN CHARGE, SPECIAL OPERATIONS DIVISION.
|  | DEPUTY CHIEF FINANCIAL OFFICER.
|  | SPECIAL AGENT IN CHARGE—WASHINGTON FIELD OFFICE.
|  | SPECIAL AGENT IN CHARGE—LOS ANGELES FIELD OFFICE.
|  | TALENT DEVELOPMENT EXECUTIVE.
|  | ASSISTANT DIRECTOR, INVESTIGATIONS.
|  | ASSISTANT DIRECTOR, PROTECTIVE OPERATIONS.
|  | ASSISTANT DIRECTOR/CHIEF TECHNOLOGY OFFICER, OFFICE OF TECHNICAL DEVELOPMENT AND MISSION SUPPORT.
|  | ASSISTANT DIRECTOR, OFFICE OF PROFESSIONAL RESPONSIBILTY.
|  | SPECIAL AGENT IN CHARGE—PRESIDENTIAL PROTECTIVE DIVISION.
|  | SPECIAL AGENT IN CHARGE—NEW YORK FIELD OFFICE.
|  | ASSISTANT DIRECTOR, OFFICE OF HUMAN RESOURCES.
|  | DEPUTY ASSISTANT DIRECTOR, OFFICE OF INVESTIGATIONS.
|  | DEPUTY ASSISTANT DIRECTOR, OFFICE OF PROTECTIVE OPERATIONS.
|  | SPECIAL AGENT IN CHARGE—VICE PRESIDENTIAL PROTECTIVE DIVISION.
|  | SPECIAL AGENT IN CHARGE—TECHNICAL SECURITY DIVISION.
|  | CHIEF COUNSEL.
| OFFICE FOR CIVIL RIGHTS AND CIVIL LIBERTIES | DEPUTY CIVIL RIGHTS AND CIVIL LIBERTIES OFFICER, PROGRAMS AND COMPLIANCE.
|  | DIRECTOR CIVIL RIGHTS AND CIVIL LIBERTIES PROGRAMS BRANCH.
|  | DEPUTY CIVIL RIGHTS AND CIVIL LIBERTIES OFFICER, EQUAL EMPLOYMENT OPPORTUNITY AND DIVERSITY DIRECTOR.
|  | DIRECTOR, COMPLIANCE BRANCH.
| OFFICE OF OPERATIONS COORDINATION AND PLANNING DIRECTORATE | PRINCIPAL DEPUTY DIRECTOR, TERRORIST SCREENING CENTER.
| OFFICE OF PARTNERSHIP AND ENGAGEMENT | DEPUTY ASSISTANT SECRETARY.
| OFFICE OF THE EXECUTIVE SECRETARIAT | DEPUTY EXECUTIVE SECRETARY, OPERATIONS AND ADMINISTRATION.
| OFFICE OF THE CHIEF FINANCIAL OFFICER | DEPUTY BUDGET DIRECTOR, OFFICE OF BUDGET. DIRECTOR, RISK MANAGEMENT AND ASSURANCE.
|  | DIRECTOR, DEPARTMENTAL GENERAL ACCOUNTING OFFICE/INPSECTOR GENERAL LIAISON OFFICE.
|  | DIRECTOR, OFFICE OF BUDGET.
|  | DIRECTOR, RESOURCE MANAGEMENT TRANSFORMATION OFFICE.
|  | DIRECTOR, FINANCIAL MANAGEMENT.
| OFFICE OF THE CHIEF HUMAN CAPITAL OFFICER | EXECUTIVE DIRECTOR, HUMAN CAPITAL POLICY AND PROGRAMS.
|  | EXECUTIVE DIRECTOR, WORKFORCE HEALTH AND SAFETY.
|  | EXECUTIVE DIRECTOR, DIVERSITY AND INCLUSION.
|  | DEPUTY CHIEF HUMAN CAPITAL OFFICER.
|  | EXECUTIVE DIRECTOR, HUMAN RESOURCES MANAGEMENT AND SERVICES.
|  | EXECUTIVE DIRECTOR, HUMAN CAPITAL BUSINESS SYSTEMS.
| OFFICE OF THE CHIEF INFORMATION OFFICER | DEPUTY CHIEF INFORMATION OFFICER. SENIOR ADVISOR, CHIEF INFORMATION OFFICER.
|  | DEPUTY DIRECTOR, INFORMATION SHARING AND SERVICES, CHIEF INORMATION OFFICER.
|  | DEPUTY DIRECTOR, STRATEGY AND MISSION.
|  | EXECUTIVE DIRECTOR, INFORMATION SHARING AND SERVICES OFFICE.
|  | DEPUTY CHIEF SECURITY OFFICER CYBERSECURITY.
|  | EXECUTIVE DIRECTOR, INFORMATION TECHNOLOGY SERVICES.
|  | EXECUTIVE DIRECTOR, ENTERPRISE BUSINESS MANAGEMENT OFFICE.
|  | EXECUTIVE DIRECTOR, CHIEF INFORMATION SECURITY OFFICER.
|  | DEPUTY EXECUTIVE DIRECTOR, INFORMATION TECHNOLOGY SERVICES OFFICE.
|  | EXECUTIVE DIRECTOR, OFFICE OF THE CHIEF TECHNOLOGY OFFICER.
|  | EXECUTIVE DIRECTOR, ENTERPRISE ARCHITECTURE.
|  | EXECUTIVE DIRECTOR, PRODUCT AND SERVICE MANAGEMENT.
|  | DEPUTY CHIEF, INFORMATION SECURITY OFFICER (FEDERAL INFORMATION SECURITY MANAGEMENT ACT).
|  | EXECUTIVE DIRECTOR, MISSION SYSTEMS AND SERVICES DIVISION.
|  | EXECUTIVE DIRECTOR, HEADQUARTER SERVICES.
|  | EXECUTIVE DIRECTOR, STRATEGIC TECHNOLOGY MANAGEMENT.
| OFFICE OF THE CHIEF PROCUREMENT OFFICER | EXECUTIVE DIRECTOR, OFFICE OF PROCUREMENT OPERATIONS.
|  | DEPUTY DIRECTOR, PROGRAM ACCOUNTABILITY AND RISK MANAGEMENT.
|  | EXECUTIVE DIRECTOR, PROGRAM ACCOUNTABILITY AND RISK MANAGEMENT OFFICE.
|  | EXECUTIVE DIRECTOR, STRATEGIC PROGRAMS DIVISION.
|  | CHIEF PROCUREMENT OFFICER.
|  | DEPUTY CHIEF PROCUREMENT OFFICER.
|  | DEPUTY DIRECTOR, OFFICE OF PROCUREMENT OPERATIONS.
|  | EXECUTIVE DIRECTOR, OVERSIGHT, SYSTEMS AND SUPPORT DIVISION.
|  | DIRECTOR, POLICY AND ACQUISITION WORKFORCE.
| OFFICE OF THE CHIEF READINESS SUPPORT OFFICER | DEPUTY CHIEF READINESS SUPPORT OFFICER. EXECUTIVE DIRECTOR, SUSTAINABILITY AND ENVIRONMENTAL PROGRAMS.
|  | DEPUTY CHIEF READINESS SUPPORT OFFICER, FACILITIES AND OPERATIONAL SUPPORT.
| OFFICE OF THE CHIEF SECURITY OFFICER | EXECUTIVE DIRECTOR, HEADQUARTERS SUPPORT. CHIEF SECURITY OFFICER.
|  | DEPUTY CHIEF SECURITY OFFICER.
|  | EXECUTIVE DIRECTOR, THREAT MANAGEMENT OPERATIONS.
|  | EXECUTIVE DIRECTOR, ENTERPRISE SECURITY OPERATIONS AND SUPPORT.
DEPARTMENT OF HOMELAND SECURITY, OFFICE OF THE INSPECTOR GENERAL | DEPARTMENT OF HOMELAND SECURITY, OFFICE OF THE INSPECTOR GENERAL | DEPUTY ASSISTANT INSPECTOR GENERAL, AUDITS (LAW ENFORCEMENT AND TERRORISM). ASSISTANT INSPECTOR GENERAL, INTEGRITY AND QUALITY OVERSIGHT.
|  | DEPUTY ASSISTANT INSPECTOR GENERAL FOR MANAGEMENT.
|  | DEPUTY ASSISTANT INSPECTOR GENERAL FOR INVESTIGATIONS (2).
|  | ASSISTANT INSPECTOR GENERAL FOR MANAGEMENT.
|  | ASSISTANT INSPECTOR GENERAL , AUDITS.
|  | COUNSEL TO THE INSPECTOR GENERAL.
|  | ASSISTANT INSPECTOR GENERAL, INVESTIGATIONS.
|  | ASSISTANT INSPECTOR GENERAL, INFORMATION TECHNOLOGY AUDITS.
|  | ASSISTANT INSPECTOR GENERAL, INSPECTIONS AND EVALUATIONS.
|  | ASSISTANT INSPECTOR GENERAL FOR EMERGENCY MANAGEMENT OVERSIGHT.
|  | DEPUTY ASSISTANT INSPECTOR GENERAL, AUDIT (DISASTER & IMMIGRATION).
|  | DEPUTY ASSISTANT INSPECTOR GENERAL, AUDITS.
|  | DEPUTY INSPECTOR GENERAL.
|  | CHIEF OF STAFF.
|  | WHISTLEBLOWER PROTECTION OMBUDSMAN.
DEPARTMENT OF HOUSING AND URBAN DEVELOPMENT | GOVERNMENT NATIONAL MORTGAGE ASSOCIATION | SENIOR VICE PRESIDENT AND CHIEF FINANCIAL OFFICER. SENIOR VICE PRESIDENT, OFFICE OF CAPITAL MARKETS.
|  | SENIOR VICE PRESIDENT AND CHIEF RISK OFFICER.
|  | SENIOR VICE PRESIDENT, OFFICE OF ENTERPRISE DATA AND TECHNOLOGY SOLUTIONS.
|  | SENIOR VICE PRESIDENT OF ADMINISTRATION AND SENIOR ADVISOR TO THE OFFICE OF THE PRESIDENT.
|  | SENIOR VICE PRESIDENT FOR MORTGAGE-BACKED SECURITIES.
| OFFICE OF COMMUNITY PLANNING AND DEVELOPMENT | DEPUTY ASSISTANT SECRETARY FOR SPECIAL NEEDS PROGRAMS.
|  | DEPUTY ASSISTANT SECRETARY FOR GRANT PROGRAMS.
| OFFICE OF DEPARTMENTAL EQUAL EMPLOYMENT OPPORTUNITY | DIRECTOR, OFFICE OF DEPARTMENTAL EQUAL EMPLOYMENT OPPORTUNITY.
| OFFICE OF HOUSING | DIRECTOR, PROGRAM SYSTEMS MANAGEMENT OFFICE.
|  | HOUSING FEDERAL HOUSING ADMINISTRATION—COMPTROLLER.
|  | DEPUTY ASSISTANT SECRETARY FOR HEALTHCARE PROGRAMS.
|  | DEPUTY ASSISTANT SECRETARY FOR FINANCE AND BUDGET.
|  | HOUSING FEDERAL HOUSING ADMINISTRATION DEPUTY COMPTROLLER.
| OFFICE OF POLICY DEVELOPMENT AND RESEARCH | DEPUTY ASSISTANT SECRETARY FOR POLICY DEVELOPMENT AND RESEARCH.
| OFFICE OF PUBLIC AND INDIAN HOUSING | DIRECTOR FOR BUDGET AND FINANCIAL MANAGEMENT.
|  | DEPUTY ASSISTANT SECRETARY FOR PUBLIC HOUSING INVESTMENTS.
|  | DEPUTY ASSISTANT SECRETARY FOR POLICY PROGRAM AND LEGISLATIVE INITIATIVES.
|  | DEPUTY ASSISTANT SECRETARY FOR THE REAL ESTATE ASSESSMENT CENTER.
| OFFICE OF THE ADMINISTRATION | CHIEF PRIVACY OFFICER AND CHIEF FOIA OFFICER.
|  | CHIEF DISASTER AND NATIONAL SECURITY OFFICER.
| OFFICE OF THE CHIEF FINANCIAL OFFICER | ASSISTANT CHIEF FINANCIAL OFFICER FOR ACCOUNTING.
|  | ASSISTANT CHIEF FINANCIAL OFFICER FOR FINANCIAL MANAGEMENT.
|  | ASSISTANT CHIEF FINANCIAL OFFICER FOR BUDGET.
|  | ASSISTANT CHIEF FINANCIAL OFFICER FOR SYSTEMS.
|  | DEPUTY CHIEF FINANCIAL OFFICER.
| OFFICE OF THE CHIEF HUMAN CAPITAL OFFICER | CHIEF PERFORMANCE OFFICER. CHIEF HUMAN CAPITAL OFFICER.
|  | DIRECTOR, OFFICE OF HUMAN CAPITAL SERVICES.
|  | CHIEF LEARNING OFFICER.
| OFFICE OF THE CHIEF INFORMATION OFFICER | PRINCIPAL DEPUTY CHIEF INFORMATION OFFICER. DEPUTY CHIEF INFORMATION OFFICER FOR INFRASTRUCTURE AND OPERATIONS.
|  | DEPUTY CHIEF INFORMATION OFFICER FOR BUSINESS AND INFORMATION TECHNOLOGY RESOURCE MANAGEMENT OFFICER.
| OFFICE OF THE GENERAL COUNSEL | ASSOCIATE GENERAL COUNSEL FOR PROGRAM ENFORCEMENT.
|  | DIRECTOR, DEPARTMENTAL ENFORCEMENT CENTER.
DEPARTMENT OF HOUSING AND URBAN DEVELOPMENT, OFFICE OF THE INSPECTOR GENERAL |  | ASSISTANT INSPECTOR GENERAL FOR OFFICE OF MANAGEMENT AND TECHNOLOGY. DEPUTY ASSISTANT INSPECTOR GENERAL FOR AUDIT—SPECIAL OPERATIONS.
|  | COUNSEL TO THE INSPECTOR GENERAL.
|  | ASSISTANT INSPECTOR GENERAL FOR INVESTIGATION.
|  | ASSISTANT INSPECTOR GENERAL FOR AUDIT.
|  | DEPUTY ASSISTANT INSPECTOR GENERAL FOR AUDIT (FIELD OPERATIONS).
|  | DEPUTY ASSISTANT INSPECTOR GENERAL FOR MANAGEMENT.
|  | DEPUTY ASSISTANT INSPECTOR GENERAL FOR INVESTIGATION (HEADQUARTERS OPERATIONS).
|  | ASSISTANT INSPECTOR GENERAL FOR OFFICE OF EVALUATION.
|  | DEPUTY ASSISTANT INSPECTOR GENERAL FOR INFORMATION TECHNOLOGY.
|  | DEPUTY ASSISTANT INSPECTOR GENERAL FOR AUDIT (FIELD OPERATIONS).
|  | DEPUTY INSPECTOR GENERAL.
DEPARTMENT OF THE INTERIOR | NATIONAL PARK SERVICE | CHIEF FINANCIAL OFFICER. COMPTROLLER. ASSOCIATE DIRECTOR, INTERPRETATION AND EDUCATION.
| UNITED STATES FISH AND WILDLIFE SERVICE | CHIEF, OFFICE OF LAW ENFORCEMENT.
| BUREAU OF INDIAN AFFAIRS | SENIOR ADVISOR—LAW ENFORCEMENT, SECURITY AND SCHOOL SAFETY.
| BUREAU OF LAND MANAGEMENT | SENIOR ADVISOR TO THE DIRECTOR, OFFICE OF LAW ENFORCEMENT AND SECURITY.
|  | ASSISTANT DIRECTOR, HUMAN CAPITAL MANAGEMENT.
| BUREAU OF OCEAN ENERGY MANAGEMENT | STRATEGIC RESOURCES CHIEF.
| OFFICE OF HEARINGS AND APPEALS | DIRECTOR, OFFICE OF HEARINGS AND APPEALS.
| OFFICE OF NATURAL RESOURCES REVENUE MANAGEMENT | DEPUTY DIRECTOR, OFFICE OF NATURAL RESOURCES REVENUE MANAGEMENT.
|  | PROGRAM DIRECTOR FOR FINANCIAL AND PRODUCTION MANAGEMENT.
|  | PROGRAM DIRECTOR FOR AUDIT AND COMPLIANCE MANAGEMENT.
|  | PROGRAM DIRECTOR FOR COORDINATION, ENFORCEMENT, VALUATION AND APPEALS.
| BUREAU OF RECLAMATION | DIRECTOR, SECURITY, SAFETY AND LAW ENFORCEMENT.
|  | DIRECTOR, MANAGEMENT SERVICES OFFICE.
| UNITED STATES GEOLOGICAL SURVEY | ASSOCIATE DIRECTOR FOR NATURAL HAZARDS. ASSOCIATE DIRECTOR FOR CORE SCIENCE SYSTEMS.
|  | ASSOCIATE DIRECTOR FOR ECOSYSTEMS.
|  | ASSOCIATE DIRECTOR FOR ENERGY AND MINERALS.
|  | DIRECTOR, EARTH RESOURCES OBSERVATION AND SCIENCE CENTER AND POLICY ADVISOR.
|  | ASSOCIATE DIRECTOR FOR COMMUNICATIONS AND PUBLISHING.
|  | ASSOCIATE DIRECTOR FOR BUDGET, PLANNING, AND INTEGRATION.
|  | ASSOCIATE DIRECTOR FOR ADMINISTRATION.
|  | DEPUTY DIRECTOR.
|  | CHIEF SCIENTIST FOR HYDROLOGY.
|  | ASSOCIATE DIRECTOR FOR WATER.
| FIELD OFFICES—BUREAU OF LAND MANAGEMENT | DIRECTOR, NATIONAL OPERATIONS CENTER.
| ASSISTANT SECRETARY—INDIAN AFFAIRS | DIRECTOR OF HUMAN CAPITAL MANAGEMENT.
| ASSISTANT SECRETARY—POLICY, MANAGEMENT AND BUDGET | DIRECTOR, BUSINESS SERVICES. CHIEF, BUDGET ADMINISTRATION AND DEPARTMENTAL MANAGEMENT.
|  | CHIEF DIVERSITY OFFICER/DIRECTOR, OFFICE OF CIVIL RIGHTS.
|  | DEPUTY ASSISTANT SECRETARY—HUMAN CAPITAL AND DIVERSITY.
|  | DIRECTOR, OFFICE OF EMERGENCY MANAGEMENT.
|  | DEPUTY DIRECTOR, OFFICE OF FINANCIAL MANAGEMENT.
|  | DIRECTOR, OFFICE OF LAW ENFORCEMENT AND SECURITY.
|  | DIRECTOR, OFFICE OF HUMAN RESOURCES.
|  | DEPUTY ASSISTANT SECRETARY—BUDGET, FINANCE, PERFORMANCE AND ACQUISITION.
|  | DIRECTOR, OFFICE OF FINANCIAL MANAGEMENT AND DEPUTY CHIEF FINANCIAL OFFICER.
|  | CHIEF DIVISION OF BUDGET AND PROGRAM REVIEW.
|  | DEPUTY ASSISTANT SECRETARY—PUBLIC SAFETY, RESOURCE PROTECTION AND EMERGENCY SERVICES.
| OFFICE OF THE SOLICITOR | DESIGNATED AGENCY ETHICS OFFICIAL.
|  | ASSOCIATE SOLICITOR FOR ADMINISTRATION.
| FIELD OFFICES—NATIONAL PARK SERVICE | PARK MANAGER, YELLOWSTONE NATIONAL PARK. PARK MANAGER, GRAND CANYON NATIONAL PARK.
| FIELD OFFICES—OFFICE OF SURFACE MINING | REGIONAL DIRECTOR, MID-CONTINENT REGION. REGIONAL DIRECTOR, APPALACHIAN REGION.
| FIELD OFFICES—UNITED STATES GEOLOGICAL SURVEY | REGIONAL DIRECTOR—ALASKA. REGIONAL DIRECTOR—NORTHEAST.
|  | REGIONAL DIRECTOR—SOUTHEAST.
|  | REGIONAL DIRECTOR—SOUTHWEST.
|  | ASSOCIATE DIRECTOR FOR CLIMATE AND LAND USE CHANGE.
|  | REGIONAL DIRECTOR—MIDWEST.
|  | REGIONAL DIRECTOR—NORTHWEST.
|  | REGIONAL DIRECTOR—PACIFIC.
DEPARTMENT OF THE INTERIOR, OFFICE OF THE INSPECTOR GENERAL | OFFICE OF THE INSPECTOR GENERAL | CHIEF OF STAFF. DEPUTY INSPECTOR GENERAL.
| OFFICE OF AUDITS, INSPECTIONS, AND EVALUATIONS | ASSISTANT INPECTOR GENERAL FOR AUDITS, INSPECTIONS, AND EVALUATIONS.
| OFFICE OF GENERAL COUNSEL | GENERAL COUNSEL.
| OFFICE OF INVESTIGATIONS | ASSISTANT INSPECTOR GENERAL FOR INVESTIGATIONS.
| OFFICE OF MANAGEMENT | ASSISTANT INSPECTOR GENERAL FOR MANAGEMENT.
DEPARTMENT OF JUSTICE | EXECUTIVE OFFICE FOR ORGANIZED CRIME DRUG ENFORCEMENT TASK FORCES | DIRECTOR.
| OFFICE OF THE DEPUTY ATTORNEY GENERAL | CHIEF, PROFESSIONAL MISCONDUCT REVIEW UNIT.
| OFFICE OF TRIBAL JUSTICE | DIRECTOR.
| ANTITRUST DIVISION | EXECUTIVE OFFICER. CHIEF, TELECOMMUNICATIONS AND MEDIA SECTION.
|  | DIRECTOR, ECONOMIC ENFORCEMENT.
| CIVIL DIVISION | DEPUTY BRANCH DIRECTOR, FEDERAL PROGRAMS.
|  | DEPUTY DIRECTOR (OPERATIONS), OFFICE OF IMMIGRATION LITIGATION, DISTRICT COURT SECTION.
|  | SPECIAL COUNSEL TO THE ASSOCIATE ATTORNEY GENRAL.
|  | DEPUTY DIRECTOR, CONSTITUTIONAL AND SPECIALIZED TORT LITIGATION.
|  | DEPUTY DIRECTOR CONSUMER PROTECTION BRANCH.
|  | DEPUTY DIRECTOR, OFFICE OF IMMIGRATION LITIGATION, APPELLATE SECTION.
|  | DEPUTY DIRECTOR, COMMERCIAL LITIGATION, FRAUD SECTION.
|  | DEPUTY DIRECTOR, OFFICE OF IMMIGRATION LITIGATION, APPELLATE SECTION.
|  | DEPUTY DIRECTOR, COMMERCIAL LITIGATION BRANCH.
|  | DEPUTY DIRECTOR APPELLATE BRANCH.
|  | DEPUTY BRANCH DIRECTOR.
|  | DEPUTY DIRECTOR, APPELLATE STAFF.
|  | DIRECTOR, CONSUMER LITIGATION BRANCH, FOREIGN LITIGATION SECTION.
|  | SPECIAL LITIGATION COUNSEL, AVIATION AND ADMIRALTY SECTION.
|  | APPELLATE LITIGATION COUNSEL.
|  | DEPUTY DIRECTOR, COMMERCIAL LITIGATION BRANCH (INTELLECTUAL PROPERTY).
|  | DIRECTOR, OFFICE OF MANAGEMENT PROGRAMS.
|  | DEPUTY DIRECTOR, COMMERCIAL LITIGATION BRANCH.
|  | DEPUTY BRANCH DIRECTOR, FEDERAL PROGRAMS.
|  | DIRECTOR, CONSUMER PROTECTION BRANCH.
|  | DEPUTY DIRECTOR, COMMERCIAL LITIGATION BRANCH.
|  | DEPUTY BRANCH DIRECTOR, FEDERAL PROGRAMS.
| CIVIL RIGHTS DIVISION | CHIEF, POLICY STRATEGY SECTION. PRINCIPAL DEPUTY CHIEF, HOUSING AND CIVIL ENFORCEMENT SECTION.
|  | EXECUTIVE OFFICER.
|  | DEPUTY ASSISTANT ATTORNEY GENERAL (2).
|  | PRINCIPAL DEPUTY CHIEF, DISABILITY RIGHTS SECTION.
|  | PRINCIPAL DEPUTY CHIEF, SPECIAL LITIGATION SECTION.
|  | PRINCIPAL DEPUTY CHIEF, CRIMINAL SECTION.
|  | PRINCIPAL DEPUTY CHIEF, VOTING SECTION.
|  | DEPUTY SPECIAL COUNSEL FOR IMMIGRATION-RELATED UNFAIR EMPLOYMENT PRACTICES.
|  | CHIEF FEDERAL COORDINATION AND COMPLIANCE SECTION.
|  | COUNSEL TO THE ASSISTANT ATTORNEY GENERAL.
|  | CHIEF, EMPLOYMENT LITIGATION SECTION.
|  | CHIEF APPELLATE SECTION.
|  | CHIEF CRIMINAL SECTION.
|  | CHIEF, HOUSING AND CIVIL ENFORCEMENT SECTION.
|  | CHIEF, VOTING SECTION.
|  | CHIEF, EDUCATIONAL OPPORTUNITIES SECTION.
|  | CHIEF-SPECIAL LITIGATION SECTION.
|  | CHIEF, DISABILITY RIGHTS SECTION.
|  | PRINCIPAL DEPUTY CHIEF, EMPLOYMENT LITIGATION SECTION.
| ENVIRONMENT AND NATURAL RESOURCES DIVISION | DEPUTY SECTION CHIEF, NATURAL RESOURCES SECTION.
|  | DEPUTY CHIEF, ENVIRONMENTAL CRIMES SECTION.
|  | CHIEF, ENVIRONMENTAL DEFENSE SECTION.
|  | CHIEF, INDIAN RESOURCES SECTION.
|  | DEPUTY CHIEF, ENVIRONMENTAL DEFENSE SECTION.
|  | DEPUTY CHIEF ENVIRONMENTAL ENFORCEMENT SECTION.
|  | SENIOR LITIGATION COUSEL.
|  | EXECUTIVE OFFICER.
|  | CHIEF ENVIRONMENTAL ENFORCEMENT SECTION.
|  | CHIEF ENVIRONMENTAL CRIMES SECTION.
|  | CHIEF, NATURAL RESOURCES SECTION.
|  | CHIEF, LAND ACQUISITION SECTION.
|  | CHIEF, WILDLIFE AND MARINE RESOURCES SECTION.
|  | CHIEF-APPELLATE SECTION.
|  | DEPUTY CHIEF, ENVIRONMENTAL ENFORCEMENT SECTION.
|  | DEPUTY CHIEF, NATURAL RESOURCES SECTION.
|  | DEPUTY CHIEF, ENVIRONMENTAL ENFORCEMENT SECTION.
|  | DEPUTY CHIEF, APPELLATE SECTION.
| OFFICE OF JUSTICE PROGRAMS | DIRECTOR, OFFICE OF ADMINISTRATION. CHIEF FINANCIAL OFFICER.
|  | DEPUTY CHIEF FINANCIAL OFFICER.
|  | DIRECTOR, OFFICE OF AUDIT, ASSESSMENT AND MANAGEMENT.
|  | DIRECTOR OF COMMUNICATIONS.
|  | DEPUTY DIRECTOR, OFFICE FOR VICTIMS OF CRIME.
| TAX DIVISION | DEPUTY CHIEF, APPELLATE SECTION. CHIEF, CRIMINAL APPEALS AND TAX ENFORCEMENT POLICY SECTION.
|  | CHIEF, CRIMINAL ENFORCEMENT SECTION, SOUTH REGION.
|  | CHIEF, CRIMINAL ENFORCEMENT SECTION, NORTH REGION.
|  | CHIEF, CRIMINAL ENFORCEMENT SECTION, WESTERN REGION.
|  | CHIEF, APPELLATE SECTION.
|  | CHIEF, COURT OF FEDERAL CLAIMS SECTION.
|  | DEPUTY ASSISTANT ATTORNEY GENERAL.
|  | CHIEF, CIVIL TRIAL SECTION, CENTRAL REGION.
|  | CHIEF, CIVIL TRIAL SECTION NORTHERN.
|  | CHIEF, CIVIL TRIAL SECTION (SOUTHERN REGION).
|  | CHIEF, CIVIL TRIAL SECTION, WESTERN REGION.
|  | SPECIAL LITIGATION COUNSEL.
|  | SENIOR LITIGATION COUNSEL.
|  | CHIEF CIVIL TRIAL SECTION SOUTHWESTERN REGION.
|  | CHIEF CIVIL TRIAL SECTION EASTERN REGION.
|  | CHIEF OFFICE OF REVIEW.
|  | EXECUTIVE OFFICER.
| BUREAU OF ALCOHOL, TOBACCO, FIREARMS AND EXPLOSIVES | ASSISTANT DIRECTOR, MANAGEMENT AND CHIEF FINANCIAL OFFICER. DEPUTY ASSISTANT DIRECTOR FOR INFORMATION TECHNOLOGY AND DEPUTY CHIEF INFORMATION OFFICER.
|  | DEPUTY ASSISTANT DIRECTOR, FIELD OPERATIONS—WEST.
|  | SPECIAL AGENT IN CHARGE, LOS ANGELES.
|  | SPECIAL AGENT IN CHARGE, NEW YORK.
|  | SPECIAL AGENT IN CHARGE, WASHINGTON DISTRICT OF COLUMBIA.
|  | SPECIAL AGENT IN CHARGE, HOUSTON.
|  | SPECIAL ASSISTANT TO THE DIRECTOR.
|  | SPECIAL AGENT IN CHARGE, NATIONAL CENTER FOR EXPLOSIVES TRAINING AND RESEARCH.
|  | DEPUTY ASSISTANT DIRECTOR HUMAN RESOURCES.
|  | DEPUTY ASSISTANT DIRECTOR, OFFICE OF PUBLIC AND GOVERNMENTAL AFFAIRS.
|  | SPECIAL AGENT IN CHARGE, SAINT PAUL.
|  | SPECIAL AGENT IN CHARGE, ATLANTA.
|  | SPECIAL AGENT IN CHARGE, BOSTON.
|  | SPECIAL AGENT IN CHARGE, CHICAGO.
|  | DEPUTY DIRECTOR, TERRORIST EXPLOSIVE DEVICE ANALYTICAL CENTER.
|  | DEPUTY ASSISTANT DIRECTOR, FIELD OPERATIONS (PROGRAMS).
|  | EXECUTIVE ASSISTANT TO THE DIRECTOR.
|  | CHIEF, SPECIAL OPERATIONS DIVISION.
|  | DEPUTY ASSISTANT DIRECTOR, OFFICE OF PROFESSIONAL RESPONSIBILITY AND SECURITY OPERATIONS.
|  | SPECIAL AGENT IN CHARGE, KANSAS CITY.
|  | SPECIAL AGENT IN CHARGE, PHILADELPHIA.
|  | SPECIAL AGENT IN CHARGE, PHOENIX.
|  | SPECIAL AGENT IN CHARGE, SAN FRANCISCO.
|  | SPECIAL AGENT IN CHARGE, MIAMI.
|  | SPECIAL AGENT IN CHARGE, CHARLOTTE.
|  | SPECIAL AGENT IN CHARGE, DETROIT.
|  | SPECIAL AGENT IN CHARGE, LOUISVILLE.
|  | SPECIAL AGENT IN CHARGE, SEATTLE.
|  | SPECIAL AGENT IN CHARGE, TAMPA.
|  | DEPUTY ASSISTANT DIRECTOR, FIELD OPERATIONS—EAST.
|  | DEPUTY ASSISTANT DIRECTOR, INDUSTRY OPERATIONS.
|  | SPECIAL AGENT IN CHARGE, NASHVILLE.
|  | SPECIAL AGENT IN CHARGE, DALLAS.
|  | ASSISTANT DIRECTOR, OFFICE OF STRATEGIC INTELLIGENCE AND INFORMATION.
|  | DEPUTY ASSISTANT DIRECTOR, OFFICE OF STRATEGIC INTELLIGENCE AND INFORMATION.
|  | ASSISTANT DIRECTOR, OFFICE OF PUBLIC AND GOVERNMENTAL AFFAIRS.
|  | ASSISTANT DIRECTOR, SCIENCE AND TECHNOLOGY.
|  | DEPUTY ASSISTANT DIRECTOR, FORENSIC SERVICES.
|  | SPECIAL AGENT IN CHARGE, COLUMBUS.
|  | SPECIAL AGENT IN CHARGE, NEW ORLEANS.
|  | SPECIAL AGENT IN CHARGE, BALTIMORE.
|  | SPECIAL AGENT IN CHARGE, NEWARK.
|  | SPECIAL AGENT IN CHARGE, DENVER.
|  | DEPUTY DIRECTOR.
|  | ASSISTANT DIRECTOR, FIELD OPERATIONS.
|  | DEPUTY ASSISTANT DIRECTOR, FIELD OPERATIONS-CENTRAL.
|  | ASSISTANT DIRECTOR, ENFORCEMENT PROGRAMS AND SERVICES.
|  | DEPUTY ASSISTANT DIRECTOR, ENFORCEMENT PROGRAMS AND SERVICES.
|  | DEPUTY ASSISTANT DIRECTOR, HUMAN RESOURCES AND PROFESSIONAL DEVELOPMENT.
|  | ASSISTANT DIRECTOR, HUMAN RESOURCES AND PROFESSIONAL DEVELOPMENT.
|  | ASSISTANT DIRECTOR, OFFICE OF PROFESSIONAL RESPONSIBILITY AND SECURITY OPERATIONS.
|  | DEPUTY ASSISTANT DIRECTOR, MANAGEMENT AND CHIEF FINANCIAL OFFICER.
| CRIMINAL DIVISION | CHIEF, COMPUTER CRIME AND INTELLECTUAL PROPERTY SECTION.
|  | DEPUTY CHIEF, COMPUTER CRIME AND INTELLECTUAL PROPERTY SECTION.
|  | SENIOR COUNSEL FOR CYBERCRIME.
|  | DEPUTY CHIEF, NARCOTIC AND DANGEROUS DRUG SECTION.
|  | DIRECTOR, OFFICE OF OVERSEAS PROSECUTORIAL DEVELOPMENT, ASSISTANCE, AND TRAINING.
|  | DEPUTY CHIEF FOR ORGANIZED CRIME AND GANG SECTION.
|  | CHIEF, CHILD EXPLOITATION AND OBSCENITY SECTION.
|  | DIRECTOR, INTERNATIONAL CRIMINAL INVESTIGATIVE TRAINING ASSISTANCE PROGRAM.
|  | DEPUTY CHIEF, APPELLATE SECTION.
|  | EXECUTIVE OFFICER.
|  | DEPUTY, CHIEF FRAUD SECTION.
|  | CHIEF, ASSET FORFEITURE AND MONEY LAUNDERING SECTION.
|  | DEPUTY CHIEF PUBLIC INTEGRITY SECTION.
|  | CHIEF, ORGANIZED CRIME AND GANG SECTION.
|  | CHIEF, APPELLATE SECTION.
|  | CHIEF, FRAUD SECTION.
|  | CHIEF, PUBLIC INTEGRITY SECTION.
|  | CHIEF, NARCOTIC AND DANGEROUS DRUG SECTION.
|  | CHIEF, HUMAN RIGHTS AND SPECIAL PROSECUTIONS SECTION.
|  | DEPUTY CHIEF, ASSET FORFEITURE AND MONEY LAUNDERING SECTION.
|  | DEPUTY CHIEF, CHILD EXPLOITATION AND OBSCENITY SECTION.
| EXECUTIVE OFFICE FOR IMMIGRATION REVIEW | CHAIRMAN, BOARD OF IMIGRATION APPEALS. ASSISTANT DIRECTOR FOR ADMINISTRATION.
|  | VICE CHAIRMAN, BOARD OF IMMIGRATION APPEALS.
|  | ASSISTANT DIRECTOR FOR POLICY.
|  | GENERAL COUNSEL.
|  | CHIEF IMMIGRATION JUDGE.
|  | CHIEF ADMINISTRATIVE HEARING OFFICER.
|  | DEPUTY CHIEF IMMIGRATION JUDGE.
| EXECUTIVE OFFICE FOR UNITED STATES ATTORNEYS | COUNSEL, LEGAL PROGRAMS AND POLICY. DEPUTY DIRECTOR. GENERAL COUNSEL.
|  | DEPUTY DIRECTOR FOR ADMINISTRATION AND MANAGEMENT.
|  | CHIEF HUMAN RESOURCES OFFICER.
|  | CHIEF FINANCIAL OFFICER.
|  | ASSOCIATE DIRECTOR, OFFICE OF LEGAL EDUCATION.
|  | CHIEF, INFORMATION OFFICER.
| FEDERAL BUREAU OF PRISONS | COMPLEX WARDEN, UNITED STATES PENITENTIARY, TUCSON, ARIZONA.
|  | WARDEN, FEDERAL CORRECTIONAL INSTITUTION, CUMBERLAND, MARYLAND.
|  | WARDEN, FEDERAL CORRECTIONAL INSTITUTION, GREENVILLE, ILLINIOIS.
|  | WARDEN, FEDERAL CORRECTIONAL INSTITUTION, MCKEAN, PENNSYLVANIA.
|  | WARDEN, FEDERAL CORRECTIONAL INSTITUTION, PEKIN, ILLINOIS.
|  | WARDEN, FEDERAL CORRECTIONAL INSTITUTION, SCHUYLKILL, PENNSYLVANIA.
|  | WARDEN, FEDERAL CORRECTIONAL INSTITUTION, THREE RIVERS, TEXAS.
|  | WARDEN, METROPOLITAN DETENTION CENTER, GUAYNABO, PUERTO RICO.
|  | WARDEN, FCI, MENDOTA, CALIFORINA.
|  | CHIEF, EDUCATION ADMINISTRATOR.
|  | ASSISTANT DIRECTOR, INFORMATION, POLICY AND PUBLIC AFFAIRS.
|  | SENIOR DEPUTY GENERAL COUNSEL, OFFICE OF GENERAL COUNSEL.
|  | WARDEN, FEDERAL CORRECTIONAL INSTITUTION, BENNETTSVILLE, SOUTH CAROLINA.
|  | SENIOR DEPUTY ASSISTANT DIRECTOR, INFORMATION, POLICY, AND PUBLIC AFFAIRS DIVISION.
|  | ASSISTANT DIRECTOR, REENTRY SERVICES DIVISION.
|  | SENIOR DEPUTY ASSISTANT DIRECTOR, ADMINISTRATION DIVISION.
|  | WARDEN, FEDERAL CORRECTIONAL INSTITUTION, FORT WORTH TEXAS.
|  | WARDEN, FEDERAL CORRECTIONAL INSTITUTION, THOMSON, IL.
|  | SENIOR DEPUTY ASSISTANT DIRECTOR, PROGRAM REVIEW DIVISION.
|  | SENIOR DEPUTY GENERAL COUNSEL, OFFICE OF THE GENERAL COUNSEL.
|  | SENIOR ADVISOR.
|  | SENIOR DEPUTY ASSISTANT DIRECTOR, INDUSTRIES, EDUCATION, AND VOCATIONAL TRAINING DIVISION.
|  | ASSISTANT DIRECTOR, HEALTH SERVICES DIVISION.
|  | CHIEF, OFFICE OF PUBLIC AFFAIRS.
|  | SENIOR DEPUTY ASSISTANT DIRECTOR, PROGRAM REVIEW DIVISION.
|  | WARDEN, FEDERAL CORRECTIONAL INSTITUTION, MARIANNA, FLORIDA.
|  | ASSISTANT DIRECTOR, HUMAN RESOURCES MANAGEMENT DIVISION.
|  | ASSISTANT DIRECTOR FOR ADMINISTRATION.
|  | ASSISTANT DIRECTOR, CORRECTIONAL PROGRAMS DIVISION.
|  | ASSISTANT DIRECTOR, OFFICE OF GENERAL COUNSEL.
|  | REGIONAL DIRECTOR, NORTHEAST REGION.
|  | REGIONAL DIRECTOR, SOUTHEAST REGION.
|  | REGIONAL DIRECTOR, NORTH CENTRAL REGION.
|  | REGIONAL DIRECTOR, WESTERN REGION.
|  | REGIONAL DIRECTOR, SOUTH CENTRAL REGION.
|  | WARDEN, UNITED STATES PENITENTIARY, ATLANTA, GEORGIA.
|  | WARDEN, UNITED STATES PENITENTIARY, LEAVENWORTH, KANSAS.
|  | WARDEN, UNITED STATES PENITENTIARY, LEWISBURG, PENNSYLVANIA.
|  | WARDEN, FEDERAL CORRECTIONAL COMPLEX, LOMPOC, CALIFORNIA.
|  | WARDEN, UNITED STATES MEDICAL CENTER FEDERAL PRISONERS, SPRINGFIELD, MISSOURI.
|  | WARDEN, FEDERAL MEDICAL CENTER, LEXINGTON, KENTUCKY.
|  | WARDEN, UNITED STATES PENITENTIARY, MARION ILLINOIS.
|  | ASSISTANT DIRECTOR, INDUSTRIES, EDUCATION, AND VOCATIONAL TRAINING DIVISION.
|  | SENIOR DEPUTY ASSISTANT DIRECTOR, REENTRY SERVICES.
|  | WARDEN, FEDERAL CORRECTIONAL COMPLEX, TERRE HAUTE, INDIANA.
|  | WARDEN, FEDERAL CORRECTIONAL COMPLEX, BUTNER, NORTH CAROLINA.
|  | WARDEN, FEDERAL CORRECTIONAL INSTITUTION, PHOENIX, ARIZONA.
|  | WARDEN, FEDERAL MEDICAL CENTER, ROCHESTER, MINNESOTA.
|  | REGIONAL DIRECTOR, MIDDLE ATLANTIC REGION.
|  | DEPUTY DIRECTOR.
|  | WARDEN, FEDERAL CORRECTIONAL INSTITUTION, TALLADEGA, ALABAMA.
|  | WARDEN, FEDERAL CORRECTIONAL INSTITUTION, JESUP, GEORGIA.
|  | COMPLEX WARDEN, FEDERAL CORRECTIONAL COMPLEX, VICTORVILLE, CALIFORNIA.
|  | WARDEN, UNITED STATES PENITENTIARY, MCCREARY, KENTUCKY.
|  | WARDEN, UNITED STATES PENITENTIARY, POLLOCK, LOUISIANA.
|  | WARDEN, FEDERAL CORRECTIONAL INSTITUTION, MEMPHIS, TENNESSEE.
|  | WARDEN, FEDERAL CORRECTIONAL INSTITUTION, SHERIDAN, OREGON.
|  | WARDEN, FEDERAL CORRECTIONAL INSTITUTION, GILMER, WEST VIRGINIA.
|  | WARDEN, FEDERAL CORRECTIONAL INSTITUTION, MANCHESTER, KENTUCKY.
|  | COMPLEX WARDEN, FEDERAL CORRECTION COMPLEX, PETERSBURG, VIRGINIA.
|  | WARDEN, UNITED STATES PENITENTIARY, HAZELTON, WEST VIRIGINA.
|  | COMPLEX WARDEN, FEDERAL CORRECTIONAL COMPLEX, YAZOO CITY, MISSISSIPPI.
|  | WARDEN, UNITED STATES PENITENTIARY, CANAAN, PENNSYLVANIA.
|  | WARDEN, FEDERAL CORRECTIONAL COMPLEX, FORREST CITY, ARKANSAS.
|  | SENIOR DEPUTY ASSISTANT DIRECTOR, RE-ENTRY SERVICES DIVISION.
|  | WARDEN, UNITED STATES PENITENTIARY COLEMAN-I, COLEMAN, FLORIDA.
|  | WARDEN, FEDERAL CORRECTIONAL INSTITUTION, WILLIAMSBURG, SOUTH CAROLINA.
|  | SENIOR DEPUTY ASSISTANT DIRECTOR, ADMINISTRATION DIVISION.
|  | SENIOR DEPUTY ASSISTANT DIRECTOR, INFORMATION, POLICY, AND PUBLIC AFFAIRS DIVISION.
|  | WARDEN, UNITED STATES PENITENTIARY, BIG SANDY, KENTUCKY.
|  | SENIOR COUNSEL, OFFICE OF GENERAL COUNSEL.
|  | WARDEN, METROPOLITAN DETENTION CENTER, BROOKLYN, NEW YORK.
|  | WARDEN, FEDERAL CORRECTIONAL COMPLEX, BEAUMONT, TEXAS.
|  | WARDEN, FEDERAL CORRECTIONAL COMPLEX, COLEMAN, FLORIDA.
|  | WARDEN, FEDERAL CORRECTIONAL INSTITUTION, BECKLEY, WEST VIRGINIA.
|  | WARDEN, FEDERAL CORRECTIONAL INSTITUTION, OTISVILLE, NEW YORK.
|  | WARDEN, UNITED STATES PENITENTIARY, LEE, VIRGINIA.
|  | WARDEN, UNITED STATES PENITENTIARY, ATWATER, CALIFORNIA.
|  | WARDEN, METROPOLITAN CORRECTIONAL CENTER, NEW YORK, NEW YORK.
|  | SENIOR DEPUTY ASSISTANT DIRECTOR, CORRECTIONAL PROGRAMS DIVISION.
|  | WARDEN, FEDERAL CORRECTIONAL INSTITUTION, FORT DIX, NEW JERSEY.
|  | WARDEN, FEDERAL CORRECTIONAL COMPLEX, FLORENCE, COLORADO.
|  | WARDEN, UNITED STATES PENITENTIARY—HIGH, FLORENCE, COLORADO.
|  | WARDEN, FEDERAL CORRECTIONAL COMPLEX, OAKDALE, LOUISIANA.
|  | WARDEN, FEDERAL MEDICAL CENTER, CARSWELL, TEXAS.
|  | WARDEN, FEDERAL CORRECTIONAL COMPLEX, ALLENWOOD, PENNSYLVANIA.
|  | WARDEN, FEDERAL TRANSFER CENTER, OKLAHOMA CITY, OKLAHOMA.
|  | SENIOR DEPUTY ASSISTANT DIRECTOR, HUMAN RESOURCES MANAGEMENT DIVISION.
|  | WARDEN, FEDERAL DETENTION CENTER, MIAMI, FLORIDA.
|  | WARDEN, FEDERAL CORRECTIONAL INSTITUTION, FAIRTON, NEW JERSEY.
|  | ASSISTANT DIRECTOR, PROGRAM REVIEW DIVISION.
|  | WARDEN, FEDERAL CORRECTIONAL INSTITUTION, EDGEFIELD, SOUTH CAROLINA.
|  | WARDEN, FEDERAL MEDICAL CENTER, DEVENS, MASSACHUSETTS.
|  | WARDEN, METROPOLITAN DETENTION CENTER, LOS ANGELES, CALIFORNIA.
| JUSTICE MANAGEMENT DIVISION | DEPUTY DIRECTOR, BUDGET STAFF, PROGRAMS AND PERFORMANCE.
|  | DEPUTY DIRECTOR, AUDITING, FINANCE STAFF.
|  | DEPUTY DIRECTOR, HUMAN RESOURCES.
|  | DEPUTY CHIEF INFORMATION OFFICER.
|  | CHIEF TECHNOLOGY OFFICER.
|  | DIRECTOR, CYBERSECURITY SERVICES STAFF.
|  | SENIOR ADVISOR.
|  | DIRECTOR, SERVICE ENGINEERING STAFF.
|  | DIRECTOR, SERVICE DELIVERY STAFF.
|  | DEPUTY DIRECTOR, CYBERSECURITY STAFF/DEPUTY CHIEF INFORMATION SECURITY OFFICER.
|  | DEPUTY DIRECTOR, SERVICE DELIVERY STAFF.
|  | DIRECTOR, DEPARTMENTAL ETHICS OFFICE.
|  | DEPUTY DIRECTOR, BUDGET STAFF, OPERATIONS AND FUNDS CONTROL.
|  | DEPUTY ASSISTANT ATTORNEY GENERAL FOR INFORMATION RESOURCES MANAGEMENT/CHIEF INFORMATION OFFICER.
|  | DIRECTOR, PROCUREMENT SERVICES STAFF.
|  | GENERAL COUNSEL.
|  | DIRECTOR, EQUAL EMPLOYMENT OPPORTUNITY STAFF.
|  | DIRECTOR, BUDGET STAFF.
|  | DIRECTOR, DEBT COLLECTION MANAGEMENT STAFF.
|  | DIRECTOR, FACILITIES AND ADMINISTRATIVE SERVICES STAFF.
|  | DIRECTOR, OFFICE OF ATTORNEY RECRUITMENT AND MANAGEMENT.
|  | DIRECTOR, FINANCE STAFF.
|  | DEPUTY ASSISTANT ATTORNEY GENERAL (CONTROLLER).
|  | DEPUTY ASSISTANT ATTORNEY GENERAL FOR HUMAN RESOURCES AND ADMINISTRATION.
|  | DIRECTOR, LIBRARY STAFF.
|  | ASSISTANT ATTORNEY GENERAL FOR ADMINISTRATION.
|  | DEPUTY ASSISTANT ATTORNEY GENERAL, POLICY, MANAGEMENT, AND PLANNING.
|  | DIRECTOR, HUMAN RESOURCES.
|  | DIRECTOR, SECURITY AND EMERGENCY PLANNING STAFF.
|  | DIRECTOR, ASSET FORFEITURE MANAGEMENT STAFF.
|  | DIRECTOR, INFORMATION TECHNOLOGY POLICY AND PLANNING STAFF.
| NATIONAL SECURITY DIVISION | CHIEF, FOREIGN INVESTMENT REVIEW STAFF.
|  | DIRECTOR OF RISK MANAGEMENT AND SENIOR COUNSEL.
|  | DIRECTOR, FREEDOM OF INFORMATION ACT AND DECLASSIFICATION PROGRAM.
|  | CHIEF, APPELLATE UNIT.
|  | DEPUTY CHIEF, COUNTERTERRORISM SECTION.
|  | DEPUTY ASSISTANT ATTORNEY GENERAL, FOREIGN INVESTMENT REVIEW STAFF, OPERATIONS AND INTELLIGENCE OVERSIGHT.
|  | CHIEF, OPERATIONS SECTION.
|  | CHIEF, OVERSIGHT SECTION.
|  | EXECUTIVE OFFICER.
|  | SPECIAL COUNSEL FOR NATIONAL SECURITY.
| OFFICE OF PROFESSIONAL RESPONSIBILITY | DEPUTY COUNSEL ON PROFESSIONAL RESPONSIBILITY. COUNSEL ON PROFESSIONAL RESPONSIBILITY.
| OFFICE OF THE LEGAL COUNSEL | SPECIAL COUNSEL (2).
| PROFESSIONAL RESPONSIBILITY ADVISORY OFFICE | DIRECTOR, PROFESSIONAL RESPONSPONSIBILITY ADVSIORY OFFICE.
| UNITED STATES MARSHALS SERVICE | ASSISTANT DIRECTOR, HUMAN RESOURCES. ASSISTANT DIRECTOR, FINANCIAL SERVICES.
|  | ASSISTANT DIRECTOR, WITNESS SECURITY.
|  | ASSISTANT DIRECTOR, MANAGEMENT SUPPORT.
|  | ASSISTANT DIRECTOR, ASSET FORFEITURE.
|  | ASSISTANT DIRECTOR, TRAINING.
|  | ASSISTANT DIRECTOR, INVESTIGATIVE OPERATIONS.
|  | DEPUTY DIRECTOR.
|  | ASSISTANT DIRECTOR OFFICE OF INSPECTION.
|  | ASSISTANT DIRECTOR JUDICIAL SECURITY.
|  | DEPUTY ASSISTANT DIRECTOR ACQUISITION AND PROCUREMENT.
|  | ASSISTANT DIRECTOR, JUSTICE PRISONER AND ALIEN TRANSPORTATION SYSTEM.
|  | ATTORNEY ADVISOR.
|  | ASSOCIATE DIRECTOR, OPERATIONS.
|  | ASSOCIATE DIRECTOR, ADMINISTRATION.
|  | ASSISTANT DIRECTOR, TACTICAL OPERATIONS.
|  | ASSISTANT DIRECTOR FOR PRISONER OPERATIONS.
|  | ASSISTANT DIRECTOR, INFORMATION TECHNOLOGY.
DEPARTMENT OF JUSTICE, OFFICE OF THE INSPECTOR GENERAL | AUDIT DIVISION | DEPUTY ASSISTANT INSPECTOR GENERAL, AUDIT DIVISION. ASSISTANT INSPECTOR GENERAL, AUDIT DIVISION.
| EVALUATION AND INSPECTIONS DIVISION | ASSISTANT INSPECTOR GENERAL, EVALUATION AND INSPECTIONS DIVISION.
| FRONT OFFICE | DEPUTY INSPECTOR GENERAL. GENERAL COUNSEL.
| INVESTIGATIONS DIVISION | ASSISTANT INSPECTOR GENERAL, INVESTIGATIONS DIVISION.
|  | DEPUTY ASSISTANT INSPECTOR GENERAL, INVESTIGATIONS DIVISION.
| MANAGEMENT AND PLANNING DIVISION | DEPUTY ASSISTANT INSPECTOR GENERAL, MANAGEMENT AND PLANNING.
|  | ASSISTANT INSPECTOR GENERAL, MANAGEMENT AND PLANNING DIVISION.
| OVERSIGHT AND REVIEW DIVISION | DEPUTY ASSISTANT INSPECTOR GENERAL, OVERSIGHT AND REVIEW DIVISION.
|  | ASSISTANT INSPECTOR GENERAL, OVERSIGHT AND REVIEW DIVISION.
DEPARTMENT OF LABOR | BUREAU OF INTERNATIONAL LABOR AFFAIRS | DIRECTOR, OFFICE OF CHILD LABOR, FORCED LABOR HUMAN TRAFFICKING.
|  | DIRECTOR, OFFICE OF TRADE AND LABOR AFFAIRS.
| BUREAU OF LABOR STATISTICS | ASSISTANT COMMISSIONER FOR COMPENSATION LEVELS AND TRENDS.
|  | ASSISTANT COMMISSIONER FOR SAFETY, HEALTH AND WORKING CONDITIONS.
|  | ASSOCIATE COMMISSIONER FOR COMPENSATION AND WORKING CONDITIONS.
|  | DIRECTOR OF TECHNOLOGY AND COMPUTING SERVICES.
|  | DIRECTOR OF SURVEY PROCESSING.
|  | DEPUTY COMMISSIONER FOR LABOR STATISTICS.
|  | ASSOCIATE COMMISSIONER FOR EMPLOYMENT AND UNEMPLOYMENT STATISTICS.
|  | ASSISTANT COMMISSIONER FOR INDUSTRIAL PRICES AND PRICE INDEXES.
|  | ASSISTANT COMMISSIONER FOR INTERNATIONAL PRICES.
|  | ASSOCIATE COMMISSIONER FOR PUBLICATIONS AND SPECIAL STUDIES.
|  | ASSOCIATE COMMISSIONER FOR SURVEY METHODS RESEARCH.
|  | ASSISTANT COMMISSIONER FOR CURRENT EMPLOYMENT ANALYSIS.
|  | ASSISTANT COMMISSIONER FOR INDUSTRY EMPLOYMENT STATISTICS.
|  | ASSOCIATE COMMISSIONER FOR TECHNOLOGY AND SURVEY PROCESSING.
|  | ASSISTANT COMMISSIONER FOR OCCUPATIONAL STATISTICS AND EMPLOYMENT PROJECTIONS.
|  | ASSISTANT COMMISSIONER FOR CONSUMER PRICES AND PRICES INDEXES.
|  | ASSOCIATE COMMISSIONER, PRODUCTIVITY AND TECHNOLOGY.
|  | ASSOCIATE COMMISSIONER FOR PRICES AND LIVING CONDITIONS.
|  | ASSOCIATE COMMISSIONER FOR ADMINISTRATION.
|  | ASSOCIATE COMMISSIONER FOR FIELD OPERATIONS.
|  | ASSISTANT COMMISSIONER FOR REGIONAL OPERATIONS (3).
| EMPLOYEE BENEFITS SECURITY ADMINISTRATION | DIRECTOR OF EXEMPTION DETERMINATIONS. DIRECTOR OF REGULATIONS AND INTERPRETATIONS.
|  | CHIEF ECONOMIST AND DIRECTOR OF POLICY AND RESEARCH.
|  | DIRECTOR, OFFICE OF OUTREACH EDUCATION AND ASSISTANCE.
|  | DIRECTOR OF HEALTH PLAN STANDARDS COMPLIANCE AND ASSISTANCE.
|  | DIRECTOR OF INFORMATION MANAGEMENT.
|  | REGIONAL DIRECTOR—BOSTON.
|  | REGIONAL DIRECTOR—ATLANTA.
|  | REGIONAL DIRECTOR—KANSAS CITY.
|  | REGIONAL DIRECTOR—SAN FRANCISCO.
|  | DIRECTOR OF ENFORCEMENT.
|  | REGIONAL DIRECTOR (2).
|  | REGIONAL DIRECTOR—CHICAGO.
|  | REGIONAL DIRECTOR—NEW YORK.
|  | CHIEF ACCOUNTANT.
|  | REGIONAL DIRECTOR—PHILADELPHIA.
|  | DEPUTY ASSISTANT SECRETARY FOR PROGRAM OPERATIONS.
| EMPLOYMENT AND TRAINING ADMINISTRATION | REGIONAL ADMINISTRATOR (6). ADMINISTRATOR, APPRENTICESHIP AND TRAINING, EMPLOYEE AND LABOR SERVICES.
|  | ADMINISTRATOR, OFFICE OF GRANTS MANAGEMENT.
|  | ADMINISTRATOR, OFFICE OF INFORMATION SYSTEMS & TECHNOLOGY.
|  | ADMINISTRATOR, OFFICE OF TRADE ADJUSTMENT ASSISTANCE.
|  | ADMINISTRATOR, OFFICE OF POLICY DEVELOPMENT AND RESEARCH.
|  | ADMINISTRATOR, OFFICE OF FOREIGN LABOR CERTIFICATION.
|  | ADMINISTRATOR, OFFICE OF WORKFORCE SECURITY.
|  | ASSOCIATE ADMINISTRATOR.
|  | COMPTROLLER.
|  | DEPUTY ASSISTANT SECRETARY (OPERATIONS AND MANAGEMENT).
|  | DEPUTY ADMINISTRATOR JOB CORP.
|  | ADMINISTRATOR, OFFICE OF CONTRACT MANAGEMENT.
|  | ADMINISTRATOR, OFFICE OF JOB CORPS.
| MINE SAFETY AND HEALTH ADMINISTRATION | DEPUTY ASSISTANT SECRETARY. ADMINISTRATOR FOR COAL MINE SAFETY AND HEALTH.
|  | DIRECTOR OF ADMINISTRATION AND MANAGEMENT.
|  | DIRECTOR, OFFICE OF ASSESSMENTS, ACCOUNTABILITY, SPECIAL ENFORCEMENT, AND INVESTIGATIONS.
|  | DIRECTOR OF TECHNICAL SUPPORT.
|  | DEPUTY ADMINISTRATOR FOR COAL MINE SAFETY AND HEALTH.
|  | ADMINISTRATOR FOR METAL AND NONMETAL.
|  | DIRECTOR OF PROGRAM EVALUATION AND INFORMATION RESOURCES.
|  | DIRECTOR, EDUCATIONAL POLICY AND DEVELOPMENT.
| OCCUPATIONAL SAFETY AND HEALTH ADMINISTRATION | DIRECTOR, DIRECTORATE OF STANDARDS AND GUIDANCE. DIRECTOR OF CONSTRUCTION.
|  | DIRECTOR, OFFICE OF TRAINING AND EDUCATION.
|  | REGIONAL ADMINISTRATOR—SEATTLE.
|  | DIRECTOR OF TECHNICAL SUPPORT AND EMERGENCY MANAGEMENT.
|  | DIRECTOR, DIRECTORATE OF ENFORCEMENT PROGRAMS.
|  | REGIONAL ADMINISTRATOR—DENVER.
|  | REGIONAL ADMINISTRATOR—SAN FRANCISCO.
|  | REGIONAL ADMINISTRATOR—DALLAS.
|  | REGIONAL ADMINISTRATOR—PHILADELPHIA.
|  | REGIONAL ADMINISTRATOR—NEW YORK.
|  | DIRECTOR, DIRECTORATE OF COOPERATIVE AND STATE PROGRAMS.
|  | REGIONAL ADMINISTRATOR—ATLANTA.
|  | SAFETY AND HEALTH ADMINISTRATOR—CHICAGO.
|  | DIRECTOR, ADMINISTRATIVE PROGRAMS.
|  | REGIONAL ADMINISTRATOR—BOSTON.
|  | DEPUTY ASSISTANT SECRETARY.
| OFFICE OF CHIEF FINANCIAL OFFICER | ASSOCIATE DEPUTY CHIEF FINANCIAL OFFICER FOR FINANCIAL SYSTEMS.
|  | DEPUTY CHIEF FINANCIAL OFFICER.
| OFFICE OF DISABILITY EMPLOYMENT POLICY | DEPUTY ASSISTANT SECRETARY FOR OFFICE OF DISABILITY EMPLOYMENT POLICY.
| OFFICE OF FEDERAL CONTRACT COMPLIANCE PROGRAMS | ADMINISTRATIVE OFFICER. REGIONAL DIRECTOR FOR OFFICE OF FEDERAL CONTRACT COMPLIANCE PROGRAMS (6).
| OFFICE OF LABOR—MANAGEMENT STANDARDS | DEPUTY DIRECTOR, OFFICE OF LABOR MANAGEMENT STANDARDS.
|  | SENIOR ADVISOR AND DIRECTOR OF REPORTS AND DISCLOSURES.
|  | DIRECTOR, OFFICE OF ENFORCEMENT AND INTERNATIONAL UNION AUDITS.
| OFFICE OF THE ASSISTANT SECRETARY FOR ADMINISTRATION AND MANAGEMENT | DIRECTOR OF HUMAN RESOURCES. CHIEF CYBER SECURITY OFFICER. CHIEF PROCUREMENT OFFICER. DIRECTOR BUSINESS OPERATIONS CENTER.
|  | DEPUTY ASSISTANT SECRETARY FOR OPERATIONS.
|  | DIRECTOR, CUSTOMER SERVICE.
|  | DIRECTOR OF ENTERPRISE SERVICES.
|  | DIRECTOR, PROGRAM PLANNING AND RESULTS CENTER.
|  | DIRECTOR OF CIVIL RIGHTS.
|  | DIRECTOR, OFFICE OF BUDGET.
|  | DEPUTY DIRECTOR OF HUMAN RESOURCES.
| OFFICE OF THE ASSISTANT SECRETARY FOR POLICY | DEPUTY ASSISTANT SECRETARY FOR POLICY. DIRECTOR, OFFICE OF REGULATORY AND PROGRAMMATIC POLICY.
| OFFICE OF THE SOLICITOR | ASSOCIATE SOLICITOR FOR OCCUPATIONAL SAFETY AND HEALTH.
|  | ASSOCIATE SOLICITOR FOR MINE SAFETY AND HEALTH.
|  | ASSOCIATE SOLICITOR, MANAGEMENT AND ADMINISTRATIVE LEGAL SERVICES DIVISION.
|  | ASSOCIATE SOLICITOR FOR CIVIL RIGHTS AND LABOR MANAGEMENT.
|  | ASSOCIATE SOLICITOR FOR LEGISLATION AND LEGAL COUNSEL.
|  | ASSOCIATE SOLICITOR FOR BLACK LUNG AND LONGSHORE LEGAL SERVICES.
|  | DEPUTY SOLICITOR (NATIONAL OPERATIONS).
|  | ASSOCIATE SOLICITOR FOR FAIR LABOR STANDARDS.
|  | REGIONAL SOLICITOR—ATLANTA.
|  | ASSOCIATE SOLICITOR FOR FEDERAL EMPLOYEES' AND ENERGY WORKERS' COMPENSATION.
|  | REGIONAL SOLICITOR—PHILADELPHIA.
|  | REGIONAL SOLICITOR—DALLAS.
|  | REGIONAL SOLICITOR—SAN FRANCISCO.
|  | ASSOCIATE SOLICITOR FOR PLAN BENEFITS SECURITY.
|  | DEPUTY SOLICITOR (REGIONAL OPERATIONS).
|  | REGIONAL SOLICITOR—BOSTON.
|  | REGIONAL SOLICITOR—NEW YORK.
|  | REGIONAL SOLICITOR—CHICAGO.
| OFFICE OF WORKERS COMPENSATION PROGRAMS | REGIONAL DIRECTOR—DALLAS. REGIONAL DIRECTOR (2). COMPTROLLER.
|  | ADMINISTRATIVE OFFICER.
|  | REGIONAL DIRECTOR (NORTHEAST REGION).
|  | DIRECTOR FOR FEDERAL EMPLOYEES' COMPENSATION.
|  | DEPUTY DIRECTOR FOR OFFICE OF WORKERS' COMPENSATION PROGRAMS.
|  | DIRECTOR, ENERGY EMPLOYEES' OCCUPATIONAL ILLNESS COMPENATION.
| VETERANS EMPLOYMENT AND TRAINING SERVICE | DIRECTOR OF NATIONAL PROGRAMS. DEPUTY ASSISTANT SECRETARY FOR OPERATIONS AND MANAGEMENT.
|  | DIRECTOR, OFFICE OF FIELD OPERATIONS.
|  | DEPUTY DIRECTOR, OFFICE OF FIELD OPERATIONS.
| WAGE AND HOUR DIVISION | REGIONAL ADMINISTRATOR FOR WAGE AND HOUR.
|  | ASSISTANT ADMINISTRATOR, OPERATIONS.
|  | DEPUTY ADMINISTRATOR FOR PROGRAM OPERATIONS.
|  | ASSISTANT ADMINISTRATOR, OFFICE OF GOVERNMENT CONTRACTS.
|  | REGIONAL ADMINISTRATOR FOR WAGE AND HOUR.
| WOMEN'S BUREAU | DEPUTY DIRECTOR, WOMEN'S BUREAU.
DEPARTMENT OF LABOR OFFICE OF INSPECTOR GENERAL | DEPARTMENT OF LABOR OFFICE OF INSPECTOR GENERAL | DEPUTY ASSISTANT INSPECTOR GENERAL FOR AUDIT. CHIEF, PERFORMANCE AND RISK MANAGEMENT OFFICER.
|  | DEPUTY ASSISTANT INSPECTOR GENERAL FOR MANAGEMENT AND POLICY.
|  | DEPUTY ASSISTANT INSPECTOR GENERAL FOR INVESTIGATIONS—LABOR RACKETEERING.
|  | ASSISTANT INSPECTOR GENERAL FOR AUDIT.
|  | ASSISTANT INSPECTOR GENERAL FOR INVESTIGATIONS—LABOR RACKETEERING.
|  | COUNSEL TO THE INSPECTOR GENERAL.
|  | DEPUTY INSPECTOR GENERAL.
|  | DEPUTY ASSISTANT INSPECTOR GENERAL FOR AUDIT.
|  | ASSISTANT INSPECTOR GENERAL FOR MANAGEMENT AND POLICY.
MERIT SYSTEMS PROTECTION BOARD | DALLAS REGIONAL OFFICE ATLANTA REGIONAL OFFICE | REGIONAL DIRECTOR, DALLAS. REGIONAL DIRECTOR, ATLANTA.
| CENTRAL REGION, CHICAGO REGIONAL OFFICE | REGIONAL DIRECTOR, CHICAGO.
| NORTHEAST REGION, PHILADELPHIA REGIONAL OFFICE | REGIONAL DIRECTOR, PHILADELPHIA.
| WASHINGTON, DISTRICT OF COLUMBIA REGION, WASHINGTON REGIONAL OFFICE | REGIONAL DIRECTOR, WASHINGTON, DISTRICT OF COLUMBIA.
| WESTERN REGION, SAN FRANCISCO REGIONAL OFFICE | REGIONAL DIRECTOR, SAN FRANCISCO.
| OFFICE OF FINANCIAL AND ADMINISTRATIVE MANAGEMENT | DIRECTOR, FINANCIAL AND ADMINISTRATIVE MANAGEMENT.
| OFFICE OF INFORMATION RESOURCES MANAGEMENT | DIRECTOR, INFORMATION RESOURCES MANAGEMENT.
| OFFICE OF POLICY AND EVALUATION | DIRECTOR, OFFICE OF POLICY AND EVALUATION.
| OFFICE OF REGIONAL OPERATIONS | DIRECTOR, OFFICE OF REGIONAL OPERATIONS.
| OFFICE OF THE CLERK OF THE BOARD | CLERK OF THE BOARD.
NATIONAL AERONAUTICS AND SPACE ADMINISTRATION | NATIONAL AERONAUTICS AND SPACE ADMINISTRATION | GROUND SYSTEMS INTEGRATION MANAGER, GROUND SYSTEMS DEVELOPMENT AND OPERATIONS PROGRAM. DEPUTY DIRECTOR FOR SCIENCE.
|  | DIRECTOR, HUMAN RESOURCES.
|  | DIRECTOR, SPACEPORT INTEGRATION AND SERVICES.
|  | DIRECTOR, COMMUNICATION AND PUBLIC ENGAGEMENT.
|  | DIRECTOR, EXPLORATION RESEARCH AND TECHNOLOGY PROGRAMS.
| AMES RESEARCH CENTER | ASSOCIATE DIRECTOR FOR RESEARCH AND TECHNOLOGY.
|  | DEPUTY DIRECTOR, EXPLORATION TECHNOLOGY.
|  | DIRECTOR OF ENGINEERING.
|  | PROGRAM MANAGER FOR STRATOSPHERIC OBSERVATORY FOR INFRARED ASTRONOMY (SOFIA).
|  | HUMAN CAPITAL DIRECTOR.
|  | PROCUREMENT OFFICER.
|  | CHIEF INFORMATION OFFICER.
|  | DIRECTOR, EXPLORATION TECHNOLOGY DIRECTORATE.
|  | DEPUTY DIRECTOR, AMES RESEARCH CENTER.
|  | DIRECTOR OF SAFETY AND MISSION ASSURANCE.
|  | DEPUTY DIRECTOR OF AERONAUTICS.
|  | CHIEF FINANCIAL OFFICER.
|  | DIRECTOR OF CENTER OPERATIONS.
|  | DIRECTOR OF AERONAUTICS.
|  | DIRECTOR, NATIONAL AERONAUTICS AND SPACE ADMINISTRATION RESEARCH PARK.
|  | DIRECTOR, NATIONAL AERONAUTICS AND SPACE ADMINISTRATION AERONAUTICS AND RESEARCH INSTITUTE.
|  | ASSOCIATE DIRECTOR FOR MISSION SUPPORT.
|  | DIRECTOR, SOLAR SYSTEM EXPLORATION RESEARCH VIRTUAL INSTITUTE.
|  | DIRECTOR, PROGRAMS AND PROJECTS.
|  | DIRECTOR, PARTNERSHIPS.
| GLENN RESEARCH CENTER | CHIEF FINANCIAL OFFICER. ASSOCIATE DIRECTOR.
|  | DIRECTOR OF CENTER OPERATIONS.
|  | CHIEF, OFFICE OF ACQUISITION.
|  | DEPUTY DIRECTOR, OFFICE OF TECHNOLOGY INCUBATION AND INNOVATION.
|  | DEPUTY DIRECTOR, NATIONAL AERONAUTICS AND SPACE ADMINISTRATION.
|  | DIRECTOR, VENTURE AND PARTNERSHIPS.
|  | ASSOCIATE DIRECTOR FOR STRATEGY.
|  | DIRECTOR, SAFETY AND MISSION ASSURANCE DIRECTORATE.
|  | DIRECTOR, OFFICE OF HUMAN CAPITAL MANAGEMENT.
|  | DIRECTOR, OFFICE OF TECHNOLOGY INCUBATION AND INNOVATION.
|  | PLUM BROOK STATION MANAGER.
| LANGLEY RESEARCH CENTER | DIRECTOR, OFFICE OF PROCUREMENT. CHIEF FINANCIAL OFFICER.
|  | DIRECTOR, SAFETY AND MISSION ASSURANCE OFFICE.
|  | SPECIAL ASSISTANT TO THE CENTER DIRECTOR FOR REGIONAL ECONOMIC DEVELOPMENT.
|  | DIRECTOR, NATIONAL AERONAUTICS AND SPACE ADMINISTRATION ENGINEERING AND SAFETY CENTER.
|  | DEPUTY DIRECTOR, LANGLEY RESEARCH CENTER.
|  | DEPUTY DIRECTOR, NATIONAL AERONAUTICS AND SPACE ADMINISTRATION ENGINEERING AND SAFETY CENTER.
|  | DIRECTOR, SCIENCE DIRECTORATE.
|  | DIRECTOR, SYSTEMS ANALYSIS AND ADVANCED CONCEPTS DIRECTORATE.
|  | DIRECTOR, RESEARCH SERVICES DIRECTORATE.
|  | DIRECTOR, OFFICE OF HUMAN CAPITAL MANAGEMENT.
|  | MANAGER, NASA ENGINEERING & SAFETY CENTER (NESC) INTEGRATION OFFICE.
|  | DIRECTOR, ENGINEERING DIRECTORATE.
|  | DEPUTY DIRECTOR, ENGINEERING DIRECTORATE.
|  | DIRECTOR, RESEARCH DIRECTORATE.
|  | DEPUTY DIRECTOR, RESEARCH DIRECTORATE.
|  | DIRECTOR, CENTER OPERATIONS DIRECTORATE.
|  | DIRECTOR, AERONAUTICS RESEARCH DIRECTORATE.
|  | DEPUTY DIRECTOR FOR MISSION ASSURANCE.
|  | DIRECTOR, OFFICE OF STRATEGIC ANALYSIS, COMMUNICATIONS, AND BUSINESS DEVELOPMENT.
|  | SENIOR ADVISOR FOR ENGINEERING DEVELOPMENT.
|  | DEPUTY DIRECTOR FOR AEROSCIENCES.
|  | DEPUTY DIRECTOR FOR SAFETY.
|  | DIRECTOR, EARTH SYSTEM SCIENCE PATHFINDER PROGRAM OFFICE.
|  | SENIOR ADVISOR FOR TECHNOLOGY AND STRATEGY.
|  | DEPUTY DIRECTOR FOR TECHNICAL CAPABILITIES.
|  | DIRECTOR, FLIGHT PROJECTS DIRECTORATE.
|  | DIRECTOR, SPACE TECHNOLOGY AND EXPLORATION DIRECTORATE.
|  | ASSOCIATE DIRECTOR, LANGLEY RESEARCH CENTER.
|  | DEPUTY DIRECTOR FOR INTELLIGENT FLIGHT SYSTEMS.
|  | CHIEF INFORMATION OFFICER.
| ASTROBIOLOGY AND SPACE RESEARCH | DIRECTOR OF SCIENCE.
| AERONAUTICS DIRECTORATE | DIRECTOR, AERONAUTICS DIRECTORATE.
| DEPUTY DIRECTOR, FACILITIES, TEST AND MANUFACTURING DIRECTORATE | DEPUTY DIRECTOR OF FACILTIES, TEST AND MANUFACTURING DIRECTORATE.
| FACILITIES, TEST AND MANUFACTURING DIRECTORATE | DIRECTOR, FACILITIES, TEST AND MANUFACTURING DIRECTORATE.
| NATIONAL AERONAUTICS AND SPACE ADMINISTRATION SAFETY CENTER | DIRECTOR, TECHNICAL EXCELLENCE. DIRECTOR, AUDITS AND ASSESSMENTS.
| OFFICE OF THE CHIEF INFORMATION OFFICER | CHIEF INFORMATION OFFICER.
| RESEARCH AND ENGINEERING DIRECTORATE | CHIEF, POWER DIVISION. DIRECTOR, RESEARCH AND ENGINEERING DIRECTORATE.
|  | DEPUTY DIRECTOR, RESEARCH AND ENGINEERING DIRECTORATE.
|  | CHIEF, CHIEF ENGINEER OFFICE.
|  | DEPUTY CHIEF, POWER DIVISION.
| SPACE FLIGHT SYSTEMS DIRECTORATE | MANAGER, EUROPEAN SERVICE MODULE INTEGRATION OFFICE.
|  | DIRECTOR, SPACE FLIGHT SYSTEMS DIRECTORATE.
|  | DEPUTY DIRECTOR, SPACE FLIGHT SYSTEMS.
| APPLIED ENGINEERING AND TECHNOLOGY DIRECTORATE | CHIEF, ELECTRICAL SYSTEMS DIVISION. CHIEF, INSTRUMENT SYSTEMS AND TECHNOLOGY DIVISION.
|  | CHIEF, MECHANICAL SYSTEMS DIVISION.
|  | DIRECTOR OF APPLIED ENGINEERING AND TECHNOLOGY.
|  | DEPUTY DIRECTOR OF APPLIED ENGINEERING AND TECHNOLOGY.
|  | CHIEF, SOFTWARE ENGINEERING DIVISION.
|  | DEPUTY DIRECTOR OF APPLIED ENGINEERING AND TECHNOLOGY FOR PLANNING AND BUSINESS MANAGEMENT.
|  | DEPUTY DIRECTOR FOR TECHNICAL MANAGEMENT.
|  | CHIEF, MISSION ENGINEERING AND SYSTEMS ANALYSIS DIVISION.
| COMPTROLLER | DEPUTY CHIEF FINANCIAL OFFICER. CHIEF FINANCIAL OFFICER/COMPTROLLER.
| FLIGHT ASSURANCE | DEPUTY DIRECTOR OF SAFETY AND MISSION ASSURANCE.
|  | DIRECTOR OF SYSTEMS SAFETY AND MISSION ASSURANCE.
| FLIGHT PROJECTS | ASSOCIATE DIRECTOR FOR EXPLORERS AND HELIOPHYSICS PROJECTS DIVISION.
|  | DIRECTOR OF FLIGHT PROJECTS.
|  | DEPUTY DIRECTOR OF FLIGHT PROJECTS.
|  | ASSOCIATE DIRECTOR OF FLIGHT PROJECTS FOR JAMES WEBB SPACE TELESCOPE.
|  | ASSOCIATE DIRECTOR OF FLIGHT PROJECTS FOR THE INSTRUMENT PROJECTS DIVISION.
|  | ASSOCIATE DIRECTOR OF FLIGHT PROJECTS FOR JAMES WEBB SPACE TELESCOPE.
|  | DEPUTY ASSOCIATE DIRECTOR OF FLIGHT PROJECTS FOR JOINT POLAR SATELLITE SYSTEM FLIGHT.
|  | ASSOCIATE DIRECTOR FOR JOINT POLAR SATELLITE SYSTEM PROGRAM.
|  | ASSOCIATE DIRECTOR FOR SPACE SERVICING CAPABILITIES PROJECT.
|  | ASSOCIATE DIRECTOR FOR EARTH SCIENCE TECHNOLOGY OFFICE.
|  | ASSOCIATE DIRECTOR FOR EARTH SCIENCE PROJECTS DIVISION.
|  | ASSOCIATE DIRECTOR FOR EXPLORATION AND SPACE COMMUNICATIONS PROJECTS DIVISION.
|  | DEPUTY DIRECTOR FOR PLANNING AND BUSINESS MANAGEMENT.
|  | ASSOCIATE DIRECTOR FOR ASTROPHYSICS PROJECTS DIVISION.
| HUMAN RESOURCES | DIRECTOR OF HUMAN CAPITAL MANAGEMENT.
| INFORMATION TECHNOLOGY | CHIEF INFORMATION OFFICER.
| MANAGEMENT OPERATIONS | DIRECTOR OF MANAGEMENT OPERATIONS.
|  | ASSOCIATE DIRECTOR FOR ACQUISITION.
|  | DEPUTY DIRECTOR OF MANAGEMENT OPERATIONS.
| SCIENCES AND EXPLORATION | CHIEF, GODDARD INSTITUTE FOR SPACE STUDIES.
|  | DEPUTY DIRECTOR FOR INSTITUTIONS, PROGRAMS, AND BUSINESS MANAGEMENT.
|  | DIRECTOR, HELIOPHYSICS SCIENCE DIVISION.
|  | DIRECTOR OF SCIENCES AND EXPLORATION.
|  | DIRECTOR, ASTROPHYSICS SCIENCE DIVISION.
|  | DEPUTY DIRECTOR OF SCIENCES AND EXPLORATION.
|  | DIRECTOR, EARTH SCIENCES DIVISION.
|  | DIRECTOR, SOLAR SYSTEM EXPLORATION DIVISION.
| SUBORBITAL PROJECTS AND OPERATIONS | DIRECTOR OF WALLOPS FLIGHT FACILITY. SPECIAL ASSISTANT FOR PROJECT MANAGEMENT TRAINING.
| CENTER OPERATIONS | DIRECTOR, CENTER OPERATIONS.
| ENGINEERING | CHIEF, AEROSCIENCE AND FLIGHT MECHANICS DIVISION.
|  | CHIEF, PROPULSION AND POWER DIVISION.
|  | DEPUTY DIRECTOR, ENGINEERING.
|  | CHIEF, SOFTWARE, ROBOTICS AND SIMULATION DIVISION.
|  | DIRECTOR, ENGINEERING.
| EXPLORATION INTEGRATION AND SCIENCE | DEPUTY DIRECTOR, EXPLORATION INTEGRATION AND SCIENCE.
|  | DIRECTOR, EXPLORATION INTEGRATION AND SCIENCE.
|  | DIRECTOR, STRATEGIC OPPORTUNITIES AND PARTNERSHIP DEVELOPMENT.
|  | CHIEF, PARTNERSHIPS DEVELOPMENT OFFICE.
|  | ASSOCIATE DIRECTOR, EXPLORATION, INTEGRATION AND SCIENCE.
|  | MANAGER, EXTRA VEHICULAR ACTIVITY MANAGEMENT OFFICE.
| FLIGHT OPERATIONS | CHIEF, FLIGHT DIRECTOR OFFICE.
|  | CHIEF, AIRCRAFT OPERATIONS DIVISION.
|  | DEPUTY DIRECTOR, FLIGHT OPERATIONS.
|  | DIRECTOR, FLIGHT OPERATIONS.
| HUMAN HEALTH AND PERFORMANCE | DEPUTY DIRECTOR, HUMAN HEALTH AND PEFORMANCE.
|  | DIRECTOR, HUMAN HEALTH AND PERFORMANCE.
| INFORMATION RESOURCES | DIRECTOR, INFORMATION RESOURCES.
| OFFICE OF PROCUREMENT | DEPUTY ASSISTANT ADMINISTRATOR FOR OFFICE OF PROCUREMENT.
|  | DIRECTOR, OFFICE OF PROCUREMENT.
| ORION PROGRAM | MANAGER, AVIONICS, POWER AND SOFTWARE OFFICE.
|  | DEPUTY MANAGER, ORION PROGRAM.
|  | MANAGER, VEHICLE INTEGRATION OFFICE.
|  | MANAGER, ORION PROGRAM.
|  | MANAGER, CREW AND SERVICE MODULE OFFICE.
| SPACE STATION PROGRAM OFFICE | DEPUTY MANAGER FOR UTILIZATION. MANAGER, INTERNATIONAL SPACE STATION RESEARCH INTEGRATION OFFICE.
|  | MANAGER, OPERATIONS INTEGRATION.
|  | MANAGER, INTERNATIONAL SPACE STATION TRANSPORTATION INTEGRATION.
|  | MANAGER, PROGRAM PLANNING AND CONTROL OFFICE, INTERNATIONAL SPACE STATION.
|  | MANAGER, AVIONICS AND SOFTWARE OFFICE.
|  | DEPUTY MANAGER, INTERNATIONAL SPACE STATION PROGRAM.
|  | MANAGER, VEHICLE OFFICE.
|  | MANAGER, INTERNATIONAL SPACE STATION PROGRAM.
| WHITE SANDS TEST FACILITY | MANAGER, WHITE SANDS TEST FACILITY.
| INFORMATION TECHNOLOGY AND CUMMUNICATIONS SERVICES | DIRECTOR, INFORMATION TECHNOLOGY AND COMMUNICATIONS SERVICES.
| LAUNCH SERVICES PROGRAM | MANAGER, LAUNCH SERVICES PROGRAM.
| SAFETY AND MISSION ASSURANCE | DIRECTOR, SAFETY AND MISSION ASSURANCE.
| SPACE LAUNCH SYSTEM PROGRAM OFFICE | MANAGER, SPACECRAFT/PAYLOAD INTEGRATION AND EVOLUTION OFFICE.
| NATIONAL AERONAUTICS AND SPACE ADMINISTRATION MANAGEMENT OFFICE | DIRECTOR, NATIONAL AERONAUTICS AND SPACE ADMINISTRATION MANAGEMENT OFFICE.
| NATIONAL AERONAUTICS AND SPACE ADMINISTRATION SHARED SERVICES CENTER | FEDERAL SHARED SERVICES IMPLEMENTATION PROGRAM MANAGER. EXECUTIVE DIRECTOR OF NATIONAL AERONAUTICS AND SPACE ADMINISTRATION MANAGEMENT SHARED SERVICES CENTER.
|  | DIRECTOR, SERVICE DELIVERY DIRECTORATE.
|  | DIRECTOR, SUPPORT OPERATIONS DIRECTORATE.
| OFFICE OF CHIEF HEALTH AND MEDICAL OFFICER | CHIEF HEALTH AND MEDICAL OFFICER. DEPUTY CHIEF HEALTH AND MEDICAL OFFICER.
| OFFICE OF HEADQUARTERS OPERATIONS | DIRECTOR, HUMAN RESOURCE MANGEMENT DIVISION. EXECUTIVE DIRECTOR, HEADQUARTERS OPERATIONS.
|  | DIRECTOR, HEADQUARTERS INFORAMTION TECHNOLOGY AND COMMUNICATIONS DIVISION.
|  | DIRECTOR, BUDGET MANAGEMENT AND SYSTEMS SUPPORT.
| OFFICE OF HUMAN CAPITAL MANAGEMENT | DIRECTOR, WORKFORCE CULTURE DIVISION. ASSISTANT ADMINISTRATOR FOR HUMAN CAPITAL MANAGEMENT.
|  | DEPUTY ASSISTANT ADMINISTRATOR FOR HUMAN CAPITAL MANAGEMENT.
|  | SPECIAL ASSISTANT TO THE CHIEF HUMAN CAPITAL OFFICER.
|  | DEPUTY ASSISTANT ADMINISTRATIOR FOR TRANSFORMATION.
|  | DEPUTY ASSISTANT ADMINISTRATOR FOR HIRING.
|  | DIRECTOR, WORKFORCE STRATEGY DIVISION.
| OFFICE OF PROCUREMENT | DIRECTOR, ANALYSIS DIVISION. DIRECTOR, CONTRACT MANAGEMENT DIVISION.
|  | ASSISTANT ADMININSTRATOR FOR PROCUREMENT.
|  | DIRECTOR, PROGRAM OPERATIONS DIVISION.
| OFFICE OF PROTECTIVE SERVICES | ASSISTANT ADMINISTRATOR FOR PROTECTIVE SERVICES. DEPUTY ASSISTANT ADMINISTRATOR FOR PROTECTIVE SERVICES.
|  | DIRECTOR OF COUNTERINTELLIGENCE/COUNTERTERRORISM FOR PROTECTIVE SERVICES.
| OFFICE OF STRATEGIC INFRASTRUCTURE | DIRECTOR, ENVIRONMENTAL MANAGEMENT DIVISION. DEPUTY ASSISTANT ADMINISTRATOR FOR STRATEGIC INFRASTRUCTURE.
|  | DIRECTOR, SPACE ENVIRONMENTS TESTING MANAGEMENT OFFICE.
|  | ASSISTANT ADMINISTRATOR FOR INFRASTRUCTURE AND ADMININSTRATION.
|  | DIRECTOR, FACILITIES AND REAL ESTATE.
| OFFICE OF THE CHIEF ENGINEER | CHIEF ENGINEER. DEPUTY FOR MANAGEMENT.
| OFFICE OF THE CHIEF FINANCIAL OFFICER/COMPTROLLER | DIRECTOR, POLICY DIVISION. DIRECTOR, BUDGET DIVISION. DIRECTOR, STRATEGIC INVESTMENT DIVISION.
|  | DIRECTOR, FINANCIAL MANAGEMENT DIVISION.
|  | DIRECTOR, QUALITY ASSURANCE.
|  | DEPUTY CHIEF FINANCIAL OFFICER (FINANCE).
|  | DEPUTY CHIEF FINANCIAL OFFICER (APPROPRIATIONS).
| OFFICE OF SAFETY AND MISSION ASSURANCE | DIRECTOR, INDEPENDENT VERIFICATION AND VALIDATION PROGRAM.
| OFFICE OF THE ADMINISTRATOR | WHITE HOUSE LIASION. DEPUTY ASSOCIATE ADMINISTRATOR.
|  | ASSOCIATE ADMINSTRATOR.
| OFFICE OF THE CHIEF FINANCIAL OFFICER/COMPTROLLER | DEPUTY CHIEF FINANCIAL OFFICER FOR INTEGRATION. ASSOCIATE DEPUTY CHIEF FINANCIAL OFFICER (FINANCE).
|  | DEPUTY CHIEF FINANCIAL OFFICER (STRATEGY AND PERFORMANCE).
| GODDARD SPACE FLIGHT CENTER | ASSISTANT DIRECTOR FOR ADVANCED CONCEPTS. DEPUTY DIRECTOR FOR TECHNOLOGY AND RESEARCH INVESTMENTS.
|  | ASSOCIATE DIRECTOR.
|  | DEPUTY DIRECTOR, NATIONAL AERONAUTICS AND SPACE ADMINISTRATION GODDARD SPACE FLIGHT CENTER.
| OFFICE OF LEGISLATIVE AND INTERGOVERNMENTAL AFFAIRS | DEPUTY ASSOCIATE ADMINISTRATOR FOR LEGISLATIVE AND INTERGOVERNMENTAL AFFAIRS.
| JOHNSON SPACE CENTER | DIRECTOR OF HUMAN RESOURCES. ASSOCIATE DIRECTOR, JOHNSON SPACE CENTER.
|  | DIRECTOR, EXTERNAL RELATIONS.
|  | DEPUTY DIRECTOR, JOHNSON SPACE CENTER.
|  | CHIEF FINANCIAL OFFICER.
|  | MANAGER, PROGRAM PLANNING AND CONTROL, MULTI-PURPOSE CREW VEHICLE.
|  | DEPUTY MANAGER, FLIGHT DEVELOPMENT & OPERATIONS, COMMERCIAL CREW PROGRAM.
|  | SPECIAL ASSISTANT TO THE CENTER DIRECTOR FOR ORGANIZATIONAL CHANGE.
| KENNEDY SPACE CENTER | MANAGER, COMMERCIAL CREW PROGRAM. CHIEF, EXPLORATION SYSTEMS AND OPERATIONS DIVISION, ENGINEERING.
|  | CHIEF, LABORATORIES AND TEST FACILITIES DIVISION, ENGINEERING.
|  | CHIEF, TECHNICAL PERFORMANCE AND INTEGRATION DIVISION, ENGINEERING.
|  | CHIEF, EXPLORATION SYSTEMS AND OPERATIONS DIVISION, ENGINEERING.
|  | ASSOCIATE MANAGER, TECHNICAL, GROUND SYSTEMS DEVELOPMENT AND OPERATIONS PROGRAM.
|  | DEPUTY DIRECTOR, SAFETY AND MISSION ASSURANCE.
|  | CHIEF, COMMERCIAL SYSTEMS DIVISION, ENGINEERING.
|  | ASSOCIATE DIRECTOR, ENGINEERING.
|  | DIRECTOR, ENGINEERING.
|  | DEPUTY DIRECTOR, JOHN F KENNEDY SPACE CENTER.
|  | ASSOCIATE DIRECTOR, JOHN F KENNEDY SPACE CENTER.
|  | CHIEF FINANCIAL OFFICER.
|  | DIRECTOR, PROCUREMENT OFFICE.
|  | DEPUTY DIRECTOR, ENGINEERING.
|  | DEPUTY MANAGER, LAUNCH SERVICES PROGRAM.
|  | MANAGER, GROUND SYSTEMS DEVELOPMENT AND OPERATIONS PROGRAM.
|  | DEPUTY MANAGER, GROUND PROCESSING DEVELOPMENT AND OPERATIONS PROGRAM.
|  | CHIEF, EXPLORATION SYSTEMS AND OPERATIONS DIVISION, ENGINEERING.
|  | DEPUTY DIRECTOR, SPACEPORT INTEGRATION AND SERVICES.
|  | CHIEF, COMMERCIAL SYSTEMS DIVISION, ENGINEERING.
|  | KENNEDY SPACE CENTER ASSOCIATE MANAGER, COMMERCIAL CREW PROGRAM.
| MARSHALL SPACE FLIGHT CENTER | DEPUTY MANAGER, SCIENCE AND TECHNOLOGY OFFICE. MANAGER, SCIENCE & TECHNOLOGY OFFICE.
|  | ASSOCIATE MANAGER, SCIENCE AND TECHNOLOGY OFFICE.
|  | DEPUTY DIRECTOR, MICHOUD ASSEMBLY FACILITY.
|  | CHIEF ENGINEER, SPACE LAUNCH SYSTEM, ENGINEERING DIRECTORATE.
|  | SENIOR EXECUTIVE FOR TECHNOLOGY AND INTEGRATION, OFFICE OF THE CENTER DIRECTOR.
|  | DEPUTY CENTER DIRECTOR.
|  | DEPUTY DIRECTOR, ENTERPRISE INTEGRATION OFFICE, OFFICE OF THE CHIEF INFORMATION OFFICER.
|  | CHIEF ENGINEER, EXPLORATION SYSTEMS DEVELOPMENT, OFFICE OF THE CENTER DEPUTY DIRECTOR.
|  | MANAGER, AGENCY APPLICATIONS OFFICE, OFFICE OF THE CHIEF INFORMATION OFFICER.
|  | MANAGER, PROGRAM PLANNING AND CONTROL OFFICE, SPACE LAUNCH SYSTEM PROGRAM OFFICE.
|  | ASSOCIATE PROGRAM MANAGER, SPACE LAUNCH SYSTEM PROGRAM OFFICE.
|  | MANAGER, OFFICE OF THE CHIEF FINANCIAL OFFICER.
|  | MANAGER, CHIEF ENGINEERS OFFICE, ENGINEERING DIRECTORATE.
|  | SPACE LAUNCH SYSTEM CHIEF SAFETY OFFICER, SAFETY & MISSION ASSURANCE DIRECTORATE.
|  | INTERNATIONAL SPACE STATION COST ACCOUNT MANAGER.
|  | MANAGER, SYSTEMS ENGINEERING AND INTEGRATION OFFICE, SPACE LAUNCH SYSTEM PROGRAM OFFICE.
|  | MANAGER, HUMAN EXPLORATION DEVELOPMENT AND OPERATIONS OFFICE.
|  | DEPUTY MANAGER, HUMAN EXPLORATION DEVELOPMENT AND OPERATIONS OFFICE.
|  | DEPUTY DIRECTOR, ENGINEERING DIRECTORATE.
|  | DEPUTY DIRECTOR, SPACE SYSTEMS DEPARTMENT, ENGINEERING DIRECTORATE.
|  | DIRECTOR, SPACE SYSTEMS DEPARTMENT, ENGINEERING DIRECTORATE.
|  | DIRECTOR, MATERIELS AND PROCESSES LABORATORY, ENGINEERING DIRECTORATE.
|  | DIRECTOR, PROPULSION SYSTEMS DEPARTMENT, ENGINEERING DIRECTORATE.
|  | DEPUTY DIRECTOR, PROPULSION SYSTEMS DEPARTMENT, ENGINEERING DIRECTORATE.
|  | DIRECTOR, TEST LABORATORY, ENGINEERING DIRECTORATE.
|  | DIRECTOR, SPACECRAFT AND VEHICLE SYSTEMS DEPARTMENT, ENGINEERING DIRECTORATE.
|  | DEPUTY DIRECTOR, SPACECRAFT AND VEHICLE SYSTEMS DEPARTMENT, ENGINEERING DIRECTORATE.
|  | SPECIAL ASSISTANT TO THE DIRECTOR, OFFICE OF HUMAN CAPITAL.
|  | DIRECTOR, OFFICE OF HUMAN CAPITAL.
|  | DIRECTOR, OFFICE OF THE CHIEF INFORMATION OFFICER.
|  | DIRECTOR, OFFICE OF STRATEGIC ANALYSIS AND COMMUNICATIONS.
|  | ASSOCIATE CENTER DIRECTOR, TECHNICAL.
|  | ASSOCIATE DIRECTOR FOR TECHNICAL OPERATIONS, ENGINEERING DIRECTORATE.
|  | DIRECTOR, MICHOUD ASSEMBLY FACILITY.
|  | DEPUTY MANAGER, CHIEF ENGINEERS OFFICE, ENGINEERING DIRECTORATE.
|  | ASSOCIATE DIRECTOR FOR OPERATIONS, ENGINEERING DIRECTORATE.
|  | DIRECTOR, OFFICE OF CENTER OPERATIONS.
|  | MANAGER, SPACE LAUNCH SYSTEM PROGRAM OFFICE.
|  | DEPUTY MANAGER, SPACE LAUNCH SYSTEM PROGRAM OFFICE.
|  | MANAGER, ENGINES OFFICE, SPACE LAUNCH SYSTEM PROGRAM OFFICE.
|  | MANAGER, STAGES OFFICE, SPACE LAUNCH SYSTEM PROGRAM OFFICE.
|  | MANAGER, BOOSTERS OFFICE, SPACE LAUNCH SYSTEM PROGRAM OFFICE.
|  | DEPUTY DIRECTOR, SAFETY AND MISSION ASSURANCE DIRECTORATE.
|  | DIRECTOR, OFFICE OF PROCUREMENT.
|  | DIRECTOR, SAFETY AND MISSION ASSURANCE DIRECTORATE.
|  | ASSOCIATE CENTER DIRECTOR.
|  | DIRECTOR, ENGINEERING DIRECTORATE.
|  | DEPUTY DIRECTOR, OFFICE OF CENTER OPERATIONS.
| STENNIS SPACE CENTER | DIRECTOR, ENGINEERING AND SCIENCE DIRECTORATE. DIRECTOR, CENTER OPERATIONS DIRECTORATE.
|  | DIRECTOR, OFFICE OF SAFETY AND MISSION ASSURANCE.
|  | DEPUTY DIRECTOR, ENGINEERING AND TEST DIRECTORATE.
|  | CHIEF FINANCIAL OFFICER.
|  | ASSOCIATE DIRECTOR.
|  | DEPUTY DIRECTOR, STENNIS SPACE CENTER.
| AERONAUTICS RESEARCH MISSION DIRECTORATE | DEPUTY ASSOCIATE ADMINISTRATOR FOR STRATEGY. DIRECTOR, PORTFOLIO ANALYSIS AND MANAGEMENT OFFICE.
|  | DIRECTOR OF ADVANCED AIR VEHICLES PROGRAM OFFICE.
|  | DIRECTOR FOR INTEGRATED AVIATION SYSTEMS PROGRAM.
|  | DIRECTOR OF AIRSPACE OPERATIONS AND SAFETY PROGRAM OFFICE.
|  | DIRECTOR OF TRANSFORMATIVE AERONAUTICS CONCEPTS PROGRAM OFFICE.
| CHIEF OF STAFF | ASSOCIATE ADMINISTRATOR, STRATEGY AND PLANS.
| HUMAN EXPLORATION AND OPERATIONS MISSION DIRECTORATE | DIRECTOR, STRATEGIC INTEGRATION AND MANAGEMENT DIVISION. DEPUTY ASSOCIATE ADMINISTRATOR FOR POLICY AND PLANS.
|  | DIRECTOR, PROGRAM AND STRATEGIC INTEGRATION OFFICE.
|  | DIRECTOR, SPACE LIFE AND PHYSICAL SCIENCES RESEARCH AND APPLICATIONS.
|  | DEPUTY ASSOCIATE ADMINISTRATOR FOR HUMAN EXPLORATION AND OPERATIONS.
|  | ASTEROID REDIRECT MISSION, PROGRAM DIRECTOR.
|  | DIRECTOR, HUMAN RESEARCH PROGRAM.
|  | DIRECTOR, LAUNCH SERVICES OFFICE.
|  | DIRECTOR, NETWORK SERVICES.
|  | DIRECTOR, HUMAN SPACEFLIGHT CAPABILITIES DIVISION.
|  | ASSISTANT DEPUTY ASSOCIATE ADMINISTRATOR FOR EXPLORATION SYSTEMS DEVELOPMENT.
|  | DIRECTOR, RESOURCES MANAGEMENT OFFICE.
|  | DEPUTY ASSOCIATE ADMINISTRATOR FOR EXPLORATION SYSTEMS DEVELOPMENT.
|  | DIRECTOR, COMMERCIAL SPACEFLIGHT DEVELOPMENT DIVISION.
|  | DEPUTY ASSOCIATE ADMINISTRATOR FOR SPACE COMMUNICATIONS AND NAVIGATION.
|  | DIRECTOR, ADVANCED EXPLORATION SYSTEMS.
|  | DIRECTOR, INTERNATIONAL SPACE STATION.
|  | ASSISTANT DEPUTY ASSOCIATE ADMINISTRATOR FOR SPACE COMMUNICATIONS AND NAVIGATION.
|  | MANAGER, ROCKET PROPULSION TEST PROGRAM OFFICE.
| MISSION SUPPORT DIRECTORATE | DEPUTY ASSOCIATE ADMINISTRATOR FOR MISSION SUPPORT.
|  | BUSINESS SERVICES ASSESSMENT IMPLEMENTATION MANAGER.
|  | ASSISTANT ASSOCIATE ADMINISTRATOR FOR RESOURCES AND PERFORMANCE.
| NATIONAL AERONAUTICS AND SPACE ADMINISTRATION MANAGEMENT OFFICE | DEPUTY DIRECTOR, NATIONAL AERONAUTICS AND SPACE ADMINISTRATION MANAGEMENT OFFICE.
| OFFICE OF EDUCATION | INFORMATION TECHNOLOGY MANAGER. DEPUTY ASSOCIATE ADMINISTRATOR FOR EDUCATION.
| OFFICE OF SAFETY AND MISSION ASSURANCE | DIRECTOR, MISSION SUPPORT DIVISION. CHIEF, SAFETY AND MISSION ASSURANCE OFFICER.
|  | DIRECTOR, SAFETY AND ASSURANCE REQUIREMENTS DIVISION.
|  | DIRECTOR, NASA SAFETY CENTER.
|  | DEPUTY CHIEF, SAFETY AND MISSION ASSURANCE OFFICER.
| OFFICE OF THE CHIEF ENGINEER | DEPUTY CHIEF ENGINEER. DEPUTY CHIEF ENGINEER FOR ENGINEERING INTEGRATION.
|  | HUMAN EXPLORATION AND OPERATIONS MISSION DIRECTORATE CHIEF ENGINEER.
| OFFICE OF THE CHIEF INFORMATION OFFICER | ASSOCIATE CHIEF INFORMATION OFFICER FOR ENTERPRISE SERVICE AND INTEGRATION DIVISION.
|  | DEPUTY CHIEF INFORMATION OFFICER FOR INFORMATION TECHNOLOGY SECURITY.
|  | ASSOCIATE CHIEF INFORMATION OFFICER FOR CAPTIAL PLANNING AND GOVERNANCE.
|  | ASSOCIATE CHIEF INFORMATION OFFICER FOR TECHNOLOGY AND INNOVATION, CHIEF TECHNOLOGY OFFICER.
|  | DEPUTY CHIEF INFORMATION OFFICER.
| OFFICE OF THE CHIEF SCIENTIST | CHIEF SCIENTIST. DEPUTY CHIEF SCIENTIST.
| OFFICE OF THE CHIEF TECHNOLOGIST | DEPUTY CHIEF TECHNOLOGIST.
| SCIENCE MISSION DIRECTORATE | DEPUTY ASSOCIATE ADMINISTRATOR FOR RESEARCH. DEPUTY ASSOCIATE ADMINISTRATOR FOR PROGRAMS.
|  | DIRECTOR, SCIENCE ENGAGEMENT AND PARTNERSHIPS.
|  | DEPUTY DIRECTOR, EARTH SCIENCE DIVISION.
|  | DEPUTY ASSOCIATE ADMINISTRATOR FOR THE SCIENCE MISSION DIRECTORATE.
|  | DEPUTY ASSOCIATE ADMINISTRATOR FOR MANAGEMENT.
| ARMSTRONG FLIGHT RESEARCH CENTER | DEPUTY DIRECTOR, ARMSTRONG FLIGHT RESEARCH CENTER. DIRECTOR FOR MISSION INFORMATION AND TEST SYSTEMS.
|  | DIRECTOR FOR PROGRAMS.
|  | DIRECTOR FOR SAFETY AND MISSION ASSURANCE.
|  | CHIEF FINANCIAL OFFICER (FINANCIAL MANAGER).
|  | ASSOCIATE CENTER DIRECTOR.
|  | ASSISTANT DIRECTOR FOR STRATEGIC IMPLEMENTATION.
|  | DIRECTOR FOR FLIGHT OPERATIONS.
|  | DIRECTOR FOR MISSION SUPPORT.
|  | DIRECTOR FOR RESEARCH AND ENGINEERING.
| OFFICE INTERNATIONAL AND INTERAGENCY RELATIONS | DIRECTOR, EXPORT CONTROL AND INTERAGENCY LIAISON DIVISION. DIRECTOR, ADVISORY COMMITTEE MANAGEMENT DIVISION.
|  | SPECIAL ADVISOR.
|  | DEPUTY DIRECTOR, EXPORT CONTROL AND INTERAGENCY LIAISON DIVISION.
|  | DEPUTY ASSOCIATE ADMINISTRATOR FOR INTERNATIONAL AND INTERAGENCY RELATIONS.
|  | DIRECTOR, AERONAUTICS AND CROSS AGENCY SUPPORT DIVISION N.
|  | DIRECTOR, HUMAN EXPLORATION AND OPERATIONS DIVISION.
| OFFICE OF DIVERSITY AND EQUAL OPPORTUNITY | DIRECTOR, COMPLAINTS MANAGEMENT DIVISION. DIRECTOR, PROGRAMS, PLANNING AND EVALUATION DIVISION.
| SPACE TECHNOLOGY MISSION DIRECTORATE | DEPUTY ASSOCIATE ADMINISTRATOR. DEPUTY ASSOCIATE ADMINISTRATOR FOR MANAGEMENT.
|  | DEPUTY ASSOCIATE ADMINISTRATOR FOR PROGRAMS.
| COMMUNICATIONS AND INTELLIGENT SYSTEMS DIVISION | CHIEF, COMMUNICATIONS AND INTELLIGENT SYSTEMS DIVISION.
| MATERIELS AND STRUCTURES DIVISION | CHIEF, MATERIELS AND STRUCTURES DIVISION.
| PROPULSION DIVISION | CHIEF, PROPULSION DIVISION. DEPUTY CHIEF, PROPULSION DIVISION.
| SYSTEMS ENGINEERING AND ARCHITECTURE DIVISION | CHIEF, SYSTEMS ENGINEERING AND ARCHITECTURE DIVISION. DEPUTY CHIEF, SYSTEMS ENGINEERING AND ARCHITECTURE DIVISION.
| SAFETY AND MISSION ASSURANCE | ASSISTANT TO THE DIRECTOR, SAFETY AND MISSION ASSURANCE. DEPUTY DIRECTOR, SAFETY AND MISSION ASSURANCE.
|  | DIRECTOR, SAFETY AND MISSION ASSURANCE.
| ASTROPHYSICS DIVISION | DIRECTOR, ASTROPHYSICS DIVISION. DEPUTY, DIRECTOR, ASTROPHYSICS DIVISION.
| EARTH SCIENCE DIVISION | DIRECTOR, EARTH SCIENCE DIVISION. PROGRAM DIRECTOR FOR FLIGHT PROGRAMS.
|  | PROGRAM DIRECTOR RESEARCH AND ANALYSIS PROGRAM.
| HELIOPHYSICS DIVISION | DEPUTY, DIRECTOR, HELIOPHYISCS DIVISION. DIRECTOR, HELIOPHYSICS DIVISION.
| JAMES WEBB SPACE TELESCOPE PROGRAM OFFICE | DIRECTOR JAMES WEBB SPACE TELESCOPE PROGRAM.
| JOINT AGENCY SATELLITE DIVISION | DIRECTOR, JOINT AGENCY SATELLITE DIVISION. DEPUTY DIRECTOR JOINT AGENCY SATELLITE DIVISION.
| PLANETARY SCIENCE DIVISION | DEPUTY DIRECTOR, PLANETARY SCIENCE DIVISION. MARS EXPLORATION PROGRAM DIRECTOR.
|  | DIRECTOR, PLANETARY SCIENCE DIVISION.
| RESOURCES MANAGEMENT DIVISION | DIRECTOR, RESOURCES MANAGEMENT DIVISION. DEPUTY ASSOCIATE ADMINISTRATOR FOR MANAGEMENT.
| STRATEGIC INTEGRATION AND MANAGEMENT DIVISION | DIRECTOR, STRATEGIC INTEGRATION AND MANAGEMENT DIVISION.
NATIONAL AERONAUTICS AND SPACE ADMINISTRATION OFFICE OF THE INSPECTOR GENERAL | NATIONAL AERONAUTICS AND SPACE ADMINISTRATION OFFICE OF THE INSPECTOR GENERAL | DEPUTY INSPECTOR GENERAL. ASSISTANT INSPECTOR GENERAL FOR INVESTIGATIONS. ASSISTANT INSPECTOR GENERAL FOR AUDITING.
|  | COUNSEL TO THE INSPECTOR GENERAL.
|  | ASSISTANT INSPECTOR GENERAL FOR MANAGEMENT AND PLANNING.
NATIONAL ARCHIVES AND RECORDS ADMINISTRATION | CONGRESSIONAL AFFAIRS STAFF | DIRECTOR, CONGRESSIONAL AND LEGISLATIVE AFFAIRS.
| GENERAL COUNSEL | GENERAL COUNSEL.
| OFFICE OF HUMAN CAPITAL | CHIEF HUMAN CAPITAL OFFICER.
| OFFICE OF INNOVATION | CHIEF INNOVATION OFFICER.
| OFFICE OF THE CHIEF OF MANAGEMENT AND ADMINISTRATION | CHIEF ACQUISITION OFFICER. CHIEF OF MANAGEMENT AND ADMINISTRATION.
| OFFICE OF THE CHIEF OF STAFF | CHIEF OF STAFF.
| OFFICE OF THE CHIEF OPERATING OFFICER | CHIEF OPERATING OFFICER.
| OFFICE OF PRESIDENTIAL LIBRARIES | DEPUTY FOR PRESIDENTIAL LIBRARIES.
| ARCHIVIST OF THE UNITED STATES AND DEPUTY ARCHIVIST OF THE UNITED STATES | DEPUTY ARCHIVIST OF THE UNITED STATES.
| AGENCY SERVICES | DIRECTOR, RECORDS CENTER PROGRAMS. DIRECTOR, OFFICE OF GOVERNMENT INFORMATION SERVICES.
|  | AGENCY SERVICES EXECUTIVE.
|  | DIRECTOR, NATIONAL DECLASSIFICATION CENTER.
|  | DIRECTOR, INFORMATION SECURITY OVERSIGHT OFFICE.
|  | DIRECTOR, NATIONAL PERSONNEL RECORDS CENTER.
|  | CHIEF RECORDS OFFICER.
| BUSINESS SUPPORT SERVICES | CHIEF FINANCIAL OFFICER. BUSINESS SUPPORT SERVICES EXECUTIVE.
| INFORMATION SERVICES | INFORMATION SERVICES EXECUTIVE/CHIEF INFORMATION OFFICER.
|  | CHIEF TECHNOLOGY OFFICER.
| LEGISLATIVE ARCHIVES, PRESIDENTIAL LIBRARIES AND MUSEUM SERVICES | LEGISLATIVE ARCHIVES, PRESIDENTIAL LIBRARIES AND MUSEUM SERVICES EXECUTIVE.
| OFFICE OF THE FEDERAL REGISTER | DIRECTOR OF THE FEDERAL REGISTER.
| RESEARCH SERVICES | DIRECTOR, PRESERVATION PROGRAMS. RESEARCH SERVICES EXECUTIVE.
NATIONAL ARCHIVES AND RECORDS ADMINISTRATION OFFICE OF THE INSPECTOR GENERAL | NATIONAL ARCHIVES AND RECORDS ADMINISTRATION OFFICE OF THE INSPECTOR GENERAL | ASSISTANT INSPECTOR GENERAL FOR AUDITING. INSPECTOR GENERAL. ASSISTANT INSPECTOR GENERAL FOR INVESTIGATIONS.
NATIONAL CAPITAL PLANNING COMMISSION | NATIONAL CAPITAL PLANNING COMMISSION STAFF | EXECUTIVE DIRECTOR. CHIEF OPERATING OFFICER. GENERAL COUNSEL.
|  | DEPUTY EXECUTIVE DIRECTOR.
NATIONAL ENDOWMENT FOR THE ARTS | NATIONAL ENDOWMENT FOR THE ARTS | DEPUTY CHAIRMAN FOR MANAGEMENT AND BUDGET. DIRECTOR , RESEARCH AND ANALYSIS.
|  | CHIEF INFORMATION OFFICER.
NATIONAL ENDOWMENT FOR THE ARTS OFFICE OF THE INSPECTOR GENERAL | NATIONAL ENDOWMENT FOR THE ARTS OFFICE OF THE INSPECTOR GENERAL | INSPECTOR GENERAL.
NATIONAL ENDOWMENT FOR THE HUMANITIES | NATIONAL ENDOWMENT FOR THE HUMANITIES | ASSISTANT CHAIRMAN FOR PLANNING AND OPERATIONS.
NATIONAL LABOR RELATIONS BOARD | NATIONAL LABOR RELATIONS BOARD | DEPUTY ASSOCIATE GENERAL COUNSEL, DIVISION OF ENFORCEMENT LITIGATION.
| REGIONAL OFFICES | REGIONAL DIRECTOR, REGION 10, ATLANTA, GEORGIA. REGIONAL DIRECTOR, REGION 2, NEW YORK.
|  | REGIONAL DIRECTOR, REGION 3, BUFFALO, NEW YORK.
|  | REGIONAL DIRECTOR, REGION 4, PHILADELPHIA, PENNSYLVANIA.
|  | REGIONAL DIRECTOR, REGION 5, BALTIMORE, MARYLAND.
|  | REGIONAL DIRECTOR, REGION 6, PITTSBURGH, PENNSYLVANIA.
|  | REGIONAL DIRECTOR, REGION 7, DETROIT, MICHIGAN.
|  | REGIONAL DIRECTOR, REGION 8, CLEVELAND, OHIO.
|  | REGIONAL DIRECTOR, REGION 9, CINCINNATI, OHIO.
|  | REGIONAL DIRECTOR, REGION 11, WINSTON SALEM, NORTH CAROLINA.
|  | REGIONAL DIRECTOR, REGION 13, CHICAGO, ILLINOIS.
|  | REGIONAL DIRECTOR, REGION 14, SAINT LOUIS, MISSOURI.
|  | REGIONAL DIRECTOR, REGION 15, NEW ORLEANS, LOUISIANA.
|  | REGIONAL DIRECTOR, REGION 16, FORT WORTH, TEXAS.
|  | REGIONAL DIRECTOR, REGION 17, KANSAS CITY, KANSAS.
|  | REGIONAL DIRECTOR, REGION 18, MINNEAPOLIS, MINNESOTA.
|  | REGIONAL DIRECTOR, REGION 19, SEATTLE, WASHINGTON.
|  | REGIONAL DIRECTOR, REGION 20, SAN FRANCISCO, CALIFORNIA.
|  | REGIONAL DIRECTOR, REGION 21, LOS ANGELES, CALIFORNIA.
|  | REGIONAL DIRECTOR, REGION 22, NEWARK, NEW JERSEY.
|  | REGIONAL DIRECTOR, REGION 24, HATO REY, PUERTO RICO.
|  | REGIONAL DIRECTOR, REGION 25, INDIANAPOLIS, INDIANA.
|  | REGIONAL DIRECTOR, REGION 26, MEMPHIS, TENNESSEE.
|  | REGIONAL DIRECTOR, REGION 1, BOSTON, MASSACHUSETTS.
|  | REGIONAL DIRECTOR, REGION 28, PHOENIX, ARIZONA.
|  | REGIONAL DIRECTOR, REGION 29, BROOKLYN, NEW YORK.
|  | REGIONAL DIRECTOR, REGION 30, MILWAUKEE, WISCONSIN.
|  | REGIONAL DIRECTOR, REGION 32, OAKLAND, CALFORNIA.
|  | REGIONAL DIRECTOR, REGION 31, LOS ANGELES, CALIFORNIA.
|  | REGIONAL DIRECTOR, REGION 27, DENVER, COLORADO.
| OFFICE OF THE BOARD MEMBERS | CHIEF INFORMATION OFFICER. EXECUTIVE SECRETARY.
|  | DEPUTY EXECUTIVE SECRETARY.
|  | REGIONAL DIRECTOR, REGION 12, TAMPA, FLORIDA.
|  | DEPUTY CHIEF COUNSEL.
|  | INSPECTOR GENERAL.
| OFFICE OF THE GENERAL COUNSEL | ASSOCIATE GENERAL COUNSEL (DESIGNATED AGENCY ETHICS OFFICIAL).
| DIVISION OF ADMINISTRATION | DIRECTOR OF ADMINISTRATION. DIRECTOR, DIVISION OF ADMINISTRATION.
| DIVISION OF ADVICE | DEPUTY ASSOCIATE GENERAL COUNSEL, DIVISION OF ADVICE.
|  | ASSOCIATE GENERAL COUNSEL, DIVISION OF LEGAL COUNSEL.
| DIVISION OF ENFORCEMENT LITIGATION | DIRECTOR, OFFICE OF APPEALS. DEPUTY ASSOCIATE GENERAL COUNSEL, APPELLATE COURT BRANCH.
| DIVISION OF OPERATIONS MANAGEMENT | ASSOCIATE TO THE GENERAL COUNSEL, DIVISION OF OPERATION—MANAGEMENT.
|  | DEPUTY ASSOCIATE GENERAL COUNSEL, DIVISION OF OPERATIONS—MANAGEMENT.
|  | ASSISTANT TO GENERAL COUNSEL (2).
|  | ASSISTANT GENERAL COUNSEL (2).
NATIONAL SCIENCE FOUNDATION | DIVISION OF ENGINEERING EDUCATION AND CENTERS | DEPUTY DIVISION DIRECTOR.
| DIVISION OF INDUSTRIAL INNOVATION AND PARTNERSHIPS | DEPUTY DIVISION DIRECTOR.
| DIVISION OF ATMOSPHERIC AND GEOSPACE SCIENCES | SECTION HEAD, NATIONAL CENTER FOR ATOMOSPHERIC RESEARCH/FACILITIES SECTION.
| DIVISION OF EARTH SCIENCES | SECTION HEAD, INTEGRATED ACTIVITIES SECTION.
| DIVISION OF OCEAN SCIENCES | SECTION HEAD, INTERGRATIVE PROGRAMS SECTION.
| OFFICE OF POLAR PROGRAMS | HEAD, SECTION FOR ANTARCTIC INFRASTRUCTURE AND LOGISTIC.
| DIVISION OF ASTRONOMICAL SCIENCES | DEPUTY DIVISION DIRECTOR.
| NATIONAL CENTER FOR SCIENCE AND ENGINEERING STATISTICS | DIVISION DIRECTOR.
| DIRECTORATE FOR BIOLOGICAL SCIENCES | DEPUTY ASSISTANT DIRECTOR.
| DIRECTORATE FOR COMPUTER AND INFORMATION SCIENCE AND ENGINEERING | DEPUTY ASSISTANT DIRECTOR.
| DIRECTORATE FOR GEOSCIENCES | DEPUTY ASSISTANT DIRECTOR.
| DIRECTORATE FOR MATHEMATICAL AND PHYSICAL SCIENCES | DEPUTY ASSISTANT DIRECTOR.
| DIRECTORATE FOR SOCIAL, BEHAVIORAL AND ECONOMIC SCIENCES | DEPUTY ASSISTANT DIRECTOR.
| OFFICE OF BUDGET, FINANCE AND AWARD MANAGEMENT | CHIEF FINANCIAL OFFICER AND HEAD, OFFICE OF BUDGET, FINANCE AND AWARD MANAGEMENT. DEPUTY OFFICE HEAD.
| OFFICE OF INFORMATION AND RESOURCE MANAGEMENT | DEPUTY OFFICE HEAD. HEAD, OFFICE OF INFORMATION AND RESOURCE MANAGEMENT AND CHIEF HUMAN CAPITAL OFFICER.
| OFFICE OF THE DIRECTOR | CHIEF TECHNOLOGY OFFICER. SENIOR ADVISOR.
| BUDGET DIVISION | DIVISION DIRECTOR (2). DEPUTY DIRECTOR.
| DIVISION OF ACQUISITION AND COOPERATIVE SUPPORT | DIVISION DIRECTOR.
| DIVISION OF FINANCIAL MANAGEMENT | DEPUTY CHIEF FINANCIAL OFFICER AND DIVISION DIRECTOR. CONTROLLER AND DEPUTY DIVISION DIRECTOR.
| DIVISION OF GRANTS AND AGREEMENTS | DIVISION DIRECTOR.
| DIVISION OF INSTITUTIONAL AND AWARD SUPPORT | DIVISION DIRECTOR. DEPUTY DIVISION DIRECTOR.
| DIVISION OF ADMINISTRATIVE SERVICES | DIVISION DIRECTOR. DEPUTY DIVISION DIRECTOR.
| DIVISION OF HUMAN RESOURCE MANAGEMENT | DEPUTY DIVISION DIRECTOR. DIVISION DIRECTOR.
|  | DEPUTY DIVISION DIRECTOR.
| DIVISION OF INFORMATION SYSTEMS | DEPUTY DIVISION DIRECTOR.
| OFFICE OF THE DIVERSITY AND INCLUSION | OFFICE HEAD.
| OFFICE OF THE GENERAL COUNSEL | DEPUTY GENERAL COUNSEL.
NATIONAL SCIENCE FOUNDATION OFFICE OF THE INSPECTOR GENERAL | NATIONAL SCIENCE FOUNDATION OFFICE OF THE INSPECTOR GENERAL | ASSISTANT INSPECTOR GENERAL FOR INVESTIGATIONS/CHIEF INFORMATION OFFICER TO THE OFFICE OF THE INSPECTOR GENERAL. ASSISTANT INSPECTOR GENERAL FOR AUDIT.
|  | INSPECTOR GENERAL.
|  | ASSISTANT INSPECTOR GENERAL FOR MANAGEMENT, LEGAL AND EXTERNAL AFFAIRS.
|  | DEPUTY INSPECTOR GENERAL.
NATIONAL TRANSPORTATION SAFETY BOARD | OFFICE OF CHIEF FINANCIAL OFFICER | CHIEF FINANCIAL OFFICER.
| OFFICE OF SAFETY RECOMMENDATIONS AND COMMUNICATIONS | DEPUTY DIRECTOR, OFFICE OF SAFETY RECOMMENDATIONS AND COMMUNICATIONS.
| OFFICE OF ADMINISTRATION | DEPUTY MANAGING DIRECTOR. DEPUTY MANAGING DIRECTOR.
| NATIONAL TRANSPORTATION SAFETY BOARD | DIRECTOR, OFFICE OF ADMINISTRATION.
| OFFICE OF AVIATION SAFETY | DEPUTY DIRECTOR, REGIONAL OPERATIONS. DIRECTOR OFFICE OF AVIATION SAFETY.
|  | DEPUTY DIRECTOR, OFFICE OF AVIATION SAFETY.
| OFFICE OF CHIEF INFORMATION OFFICER | CHIEF INFORMATION OFFICER.
| OFFICE OF HIGHWAY SAFETY | DIRECTOR, OFFICE OF HIGHWAY SAFETY.
| OFFICE OF MARINE SAFETY | DIRECTOR, OFFICE OF MARINE SAFETY.
| OFFICE OF RAILROAD, PIPELINE AND HAZARDOUS MATERIELS INVESTIGATIONS | DIRECTOR, OFFICE OF RAILROAD, PIPELINE AND HAZARDOUS MATERIELS INVESTIGATIONS. DEPUTY DIRECTOR, OFFICE OF RAILROAD, PIPELINE AND HAZARDOUS MATERIELS SAFETY.
| OFFICE OF RESEARCH AND ENGINEERING | DEPUTY DIRECTOR, OFFICE OF RESEARCH AND ENGINEERING. DIRECTOR OFFICE OF RESEARCH AND ENGINEERING.
NUCLEAR REGULATORY COMMISSION | OFFICE OF ADMINISTRATION | DIRECTOR, ACQUISITION MANAGEMENT DIVISION. DEPUTY DIRECTOR, OFFICE OF ADMINISTRATION.
|  | DIRECTOR, DIVISION OF FACILITIES AND SECURITY.
| OFFICE OF COMMISSION APPELLATE ADJUDICATION | DIRECTOR, OFFICE OF COMMISSION APPELLATE ADJUDICATION.
| OFFICE OF NEW REACTORS | DEPUTY DIRECTOR, DIVISION OF CONSTRUCTION INSPECTION AND OPERATIONAL PROGRAMS.
|  | DIRECTOR, DIVISION OF ENGINEERING, INFRASTRUCTURE, AND ADVANCED REACTORS.
|  | DEPUTY DIRECTOR, DIVISION OF ENGINEERING, INFRASTRUCTURE, AND ADVANCED REACTORS.
|  | DEPUTY DIRECTOR, DIVISION OF NEW REACTOR LICENSING.
|  | DEPUTY DIRECTOR, OFFICE OF NEW REACTORS.
|  | DIRECTOR, DIVISION OF NEW REACTOR LICENSING.
|  | DIRECTOR, DIVISION OF SITE SAFETY AND ENVIRONMENTAL ANALYSIS.
|  | DEPUTY DIRECTOR, DIVISION OF SITE SAFETY AND ENVIRONMENTAL ANALYSIS.
|  | DIRECTOR, DIVISION OF SAFETY SYSTEMS AND RISK ASSESSMENT.
|  | DEPUTY DIRECTOR, DIVISION OF SAFETY SYSTEMS AND RISK ASSESSMENT.
|  | DEPUTY DIRECTOR, DIVISION OF ENGINEERING, INFRASTRUCTURE, AND ADVANCED REACTORS.
|  | DIRECTOR, DIVISION OF CONSTRUCTION INSPECTION AND OPERATIONAL PROGRAMS.
| OFFICE OF NUCLEAR MATERIAL SAFETY AND SAFEGUARDS | DEPUTY DIRECTOR, DIVISION OF MATERIELS SAFETY, STATE, TRIBAL, AND RULEMAKING PROGRAMS. DIRECTOR, DIVISION OF FUEL CYCLE SAFETY, SAFEGUARDS, AND ENVIRONMENTAL REVIEW.
|  | DIRECTOR, DIVISION OF MATERIELS SAFETY, STATE, TRIBAL, AND RULEMAKING PROGRAMS.
|  | DEPUTY DIRECTOR, DIVISION OF FUEL CYCLE SAFETY, SAFEGUARDS, AND ENVIRONMENTAL REVIEW.
|  | DEPUTY DIRECTOR, DIVISION OF SPENT FUEL MANAGEMENT.
|  | DIRECTOR, DIVISION OF DECOMMISSIONING, URANIUM RECOVERY, AND WASTE PROGRAMS.
|  | DEPUTY DIRECTOR, DIVISION OF DECOMMISSIONING, URANIUM RECOVERY, AND WASTE PROGRAMS.
|  | DIRECTOR, DIVISION OF RULEMAKING.
| OFFICE OF NUCLEAR REACTOR REGULATION | DEPUTY DIRECTOR FOR ENGINEERING. DEPUTY DIRECTOR, DIVISION OF RISK ASSESSMENT.
|  | DIRECTOR, DIVISION OF SAFETY SYSTEMS.
|  | DEPUTY DIRECTOR, DIVISION OF SAFETY SYSTEMS.
|  | DEPUTY DIRECTOR, DIVISION OF LICENSING PROJECTS.
|  | DIRECTOR, DIVISION OF MATERIELS AND LICENSE RENEWAL.
|  | DEPUTY DIRECTOR, DIVISION OF INSPECTION AND REGIONAL SUPPORT.
|  | DEPUTY DIRECTOR FOR REACTOR SAFETY PROGRAMS AND MISSION SUPPORT.
|  | DEPUTY DIRECTOR, DIVISION OF ENGINEERING.
|  | DEPUTY DIRECTOR, DIVISION OF MATERIELS AND LICENSE RENEWAL.
|  | DIRECTOR, DIVISION OF OPERATING REACTOR LICENSING.
|  | DEPUTY DIRECTOR, DIVISION OF OPERATING REACTOR LICENSING.
|  | DEPUTY DIRECTOR, DIVISION OF OPERATING REACTOR LICENSING.
|  | DIRECTOR, DIVISION OF INSPECTION AND REGIONAL SUPPORT.
|  | DIRECTOR, DIVISION OF RISK ASSESSMENT.
|  | DIRECTOR, DIVISION OF LICENSING PROJECTS.
|  | DIRECTOR, DIVISION OF ENGINEERING.
| OFFICE OF NUCLEAR REGULATORY RESEARCH | DEPUTY DIRECTOR, DIVISION OF RISK ANALYSIS. DIRECTOR, DIVISION OF RISK ANALYSIS.
|  | DEPUTY DIRECTOR, DIVISION OF SYSTEMS ANALYSIS.
|  | DIRECTOR, DIVISION OF SYSTEMS ANALYSIS.
|  | DIRECTOR, DIVISION OF ENGINEERING.
|  | DEPUTY DIRECTOR, DIVISION OF ENGINEERING.
| OFFICE OF NUCLEAR SECURITY AND INCIDENT RESPONSE | DEPUTY DIRECTOR, OFFICE OF NUCLEAR SECURITY AND INCIDENT RESPONSE. DEPUTY DIRECTOR, DIVISION OF PREPAREDNESS AND RESPONSE.
|  | DEPUTY DIRECTOR, DIVISION OF SECURITY OPERATIONS.
|  | DEPUTY DIRECTOR, DIVISION OF PHYSICAL AND CYBER SECURITY POLICY.
|  | DIRECTOR, DIVISION OF PREPAREDNESS AND RESPONSE.
|  | DIRECTOR, DIVISION OF SECURITY OPERATIONS.
|  | DIRECTOR, DIVISION OF PHYSICAL AND CYBER SECURITY POLICY.
| OFFICE OF SMALL BUSINESS AND CIVIL RIGHTS | DIRECTOR, OFFICE OF SMALL BUSINESS AND CIVIL RIGHTS.
| OFFICE OF THE CHIEF FINANCIAL OFFICER | CONTROLLER. DEPUTY CHIEF FINANICAL OFFICER.
|  | BUDGET DIRECTOR.
| OFFICE OF THE CHIEF INFORMATION OFFICER | DIRECTOR FOR TRANSFORMATIONAL ORGANIZATION. SPECIAL ASSISTANT.
|  | DIRECTOR, GOVERNANCE AND ENTERPRISE MANAGEMENT SERVICES DIVISION.
|  | DIRECTOR, CUSTOMER SERVICE DIVISION.
|  | DIRECTOR, INFORMATION TECHNOLOGY SERVICES DEVELOPMENT AND OPERATIONS DIVISION.
| REGION I | DEPUTY DIRECTOR, DIVISION OF REACTOR PROJECTS.
|  | DIRECTOR, DIVISION OF NUCLEAR MATERIELS SAFETY.
|  | DEPUTY DIRECTOR, DIVISION OF REACTOR SAFETY.
|  | DIRECTOR DIVISION OF REACTOR SAFETY.
|  | DIRECTOR, DIVISION OF REACTOR PROJECTS.
|  | DEPUTY REGIONAL ADMINISTRATOR.
| REGION II | DIRECTOR, DIVISION OF FUEL FACILITY INSPECTION.
|  | DIRECTOR, DIVISION OF REACTOR PROJECTS.
|  | DEPUTY DIRECTOR, DIVISION OF REACTOR PROJECTS.
|  | DIRECTOR, DIVISION OF REACTOR SAFETY.
|  | DEPUTY REGIONAL ADMINISTRATOR.
|  | DIRECTOR, DIVISION OF CONSTRUCTION OVERSIGHT.
|  | DIRECTOR, DIVISION OF CONSTRUCTION INSPECTION.
|  | DEPUTY DIRECTOR, DIVISION OF CONSTRUCTION INSPECTION.
|  | DEPUTY DIRECTOR, DIVISION OF REACTOR SAFETY.
| REGION III | DIRECTOR, DIVISION OF REACTOR PROJECTS.
|  | DIRECTOR, DIVISION OF NUCLEAR MATERIELS SAFETY.
|  | DEPUTY DIRECTOR, DIVISION OF REACTOR PROJECTS.
|  | DEPUTY DIRECTOR, DIVISION OF REACTOR SAFETY.
|  | DEPUTY REGIONAL ADMINISTRATOR.
|  | DIRECTOR, DIVISION OF REACTOR SAFETY.
| REGION IV | DEPUTY DIRECTOR, DIVISION OF REACTOR PROJECTS.
|  | DIRECTOR DIVISION OF REACTOR PROJECTS.
|  | DIRECTOR, DIVISION OF NUCLEAR MATERIELS SAFETY.
|  | DEPUTY REGIONAL ADMINISTRATOR.
|  | DEPUTY DIRECTOR, DIVISION OF REACTOR SAFETY.
|  | DIRECTOR, DIVISION OF REACTOR SAFETY.
| DIVISION OF SPENT FUEL MANAGEMENT | DIRECTOR, DIVISION OF SPENT FUEL MANAGEMENT.
| DIVISION OF LICENSE RENEWAL | DIRECTOR, DIVISION OF LICENSE RENEWAL.
| DIVISION OF POLICY AND RULEMAKING | DEPUTY DIRECTOR, DIVISION OF POLICY AND RULEMAKING.
| CYBER SECURITY DIRECTORATE | DIRECTOR, CYBER SECURITY DIRECTORATE.
NUCLEAR REGULATORY COMMISSION OFFICE OF THE INSPECTOR GENERAL | NUCLEAR REGULATORY COMMISSION OFFICE OF THE INSPECTOR GENERAL | DEPUTY INSPECTOR GENERAL.
| ASSISTANT INSPECTOR GENERAL FOR AUDITS | ASSISTANT INSPECTOR GENERAL FOR AUDITS.
| ASSISTANT INSPECTOR GENERAL FOR INVESTIGATIONS | ASSISTANT INSPECTOR GENERAL FOR INVESTIGATIONS.
OCCUPATIONAL SAFETY AND HEALTH REVIEW COMMISSION | OFFICE OF THE EXECUTIVE DIRECTOR | EXECUTIVE DIRECTOR.
OFFICE OF GOVERNMENT ETHICS | OFFICE OF GOVERNMENT ETHICS | DEPUTY GENERAL COUNSEL. CHIEF OF STAFF AND PROGRAM COUNSEL.
|  | DEPUTY DIRECTOR FOR INTERNAL OPERATIONS DIVISION.
|  | DEPUTY DIRECTOR FOR COMPLIANCE.
OFFICE OF MANAGEMENT AND BUDGET | HOUSING, TREASURY AND COMMERCE DIVISION | CHIEF, HOUSING BRANCH. CHIEF, COMMERCE BRANCH. DEPUTY ASSOCIATE DIRECTOR FOR HOUSING, TREASURY AND COMMERCE.
|  | CHIEF, TREASURY BRANCH.
| TRANSPORTATION, HOMELAND, JUSTICE AND SERVICES DIVISION | CHIEF, JUSTICE BRANCH. CHIEF, TRANSPORTATION/GENERAL SERVICES ADMINISTRATION BRANCH. CHIEF, HOMELAND SECURITY BRANCH.
|  | DEPUTY ASSOCIATE DIRECTOR, TRANSPORTATION, HOMELAND, JUSTICE AND SERVICES.
| HEALTH DIVISION | CHIEF, HEALTH INSURANCE AND DATA ANALYSIS BRANCH. DEPUTY ASSOCIATE DIRECTOR FOR HEALTH.
|  | CHIEF, MEDICARE BRANCH.
|  | CHIEF, MEDICAID BRANCH.
|  | CHIEF, PUBLIC HEALTH BRANCH.
|  | CHIEF, HEALTH AND HUMAN SERVICES BRANCH.
| INTERNATIONAL AFFAIRS DIVISION | CHIEF, STATE/UNITED STATES INFORMATION AGENCY BRANCH. DEPUTY ASSOCIATE DIRECTOR FOR INTERNATIONAL AFFAIRS.
|  | CHIEF, ECONOMIC AFFAIRS BRANCH.
| NATIONAL SECURITY DIVISION | CHIEF, FORCE STRUCTURE AND INVESTMENT BRANCH. CHIEF, VETERANS AFFAIRS AND DEFENSE HEALTH BRANCH.
|  | CHIEF, COMMAND, CONTROL, COMMUNICATION, COMPUTERS, AND INTELLIGENCE BRANCH.
|  | CHIEF OPERATIONS AND SUPPORT BRANCH.
|  | DEPUTY ASSOCIATE DIRECTOR FOR NATIONAL SECURITY.
| ENERGY, SCIENCE AND WATER DIVISION | CHIEF SCIENCE AND SPACE PROGRAMS BRANCH. CHIEF, WATER AND POWER BRANCH.
|  | DEPUTY ASSOCIATE DIRECTOR FOR ENERGY, SCIENCE, AND WATER DIVISION.
|  | CHIEF, ENERGY BRANCH.
| NATURAL RESOURCES DIVISION | CHIEF, AGRICULTURAL BRANCH. DEPUTY ASSOCIATE DIRECTOR FOR NATURAL RESOURCES.
|  | CHIEF, ENVIRONMENT BRANCH.
|  | CHIEF, INTERIOR BRANCH.
| OFFICE OF E-GOVERNMENT AND INFORMATION TECHNOLOGY | CHIEF, ARCHITECT.
| STAFF OFFICES | ASSISTANT DIRECTOR FOR MANAGEMENT AND OPERATIONS.
|  | DEPUTY ASSISTANT DIRECTOR FOR MANAGEMENT.
|  | DEPUTY ASSOCIATE DIRECTOR FOR ECONOMIC POLICY.
| BUDGET REVIEW | DEPUTY ASSISTANT DIRECTOR FOR BUDGET REVIEW.
|  | DEPUTY CHIEF, BUDGET REVIEW BRANCH.
|  | DEPUTY CHIEF, BUDGET ANALYSIS BRANCH.
|  | CHIEF, BUDGET CONCEPTS BRANCH.
|  | CHIEF, BUDGET ANALYSIS BRANCH.
|  | ASSISTANT DIRECTOR FOR BUDGET REVIEW.
|  | CHIEF, BUDGET REVIEW BRANCH.
|  | CHIEF, BUDGET SYSTEMS BRANCH.
| EDUCATION, INCOME MAINTENANCE AND LABOR PROGRAMS | CHIEF, LABOR BRANCH. CHIEF, EDUCATION BRANCH. DEPUTY ASSOCIATE DIRECTOR FOR EDUCATION, INCOME MAINTAINENCE AND LABOR.
|  | CHIEF, INCOME MAINTENANCE BRANCH.
| LEGISLATIVE REFERENCE DIVISION | CHIEF, ECONOMICS, SCIENCE AND GOVERNMENT BRANCH. CHIEF, RESOURCES-DEFENSE-INTERNATIONAL BRANCH.
|  | CHIEF, HEALTH, EDUCATION, VETERANS, AND SOCIAL PROGRAMS BRANCH.
|  | ASSISTANT DIRECTOR LEGISLATIVE REFERENCE.
| OFFICE OF FEDERAL FINANCIAL MANAGEMENT | CHIEF, FINANCIAL INTEGRITY AND RISK MANAGEMENT BRANCH.
| OFFICE OF FEDERAL PROCUREMENT POLICY | ASSOCIATE ADMINISTRATOR. DEPUTY ADMINISTRATOR FOR FEDERAL PROCUREMENT POLICY.
| OFFICE OF INFORMATION AND REGULATORY AFFAIRS | CHIEF, STATISTICAL AND SCIENCE POLICY BRANCH. CHIEF, FOOD, HEALTH AND LABOR BRANCH.
|  | CHIEF, NATURAL RESOURCES AND ENVIRONMENT BRANCH.
|  | CHIEF, PRIVACY BRANCH.
|  | CHIEF, INFORMATION POLICY BRANCH.
OFFICE OF NATIONAL DRUG CONTROL POLICY | OFFICE OF SUPPLY REDUCTION | ASSISTANT DEPUTY DIRECTOR OF SUPPLY REDUCTION. ASSOCIATE DIRECTOR FOR INTELLIGENCE.
OFFICE OF PERSONNEL MANAGEMENT | FACILITIES, SECURITY AND EMERGENCY MANAGEMENT | DIRECTOR, FACILITIES, SECURITY AND EMERGENCY MANAGEMENT.
| HEALTHCARE AND INSURANCE | ASSISTANT DIRECTOR, FEDERAL EMPLOYEE INSURANCE OPERATIONS.
|  | DEPUTY DIRECTOR, ACTUARY.
| MERIT SYSTEM ACCOUNTABILITY AND COMPLIANCE | DEPUTY ASSOCIATE DIRECTOR, MERIT SYSTEM AUDIT AND COMPLIANCE.
| NATIONAL BACKGROUND INVESTIGATION BUREAU | DEPUTY ASSISTANT DIRECTOR, OPERATIONS. DEPUTY ASSISTANT DIRECTOR, STRATEGIC SOURCING.
| OFFICE OF PROCUREMENT OPERATIONS | DIRECTOR, OFFICE OF PROCUREMENT OPERATIONS.
| OFFICE OF THE CHIEF FINANCIAL OFFICER | ASSOCIATE CHIEF FINANCIAL OFFICER FINANCIAL SERVICES. CHIEF FINANCIAL OFFICER.
|  | DEPUTY CHIEF FINANCIAL OFFICER.
|  | CHIEF FINANCIAL OFFICER AND DEPUTY CHIEF MANAGEMENT OFFICER.
| PLANNING AND POLICY ANALYSIS | DEPUTY DIRECTOR, ACTUARY.
| RETIREMENT SERVICES | ASSOCIATE DIRECTOR, RETIREMENT SERVICES. DEPUTY ASSOCIATE DIRECTOR, RETIREMENT OPERATIONS.
|  | DEPUTY ASSOCIATE DIRECTOR, RETIREMENT SERVICES.
OFFICE OF PERSONNEL MANAGEMENT, OFFICE OF THE INSPECTOR GENERAL | OFFICE OF AUDITS | ASSISTANT INSPECTOR GENERAL FOR AUDITS. DEPUTY ASSISTANT INSPECTOR GENERAL FOR AUDITS.
|  | DEPUTY ASSISTANT INSPECTOR GENERAL FOR AUDITS.
| OFFICE OF INVESTIGATIONS | ASSISTANT INSPECTOR GENERAL FOR INVESTIGATIONS. DEPUTY ASSISTANT INSPECTOR GENERAL FOR INVESTIGATIONS.
|  | DEPUTY ASSISTANT INSPECTOR GENERAL FOR INVESTIGATIONS.
| OFFICE OF LEGAL AFFAIRS | ASSISTANT INSPECTOR GENERAL FOR LEGAL AFFAIRS.
| OFFICE OF POLICY, RESOURCES MANAGEMENT, AND OVERSIGHT | CHIEF INFORMATION TECHNOLOGY OFFICER. ASSISTANT INSPECTOR GENERAL FOR MANAGEMENT. DEPUTY ASSISTANT INSPECTOR GENERAL FOR MANAGEMENT.
|  | DEPUTY ASSISTANT INSPECTOR GENERAL FOR MANAGEMENT.
|  | ASSISTANT INSPECTOR GENERAL FOR MANAGEMENT.
| OFFICE OF THE INSPECTOR GENERAL | DEPUTY INSPECTOR GENERAL.
OFFICE OF SPECIAL COUNSEL | HEADQUARTERS, OFFICE OF SPECIAL COUNSEL | CHIEF OPERATING OFFICER. ASSOCIATE SPECIAL COUNSEL FOR INVESTIGATION AND PROSECUTION.
|  | ASSOCIATE SPECIAL COUNSEL FOR GENERAL LAW DIVISION.
|  | ASSOCIATE SPECIAL COUNSEL FOR INVESTIGATION AND PROSECUTION.
|  | ASSOCIATE SPECIAL COUNSEL FOR INVESTIGATION AND PROSECUTION (HEADQUARTERS).
|  | DIRECTOR OF MANAGEMENT AND BUDGET.
|  | DIRECTOR, OFFICE OF PLANNING AND ANALYSIS.
|  | CHIEF FINANCIAL OFFICER AND DIRECTOR OF ADMINISTRATIVE SERVICES.
|  | SENIOR ASSOCIATE SPECIAL COUNSEL FOR INVESTIGATION AND PROSECUTION.
|  | ASSOCIATE SPECIAL COUNSEL FOR INVESTIGATION AND PROSECUTION.
|  | DIRECTOR OF MANAGEMENT AND BUDGET.
|  | ASSOCIATE SPECIAL COUNSEL FOR LEGAL COUNSEL AND POLICY.
| OFFICE OF SPECIAL COUNSEL | ASSOCIATE SPECIAL COUNSEL FOR INVESTIGATION AND PROSECUTION (FIELD OFFICES).
OFFICE OF THE UNITED STATES TRADE REPRESENTATIVE | INDUSTRY, MARKET ACCESS AND TELECOMMUNICATIONS | ASSISTANT UNITED STATES TRADE REPRESENTATIVE FOR INDUSTRY, MARKET ACCESS AND TELECOMMUNICATIONS.
| LABOR | ASSISTANT UNITED STATES TRADE REPRESENTATIVE FOR LABOR.
| MONITORING AND ENFORCEMENT | DIRECTOR OF INTERAGENCY CENTER FOR TRADE IMPLEMENTATION, MONITORING, AND ENFORCEMENT.
| SOUTH ASIAN AFFAIRS | ASSISTANT UNITED STATES TRADE REPRESENTATIVE FOR SOUTH ASAIN AFFAIRS.
RAILROAD RETIREMENT BOARD | BOARD STAFF | CHIEF OF TECHNOLOGY SERVICE. CHIEF ACTUARY. DIRECTOR OF FIELD SERVICE.
|  | DEPUTY GENERAL COUNSEL.
|  | CHIEF FINANCIAL OFFICER.
|  | GENERAL COUNSEL.
|  | DIRECTOR OF PROGRAMS.
|  | CHIEF INFORMATION OFFICER.
|  | DIRECTOR OF OPERATIONS.
|  | DIRECTOR OF FISCAL OPERATIONS.
|  | DIRECTOR OF ADMINISTRATION.
| OFFICE OF INSPECTOR GENERAL | ASSISTANT INSPECTOR GENERAL FOR INVESTIGATIONS. ASSISTANT INSPECTOR GENERAL FOR AUDIT.
SELECTIVE SERVICE SYSTEM | SELECTIVE SERVICE SYSTEM | ASSOCIATE DIRECTOR FOR OPERATIONS.
| OFFICE OF THE DIRECTOR | ASSOCIATE DIRECTOR FOR OPERATIONS. SENIOR ADVISOR TO THE DIRECTOR.
SMALL BUSINESS ADMINISTRATION | OFFICE OF INTERNATIONAL TRADE | DEPUTY ASSOCIATE ADMINISTRATOR FOR INTERNATIONAL TRADE.
| OFFICE OF INVESTMENT AND INNOVATION | DEPUTY ASSOCIATE ADMINISTRATOR FOR INVESTMENT AND INNOVATION.
| OFFICE OF CAPITAL ACCESS | DIRECTOR FOR SURETY GUARANTEES. DIRECTOR OF ECONOMIC OPPORTUNITY.
| OFFICE OF ENTREPRENEURIAL DEVELOPMENT | DEPUTY ASSOCIATE ADMINISTRATOR FOR ENTREPRENEURIAL DEVELOPMENT. ASSOCIATE ADMINISTRATOR FOR SMALL BUSINESS DEVELOPMENT CENTERS.
| OFFICE OF FIELD OPERATIONS | DISTRICT DIRECTOR (4). DISTRICT DIRECTOR WASHINGTON METRO AREA DISTRICT OFFICE.
|  | DISTRICT DIRECTOR NEW YORK.
|  | DISTRICT DIRECTOR.
| OFFICE OF GOVERNMENT CONTRACTING AND BUSINESS DEVELOPMENT | DIRECTOR FOR POLICY PLANNING AND LIAISON. DEPUTY ASSOCIATE ADMINISTRATOR FOR GOVERNMENT CONTRACTING AND BUSINESS DEVELOPMENT.
|  | DIRECTOR OF HUBZONE.
| OFFICE OF HEARINGS AND APPEALS | ASSISTANT ADMINISTRATOR FOR HEARINGS AND APPEALS.
| OFFICE OF THE CHIEF FINANCIAL OFFICER | DEPUTY CHIEF FINANCIAL OFFICER. CHIEF FINANCIAL OFFICER.
| OFFICE OF THE CHIEF OPERATING OFFICER | DEPUTY CHIEF INFORMATION OFFICER. DEPUTY CHIEF HUMAN CAPITAL OFFICER.
|  | CHIEF HUMAN CAPITAL OFFICER.
| OFFICE OF THE GENERAL COUNSEL | ASSOCIATE GENERAL COUNSEL FOR PROCUREMENT LAW.
|  | ASSOCIATE GENERAL COUNSEL FOR FINANCIAL LAW AND LENDER OVERSIGHT.
|  | ASSOCIATE GENERAL COUNSEL LITIGATION.
SMALL BUSINESS ADMINISTRATION, OFFICE OF THE INSPECTOR GENERAL | SMALL BUSINESS SMALL BUSINESS ADMINISTRATION, OFFICE OF THE INSPECTOR GENERAL | ASSISTANT INSPECTOR GENERAL FOR MANAGEMENT AND POLICY. COUNSEL TO THE INSPECTOR GENERAL. ASSISTANT INSPECTOR GENERAL FOR INVESTIGATIONS.
|  | DEPUTY INSPECTOR GENERAL.
|  | ASSISTANT INSPECTOR GENERAL FOR AUDITING DIVISION.
SOCIAL SECURITY ADMINISTRATION | OFFICE OF ACQUISITION AND GRANTS | DEPUTY ASSOCIATE COMMISSIONER FOR ACQUISITION AND GRANTS. ASSOCIATE COMMISSIONER FOR ACQUISITION AND GRANTS.
| OFFICE OF ANTI-FRAUD PROGRAMS | ASSOCIATE COMMISSIONER FOR ANTI-FRAUD PROGRAMS.
| OFFICE OF BUDGET | ASSOCIATE COMMISSIONER FOR BUDGET. DEPUTY ASSOCIATE COMMISSIONER FOR BUDGET.
| OFFICE OF FINANCIAL POLICY AND OPERATIONS | DEPUTY ASSOCIATE COMMISSIONER FINANCIAL POLICY AND OPERATIONS.
|  | ASSOCIATE COMMISSIONER, OFFICE OF FINANCE POLICY AND OPERATIONS.
| OFFICE OF APPELLATE OPERATIONS | DEPUTY EXECUTIVE DIRECTOR, OFFICE OF APPELLATE OPERATIONS.
|  | EXECUTIVE DIRECTOR, OFFICE OF APPELLATE OPERATIONS.
| OFFICE OF CIVIL RIGHTS AND EQUAL OPPORTUNITY | ASSOCIATE COMMISSIONER FOR CIVIL RIGHTS AND EQUAL OPPORTUNITY. DEPUTY ASSOCIATE COMMISSIONER FOR CIVIL RIGHTS AND EQUAL OPPORTUNITY.
| OFFICE OF LABOR-MANAGEMENT AND EMPLOYEE RELATIONS | DEPUTY ASSOCIATE COMMISSIONER FOR LABOR-MANAGEMENT AND EMPLOYEE RELATIONS.
|  | ASSOCIATE COMMISSIONER FOR LABOR-MANAGEMENT AND EMPLOYEE RELATIONS.
| OFFICE OF PERSONNEL | DEPUTY ASSOCIATE COMMISSIONER FOR PERSONNEL. ASSOCIATE COMMISSIONER FOR PERSONNEL.
| OFFICE OF DISABILITY DETERMINATIONS | ASSOCIATE COMMISSIONER FOR DISABILITY DETERMINATIONS.
| OFFICE OF INFORMATION SECURITY | ASSOCIATE COMMISSIONER FOR INFORMATION SECURITY.
| OFFICE OF TELECOMMUNICATIONS AND SYSTEMS OPERATIONS | DEPUTY ASSOCIATE COMMISSIONER FOR HARDWARE ENGINEERING. ASSISTANT ASSOCIATE COMMISSIONER FOR ENTERPRISE INFORMATION TECHNOLOGY SERVICES MANAGEMENT.
|  | DEPUTY ASSOCIATE COMMISSIONER FOR TELECOMMUNICATIONS AND SYSTEMS OPERATIONS.
|  | DEPUTY ASSOCIATE COMMISSIONER FOR TELECOMMUNICATIONS AND SYSTEMS OPERATIONS (TELECOMMUNICATIONS).
|  | ASSOCIATE COMMISSIONER FOR TELECOMMUNICATIONS AND SYSTEMS OPERATIONS.
| OFFICE OF GENERAL LAW | ASSOCIATE GENERAL COUNSEL FOR GENERAL LAW. DEPUTY ASSOCIATE GENERAL COUNSEL FOR GENERAL LAW.
| OFFICE OF PRIVACY AND DISCLOSURE | EXECUTIVE DIRECTOR FOR PRIVACY AND DISCLOSURE.
| OFFICE OF PROGRAM LAW | DEPUTY ASSOCIATE GENERAL COUNSEL FOR PROGRAM LAW.
| OFFICE OF BUDGET, FINANCE, QUALITY AND MANAGEMENT | ASSISTANT DEPUTY COMMISSIONER FOR BUDGET, FINANCE, QUALITY, AND MANAGEMENT.
| OFFICE OF DISABILITY ADJUDICATION AND REVIEW | DEPUTY COMMISSIONER FOR DISABILITY ADJUDICATION AND REVIEW. ASSISTANT DEPUTY COMMISSIONER FOR DISABILITY ADJUDICATION AND REVIEW.
| OFFICE OF SYSTEMS | ASSISTANT DEPUTY COMMISSIONER FOR SYSTEMS (INFORMATION TECHNOLOGY BUSINESS SUPPORT).
| OFFICE OF THE CHIEF ACTUARY | DEPUTY CHIEF ACTUARY (SHORT-RANGE). DEPUTY CHIEF ACTUARY (LONG-RANGE).
|  | CHIEF ACTUARY.
| OFFICE OF THE CHIEF STRATEGIC OFFICER | CHIEF STRATEGIC OFFICER.
SOCIAL SECURITY ADMINISTRATION, OFFICE OF THE INSPECTOR GENERAL | IMMEDIATE OFFICE OF THE INSPECTOR GENERAL | DEPUTY INSPECTOR GENERAL. SENIOR ADVISOR TO THE INSPECTOR GENERAL (LE). CHIEF OF STAFF.
| OFFICE OF AUDIT | DEPUTY ASSISTANT INSPECTOR GENERAL FOR AUDIT (FINANCIAL SYSTEMS AND OPERATIONS AUDITS).
|  | ASSISTANT INSPECTOR GENERAL FOR AUDIT.
|  | DEPUTY ASSISTANT INSPECTOR GENERAL FOR AUDIT (PROGRAM AUDIT AND EVALUATIONS).
| OFFICE OF COMMUNICATIONS AND RESOURCE MANAGEMENT | DEPUTY ASSISTANT INSPECTOR GENERAL FOR COMMUNICATIONS AND RESOURCE MANAGEMENT. ASSISTANT INSPECTOR GENERAL FOR COMMUNICATIONS AND RESOURCE MANAGEMENT.
| OFFICE OF COUNSEL TO THE INSPECTOR GENERAL | COUNSEL TO THE INSPECTOR GENERAL.
| OFFICE OF INVESTIGATIONS | DEPUTY ASSISTANT INSPECTOR GENERAL FOR INVESTIGATIONS (EASTERN FIELD OPERATIONS).
|  | DEPUTY ASSISTANT INSPECTOR GENERAL FOR INVESTIGATIONS (WESTERN FIELD OPERATIONS).
|  | ASSISTANT INSPECTOR GENERAL FOR INVESTIGATIONS.
DEPARTMENT OF STATE | OFFICE OF CIVIL RIGHTS | DEPUTY DIRECTOR.
| OFFICE OF THE UNDER SECRETARY FOR MANAGEMENT | OMBUDSMAN.
| BUREAU OF ARMS CONTROL, VERIFICATION, AND COMPLIANCE | DIRECTOR, OFFICE OF STRATEGIC NEGOTIATIONS AND IMPLEMENTAITON.
| BUREAU OF INTERNATIONAL SECURITY AND NONPROLIFERATION | OFFICE DIRECTOR (2).
| BUREAU OF ADMINISTRATION | DIRECTOR, OFFICE OF ACQUISITIONS. PROCUREMENT EXECUTIVE.
| BUREAU OF HUMAN RESOURCES | PRINCIPAL DEPUTY ASSISTANT SECRETARY. HUMAN RESOURCES OFFICER.
DEPARTMENT OF STATE, OFFICE OF THE INSPECTOR GENERAL | OFFICE OF INSPECTOR GENERAL | DEPUTY ASSISTANT INSPECTOR GENERAL FOR INSPECTIONS. ASSISTANT INSPECTOR GENERAL FOR MANAGEMENT.
|  | ASSISTANT INSPECTOR GENERAL FOR ENTERPRISE RISK MANAGEMENT.
|  | DEPUTY GENERAL COUNSEL.
|  | DEPUTY ASSISTANT INSPECTOR GENERAL FOR INSPECTIONS.
|  | ASSISTANT INSPECTOR GENERAL FOR EVALUATIONS AND SPECIAL PROJECTS.
|  | DEPUTY ASSISTANT INSPECTOR GENERAL FOR MANAGEMENT.
|  | ASSISTANT INSPECTOR GENERAL FOR INSPECTIONS.
|  | ASSISTANT INSPECTOR GENERAL FOR INVESTIGATIONS.
|  | GENERAL COUNSEL TO THE INSPECTOR GENERAL.
|  | ASSISTANT INSPECTOR GENERAL FOR AUDITS.
|  | DEPUTY ASSISTANT INSPECTOR GENERAL FOR AUDITS.
|  | DEPUTY ASSISTANT INSPECTOR GENERAL FOR INVESTIGATIONS.
|  | DEPUTY ASSISTANT INSPECTOR GENERAL FOR MIDDLE EAST REGIONAL OFFICE.
|  | DEPUTY INSPECTOR GENERAL.
TRADE AND DEVELOPMENT AGENCY | OFFICE OF THE GENERAL COUNSEL | GENERAL COUNSEL.
| OFFICE OF THE DIRECTOR | DEPUTY DIRECTOR. ASSISTANT DIRECTOR FOR POLICY AND PROGRAMS.
DEPARTMENT OF TRANSPORTATION | ASSOCIATE ADMINISTRATOR FOR ENFORCEMENT | DIRECTOR, OFFICE OF VEHICLE SAFETY COMPLIANCE. DIRECTOR, OFFICE OF DEFECTS INVESTIGATION.
|  | ASSOCIATE ADMINISTRATOR FOR ENFORCEMENT.
| ASSOCIATE ADMINISTRATOR FOR INJURY CONTROL OPERATIONS AND RESOURCES | ASSOCIATE ADMINISTRATOR FOR INJURY CONTROL OPERATIONS AND RESOURCES.
| OFFICE OF THE CHIEF FINANCIAL OFFICER | DIRECTOR, OFFICE OF ACQUISITION MANAGEMENT. DEPUTY CHIEF FINANCIAL OFFICER AND CHIEF BUDGET OFFICER.
|  | CHIEF FINANCIAL OFFICER.
| OFFICE OF THE SENIOR PROCUREMENT EXECUTIVE | SENIOR PROCUREMENT EXECUTIVE.
| OFFICE OF BUDGET AND PROGRAM PERFORMANCE | DIRECTOR OF BUDGET AND PROGRAM PERFORMANCE.
| OFFICE OF SAFETY, ENERGY AND ENVIRONMENT | DIRECTOR.
| OFFICE OF ENFORCEMENT AND COMPLIANCE | DIRECTOR, OFFICE OF ENFORCEMENT AND COMPLIANCE.
| OFFICE OF REAL ESTATE SERVICES | DIRECTOR, OFFICE OF REAL ESTATE SERVICES.
| OFFICE OF BUS AND TRUCK STANDARDS AND OPERATIONS | DIRECTOR, OFFICE OF BUS AND TRUCK STANDARDS AND OPERATIONS.
| OFFICE OF SAFETY RESEARCH AND DEVELOPMENT | DIRECTOR, OFFICE OF SAFETY RESEARCH, DEVELOPMENT AND TECHNOLOGY.
| OFFICE OF LICENSING AND SAFETY INFORMATION | DIRECTOR, OFFICE FOR LICENSING AND SAFETY INFORMATION.
| ADMINISTRATOR | DIRECTOR OF INNOVATIVE PROGRAM DELIVERY. EXECUTIVE DIRECTOR.
| ASSOCIATE ADMINISTRATOR FOR SAFETY | ASSOCIATE ADMINISTRATOR FOR SAFETY.
| ADMINISTRATOR | CHIEF FINANCIAL OFFICER. ASSISTANT ADMINISTRATOR/CHIEF SAFETY OFFICER.
| ASSOCIATE ADMINISTRATOR FOR FIELD OPERATIONS | REGIONAL FIELD ADMINISTRATOR, MIDWEST REGION. REGIONAL FIELD ADMINISTRATOR, SOUTHERN REGION.
| ADMINISTRATOR | EXECUTIVE DIRECTOR. CHIEF FINANCIAL OFFICER.
| ASSOCIATE ADMINISTRATOR FOR RAILROAD SAFETY | ASSOCIATE ADMINISTRATOR FOR RAILROAD SAFETY/CHIEF SAFETY OFFICER.
| ADMINISTRATOR | EXECUTIVE DIRECTOR. EXECUTIVE SECRETARY, COMMITTEE ON MARINE TRANSPORTATION SYSTEMS.
| ASSOCIATE ADMINISTRATOR FOR ENVIRONMENT AND COMPLIANCE | ASSOCIATE ADMINISTRATOR FOR ENVIRONMENT AND COMPLIANCE. DEPUTY ASSOCIATE ADMINISTRATOR FOR ENVIRONMENT AND COMPLIANCE.
| ASSOCIATE ADMINISTRATOR FOR STRATEGIC SEALIFT | DEPUTY ASSOCIATE ADMINISTRATOR FOR FEDERAL SEALIFT. DEPUTY ASSOCIATE ADMINISTRATOR FOR MARITIME EDUCATION AND TRAINING.
| CHIEF COUNSEL | DEPUTY CHIEF COUNSEL.
| ADMINISTRATOR | EXECUTIVE DIRECTOR.
| ASSISTANT SECRETARY FOR ADMINISTRATION | DEPUTY ASSISTANT SECRETARY FOR ADMINISTRATION.
| ASSISTANT SECRETARY FOR BUDGET AND PROGRAMS | DEPUTY CHIEF FINANCIAL OFFICER. DEPUTY ASSISTANT SECRETARY FOR BUDGET AND PROGRAMS.
|  | CHIEF FINANCIAL OFFICER.
| CHIEF INFORMATION OFFICER | CHIEF TECHNOLOGY OFFICER. CHIEF INFORMATION SECURITY OFFICER.
|  | DEPUTY CHIEF INFORMATION OFFICER.
| OFFICE OF INTELLIGENCE, SECURITY AND EMERGENCY RESPONSE | DIRECTOR, OFFICE OF INTELLIGENCE, SECURITY AND EMERGENCY RESPONSE. DEPUTY DIRECTOR.
| PUBLIC AFFAIRS | SENIOR ADVISOR FOR STRATEGIC COMMUNICATIONS.
| SECRETARY | EXECUTIVE DIRECTOR FOR THE OFFICE OF THE UNDER SECRETARY OF TRANSPORTATION FOR POLICY.
| OFFICE OF CHIEF SAFETY OFFICER | ASSISTANT ADMINISTRATOR AND CHIEF SAFETY OFFICER.
| OFFICE OF HAZARDOUS MATERIELS SAFETY | ASSOCIATE ADMINISTRATOR FOR HAZARDOUS MATERIELS SAFETY.
| OFFICE OF PIPELINE SAFETY | ASSOCIATE ADMINISTRATOR FOR PIPELINE SAFETY. DEPUTY ASSOCIATE ADMINISTRATOR FOR FIELD OPERATIONS.
|  | DEPUTY ASSOCIATE ADMINISTRATOR FOR POLICY AND PROGRAMS.
| OFFICE OF THE MANAGING DIRECTOR | MANAGING DIRECTOR.
| PROCEEDINGS | DEPUTY DIRECTOR—LEGAL ANALYSIS.
DEPARTMENT OF TRANSPORTATION, OFFICE OF THE INSPECTOR GENERAL | OFFICE OF ASSISTANT INSPECTOR GENERAL FOR ADMINISTRATION AND MANAGEMENT | ASSISTANT INSPECTOR GENERAL FOR ADMINISTRATION AND MANAGEMENT.
| OFFICE OF ASSISTANT INSPECTOR GENERAL FOR LEGAL, LEGISLATIVE AND EXTERNAL AFFAIRS | ASSISTANT INSPECTOR GENERAL FOR LEGAL, LEGISLATIVE AND EXTERNAL AFFAIRS.
| OFFICE OF DEPUTY INSPECTOR GENERAL | DEPUTY INSPECTOR GENERAL.
| OFFICE OF PRINCIPAL ASSISTANT INSPECTOR GENERAL FOR AUDITING AND EVALUATION | PRINCIPAL ASSISTANT INSPECTOR GENERAL FOR AUDITING AND EVALUATION.
| OFFICE OF PRINCIPAL ASSISTANT INSPECTOR GENERAL FOR INVESTIGATIONS | PRINCIPAL ASSISTANT INSPECTOR GENERAL FOR INVESTIGATIONS.
| OFFICE OF ASSISTANT INSPECTOR GENERAL FOR ACQUISITION AND PROCUREMENT AUDITS | ASSISTANT INSPECTOR GENERAL FOR ACQUISTION AND PROCUREMENT AUDITS.
| OFFICE OF ASSISTANT INSPECTOR GENERAL FOR AUDIT OPERATIONS AND SPECIAL REVIEWS | ASSISTANT INSPECTOR GENERAL FOR AUDIT OPERATIONS AND SPECIAL REVIEWS.
| OFFICE OF ASSISTANT INSPECTOR GENERAL FOR AVIATION AUDITS | DEPUTY ASSISTANT INSPECTOR GENERAL FOR AVIATION AUDITS. ASSISTANT INSPECTOR GENERAL FOR AVIATION AUDITS.
| OFFICE OF ASSISTANT INSPECTOR GENERAL FOR FINANCIAL AND INFORMATION TECHNOLOGY AUDITS | ASSISTANT INSPECTOR GENERAL FOR FINANCIAL AND INFORMATION TECHNOLOGY AUDITS.
| OFFICE OF ASSISTANT INSPECTOR GENERAL FOR SURFACE TRANSPORTATION AUDITS | DEPUTY ASSISTANT INSPECTOR GENERAL FOR SURFACE TRANSPORTATION AUDITS. ASSISTANT INSPECTOR GENERAL FOR SURFACE TRANSPORTATION AUDITS.
| OFFICE OF DEPUTY ASSISTANT INSPECTOR GENERAL FOR INVESTIGATIONS | DEPUTY ASSISTANT INSPECTOR GENERAL FOR INVESTIGATIONS.
DEPARTMENT OF THE TREASURY | ALCOHOL AND TOBACCO TAX AND TRADE BUREAU | ASSISTANT ADMINISTRATOR, HEADQUARTER OPERATIONS. ASSISTANT ADMINISTRATOR, MANAGEMENT/CHIEF FINANCIAL OFFICER.
|  | DEPUTY ADMINISTRATOR, ALCOHOL AND TOBACCO TAX AND TRADE BUREAU.
|  | ASSISTANT ADMINISTRATOR, FIELD OPERATIONS.
|  | ASSISTANT ADMINISTRATOR INFORMATION RESOURCES/CHIEF INFORMATION OFFICER.
|  | ASSISTANT ADMINISTRATOR, EXTERNAL AFFAIRS/CHIEF OF STAFF.
|  | ADMINISTRATOR, ALCOHOL AND TOBACCO TAX AND TRADE BUREAU.
| ASSISTANT SECRETARY (TAX POLICY) | DIRECTOR, ECONOMIC MODELING AND COMPUTER APPLICATIONS.
| ASSISTANT SECRETARY FOR MANAGEMENT | DIRECTOR OFFICE OF MINORITY AND WOMEN INCLUSION. DIRECTOR, OFFICE OF PROCUREMENT.
|  | DEPUTY CHIEF FINANCIAL OFFICER.
| GENERAL COUNSEL | SPECIAL COUNSEL ASSET FORFEITURE.
| INTERNAL REVENUE SERVICE | DIRECTOR, FIELD OPERATIONS EAST. CHIEF OF STAFF.
|  | DIRECTOR, MEDIA AND PUBLICATIONS (WASHINGTON, DISTRICT OF COLUMBIA).
|  | DIRECTOR, HUMAN RESOURCES.
|  | DIRECTOR, STRATEGY AND FINANCE.
|  | DEPUTY DIRECTOR (CONTENT DEVELOPMENT), PRE-FILING & TECHNICAL GUIDANCE.
|  | DEPUTY ASSOCIATE CHIEF FINANCIAL OFFICER FOR ADMINISTRATIVE FINANCIAL MANAGEMENT.
|  | DIRECTOR, EXAMINATION—CAMPUS.
|  | FIELD DIRECTOR, SUBMISSION PROCESSING—OGDEN.
|  | DIRECTOR, COLLECTION SOUTHWEST.
|  | CHIEF, AGENCY-WIDE SHARED SERVICES.
|  | DIRECTOR, MICROSOFT INITIATIVES PROGRAM.
|  | NATIONAL DIRECTOR LEGISLATIVE AFFAIRS.
|  | DIRECTOR, ENTERPRISE ARCHITECTURE.
|  | DEPUTY ASSOCIATE CHIEF INFORMATION OFFICER FOR APPLICATIONS DEVELOPMENT.
|  | DIRECTOR, REFUNDABLE CREDITS EXAMINATION OPERATIONS.
|  | DEPUTY CHIEF INFORMATION OFFICER FOR STRATEGY/MODERNIZATION.
|  | DIRECTOR, E-FILE SERVICES.
|  | DEPUTY CHIEF PROCUREMENT OFFICER.
|  | FIELD DIRECTOR, SUBMISSION PROCESSING—FRESNO.
|  | DIRECTOR, COLLECTION—CAMPUS.
|  | ASSOCIATE CHIEF INFORMATION OFFICER FOR APPLICATIONS DEVELOPMENT.
|  | DIRECTOR, SPECIALIZED EXAMINATION PROGRAMS AND REFERRALS.
|  | PROJECT DIRECTOR FOR DEPUTY COMMISSIONER SERVICES AND ENFORCEMENT.
|  | DIRECTOR, MODERNIZATION, DEVELOPMENT AND DELIVERY.
|  | DIRECTOR, DATA MANAGEMENT SERVICES AND SUPPORT.
|  | DIRECTOR, WORKFORCE RELATIONS.
|  | DIRECTOR, SERVICEWIDE OPERATIONS.
|  | DIRECTOR, ENTERPRISE ACTIVITIES.
|  | ASSISTANT DEPUTY COMMISSIONER FOR SERVICES AND ENFORCEMENT.
|  | DIRECTOR, COLLECTION AREA—GULF STATE.
|  | DIRECTOR, COLLECTION—CENTRAL.
|  | DIRECTOR, EXAMINATION—CENTRAL.
|  | DIRECTOR, OFFICE OF PROFESSIONAL RESPONSIBILITY.
|  | DIRECTOR, REFUNDABLE CREDITS POLICY AND PROGRAM MANAGEMENT.
|  | ASSOCIATE CHIEF INFORMATION OFFICER FOR USER AND NETWORK SERVICES.
|  | DIRECTOR, FACILITIES MANAGEMENT AND SEC SERVICES.
|  | DIRECTOR, SECURITY OPERATIONS AND STANDARDS.
|  | DIRECTOR, COLLECTION—HEADQUARTERS.
|  | DEPUTY ASSOCIATE CHIEF INFORMATION OFFICER FOR CYBERSECURITY.
|  | DIRECTOR, COLLECTION APPEALS.
|  | DIRECTOR, DEMAND MANAGEMENT AND PROJECT GOVERNANCE.
|  | PROJECT DIRECTOR.
|  | DIRECTOR, COLLECTION—QUALITY AND TECHNICAL SUPPORT.
|  | DIRECTOR, COLLECTION.
|  | SPECIAL ASSISTANT.
|  | DIRECTOR, DATA MANAGEMENT DIVISION.
|  | DIRECTOR, CORPORATE ISSUES AND CREDITS.
|  | DIRECTOR, KNOWLEDGE DEVELOPMENT AND APPLICATION.
|  | DIRECTOR, SOLUTION ENGINEERING.
|  | DIRECTOR, MAINFRAME SUPPORT AND SERVICES.
|  | SPECIAL ASSISTANT TO THE CHIEF, APPEALS.
|  | DIRECTOR, FILING SEASON INTEGRATION.
|  | DIRECTOR, AFFORDABLE CARE ACT.
|  | DIRECTOR, CAMPUS COLLECTION FRESNO.
|  | IRS IDENTITY ASSURANCE EXECUTIVE.
|  | DEPUTY DIRECTOR, SUBMISSION PROCESSING.
|  | SUBMISSION PROCESSING FIELD DIRECTOR.
|  | DIRECTOR, OPERATIONS SUPPORT.
|  | ASSOCIATE CHIEF INFORMATION OFFICER, ENTERPRISE INFORMATION TECHNOLOGY PROGRAM MANAGEMENT.
|  | SENIOR DIRECTOR FOR OPERATIONS, AFFORDABLE CARE ACT.
|  | DIRECTOR, FOREIGN ACCOUNT TAX COMPLIANCE ACT—PROGRAM MANAGEMENT OFFICE.
|  | DIRECTOR, INFRASTRUCTURE SERVICES.
|  | DIRECTOR, UNIFIED COMMUNICATIONS.
|  | ACIO, AFFORDABLE CARE ACT PMO.
|  | DIRECTOR, ENTERPRISE NETWORKS OPERATIONS.
|  | DIRECTOR, ONLINE SERVICES.
|  | DEPUTY COMMISSIONER, WAGE AND INVESTMENTS.
|  | DIRECTOR, TECHNOLOGY SOLUTIONS.
|  | DEPUTY DIRECTOR, RETURN INTEGRITY AND CORRESPONDENCE SERVICES.
|  | DIRECTOR, SERVICE DELIVERY MANAGEMENT.
|  | COMPLIANCE SERVICES FIELD DIRECTOR.
|  | DIRECTOR, CAMPUS COMPLIANCE OPERATIONS.
|  | DIRECTOR, CAMPUS OPERATIONS.
|  | DIRECTOR, IMPLEMENTATION AND TESTING.
|  | DIRECTOR, BUSINESS PLANNING AND RISK MANAGEMENT.
|  | EXECUTIVE DIRECTOR, BUSINESS MODERNIZATION.
|  | DIRECTOR, COLLECTION STRATEGY AND ORGANIZATION.
|  | DIRECTOR OF FIELD OPERATIONS, HEAVY MANUFACTURING AND PHARMACEUTICALS, SOUTHEAST.
|  | DIRECTOR, FIELD OPERATIONS, ENGINEERING.
|  | ASSISTANT DEPUTY COMMISSIONER COMPLIANCE INTEGRATION.
|  | DIRECTOR, ADVANCED PRICING AND MUTUAL AGREEMENT.
|  | DIRECTOR, RETURN INTEGRITY AND COMPLIANCE SERVICES.
|  | DIRECTOR, CYBERSECURITY POLICY AND PROGRAMS.
|  | DIRECTOR, FIELD OPERATIONS, RETAIL FOOD, PHARMACEUTICALS, AND HEALTHCARE—WEST.
|  | DIRECTOR, CONTACT CENTER SUPPORT DIVISION.
|  | DIRECTOR, FILING AND PAYMENT COMPLIANCE.
|  | DIRECTOR, LARGE SYSTEMS AND STORAGE INFRASTRUCTURE DIVISION.
|  | EXECUTIVE DIRECTOR, INVESTIGATIVE AND ENFORCEMENT OPERATIONS.
|  | DIRECTOR, EXAMINATION AREA—NORTH ATLANTIC.
|  | DIRECTOR, STRATEGIC SUPPLIER MANAGEMENT.
|  | DIRECTOR, DATA DELIVERY SERVICES.
|  | PROJECT DIRECTOR.
|  | DIRECTOR, COMPLIANCE STRATEGY AND POLICY.
|  | DIRECTOR, STRATEGY, RESEARCH AND PROGRAM PLANNING.
|  | DIRECTOR, PRIVACY AND INFORMATION PROTECTION.
|  | DIRECTOR, DETROIT PROGRAM MANAGEMENT OFFICE.
|  | DIRECTOR, NETWORK ENGINEERING.
|  | DIRECTOR, EXAMINATION—SPECIALITY TAX.
|  | DIRECTOR, PORTFOLIO CONTROL AND PERFORMANCE.
|  | DEPUTY ASSOCIATE CHIEF FINANCIAL OFFICER FOR FINANCIAL MANAGEMENT.
|  | DIRECTOR, CUSTOMER SERVICE AND STAKEHOLDERS.
|  | DIRECTOR, TAX FORMS AND PUBLICATIONS.
|  | DIRECTOR, FILING AND PAYMENT COMPLIANCE.
|  | ASSISTANT DEPUTY COMMISSIONER GOVERNMENT ENTITIES AND SHARED SERVICES.
|  | DIRECTOR, CASE AND OPERATIONS SUPPORT.
|  | DEPUTY DIRECTOR, RETURN PREPARER OFFICE.
|  | ACCOUNTS MANAGEMENT FIELD DIRECTOR.
|  | DIRECTOR, FILING AND PREMIUM TAX CREDIT.
|  | ASSISTANT DEPUTY COMMISSIONER (INTERNATIONAL).
|  | DIRECTOR, EMERGING PROGRAMS AND INITIATIVES.
|  | DIRECTOR, FIELD OPERATIONS, NATURAL RESOURCES AND CONSTRUCTION—WEST.
|  | DIRECTOR, COLLECTION AREA.
|  | DIRECTOR, CAMPUS COMPLIANCE OPERATIONS.
|  | DEPUTY DIRECTOR, OFFICE OF PROFESSIONAL RESPONSIBILITY OPERATIONS.
|  | DIRECTOR, ABUSIVE TRANSACTIONS AND TECHNICAL ISSUES.
|  | DIRECTOR, CUSTOMER SERVICE SUPPORT.
|  | DIRECTOR, PRODUCT MANAGEMENT.
|  | DIRECTOR, INTERNATIONAL BUSINESS COMPLIANCE.
|  | DIRECTOR, FIELD OPERATIONS, RETAILERS, FOOD, TRANSPORTATION AND HEALTHCARE—EAST.
|  | DEPUTY DIRECTOR, RESEARCH, ANALYSIS, AND STATISTICS.
|  | AREA DIRECTOR, FIELD ASSISTANCE.
|  | DIRECTOR, REFUND CRIMES.
|  | AREA DIRECTOR, STAKEHOLDER PARTNERSHIP, EDUCATION, AND COMMUNICATION.
|  | AREA DIRECTOR, STAKEHOLDER PARTNERSHIP, EDUCATION, AND COMMUNICATION.
|  | DIRECTOR, EXAMINATION FIELD.
|  | DEPUTY ASSOCIATE CHIEF INFORMATION OFFICER FOR ENTERPRISE NETWORKS.
|  | DEPUTY COMMISSIONER, OPERATIONS SUPPORT.
|  | DIRECTOR, OPERATIONS SERVICE SUPPORT.
|  | DEPUTY DIRECTOR, STRATEGY AND FINANCE.
|  | DIRECTOR, RETURN PREPARER OFFICE.
|  | DIRECTOR, EXAMINATION AREA.
|  | DIRECTOR, IMPLEMENTATION OVERSIGHT.
|  | DIRECTOR, EXAMINATION AREA MIDWEST.
|  | DIRECTOR, FINANCIAL MANAGEMENT SERVICES.
|  | DIRECTOR, COLLECTION AREA, GULF STATES.
|  | AREA DIRECTOR, FIELD ASSISTANCE.
|  | DIRECTOR, EXAMINATION AREA.
|  | DIRECTOR, CUSTOMER SERVICE.
|  | ACCOUNTS MANAGEMENT FIELD DIRECTOR.
|  | DIRECTOR, APPEALS POLICY AND VALUATION.
|  | ASSOCIATE CHIEF INFORMATION OFFICER, STRATEGY AND PLANNING.
|  | DIRECTOR, BUSINESS SYSTEMS PLANNING.
|  | DEPUTY CHIEF OF STAFF.
|  | DIRECTOR, MANAGEMENT SERVICES.
|  | ASSOCIATE CHIEF INFORMATION OFFICER FOR ENTERPRISE OPERATIONS.
|  | DIRECTOR, GLOBAL HIGH WEALTH INDUSTRY.
|  | DIRECTOR, COLLECTION POLICY.
|  | DEPUTY DIRECTOR, SUBMISSION PROCESSING.
|  | PROJECT DIRECTOR, CUSTOMER ACCOUNT DATA ENGINE.
|  | DEPUTY DIVISION COUNSEL #2 (OPERATIONS)/SMALL BUSINESS AND SELF EMPLOYED.
|  | DEPUTY COMMISSIONER (DOMESTIC), LARGE BUSINESS AND INTERNATIONAL.
|  | DEPUTY ASSOCIATE CHIEF INFORMATION OFFICER, ENTERPRISE OPERATIONS.
|  | DIRECTOR, DATA STRATEGY IMPLEMENTATION.
|  | DIRECTOR, REPORTING COMPLIANCE.
|  | SPECIAL AGENT IN CHARGE—CRIMINAL INVESTIGATION.
|  | DIRECTOR, FIELD OPERATIONS EAST.
|  | DEPUTY CHIEF INFORMATION OFFICER FOR OPERATIONS.
|  | DIRECTOR, INFORMATION TECHNOLOGY SECURITY ENGINEERING.
|  | ASSOCIATE CHIEF INFORMATION OFFICER, CYBERSECURITY.
|  | DIRECTOR, ENTERPRISE NETWORKS OPERATIONS.
|  | DIRECTOR, OFFICE OF PRIVACY, INFORMATION PROTECTION AND DATA SECURITY.
|  | DIRECTOR, PASS THROUGH ENTITIES.
|  | PROGRAM MANAGER.
|  | DEPUTY DIRECTOR, SUBMISSION PROCESSING.
|  | DIRECTOR, SUBMISSION PROCESSING.
|  | DIRECTOR, INTERNAL MANAGEMENT.
|  | DIRECTOR, CORPORATE DATA.
|  | DIRECTOR, ENTERPRISE SYSTEMS TESTING.
|  | DIRECTOR, REPORTIING COMPLIANCE.
|  | DIRECTOR, EXAMINATION MIDWEST AREA.
|  | SPECIAL AGENT IN CHARGE.
|  | DIRECTOR, WHISTLEBLOWER OFFICE.
|  | DIRECTOR, EMERGENCY MANAGEMENT PROGRAMS.
|  | DIRECTOR, EXAMINATION PLANNING AND DELIVERY.
|  | BUSINESS MODERNIZATION EXECUTIVE.
|  | SUBMISSION PROCESSING FIELD DIRECTOR.
|  | PROJECT DIRECTOR, ENTERPRISE PROGRAM MANAGEMENT.
|  | ACCOUNTS MANAGEMENT FIELD DIRECTOR.
|  | DIRECTOR, EXAMINATION—GULF STATES.
|  | DIRECTOR, EMPLOYEE PLANS, RULINGS, AND AGREEMENTS.
|  | DEPUTY DIRECTOR, ACCOUNTS MANAGEMENT.
|  | DIRECTOR, RESEARCH.
|  | DIRECTOR, EXAMINATION HEADQUARTERS.
|  | DIRECTOR, JOINT OPERATIONS CENTER.
|  | DEPUTY CHIEF HUMAN CAPITAL OFFICER, INTERNAL REVENUE SERVICE.
|  | DIRECTOR, COLLECTION—FIELD.
|  | DIRECTOR, COLLECTION—ATLANTA.
|  | DIRECTOR, COLLECTION—ANDOVER.
|  | DIRECTOR, EXAMINATION AREA.
|  | DIRECTOR, EXAMINATION LEGISLATIVE PROGRAM.
|  | DIRECTOR, EXAMINATION AREA.
|  | DIRECTOR, EXAMINATION—OGDEN.
|  | DIRECTOR, EXAMINATION SOUTHWEST AREA.
|  | SPECIAL AGENT IN CHARGE.
|  | DEPUTY COMMISSIONER, SMALL BUSINESS/SELF-EMPLOYED.
|  | PROJECT DIRECTOR.
|  | DIRECTOR, STAKEHOLDER, PARTNERSHIP, EDUCATION AND COMMUNICATIONS.
|  | CHIEF FINANCIAL OFFICER, INTERNAL REVENUE SERVICE.
|  | CHIEF, CRIMINAL INVESTIGATION.
|  | DIRECTOR, RESEARCH AND ORGANIZATIONAL.
|  | DIRECTOR, ENTERPRISE TECHNOLOGY IMPLEMENTATION.
|  | AREA DIRECTOR, FIELD ASSISTANCE—ATLANTA.
|  | DIRECTOR OF FIELD OPERATIONS.
|  | CHIEF, COMMUNICATIONS AND LIAISON.
|  | DEPUTY CHIEF FINANCIAL OFFICER.
|  | DIRECTOR, ACCOUNTS MANAGEMENT, WAGE AND INVESTMENT.
|  | DIRECTOR, DATA SOLUTIONS.
|  | COMMISSIONER, SMALL BUSINESS AND SELF EMPLOYED.
|  | COMMISSIONER, LARGE AND MID-SIZED BUSINESS DIVISION.
|  | CHIEF INFORMATION OFFICER.
|  | CHIEF HUMAN CAPITAL OFFICER, INTERNAL REVENUE SERVICE.
|  | DIRECTOR, STRATEGY AND FINANCE, APPEALS.
|  | DEPUTY DIRECTOR, ENTERPRISE COMPUTING CENTER.
|  | DEPUTY CHIEF, CRIMINAL INVESTIGATION.
|  | INDUSTRY DIRECTOR—FINANCIAL SERVICES—LARGE AND MID-SIZE BUSINESS.
|  | DIRECTOR, BUSINESS SYSTEMS PLANNING—LARGE AND MID-SIZE BUSINESS.
|  | DEPUTY CHIEF, APPEALS.
|  | DEPUTY DIVISION COMMISSIONER, TAX EXEMPT AND GOVERNMENT ENTITIES.
|  | EXECUTIVE DIRECTOR, CASE ADVOCACY INTAKE AND TECHNICAL SUPPORT.
|  | EXECUTIVE DIRECTOR, OFFICE OF EQUITY, DIVERSITY, AND INCLUSION.
|  | DEPUTY DIRECTOR, FACILITIES MANAGEMENT AND SECURITY SERVICES.
|  | CHIEF, APPEALS.
|  | DEPUTY COMMISSIONER, LARGE AND MID-SIZE BUSINESS.
|  | CHIEF RISK OFFICER AND SENIOR ADVISOR.
|  | DIRECTOR, ADVANCE PRICING AND MUTUAL AGREEMENT.
|  | DIRECTOR, HUMAN RESOURCES CUSTOMER SERVICE.
|  | ACCOUNTS MANAGEMENT FIELD DIRECTOR—ANDOVER.
|  | DIRECTOR, CUSTOMER ACCOUNT SERVICES—WAGE AND INVESTMENT.
|  | DIRECTOR, COMMUNICATION, ASSISTANCE, RESEARCH AND EDUCATION.
|  | DIRECTOR, FIELD ASSISTANCE—WAGE AND INVESTMENT.
|  | DIRECTOR, RESEARCH, APPLIED ANALYTICS AND STATISTICS.
|  | DEPUTY NATIONAL TAXPAYER ADVOCATE.
|  | COMMISSIONER, TAX EXEMPT AND GOVERNMENT ENTITIES DIVISION.
|  | DIRECTOR, EXEMPT ORGANIZATIONS.
|  | DEPUTY DIRECTOR, RESEARCH, ANALYSIS AND STATS.
|  | COMMISSIONER, WAGE AND INVESTMENT.
|  | DIRECTOR, OPERATIONS SUPPORT.
|  | DIRECTOR, EMPLOYEE PLANS.
|  | DIRECTOR, ENTERPRISE CASE MANAGEMENT.
|  | PROJECT DIRECTOR.
|  | DIRECTOR, INTERNET DEVELOPMENT SERVICES.
|  | DIRECTOR, SERVER SUPPORT & SERVICES.
|  | DIRECTOR, PROCUREMENT.
|  | ASSOCIATE CHIEF FINANCIAL OFFICER FOR INTERNAL FINANCIAL MANAGEMENT—NATIONAL HEADQUARTERS.
|  | DIRECTOR, IDENTITY THEFT VICTIM ASSISTANCE.
|  | DIRECTOR, STATISTICS OF INCOME.
| SECRETARY OF THE TREASURY | DIRECTOR, OFFICE OF SMALL AND DISADVANTAGED BUSINESS UTILIZATION.
| UNDER SECRETARY FOR DOMESTIC FINANCE | DIRECTOR OF POLICY.
| UNITED STATES MINT | PLANT MANAGER, PHILADELPHIA. ASSOCIATE DIRECTOR FOR INFORMATION TECHNOLOGY (CHIEF INFORMATION OFFICER).
|  | ASSOCIATE DIRECTOR FOR FINANCIAL MANAGEMENT/CHIEF FINANCIAL OFFICER.
|  | ASSOCIATE DIRECTOR FOR MANUFACTURING.
|  | DIRECTOR, OFFICE OF COIN STUDIES.
|  | PLANT MANAGER.
|  | ASSOCIATE DIRECTOR FOR WORKFORCE SOLUTIONS.
|  | ASSOCIATE DIRECTOR, ENVIRONMENT, SAFETY AND HEALTH.
|  | ASSOCIATE DIRECTOR FOR NUMISMATICS.
|  | CHIEF ADMINISTRATIVE OFFICER.
| BUREAU OF THE FISCAL SERVICE | ASSISTANT COMMISSIONER (FINANCING). EXECUTIVE DIRECTOR (ADMINISTRATIVE RESOURCE CENTER).
|  | DEPUTY ASSISTANT COMMISSIONER, GOVERNMENTWIDE ACCOUNTING.
|  | DEPUTY ASSISTANT COMMISSIONER FOR PROGRAM SOLUTIONS AND SUPPORT (TREASURY SECURITIES SERVICES).
|  | ASSISTANT COMMISSIONER (OFFICE OF MANAGEMENT SERVICES).
|  | DEPUTY CHIEF INFORMATION OFFICER.
|  | DIRECTOR, COMPLIANCE AND REPORTING GROUP.
|  | DEPUTY ASSISTANT COMMISSIONER, PAYMENT MANAGEMENT.
|  | ASSISTANT COMMISSIONER, PAYMENT MANAGEMENT.
|  | DEPUTY ASSISTANT COMMISSIONER FOR INFRASTRUCTURE AND OPERATIONS (OFFICE OF INFORMATION AND SECURITY SERVICES).
|  | DEPUTY ASSISTANT COMMISSIONER (FISCAL ACCOUNTING OPERATIONS).
|  | DIRECTOR, DEBT MANAGEMENT SERVICES OPERATIONS, WEST.
|  | DEPUTY ASSISTANT COMMISSIONER FOR SECURITIES MANAGEMENT (TREASURY SECURITIES SERVICES).
|  | ASSISTANT COMMISSIONER, WHOLESALE SECURITIES SERVICES.
|  | DEPUTY ASSISTANT COMMISSIONER, COMPLIANCE AND REPORTING GROUP.
|  | EXECUTIVE DIRECTOR (DO NOT PAY BUSINESS CENTER STAFF).
|  | EXECUTIVE DIRECTOR (MYRA).
|  | DIRECTOR, DEBT MANAGEMENT SERVICES OPERATIONS, EAST.
|  | ASSISTANT COMMISSIONER, INFORMATION AND SECURITY SERVICES (CHIEF INFORMATION OFFICER).
|  | DEPUTY ASSISTANT COMMISSIONER (SHARED SERVICES).
|  | DEPUTY COMMISSIONER, ACCOUNTING AND SHARED SERVICES.
|  | DEPUTY COMMISSIONER, FINANCE AND ADMINISTRATION.
|  | DEPUTY COMMISSIONER, FINANCIAL SERVICES AND OPERATIONS.
|  | COMMISSIONER, BUREAU OF THE FISCAL SERVICE.
|  | DEPUTY ASSISTANT COMMISSIONER FOR INFORMATION SERVICES.
|  | DEPUTY ASSISTANT COMMISSIONER (DEBT MANAGEMENT SERVICES).
|  | ASSISTANT COMMISSIONER, GOVERNMENTWIDE ACCOUNTING.
|  | DIRECTOR, REGIONAL FINANCIAL CENTER (PHILADELPHIA).
|  | DIRECTOR, REGIONAL FINANCIAL CENTER (KANSAS CITY).
|  | ASSISTANT COMMISSIONER, DEBT MANAGEMENT SERVICES.
|  | ASSISTANT COMMISSIONER (PUBLIC DEBT ACCOUNTING).
|  | ASSISTANT COMMISSIONER, MANAGEMENT (CHIEF FINANCIAL OFFICER).
|  | DIRECTOR, REVENUE COLLECTION GROUP.
|  | ASSISTANT COMMISSIONER, FEDERAL FINANCE.
|  | DIRECTOR, REGIONAL FINANCIAL CENTER (SAN FRANCISCO).
|  | EXECUTIVE DIRECTOR, GOVERNMENT SECURITIES REGULATIONS.
| INTERNAL REVENUE SERVICE CHIEF COUNSEL | AREA COUNSEL (LARGE BUSINESS AND INTERNATIONAL). DEPUTY DIVISION COUNSEL (SMALL BUSINESS AND SELF EMPLOYED).
|  | AREA COUNSEL (SMALL BUSINESS AND SELF EMPLOYED)—NEW YORK.
|  | AREA COUNSEL (SMALL BUSINESS AND SELF EMPLOYED)—PHILADELPHIA.
|  | AREA COUNSEL (SMALL BUSINESS AND SELF EMPLOYED)—JACKSONVILLE.
|  | AREA COUNSEL (SMALL BUSINESS AND SELF EMPLOYED)—CHICAGO.
|  | AREA COUNSEL (SMALL BUSINESS AND SELF EMPLOYED).
|  | AREA COUNSEL (SMALL BUSINESS AND SELF EMPLOYED)—DENVER.
|  | AREA COUNSEL (SMALL BUSINESS AND SELF EMPLOYED)—LOS ANGELES.
|  | AREA COUNSEL (SMALL BUSINESS AND SELF EMPLOYED) (AREA 7).
|  | DIVISION COUNSEL/ASSOCIATE CHIEF COUNSEL (CRIMINAL TAX).
|  | DEPUTY DIVISION COUNSEL/DEPUTY ASSOCIATE CHIEF COUNSEL (TAX EXEMPT AND GOVERNMENT ENTITIES).
|  | AREA COUNSEL (LARGE BUSINESS AND INTERNATIONAL) (AREA 1).
|  | DEPUTY ASSOCIATE CHIEF COUNSEL (FINANCIAL INSTITUTIONS AND PRODUCTS).
|  | DIVISION COUNSEL (WAGE AND INVESTMENT).
|  | DEPUTY ASSOCIATE CHIEF COUNSEL (GENERAL LEGAL SERVICES) (LABOR AND PERSONNEL LAW).
|  | DEPUTY CHIEF COUNSEL (OPERATIONS).
|  | SPECIAL COUNSEL TO THE NATIONAL TAXPAYER ADVOCATE.
|  | DEPUTY ASSOCIATE CHIEF COUNSEL (INTERNATIONAL TECHNICAL).
|  | DIVISION COUNSEL/ASSOCIATE CHIEF COUNSEL (TAX EXEMPT AND GOVERNMENT ENTITIES).
|  | DEPUTY CHIEF COUNSEL (TECHNICAL).
|  | DEPUTY ASSOCIATE CHIEF COUNSEL (GENERAL LEGAL SERVICES).
|  | ASSOCIATE CHIEF COUNSEL (GENERAL LEGAL SERVICES).
|  | DIVISION COUNSEL (SMALL BUSINESS AND SELF EMPLOYED).
|  | AREA COUNSEL, LARGE AND MID SIZE BUSINESS (AREA 3) (FOOD, MASS RETAILERS, AND PHARMACEUTICALS).
|  | DEPUTY ASSOCIATE CHIEF COUNSEL #2 (INCOME TAX AND ACCOUNTING).
|  | DIVISION COUNSEL (LARGE AND MID-SIZE BUSINESS).
|  | DEPUTY ASSOCIATE CHIEF COUNSEL #2 (PASSTHROUGHS AND SPECIAL INDUSTRIES).
|  | DEPUTY ASSOCIATE CHIEF COUNSEL (CORPORATE).
|  | DEPUTY DIVISION COUNSEL (LARGE AND MID-SIZE BUSINESS).
|  | ASSOCIATE CHIEF COUNSEL (PASSTHROUGHS AND SPECIAL INDUSTRIES).
|  | DEPUTY ASSOCIATE CHIEF COUNSEL (PROCEDURE AND ADMINISTRATION).
|  | ASSOCIATE CHIEF COUNSEL (INCOME TAX AND ACCOUNTING).
|  | DEPUTY DIVISION COUNSEL/DEPUTY ASSISTANT CHIEF COUNSEL (CRIMINAL TAX).
|  | DEPUTY ASSOCIATE CHIEF COUNSEL (PROCEDURE AND ADMINISTRATION).
|  | ASSISTANT CHIEF COUNSEL (DISCLOSURE AND PRIVACY LAW).
|  | ASSOCIATE CHIEF COUNSEL (PROCEDURE AND ADMINISTRATION).
|  | ASSOCIATE CHIEF COUNSEL (CORPORATE).
|  | DEPUTY ASSOCIATE CHIEF COUNSEL (FINANCE AND MANAGEMENT).
|  | AREA COUNSEL (LARGE AND MID-SIZE BUSINESS) (AREA 2) (HEAVY MANUFACTURING, CONSTRUCTION AND TRANSPORTATION).
|  | AREA COUNSEL (LARGE AND MID-SIZE BUSINESS) (AREA 4) (NATURAL RESOURCES).
|  | ASSOCIATE CHIEF COUNSEL (FINANCE AND MANAGEMENT).
|  | ASSOCIATE CHIEF COUNSEL (INTERNATIONAL).
|  | ASSOCIATE CHIEF COUNSEL (FINANCIAL INSTITUTIONS AND PRODUCTS).
|  | ASSISTANT CHIEF COUNSEL (INTERNATIONAL) (LITIGATION).
|  | SPECIAL COUNSEL TO THE CHIEF COUNSEL.
|  | DEPUTY DIVISION COUNSEL AND DEPUTY ASSOCIATE CHIEF COUNSEL (TAX EXEMPT AND GOVERNMENT ENTITIES).
|  | DEPUTY DIVISION COUNSEL/DEPUTY ASSOCIATE CHIEF COUNSEL.
|  | DEPUTY DIVISION COUNSEL (TECHNICAL), LARGE BUSINESS AND INTERNATIONAL.
|  | DEPUTY ASSOCIATE CHIEF COUNSEL (INTERNATIONAL FIELD SERVICE AND LITIGATION).
|  | AREA COUNSEL, SMALL BUSINESS AND SELF EMPLOYED, AREA 9.
|  | DEPUTY TO THE SPECIAL COUNSEL TO THE CHIEF COUNSEL.
|  | HEALTHCARE COUNSEL (OFFICE OF HEALTHCARE).
|  | DEPUTY ASSOCIATE CHIEF COUNSEL, TRANSFER PRICING AND INTERNATIONAL PROGRAMS.
|  | ASSOCIATE CHIEF COUNSEL (TAX EXEMPT AND GOVERNMENT ENTITIES).
|  | DEPUTY ASSOCIATE CHIEF COUNSEL (PROCEDURE AND ADMINISTRATION).
|  | DEPUTY ASSOCIATE CHIEF COUNSEL (PROCEDURE AND ADMINISTRATION).
|  | DEPUTY ASSOCIATE CHIEF COUNSEL, (PASSTHROUGHS AND SPECIAL INDUSTRIES).
|  | ASSOCIATE CHIEF COUNSEL (PASSTHROUGHS AND SPECIAL INDUSTRIES).
|  | DIVISION COUNSEL (TAX EXEMPT AND GOVERNMENT ENTITIES) DISTRICT OF COLUMBIA.
| ASSISTANT SECRETARY FOR FINANCIAL INSTITUTIONS | DIRECTOR, FEDERAL INSURANCE OFFICE. DEPUTY DIRECTOR, FEDERAL INSURANCE OFFICE.
| ASSISTANT SECRETARY FOR FINANCIAL MARKETS | DIRECTOR, CAPITAL MARKETS.
| FISCAL ASSISTANT SECRETARY | DEPUTY ASSISTANT SECRETARY, OFFICE OF ACCOUNTING POLICY & FINANCIAL TRANSPARENCY.
|  | FISCAL ASSISTANT SECRETARY.
|  | DEPUTY ASSISTANT SECRETARY FOR FISCAL OPERATIONS AND POLICY.
| ASSISTANT SECRETARY FOR INTELLIGENCE AND ANALYSIS | DEPUTY ASSISTANT SECRETARY FOR SECURITY.
| ASSISTANT SECRETARY FOR TERRORIST FINANCING | DIRECTOR, EXECUTIVE OFFICE FOR ASSET FORFEITURE.
| FINANCIAL CRIMES ENFORCEMENT NETWORK | ASSOCIATE DIRECTOR, TECHNOLOGY SOLUTIONS AND SERVICES DIVISION/CHIEF INFORMATION OFFICER. CHIEF COUNSEL, FINANCIAL CRIMES ENFORCEMENT NETWORK.
|  | DEPUTY DIRECTOR.
|  | ASSOCIATE DIRECTOR, POLICY DIVISION.
|  | ASSOCIATE DIRECTOR, INTELLIGENCE DIVISION.
|  | ASSOCIATE DIRECTOR, MANAGEMENT PROGRAMS DIVISION.
|  | ASSOCIATE DIRECTOR, ENFORCEMENT DIVISION.
|  | ASSOCIATE DIRECTOR, LIAISON DIVISION.
|  | EXECUTIVE ADVISOR.
|  | DIRECTOR, FINANCIAL CRIMES ENFORCEMENT NETWORK.
DEPARTMENT OF THE TREASURY, OFFICE OF THE INSPECTOR GENERAL | OFFICE OF AUDIT | DEPUTY ASSISTANT INSPECTOR GENERAL FOR AUDIT (FINANCIAL SECTOR AUDITS). ASSISTANT INSPECTOR GENERAL FOR AUDIT. DEPUTY ASSISTANT INSPECTOR GENERAL FOR AUDIT (FINANCIAL MANAGEMENT & TRANSPARENCY AUDIT.
|  | ASSISTANT INSPECTOR GENERAL FOR AUDIT.
|  | DEPUTY ASSISTANT INSPECTOR GENERAL FOR AUDIT (PROGRAM AUDITS).
|  | DEPUTY ASSISTANT INSPECTOR GENERAL FOR AUDIT (FINANCIAL MANAGEMENT).
| OFFICE OF COUNSEL | COUNSEL TO THE INSPECTOR GENERAL.
| OFFICE OF INVESTIGATIONS | DEPUTY ASSISTANT INSPECTOR GENERAL FOR INVESTIGATIONS.
| OFFICE OF MANAGEMENT | ASSISTANT INSPECTOR GENERAL FOR MANAGEMENT.
DEPARTMENT OF THE TREASURY, SPECIAL INSPECTOR GENERAL FOR THE TROUBLED ASSET RELIEF PROGRAM | DEPARTMENT OF THE TREASURY SPECIAL INSPECTOR GENERAL FOR THE TROUBLED ASSET RELIEF PROGRAM | DEPUTY SPECIAL INSPECTOR GENERAL AUDIT. CHIEF INVESTIGATIVE COUNSEL. ASSISTANT DEPUTY SPECIAL INSPECTOR GENERAL FOR AUDIT AND EVALUATION. ASSISTANT DEPUTY SPECIAL INSPECTOR GENERAL FOR INVESTIGATIONS. DEPUTY SPECIAL INSPECTOR GENERAL OPERATIONS.
|  | DEPUTY SPECIAL INSPECTOR GENERAL, INVESTIGATIONS.
|  | GENERAL COUNSEL FOR THE OFFICE OT THE SPECIAL INSPECTOR GENERAL FOR THE TROUBLED ASSET RELIEF PROGRAM.
DEPARTMENT OF THE TREASURY, TAX ADMINISTRATION OFFICE OF THE INSPECTOR GENERAL | DEPARTMENT OF THE TREASURY TAX ADMINISTRATION OFFICE OF THE INSPECTOR GENERAL | ASSISTANT INSPECTOR GENERAL FOR INVESTIGATIONS—FIELD. DEPUTY INSPECTOR GENERAL FOR INSPECTIONS AND EVALUATIONS. ASSISTANT INSPECTOR GENERAL FOR INVESTIGATIONS—FIELD. DEPUTY COUNSEL.
|  | ASSISTANT INSPECTOR GENERAL FOR INVESTIGATIONS, CYBER, OPERATIONS AND INVESTIGATIVE SUPPORT DIRECTORATE.
|  | ASSISTANT INSPECTOR GENERAL FOR AUDIT, COMPLIANCE AND ENFORCEMENT OPERATIONS.
|  | CHIEF INFORMATION OFFICER.
|  | DEPUTY INSPECTOR GENERAL FOR AUDIT.
|  | ASSISTANT INSPECTOR GENERAL FOR AUDIT, MANAGEMENT SERVICES AND EXEMPT ORGANIZATIONS.
|  | ASSISTANT INSPECTOR GENERAL FOR AUDIT, SECURITY AND INFORMATION TECHNOLOGY SERVICES.
|  | ASSISTANT INSPECTOR GENERAL FOR AUDIT, MANAGEMENT, PLANNING AND WORKFORCE DEVELOPMENT.
|  | ASSISTANT INSPECTOR GENERAL FOR AUDIT, RETURNS PROCESSING AND ACCOUNTING SERVICES.
|  | DEPUTY INSPECTOR GENERAL FOR INVESTIGATIONS.
|  | ASSISTANT INSPECTOR GENERAL FOR INVESTIGATIONS, THREAT, AGENT SAFETY AND SENSITIVE INVESTIGATIONS DIRECTORATE.
|  | CHIEF COUNSEL.
|  | DEPUTY INSPECTOR GENERAL FOR MISSION SUPPORT/CHIEF FINANCIAL OFFICER.
|  | DEPUTY ASSISTANT INSPECTOR GENERAL FOR INVESTIGATIONS—FIELD.
UNTED STATES AGENCY FOR INTERNATIONAL DEVELOPMENT | BUREAU FOR DEMOCRACY, CONFLICT, AND HUMANITARIAN ASSISTANCE | DEPUTY DIRECTOR, OFFICE OF FOREIGN DISASTER ASSISTANCE.
| BUREAU FOR MANAGEMENT | DEPUTY ASSISTANT ADMINISTRATOR. DEPUTY DIRECTOR, OFFICE OF THE ASSISTANT ADMINISTRATOR OPERATIONS.
|  | CHIEF INFORMATION OFFICER.
|  | DEPUTY DIRECTOR, ACCOUNTABILITY, COMPLIANCE, TRANSPARENCY AND SYSTEM SUPPORT.
|  | DIRECTOR, OFFICE OF MANAGEMENT, POLICY, BUDGET AND PERFORMANCE.
|  | CHIEF FINANCIAL OFFICER.
|  | DEPUTY CHIEF FINANCIAL OFFICER.
| HUMAN CAPITAL TALENT MANAGEMENT | CHIEF HUMAN CAPITAL OFFICER. DEPUTY CHIEF HUMAN CAPITAL OFFICER.
| OFFICE OF SECURITY | DIRECTOR, OFFICE OF SECURITY.
| OFFICE OF SMALL AND DISADVANTAGED BUSINESS UTILIZATION | DIRECTOR, OFFICE OF SMALL AND DISADVANTAGE BUSINESS UTILIZATION.
| OFFICE OF THE GENERAL COUNSEL | ASSISTANT GENERAL COUNSEL, ETHICS AND ADMINISTRATION. ASSISTANT GENERAL COUNSEL, CHIEF INNOVATION COUNSEL.
|  | DEPUTY GENERAL COUNSEL.
| OFFICE OF BUDGET AND RESOURCE MANAGEMENT | DIRECTOR, BUDGET AND RESOURCE MANAGEMENT.
UNITED STATES AGENCY FOR INTERNATIONAL DEVELOPMENT, OFFICE OF THE INSPECTOR GENERAL | UNITED STATES AGENCY FOR INTERNATIONAL DEVELOPMENT OFFICE OF THE INSPECTOR GENERAL | ASSISTANT INSPECTOR GENERAL FOR AUDIT. DEPUTY ASSISTANT INSPECTOR GENERAL FOR MANAGEMENT. DEPUTY ASSISTANT INSPECTOR GENERAL FOR AUDIT. COUNSELOR TO THE INSPECTOR GENERAL.
|  | DEPUTY INSPECTOR GENERAL.
|  | DEPUTY ASSISTANT INSPECTOR GENERAL FOR AUDIT.
|  | ASSISTANT INSPECTOR GENERAL FOR INVESTIGATIONS.
|  | DEPUTY ASSISTANT INSPECTOR GENERAL FOR INVESTIGATIONS.
|  | ASSISTANT INSPECTOR GENERAL FOR MANAGEMENT.
UNITED STATES INTERNATIONAL TRADE COMMISSION | OFFICE OF ECONOMICS OFFICE OF INDUSTRIES | DIRECTOR OFFICE OF ECONOMICS. DIRECTOR OFFICE OF INDUSTRIES.
| OFFICE OF INVESTIGATIONS | DIRECTOR, OFFICE OF INVESTIGATIONS.
| OFFICE OF TARIFF AFFAIRS AND TRADE AGREEMENTS | DIRECTOR, OFFICE TARIFF AFFAIRS AND TRADE AGREEMENTS.
| OFFICE OF UNFAIR IMPORT INVESTIGATIONS | DIRECTOR, OFFICE OF UNFAIR IMPORT INVESTIGATIONS.
| OFFICE OF ADMINISTRATIVE SERVICES | CHIEF ADMINISTRATIVE OFFICER.
| OFFICE OF EXTERNAL RELATIONS | DIRECTOR, OFFICE OF EXTERNAL RELATIONS.
| OFFICE OF OPERATIONS | DIRECTOR OFFICE OF OPERATIONS.
| OFFICE OF THE CHIEF FINANCIAL OFFICER | CHIEF FINANCIAL OFFICER.
| OFFICE OF THE CHIEF INFORMATION OFFICER | CHIEF INFORMATION OFFICER.
| OFFICE OF THE GENERAL COUNSEL | GENERAL COUNSEL.
| OFFICE OF THE INSPECTOR GENERAL | INSPECTOR GENERAL.
DEPARTMENT OF VETERANS AFFAIRS | BOARD OF VETERANS' APPEALS | DEPUTY VICE CHAIRMAN. PRINCIPAL DEPUTY VICE CHAIRMAN. DIRECTOR, MANAGEMENT, PLANNING AND ANALYSIS.
|  | DEPUTY VICE CHAIRMAN.
|  | VICE CHAIRMAN.
| NATIONAL CEMETERY ADMINISTRATION | DEPUTY UNDER SECRETARY FOR FINANCE AND PLANNING/CHIEF FINANCIAL OFFICER.
| OFFICE OF ACQUISITIONS, LOGISITICS AND CONSTRUCTION | ASSOCIATE EXECUTIVE DIRECTOR, PROGRAMS AND PLANS. ASSOCIATE EXECUTIVE DIRECTOR, TECHNOLOGY ACQUISITION CENTER.
|  | ASSOCIATE EXECUTIVE DIRECTOR, STRATEGIC ACQUISITION CENTER.
|  | EXECUTIVE DIRECTOR, CONSTRUCTION AND FACILITIES MANAGEMENT.
|  | PRINCIPAL EXECUTIVE DIRECTOR.
|  | ASSOCIATE EXECUTIVE DIRECTOR, RESOURCE MANAGEMENT.
|  | ASSOCIATE EXECUTIVE DIRECTOR, FACILITIES ACQUISITIONS.
|  | ASSOCIATE EXECUTIVE DIRECTOR, FACILITIES PLANNING.
|  | ASSOCIATE EXECUTIVE DIRECTOR, OFFICE OF OPERATIONS.
| OFFICE OF THE ASSISTANT SECRETARY FOR INFORMATION AND TECHNOLOGY | EXECUTIVE DIRECTOR, FIELD SECURITY SERVICE. EXECUTIVE DIRECTOR, IT SPACE AND FACILITIES MANAGEMENT. EXECUTIVE DIRECTOR, ENTERPRISE RISK MANAGEMENT. EXECUTIVE DIRECTOR (ENTERPRISE OPERATIONS).
|  | EXECUTIVE DIRECTOR, BUDGET AND FINANCE.
|  | DEPUTY CHIEF INFORMATION SECURITY OFFICER.
|  | EXECUTIVE DIRECTOR, PRIVACY.
|  | CHIEF FINANCIAL OFFICER.
|  | EXECUTIVE DIRECTOR FOR QUALITY AND PERFORMANCE.
|  | EXECUTIVE DIRECTOR, SECURITY OPERATIONS.
| OFFICE OF THE ASSISTANT SECRETARY FOR MANAGEMENT | PRINCIPAL DEPUTY ASSISTANT SECRETARY FOR MANAGEMENT.
| OFFICE OF THE ASSISTANT SECRETARY FOR OPERATIONS, SECURITY AND PREPAREDNESS | EXECUTIVE DIRECTOR, OFFICE OF PERSONNEL SECURITY AND IDENTITY MANAGEMENT.
| OFFICE OF THE GENERAL COUNSEL | CHIEF COUNSEL, PERSONNEL LAW GROUP. CHIEF COUNSEL REAL PROPERTY LAW GROUP.
|  | CHIEF COUNSEL, INFORMATION LAW GROUP.
|  | CHIEF COUNSEL, BENEFITS LAW GROUP.
|  | CHIEF COUNSEL, SOUTHEAST DISTRICT—NORTH.
|  | CHIEF COUNSEL, TORTS AND ADMINISTRATIVE LAW.
|  | COUNSELOR/ADVISOR.
|  | CHIEF COUNSEL COLLECTIONS NATIONAL PRACTICE GROUP.
|  | REGIONAL COUNSEL (19).
|  | EXECUTIVE DIRECTOR, MANAGEMENT PLANNING AND ANALYSIS.
|  | DEPUTY GENERAL COUNSEL, LEGAL OPERATIONS.
|  | SENIOR ADVISOR (STRATEGIC PLANNING).
|  | DEPUTY GENERAL COUNSEL, LEGAL POLICY.
|  | COUNSELOR TO THE GENERAL COUNSEL/DIRECTOR OFFICE OF ACCOUNTABILITY REVIEW.
|  | CHIEF COUNSEL (9).
|  | EXECUTIVE DIRECTOR, OFFICE OF ACCOUNTABILITY REVIEW.
|  | CHIEF COUNSEL, LOAN GUARANTY.
|  | CHIEF COUNSEL, DISTRICT CONTRACTING.
|  | CHIEF COUNSEL HEALTH LAW GROUP.
|  | CHIEF COUNSEL, PROCUREMENT LAW GROUP.
|  | CHIEF COUNSEL, SOUTHEAST DISTRICT—SOUTH.
| OFFICE OF THE SECRETARY AND DEPUTY | EXECUTIVE DIRECTOR, OFFICE OF SMALL AND DISADVANTAGED BUSINESS UTILIZATION. EXECUTIVE DIRECTOR.
| VETERANS BENEFITS ADMINISTRATION | DEPUTY EXECUTIVE DIRECTOR FOR OPERATIONS. DEPUTY CHIEF FINANCIAL OFFICER.
|  | DEPUTY EXECUTIVE DIRECTOR FOR POLICY AND PROCEDURES.
|  | EXECUTIVE DIRECTOR, LOAN GUARANTY SERVICE.
|  | EXECUTIVE DIRECTOR, OFFICE OF PERFORMANCE ANALYSIS AND INTEGRITY.
|  | CHIEF FINANCIAL OFFICER.
| VETERANS HEALTH ADMINISTRATION | DIRECTOR, SERVICE AREA OFFICE (EAST). DIRECTOR SERVICE AREA OFFICE (CENTRAL). DIRECTOR, SERVICE AREA OFFICE (WEST).
|  | ASSOCIATE CHIEF FINANICAL OFFICER, FINANCIAL MANAGEMENT AND ACCOUNTING SYSTEMS.
|  | DEPUTY CHIEF PROCUREMENT OFFICER.
|  | DEPUTY CHIEF FINANCIAL OFFICER.
|  | EXECUTIVE DIRECTOR VETERANS CANTEEN SERVICE.
|  | CHIEF FINANCIAL OFFICER.
|  | CHIEF COMPLIANCE AND BUSINESS INTEGRITY OFFICER.
|  | ASSOCIATE CHIEF FINANCIAL OFFICER FOR MANAGERIAL COST ACCOUNTING.
|  | CHIEF PROCUREMENT AND LOGISTICS OFFICER.
|  | ASSOCIATE CHIEF FINANCIAL OFFICER.
|  | CHIEF OPERATING OFFICER VETERANS CANTEEN SERVICE.
| OFFICE OF ACQUISITION AND MATERIAL MANAGEMENT | DEPUTY ASSISTANT SECRETARY FOR ACQUISITION AND MATERIAL MANAGEMENT. ASSOCIATE EXECUTIVE DIRECTOR, PROCUREMENT POLICY, SYSTEMS AND OVERSIGHT.
|  | ASSOCIATE EXECUTIVE DIRECTOR, ACQUISITION PROGRAM SUPPORT.
|  | ASSOCIATE EXECUTIVE DIRECTOR, NATIONAL HEALTHCARE ACQUISITION.
| OFFICE OF CORPORATE SENIOR EXECUTIVE MANAGEMENT | EXECUTIVE DIRECTOR.
| OFFICE OF DIVERSITY MANAGEMENT AND EQUAL EMPLOYMENT OPPORTUNITY | EXECUTIVE DIRECTOR, OFFICE OF DIVERSITY AND INCLUSION.
| OFFICE OF HUMAN RESOURCES MANAGEMENT | ASSOCIATE DEPUTY ASSISTANT SECRETARY FOR HUMAN RESOURCES MANAGEMENT POLICY. EXECUTIVE DIRECTOR FOR LABOR MANAGEMENT RELATIONS.
| OFFICE OF RESOLUTION MANAGEMENT | ASSOCIATE DEPUTY ASSISTANT SECRETARY FOR RESOLUTION MANAGEMENT. DEPUTY ASSISTANT SECRETARY FOR RESOLUTION MANAGEMENT.
| OFFICE OF ACQUISITION AND MATERIAL MANAGEMENT | EXECUTIVE DIRECTOR, OFFICE OF ACQUISITION OPERATIONS.
| OFFICE OF ASSET ENTERPRISE MANAGEMENT | EXECUTIVE DIRECTOR, ASSET ENTERPRISE MANAGEMENT. DEPUTY DIRECTOR, ASSET ENTERPRISE MANAGEMENT.
| OFFICE OF BUDGET | DEPUTY ASSISTANT SECRETARY FOR BUDGET. ASSOCIATE DEPUTY ASSISTANT SECRETARY, PROGRAM BUDGETS.
|  | ASSOCIATE DEPUTY ASSISTANT SECRETARY, BUDGET OPERATIONS.
| OFFICE OF BUSINESS OVERSIGHT | EXECUTIVE DIRECTOR, OFFICE OF BUSINESS OVERSIGHT.
| OFFICE OF FINANCE | ASSOCIATE DEPUTY ASSISTANT SECRETARY FOR FINANCIAL PROCESS IMPROVEMENT AND AUDIT READINESS.
|  | ASSOCIATE DEPUTY ASSISTANT SECRETARY FOR FINANCE.
|  | DEPUTY ASSISTANT SECRETARY FOR FINANCE.
|  | ASSOCIATE DEPUTY ASSISTANT SECRETARY FOR FINANCIAL BUSINESS OPERATIONS.
|  | ASSOCIATE DEPUTY ASSISTANT SECRETARY FOR FINANCIAL POLICY.
|  | EXECUTIVE DIRECTOR, DEBT MANAGEMENT CENTER.
|  | EXECUTIVE DIRECTOR, FINANCIAL SERVICES CENTER.
| OFFICE OF EMERGENCY MANAGEMENT | EXECUTIVE DIRECTOR, EMERGENCY MANAGEMENT AND RESILIENCE.
| OFFICE OF OPERATIONS, SECURITY AND PREPAREDNESS | EXECUTIVE DIRECTOR FOR SECURITY AND LAW ENFORCEMENT.
DEPARTMENT OF VETERANS AFFAIRS, OFFICE OF THE INSPECTOR GENERAL | IMMEDIATE OFFICE OF THE INSPECTOR GENERAL | DEPUTY COUNSELOR TO THE INSPECTOR GENERAL. DEPUTY INSPECTOR GENERAL. COUNSELOR TO THE INSPECTOR GENERAL.
|  | CHIEF OF STAFF FOR HEALTHCARE OVERSIGHT INTEGRATION.
| OFFICE OF THE ASSISTANT INSPECTOR GENERAL FOR AUDITS AND EVALUATIONS | DEPUTY ASSISTANT INSPECTOR GENERAL FOR AUDITS AND EVALUATIONS (FIELD OPERATIONS). DEPUTY ASSISTANT INSPECTOR GENERAL FOR AUDITS AND EVALUATIONS (HEADQUARTERS MANAGEMENT AND INSPECTIONS).
|  | DEPUTY ASSISTANT INSPECTOR GENERAL FOR AUDITS AND EVALUATIONS (FIELD OPERATIONS).
|  | ASSISTANT INSPECTOR GENERAL FOR AUDITS AND EVALUATIONS.
| OFFICE OF THE ASSISTANT INSPECTOR GENERAL FOR HEALTHCARE INSPECTIONS | DEPUTY ASSISTANT INSPECTOR GENERAL FOR HEALTHCARE INSPECTIONS. DEPUTY ASSISTANT INSPECTOR GENERAL FOR HEALTHCARE INSPECTIONS (CLINICAL CONSULTATION).
|  | DEPUTY ASSISTANT INSPECTOR GENERAL FOR HEALTHCARE INSPECTIONS.
|  | ASSISTANT INSPECTOR GENERAL FOR HEALTHCARE INSPECTIONS.
| OFFICE OF THE ASSISTANT INSPECTOR GENERAL FOR INVESTIGATIONS | ASSISTANT INSPECTOR GENERAL FOR INVESTIGATIONS. DEPUTY ASSISTANT INSPECTOR GENERAL FOR INVESTIGATIONS (HEADQUARTERS OPERATIONS).
|  | DEPUTY ASSISTANT INSPECTOR GENERAL FOR INVESTIGATIONS (FIELD OPERATIONS).
| OFFICE OF THE ASSISTANT INSPECTOR GENERAL FOR MANAGEMENT AND ADMINISTRATION | DEPUTY ASSISTANT INSPECTOR GENERAL FOR MANAGEMENT AND ADMINISTRATION. ASSISTANT INSPECTOR GENERAL FOR MANAGEMENT AND ADMINISTRATION.

Authority: 5 U.S.C. 3132.

Office of Personnel Management.
Jeff T.H. Pon,
Director.

[FR Doc. 2018-13328 Filed 6-21-18; 8:45 am]

BILLING CODE 6325-39-P